DEPARTMENT OF HEALTH AND HUMAN SERVICES

Centers for Medicare & Medicaid Services

[CMS-9053-N]

Medicare and Medicaid Programs; Quarterly Listing of Program Issuances—April through June 2009

AGENCY: Centers for Medicare & Medicaid Services (CMS), HHS.

ACTION: Notice.

SUMMARY: This notice lists CMS manual instructions, substantive and interpretive regulations, and other Federal Register notices that were published from April 2009 through June 2009, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations and a list of Medicare-approved carotid stent facilities. Included in this notice is a list of the American College of Cardiology's National Cardiovascular Data registry sites, active CMS coverage-related guidance documents, and special one-time notices regarding national coverage provisions. Also included in this notice is a list of National Oncologic Positron Emissions Tomography Registry sites, a list of Medicare-approved ventricular assist device (destination therapy) facilities, a list of Medicare-approved lung volume reduction surgery facilities, a list of Medicare-approved clinical trials for fluorodeoxyglucose positron emissions tomogragphy for dementia, and a list of Medicare-approved bariatric surgery facilities.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may need specific information and not be able to determine from the listed information whether the issuance or regulation would fulfill that need. Consequently, we are providing contact persons to answer general questions concerning these items. Copies are not available through the contact persons. (See Section III of this notice for how to obtain listed material.)

Questions concerning CMS manual instructions in Addendum III may be addressed to Ismael Torres, Office of Strategic Operations and Regulatory Affairs, Centers for Medicare & Medicaid Services, C4-26-05, 7500 Security Boulevard, Baltimore, MD 21244-1850, or you can call (410) 786-1864.

Questions concerning regulation documents published in the Federal Register in Addendum IV may be addressed to Gwendolyn Johnson, Office of Strategic Operations and Regulatory Affairs, Centers for Medicare & Medicaid Services, C4-14-03, 7500 Security Boulevard, Baltimore, MD 21244-1850, or you can call (410) 786-6954.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, C1-13-04, 7500 Security Boulevard, Baltimore, MD 21244-1850, or you can call (410) 786-6877.

Questions concerning approval numbers for collections of information in Addendum VII may be addressed to Melissa Musotto, Office of Strategic Operations and Regulatory Affairs, Regulations Development and Issuances Group, Centers for Medicare & Medicaid Services, C5-14-03, 7500 Security Boulevard, Baltimore, MD 21244-1850, or you can call (410) 786-6962.

Questions concerning Medicare-approved carotid stent facilities in Addendum VIII may be addressed to Sarah J. McClain, Office of Clinical Standards and Quality, Centers for Medicare & Medicaid Services, C1-09-06, 7500 Security Boulevard, Baltimore, MD 21244-1850, or you can call (410) 786-2994.

Questions concerning Medicare's recognition of the American College of Cardiology-National Cardiovascular Data Registry sites in Addendum IX may be addressed to JoAnna Baldwin, MS, Office of Clinical Standards and Quality, Centers for Medicare & Medicaid Services, C1-09-06, 7500 Security Boulevard, Baltimore, MD 21244-1850, or you can call (410) 786-7205.

Questions concerning Medicare's active coverage-related guidance documents in Addendum X may be addressed to Beverly Lofton, Office of Clinical Standards and Quality, Centers for Medicare & Medicaid Services, C1-09-06, 7500 Security Boulevard, Baltimore, MD 21244-1850, or you can call (410) 786-7136.

Questions concerning one-time notices regarding national coverage provisions in Addendum XI may be addressed to Beverly Lofton, Office of Clinical Standards and Quality, Centers for Medicare & Medicaid Services, C1-09-06, 7500 Security Boulevard, Baltimore, MD 21244-1850, or you can call (410) 786-7136.

Questions concerning National Oncologic Positron Emission Tomography Registry sites in Addendum XII may be addressed to Stuart Caplan, RN, MAS, Office of Clinical Standards and Quality, Centers for Medicare & Medicaid Services, C1-09-06, 7500 Security Boulevard, Baltimore, MD 21244-1850, or you can call (410) 786-8564.

Questions concerning Medicare-approved ventricular assist device (destination therapy) facilities in Addendum XIII may be addressed to JoAnna Baldwin, MS, Office of Clinical Standards and Quality, Centers for Medicare & Medicaid Services, C1-09-06, 7500 Security Boulevard, Baltimore, MD 21244-1850, or you can call (410) 786-7205.

Questions concerning Medicare-approved lung volume reduction surgery facilities listed in Addendum XIV may be addressed to JoAnna Baldwin, MS, Office of Clinical Standards and Quality, Centers for Medicare & Medicaid Services, C1-09-06, 7500 Security Boulevard, Baltimore, MD 21244-1850, or you can call (410) 786-7205.

Questions concerning Medicare-approved bariatric surgery facilities listed in Addendum XV may be addressed to Kate Tillman, RN, MA, Office of Clinical Standards and Quality, Centers for Medicare & Medicaid Services, C1-09-06, 7500 Security Boulevard, Baltimore, MD 21244-1850, or you can call (410) 786-9252.

Questions concerning fluorodeoxyglucose positron emission tomography for dementia trials listed in Addendum XVI may be addressed to Stuart Caplan, RN, MAS, Office of Clinical Standards and Quality, Centers for Medicare & Medicaid Services, C1-09-06, 7500 Security Boulevard, Baltimore, MD 21244-1850, or you can call (410) 786-8564.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into 11 addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS standards for performing carotid artery stenting for high risk patients.

• Addendum IX includes a list of the American College of Cardiology's National Cardiovascular Data registry sites. We cover implantable cardioverter defibrillators (ICDs) for certain indications, as long as information about the procedures is reported to a central registry.

• Addendum X includes a list of active CMS guidance documents. As required by section 731 of the Medicare Prescription Drug, Improvement, and Modernization Act of 2003 (MMA) (Pub. L. 108-173, enacted on December 8, 2003), we will begin listing the current versions of our guidance documents in each quarterly listings notice.

• Addendum XI includes a list of special one-time notices regarding national coverage provisions. We are publishing a list of issues that require public notification, such as a particular clinical trial or research study that qualifies for Medicare coverage.

• Addendum XII includes a listing of National Oncologic Positron Emission Tomography Registry (NOPR) sites. We cover positron emission tomography (PET) scans for particular oncologic indications when they are performed in a facility that participates in the NOPR.

• Addendum XIII includes a listing of Medicare-approved facitilites that receive coverage for ventricular assist devices used as destination therapy. All facilities were required to meet our standards in order to receive coverage for ventricular assist devices implanted as destination therapy.

• Addendum XIV includes a listing of Medicare-approved facilities that are eligible to receive coverage for lung volume reduction surgery. Until May 17, 2007, facilities that participated in the National Emphysema Treatment Trial are also eligible to receive coverage.

• Addendum XV includes a listing of Medicare-approved facilities that meet minimum standards for facilities modeled in part on professional society statements on competency. All facilities must meet our standards in order to receive coverage for bariatric surgery procedures.

• Addendum XVI includes a listing of Medicare-approved clinical trials for fluorodeoxyglucose positron emission tomography (FDG-PET) for dementia and neurodegenerative diseases.

III. How To Obtain Listed Material

A. Manuals

Those wishing to subscribe to program manuals should contact either the Government Printing Office (GPO) or the National Technical Information Service (NTIS) at the following addresses:

Superintendent of Documents, Government Printing Office, ATTN: New Orders, P.O. Box 371954, Pittsburgh, PA 15250-7954, Telephone (202) 512-1800, Fax number (202) 512-2250 (for credit card orders); or

National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to http://swais.gpoaccess.gov, then log in as guest (no password required). Dial-in users should use communications software and modem to call (202) 512-1661; type swais, then log in as guest (no password required).

C. Rulings

We publish rulings on an infrequent basis. CMS Rulings are decisions of the Administrator that serve as precedent final opinions and orders and statements of policy and interpretation. They provide clarification and interpretation of complex or ambiguous provisions of the law or regulations relating to Medicare, Medicaid, Utilization and Quality Control Peer Review, private health insurance, and related matters. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 2005. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library.

For each CMS publication listed in Addendum III, CMS publication and transmittal numbers are shown. To help FDLs locate the materials, use the CMS publication and transmittal numbers. For example, to find the Medicare Benefit Policy publication titled “Surgery for Diabetes,” use CMS-Pub. 100-03, Transmittal No. 100.

(Catalog of Federal Domestic Assistance Program No. 93.773, Medicare—Hospital Insurance, Program No. 93.774, Medicare—Supplementary Medical Insurance Program, and Program No. 93.714, Medical Assistance Program)

Dated: September 3, 2009.
Jacquelyn Y. White,
Director, Office of Strategic Operations and Regulatory Affairs.

Addendum I

This addendum lists the publication dates of the most recent quarterly listings of program issuances.

June 22, 2007 (72 FR 34508)

September 28, 2007 (72 FR 55282)

December 28, 2007 (72 FR 73990)

April 1, 2008 (73 FR 17422)

June 27, 2008 (73 FR 36596)

September 26, 2008 (73 FR 55902)

December 30, 2008 (73 FR 79982)

March 27, 2009 (74 FR 13516)

June 26, 2009 (74 FR 30689)

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III—Medicare and Medicaid Manual Instructions
[April through June 2009]
Transmittal No. | Manual/Subject/Publication No.
Medicare General Information
(CMS—Pub. 100-01)
00 | None
Medicare Benefit Policy
(CMS—Pub. 100-02)
105 | List of Medicare Telehealth Services
| Originating Site Facility Fee Payment (ESRD-Related Services)
106 | Speech-Language Pathology Private Practice Payment Policy
| Practice of Speech-Language Pathology
| Services Furnished by a Therapist in Private Practice
107 | July 2009 Update of the Hospital Outpatient Prospective Payment System
| Outpatient Observation Services
Medicare National Coverage Determination
(CMS—Pub. 100-03)
100 | Surgery for Diabetes
| Bariatric Surgery for Treatment of Morbid Obesity (Various Effective Dates Below)
| Surgery for Diabetes (Effective February 12, 2009)
101 | Wrong Surgical or Other Invasive Procedure Performed on a Patient; Surgical or Other Invasive Procedure Performed on the Wrong Body Part; Surgical or Other Invasive Procedure Performed on the Wrong Patient
| Wrong Surgical or Other Procedure Performed on a Patient (Effective January 15, 2009)
| Surgical or Other Invasive Procedure Performed on the Wrong Body Part (Effective January 15, 2009)
Medicare Claims Processing
(CMS—Pub. 100-04)
1708 | Hospice Cap Calculations Letters and Administrative Appeals
1709 | Manualization of the Medicare Physician Fee Schedule Record Layouts for Contractors Processing Institutional Claims
| Intermediary and Regional Home Health Intermediary Record Layout for Clinical Laboratory Fee Schedule
| RHHI Fees for Hospice, Radiology and Other Diagnostic Prices and Local HCPCS Codes
| Intermediary Format for Durable Medical Equipment, Prosthetic, Orthotic and Supply Fee Schedule
| Intermediary Outpatient Rehabilitation and CORF Services Fee Schedule
| Intermediary Format for Skilled Nursing Facility Fee Schedule
| Intermediary Format for CORF Services Supplemental and Critical Access Hospital Fee Schedule
| Physician Fee Schedule Payment Policy Indicator File Record Layout
| Intermediary Format for Mammography Fee Schedule
| Intermediary Format for Ambulance Fee Schedule
1710 | Billing Routine Cost of Clinical Trials
| Carrier Specific Requirements for Certain Specialties/Services
| Requirements for Billing Routine Costs of Clinical Trials
1711 | Surgery for Diabetes
| General
| ICD-9 Procedure Codes for Bariatric Surgery (FIs Only)
| Claims Guidance for Payment Medicare Summary Notices (MSNs) and Claim Adjustment Reason Codes
1712 | Issued to a specific audience, not posted to Internet/Intranet due to Sensitivity of Instruction
1713 | Additional Data Collection on Hospice Claims
| Data Required on Claim to FI
1714 | Correction to Editing of Health Insurance Prospective Payment System Codes on Home Health Prospective Payment System Claims
| Home Health Prospective Payment System Claims
1715 | New Physician Specialty Code for Hospice and Palliative Care
| Physician Specialty Codes
1716 | List of Medicare Telehealth Services
| List of Medicare Telehealth Services
| Submission of Telehealth Claims for Distant Site Providers
1717 | Speech-Language Pathology Privateacility Services—General
| Part B Outpatient Rehabilitation and Comprehensive Outpatient Rehabilitation Facility Services—General
| Services Paid Under the Medicare Physician's Fee Schedule
| Addendum
1718 | New Patient Discharge Status Code 21 to Define Discharges or Transfers to Court/Law Enforcement
| Form Locators 16-30
1719 | Rural Health Clinic and Federally Qualified Health Clinic Updates
| RHCs/FQHCs Special Billing Instructions
| General Billing Requirements for Preventive Services
| Initial Preventive Physical Exam
| Ultrasound Screening for Abdominal Aortic Aneurysms
| Diabetes Self-Management Training Services
| Medical Nutrition Therapy Services
| RHCs/FQHCs Special Billing Instructions
| HCs/FQHCs Special Billing Instructions
| RHCs/FQHCs Special Billing Instructions
1720 | Health Insurance Portability and Accountability Act American National
| Standards Institute (ANSI) 837 5010 Coordination of Benefit Requirements—Part II
| COB Trading Partner and Contractor Crossover Claim Requirements
| Coordination of Benefits Agreement Coordination of Benefits Requirements
1721 | Billing Routine Cost of Clinical Trials
| Carrier Specific Requirements for Certain Specialties/Services
| Requirements for Billing Routine Cost of Clinical Trials
1722 | Instructions for Downloading the Medicare ZIP Code Files for October 2009
1723 | Only Clinical Trial Services Receive Fee-For-Service Payment on Claims Billed for Managed Care Beneficiaries
| Requirements for Billing Routine Costs of Clinical Trials
| Billing and Processing Fee for Service Claims for Covered Clinical Trial Services Furnished to Managed Care Enrollees
1724 | Issued to a specific audience, not posted to Internet/Intranet due to Sensitivity of Instruction
1725 | Requirements for Specialty Codes
| Requirements for Specialty Codes
1726 | Issued to a specific audience, not posted to Internet/Intranet due to Confidentiality of Instruction
1727 | Coordination of Benefits Agreement (COBA) Repair and Claims Recovery Requirements Stemming from the Health Insurance Portability and Accountability Act 5010 Claims Transactions
| Coordination of Benefits Agreement 837 5010 Coordination of Benefits Flat File Errors
| Coordination of Benefits Agreement Full Claims Repair Process
| Coordination of Benefits Agreement (COBA) Eligibility File Claims Recovery Process
1728 | Surgery for Diabetes
| General
| ICD-9 Procedure Codes for Bariatric Surgery (FIs Only)
| Claims Guidance for Payment
| Medicare Summary Notices and Claim Adjustment Reason Codes
1729 | Section 148 of the Medicare Improvements for Patients and Providers Act (MIPPA)
| Clinical Diagnostic Laboratory Tests Furnished by CAHs
| Hospital and Skilled Nursing Facility Patients
| General Explanation of Payment
| Hospital Billing Under Part B
| Critical Access Hospital Outpatient Laboratory Service
1730 | Issued to a specific audience, not posted to Internet/Intranet due to Confidentiality of Instruction
1731 | Clarification of CMS Publication 100-04, Chapter 32, Section 80.8 Billing of Routine Foot Care When Payment Ceases for Loss of Protective Sensation Evaluation and Management
| Billing Requirements for Special Services
1732 | Pricing Claims for Services Rendered in Place of Service Home
| General Billing Requirements
| Medicare Claims Processing Manual/Chapter 1/General Billing Requirements/Table of Contents
| Payment Jurisdiction Among Contractors for Services Paid Under the Physician Fee Schedule and Anesthesia Services
| Claims Processing Instructions for Payment Jurisdiction for Claims Received on or after April 1, 2004
1733 | Manual Clarifications for Skilled Nursing Facility and Therapy Billing
| Inpatient Billing from Hospitals and SNFs
| HCPCS Coding Requirements
| Special Inpatient Billing Instructions
| Bills with Covered and Noncovered Days
| Billing in Benefits Exhaust and No-Payment Situations
1734 | Claim Adjustment Reason Code (CARC), Remittance Advice Remark Code and Medicare Remit Easy Print Update
1735 | Changes to the Laboratory National Coverage Determination Edit Software for July 2009
1736 | Chapter 24 Update to Restore Inadvertently Deleted Information and to Remove
| Reserved
| Reserved
| Contractor Roles in ASCA Reviews
1737 | July 2009 Quarterly Average Sales Price Medicare Part B Drug Pricing
| Files and Revisions to Prior Quarterly Pricing Files
1738 | Additional Data Collection on Hospice Claims
| Data Required on Claim to FI
1739 | July 2009 Integrated Outpatient Code Editor Specifications Version 10.2
1740 | July 2009 Update to the ASC Payment System; Summary of Payment Policy Changes
1741 | Update-Inpatient Psychiatric Facilities Prospective Payment System Rate Year 2010
1742 | Clarification of Chapter 32, Section 80.8 Billing of Routine Foot Care When Payment Ceases for Loss of Protective Sensation Evaluation and Management
| Billing Requirements for Special Services
1743 | Billing Routine Cost of Clinical Trials
| Carrier Specific Requirements for Certain Specialties/Services
| Requirements for Billing Routine Cost of Clinical Trials
1744 | Manual Update to Include Billing Instructions for Professional Component and Technical Component in Regards to One Line Global Billing for Pathology Services DOS for Clinical Laboratory and Pathology Specimen
1745 | July 2009 Update of the Hospital Outpatient Prospective Payment System When an Inpatient Admission May Be Changed to Outpatient Status
| Background
| Policy and Billing Instructions for Condition Code 44
| Outlier Adjustments
| Identifying Hospitals and CMHCs Subject to Outlier Reconciliation
| Reconciling Outlier Payments for Hospitals and CMHCs
| Time Value of Money
| Procedures for Medicare Contractors to Perform and Record Outlier
| Reconciliation Adjustments
| Observation Services Overview
| Revenue Code Reporting
| Reporting Hours of Observation
| Billing and Payment for All Hospital Observation Services Furnished between January 1, 2006 and December 31, 2007
| Separate and Packaged Payment for Direct Referral for Observation Services Furnished between January 1, 2006 and December 31, 2007
| Separate and Packaged Payment for Observation Services Furnished between January 1, 2006 and December 31, 2007
| Billing and Payment for Observation Services Beginning January 1, 2008
| Billing and Payment for Direct Referral for Observation Care Furnished Beginning January 1, 2008
| Hospital Outpatient Payment Under OPPS for New, Unclassified Drugs and Biologicals After FDA Approval But Before Assignment of a Product-Specific Drug or Biological HCPCS Code
1746 | Quarterly Update to Correct Coding Initiative Edits, Version 15.2, Effective July 1, 2009
1747 | Beneficiary-Submitted Claims
| Monitoring Claims Submission Violations
| Handling Incomplete or Invalid Claims
1748 | July Update to the 2009 Medicare Physician Fee Schedule Database
1749 | Revised Billing Instructions for Occurrence Span Code 74 on Skilled Nursing Facility No Payment Claims
| Billing in Benefits Exhaust and No-Payment Situations
1750 | October Quarterly Update to 2009 Annual Update of HCPCS Codes Used for Skilled Nursing Facility Consolidated Billing Enforcement
1751 | New Waived Tests
1752 | Addition/Deletion of HCPCS Codes—July 2009 Quarterly Update
1753 | Issued to a specific audience, not posted to Internet/Intranet due to Confidentiality of Instruction
1754 | July Quarterly Update for 2009 Durable Medical Equipment, Prosthetics, Orthotics, and Suppliers Fee Schedule
1755 | Wrong Surgical or Other Invasive Procedure Performed on a Patient; Surgical or Other Invasive Procedure Performed on the Wrong Body Part; Surgical or Other Invasive Procedure Performed on the Wrong Patient
| Billing Wrong Surgical or Other Invasive Procedures Performed on a Patient, Surgical or Other Invasive Procedures Performed on the Wrong Body Part, and Surgical or Other Invasive Procedures Performed on the Wrong Patient
1756 | Claim Status Category Code and Claim Status Code Update
1757 | Claims Processing for Skilled Nursing Facility Consolidated Billing
| Carrier/Part B MAC/DMEMAC Claims Processing for Consolidated Billing for Physician and Non-Physician Practitioner Services Rendered to Beneficiaries in a SNF Part A Stay
| Reject and Unsolicited Response Edits
| A/B Crossover Edits
| Duplicate Edits
| Edit for Ambulance Services
| Edit for Clinical Social Workers (CSWs)
| Edit for Therapy Services Separately Payable when Furnished by a Physician
| CWF Override Codes
| Coding Files and Updates
| Annual Update Process
1758 | Correction to Fiscal Year (FY) 2009 Medicare Severity Long-Term Care Diagnosis-Related Group (MS-LTC-DRG) Weights
1759 | July 2009 Update to the ASC Payment System; Summary of Payment Policy Changes
1760 | July 2009 Update of the Hospital Outpatient Prospective Payment System when an Inpatient Admission May Be Changed to Outpatient Status
| Background
1761 | Billing Routine Cost of Clinical Trials
| Carrier Specific Requirements for Certain Specialties/Services
| Requirements for Billing Routine Cost of Clinical Trials
| Policy and Billing Instructions for Condition Code 44
| Outlier Adjustments
| Identifying Hospitals and CMHCs Subject to Outlier Reconciliation
| Reconciling Outlier Payments for Hospitals and CMHCs
| Time Value of Money
| Procedures for Medicare Contractors to Perform and Record Outlier Reconciliation Adjustments
| Observation Services Overview
| Revenue Code Reporting
| Reporting Hours of Observation
| Billing and Payment for All Hospital Observation Services Furnished Between January 1, 2006 and December 31, 2007
| Billing and Payment for All Hospital Observation Services Furnished Between January 1, 2006 and December 31, 2007
| Separate and Packaged Payment for Direct Referral for Observation Services Furnished Between January 1, 2006 and December 31, 2007
| Separate and Packaged Payment for Direct Referral for Observation Services Furnished Between January 1, 2006 and December 31, 2007
| Billing and Payment for Observation Services Beginning January 1, 2008
| Billing and Payment for Direct Referral for Observation Care Furnished Beginning January 1, 2008
| Hospital Outpatient Payment Under OPPS for New, Unclassified Drugs and Biologicals After FDA Approval But Before Assignment of a Product-Specific Drug or Biological HCPCS Code
Medicare Secondary Payer
(CMS—Pub. 100-05)
68 | Claim Adjustment Reason Code Update for Medicare Secondary Payer Claims Processing
69 | Update to the Electronic Correspondence Referral System User Guide v10.0 and Quick Reference Card v10.0
| Coordination With the Coordination of Benefits Contractor
| Contractor MSP Auxiliary File Update Responsibility
| COBC Electronic Correspondence Referral System
| Attachment 1—ECRS User Guide, Software Version 10.0
| Attachment 1A—ECRS Part D Plan User Guide, Software
| Providing Written Documents to the COBC
70 | Instructions on utilizing 837 Institutional CAS segments for Medicare Secondary Payer Part A Claims
Medicare Financial Management
(CMS—Pub. 100-06)
150 | Internal Control Requirements Update
| Introduction
| Authority
| FMFIA and the CMS Contractor Contract
| GAO Standards for Internal Controls in the Federal Government
| Definition and Objectives
| Monitoring
| Contractor Internal Control Review Process
| Risk Assessment
| Risk Analysis Chart
| Internal Control Objectives
| CMS Contractor Control Objectives
| Policies and Procedures
| Testing Methods
| Documentation and Working Papers
| Certification Package for Internal Controls
| OMB Circular A-123, Appendix A: Internal Control Over Financial Reporting
| CPIC Requirements
| Certification Statement
| Executive Summary
| CPIC Report of Material Weaknesses
| CPIC Report of Internal Control Deficiencies
| Definitions of Control Deficiency, Significant Deficiency, and Material Weaknesses Corrective Action Plans
| Submission, Review, and Approval of Corrective Action Plans
| CMS Finding Numbers
| Initial CAP Report
| Quarterly CAP Report
| Entering Data into the Initial or Quarterly CAP Report
| List of CMS Contractor Control Objectives
| CMS Financial Reporting Cycle Memo
| Financial Reporting Cycle Memo Inclusions
| List of Appendices
151 | Notice of New Interest Rate for Medicare Overpayments and Underpayments—3rd Notification for FY 2009
152 | Recovery Audit Contractors (RACs)
| Handling Appeals Resulting from RAC Initiated Denials
| Referrals to the Department of Treasury
| Tracking Overpayments
| Tracking Appeals
| Reporting Administrative Costs Directly Associated with the RAC Program Potential Fraud
| AC and MAC Requirements Involving RAC Information Dissemination
| Contacting Non-Responders
| Voluntary Refunds
| Working with RAC Support Contractors
153 | Implementation of the Redesigned Provider Statistical and Reimbursement (PS&R) System
| Contractor's Responsibility Prior to Submission of Cost Reports
Medicare State Operations Manual
(CMS—Pub. 100-07)
41 | Revisions to Appendices P and PP
42 | Revision to Appendix P, “Survey Protocol for Long Term Care Facilities—Part I”
| “Investigative Protocol—Unintended Weight Loss”
43 | Revised Chapter 2, “The Certification Process,” Section 2008A
| Early Surveys of New Providers and Suppliers
44 | Revisions to Exhibit 286, “Hospital/CAH Medicare Database Worksheet”
45 | Revisions to Chapter 6—“Special Procedures for Laboratories”
| Background
| Consultative CLIA Activities
| Certificate of Registration
| Certificate of Compliance
| CLIA Certificate Status Changes
| Criteria for One Certificate for Multiple Sites
| Laboratories Under Direct RO Jurisdiction
| Laboratories Performing Limited Public Health Testing
46 | Revisions to Appendix V, “Emergency Medical Treatment and Labor Act Interpretive Guidelines”
47 | Revised Appendix A, “Interpretive Guidelines for Hospitals”
48 | Revisions to Appendix PP, “Guidance to Surveyors of Long Term Care Facilities”
49 | New Critical Access Hospital (CAH) Requirements Under 42 CFR 485.610(e) Related to CAH Co-location and CAH Provider-based Locations
Medicare Program Integrity
(CMS—Pub. 100-08)
288 | Incorporation of Physician Fee Schedule Regulatory Changes
| Definitions
| Pre-Screening Process
| Application Rejections
| Denials for Incomplete Applications
| Returning the Application
| Types of Business Organizations
| Certification Statement
| Delegated Officials
| IDTF Standards
| Requesting and Receiving Clarifying Information
| Definitions
| Determining Whether a CHOW Has Occurred
| Processing CHOW Applications
| Effective Billing Date for Physicians, Non-Physician Practitioners, and Physician or Non-Physician Practitioner Organizations
| Denials
| General Procedures
| Electronic Fund Transfers
| Medicare Advantage and Other Managed Care Organizations
| Clinical Nurse Specialists
| Nurse Practitioners
| Physicians
| Speech Language Pathologists in Private Practice
| Contractor Issued Revocations
| File Maintenance
289 | Incorporation of Physician Fee Schedule Regulatory Changes
| Definitions
| Pre-Screening Process
| Application Rejections
| Denials for Incomplete Applications
| Returning the Application
| Types of Business Organizations
| Certification Statement
| Delegated Officials
| IDTF Standards
| Requesting and Receiving Clarifying Information
| Determining Whether a CHOW Has Occurred
| Effective Billing Date for Physicians, Non-Physician Practitioners, and Physician or Non-Physician Practitioner Organizations
| Denials
| General Procedures
| Electronic Fund Transfers
| Medicare Advantage and Other Managed Care Organizations
| Clinical Nurse Specialists
| Nurse Practitioners
| Speech Language Pathologists in Private Practice
| Contractor Issued Revocations
| File Maintenance
291 | Reassignment and Ambulatory Surgical Centers (ASCs)
292 | Submission of Paper and Electronic CMS—855 Enrollment Applications
293 | Review of Durable Medical Equipment, Prosthetics, Orthotics, and Supplies
| Period of Medical Necessity for Serial DMEPOS claims
| Accessories
| Repairs
| Maintenance General DMEPOS Review Reminders
294 | Additional Extract from Multi-Carrier System to Provider Enrollment, Chain and Ownership System for 4th Quarter Deactivations
295 | Revision to Certain Instructions Related to Provider Enrollment Deactivations and Revocations
| Radiation Therapy Centers
| Certified Registered Nurse Anesthetists
| CMS or Contractor Issued Deactivations
| Contractor Issued Revocations
| DPSE Issued Revocations
| PSC Identified Revocations
| CMS Satellite Office or Regional Office Identified Revocations
Medicare Contractor Beneficiary and Provider Communications
(CMS—Pub. 100-09)
00 | None
Medicare End Stage Renal Disease Network Organizations
(CMS—Pub 100-14)
00 | None
Medicare Managed Care
(CMS—Pub. 100-16)
00 | None
Medicare Business Partners Systems Security
(CMS—Pub. 100-17)
00 | None
Demonstrations
(CMS—Pub. 100-19)
61 | Method of Payment for Extended Stay Services under the Frontier Extended Stay Clinic Demonstration, Authorized by Section 434 of the Medicare Modernization Act. This Change Request provides additional information to CR 6057
One Time Notification
(CMS—Pub. 100-20)
469 | Issued to a specific audience, not posted to Internet/Intranet due to Confidentiality of Instruction
470 | Expansion of the Current Scope of Editing for Ordering/Referring Providers for Claims Processed by Medicare Carriers and Part B Medicare
| Administrative Contractors
471 | Revision to Processing Hospice Visit Charges on Remittance Advices and Medicare Summary Notices
472 | Request for Common Working Files to Send Common Working Files Medicare Quality Assurance the 5010 File Formats as of October 5, 2009
473 | Deductible Application on Clinical Trial Claims
474 | Ten (10) percent Write-off from the Nine CWF data bases for the Tables called: Medicare Secondary Payment and Beneficiary ESRD Dialysis Auxiliary, for the Calendar Years 2000-2008
475 | Modification to Accommodate Acute Care Episode Demonstration
476 | Implementation of Indirect Medical Education and Long Term Care Hospital Provisions from the American Recovery and Reinvestment Act of 2009
477 | Change Type of Bill (TOB) for Federally Qualified Health Centers from 73x to 77x
478 | Internet-based Provider Enrollment, Chain and Ownership Outreach to Academic Medical Institutions and Large Group Practices
479 | Issued to a specific audience, not posted to Internet/Intranet due to Sensitivity of Instruction
480 | Expansion of the Current Scope of Editing for Ordering/Referring Providers for Durable Medical Equipment, Prosthetics, Orthotics, and Supplier
| Suppliers Claims Process by Durable Medical Equipment Medicare Administrative Contractors
481 | Implementation of the Health Care Claim Status Inquiry and Response (276/277) Version 005010—Durable Medical Equipment Shared System Change
482 | Mainframe Integrated Outpatient Code Editor Tool Set Upgrade
483 | Fiscal Intermediary Shared System Analysis for System-Related Outpatient Prospective Payment System Processing Issues
484 | Archiving and Retrieving of the Integrated Outpatient Code Editor for Processing Claims
485 | Implementation—Systems Improvements to Streamline Updates to the Place of Service Code Set
486 | Jurisdiction 5 A/B MAC Merge of the Part B East Missouri, West Missouri, Nebraska, Kansas, and Iowa Production and User
| Acceptance Test Regions
487 | Modification of the Common Working File Copybook to Transmit a “WC” Qualifier to Distinguish Workers Compensation Medicare Set-Aside
| Arrangement MSP Records
488 | Processing and Payment of Physician and Non-Physician Practitioner Services Reassigned to ASCs
489 | Require Medicare Administrative Contractors Fiscal Intermediaries and Carriers to Provide Program Safeguard Contractors (PSCs)/Zoned Program Integrity Contractors (ZPICs) with Monthly Updates of Deactivated Crosswalk File Entries
490 | Issued to a specific audience, not posted to Internet/Intranet due to Sensitivity of Instruction
492 | Fiscal Year 2009 Inpatient Prospective Payment System Claims with Medicare Severity Diagnosis Related Group (MS-DRG) 956
494 | MREP Update for 835 Version 5010
495 | Further Instruction for Implementation of the Next Version of the Health Insurance Portability and Accountability Act 835 Transaction and Related Standard Paper Remittance
496 | Fiscal Intermediary Standard System Analysis and Technical Consultation—to be Performed by the Maintainer for the Planning and Execution of the J1 WPS Legacy Part A Pilot Split and Subsequent Workload Reporting Requirements
497 | Payment for Maintenance and Servicing of Certain Oxygen Equipment as a Result of the Medicare Improvements for Patients and Providers Act of 2008—THIS CR RESCINDS AND FULLY REPLACES CR 6404
498 | Reporting Gross Payments on IRS Form-1099
499 | Placing Medicare Florida Fraud Hotline Number on the Medicare Summary Notices for Zip Codes in Florida
500 | VMS Modifications to Implement the Common Electronic Data Interchange System, Part III, NCPDP 5.1 Implementation
501 | Allow Zoned Program Integrity Contractor to access Durable Medical Equipment Medicare Administrative Contractor by ZPIC Zone
502 | Jurisdiction 4 A/B MAC Merge of the Part B Oklahoma, New Mexico and Colorado CICS Production and User Acceptance Test Regions
503 | Reporting Non-Tax Withholding Due to Federal Payment Levy Program
504 | J12 Production Region Merge of the District of Columbia, Maryland, New Jersey, and Pennsylvania Part A Workloads
505 | Medicare Part B Radiation Therapy Centers Supplier Enrollment Revalidation
506 | Issued to specific audience, not posted to Internet/Intranet/due to Sensitivity of Instruction
507 | Jurisdiction 13 A/B MAC Merge of the three Part B New York and the Part B Connecticut CICS Production and User Acceptance Test Regions
508 | Implementation of the Next Version of the Health Insurance Portability and Accountability Act (HIPAA) 835 Transaction
509 | DME MAC Instructions for Therapy Caps 2009
510 | Expansion of the Current Scope of Editing for Ordering/Referring Providers for claims processed by Medicare Carriers and Part B Medicare Administrative Contractors

Addendum IV—Regulation Documents Published in the Federal Register
[April through June 2009]
Publication date | FR Vol. 74 Page No. | 42 CFR parts affected | File code | Title of regulation
April 3, 2009 | 15221 | 440 | CMS-2232-F2 | Medicaid Programs; State Flexibility for Medicaid Benefit Packages.
April 24, 2009 | 18656 | 447 and 455 | CMS-2198-F2 | Medicaid Program; Disproportionate Share Hospital Payments; Correcting Amendment.
April 24, 2009 | 18728 |  | CMS-2299-PN | Medicare and Medicaid Programs; Application of the American Osteopathic Association for Continued Deeming Authority for Hospitals.
April 24, 2009 | 18734 |  | CMS-1563-N | Medicare Program; Meeting of the Practicing Physicians Advisory Council, June 1, 2009.
April 24, 2009 | 18808 |  | CMS-4139-N | Medicare Program; Recognition of NAIC Model Standards for Regulation of Medicare Supplemental Insurance.
April 24, 2009 | 18912 | 405 and 418 | CMS-1420-P | Medicare Program; Proposed Hospice Wage Index for Fiscal Year 2010.
April 28, 2009 | 19155 | 45 CFR 144 and 146 | CMS-4140-NC | Request for Information Regarding the Paul Wellstone and Pete Domenici Mental Health Parity and Addiction Equity Act of 2008.
May 1, 2009 | 20323 |  | CMS-2303-N | Establishment of the Children's Health Insurance Program Working Group and Request for Nominations for Members.
May 1, 2009 | 20362 |  | CMS-1495-NC | Medicare Program; Inpatient Psychiatric Facilities Prospective Payment System Payment Update for Rate Year Beginning July 1, 2009 (RY 2010).
May 6, 2009 | 21052 | 412 | CMS-1538-P | Medicare Program; Inpatient Rehabilitation Facility Prospective Payment System for Federal Fiscal Year 2010.
May 6, 2009 | 21230 | 433 | CMS-2275-P2 | Medicaid Program; Health Care-Related Taxes.
May 6, 2009 | 21232 | 431, 433, 440, and 441 | CMS-2287-P2, CMS-2213-P2, CMS-2237-P | Medicaid Program; Rescission of School-Based Services Final Rule, Outpatient Services Definition Rule, and Partial Rescission of Case Management Services Interim Final Rule.
May 12, 2009 | 22208 | 483 | CMS-1410-P | Medicare Program; Prospective Payment System and Consolidated Billing for Skilled Nursing Facilities for FY 2010; Minimum Data Set, Version 3.0 for Skilled Nursing Facilities and Medicaid Nursing Facilities.
May 22, 2009 | 24015 |  | CMS-2900-PN | Medicare and Medicaid Programs; Application by the Community Health Accreditation Program for Continued Deeming Authority for Hospices.
May 22, 2009 | 24017 |  | CMS-1407-N | Medicare Program; Public Meeting in Calendar Year 2009 for New Clinical Laboratory Tests Payment Determinations.
May 22, 2009 | 24019 |  | CMS-7014-N | Medicare Program; Meeting of the Advisory Panel on Medicare Education, July 8, 2009.
May 22, 2009 | 24080 | 412, 413, 415, and 489 | CMS-1406-P | Medicare Program; Proposed Changes to the Hospital Inpatient Prospective Payment Systems for Acute Care Hospitals and Fiscal Year 2010 Rates and to the Long-Term Care Hospital Prospective Payment System and Rate Year 2010 Rates.
May 26, 2009 | 24857 |  | CMS-2487-PN | Medicare and Medicaid Programs; Application by the American Osteopathic Association for Continued Deeming Authority for Ambulatory Surgical Centers.
June 3, 2009 | 26546 | 412 | CMS-1337-IFC | Medicare Program; Revisions to FY 2009 Medicare Severity-Long-Term Care Diagnosis-Related Group (MS-LTC-DRG) Weights.
June 3, 2009 | 26600 | 412 | CMS-1406-P2 | Medicare Program; Proposed Rate Year (RY) 2010 Medicare Severity-Long-Term Care Diagnosis-Related Group (MS-LTC-DRG) Relative Weights and High-Cost Outlier Fixed-Loss Amount.
June 22, 2009 | 29453 | 441 | CMS-2296-ANPRM | Medicaid Program; Home and Community-Based Services (HCBS) Waivers.
June 26, 2009 | 30584 |  | CMS-2896-FN2 | Medicare and Medicaid Programs; Approval of the Joint Commission's Continued Deeming Authority for Critical Access Hospitals.
June 26, 2009 | 30587 |  | CMS-2476-PN | Medicare and Medicaid Programs; Application by the American Association for Accreditation of Ambulatory Surgery Facilities for Continued Deeming Authority for Ambulatory Surgical Centers.
June 26, 2009 | 30588 |  | CMS-2302-PN | Medicare and Medicaid Programs; Application by the Joint Commission for Continued Deeming Authority for Hospitals.
June 26, 2009 | 30689 |  | CMS-9052-N | Medicare and Medicaid Programs; Quarterly Listing of Program Issuances—January through March 2009.
June 30, 2009 | 31183 | 431, 433, 440, and 441 | CMS-2287-F2, CMS-2213-F2, CMS-2237-F | Medicaid Program; Rescission of School-Based Services Final Rule, Outpatient Services Definition Rule, and Partial Rescission of Case Management Services Interim Final Rule.
June 30, 2009 | 31196 | 433 | CMS-2275-F2 | Medicaid Program; Health Care-Related Taxes.

Addendum V—National Coverage Determinations [April through June 2009]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

Title | NCDM Section | TN No. | Issue date | Effective date
Surgery for Diabetes | 100.1, 100.14 | R100NCD | 04/17/2009 | 02/12/2009
Changes to the Laboratory National Coverage Determination (NCD) Edit Software for July 2009 | 100.4 | R1735CP | 05/15/2009 | 07/01/2009
Wrong Surgical or Other Invasive Procedure Performed on a Patient; Surgical or Other Invasive Procedure Performed on the Wrong Body Part; Surgical or Other Invasive Procedure Performed on the Wrong Patient | 140.6, 140.7, 140.8 | R101NCD | 06/12/2009 | 01/15/2009
Wrong Surgical or Other Invasive Procedure Performed on a Patient; Surgical or Other Invasive Procedure Performed on the Wrong Body Part; Surgical or Other Invasive Procedure Performed on the Wrong Patient | 140.6, 140.7 | R102NCD | 07/02/2009 | 01/15/2009

Addendum VI—FDA-Approved Category B IDEs [April through June 2009]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21, 1997 (62 FR 19328).

The following list includes all Category B IDEs approved by FDA during the second quarter, April through June 2009.

IDE | Category
BB14019 | B
G070171 | B
G080129 | B
G080167 | B
G080178 | B
G080209 | B
G080232 | B
G090023 | B
G090044 | B
G090048 | B
G090051 | B
G090052 | B
G090056 | B
G090057 | B
G090061 | B
G090064 | B
G090066 | B
G090068 | B
G090069 | B
G090070 | B
G090074 | B
G090086 | B
G090087 | B

Addendum VII—Approval Numbers for Collections of Information

Below we list all approval numbers for collections of information in the referenced sections of CMS regulations in Title 42; Title 45, Subchapter C; and Title 20 of the Code of Federal Regulations, which have been approved by the Office of Management and Budget:

OMB Control Numbers | Approved CFR Sections in Title 42, Title 45, and Title 20 (Note: Sections in Title 45 are preceded by “45 CFR,” and sections in Title 20 are preceded by “20 CFR”).

OMB No. | Approved CFR sections
0938-0008 | Part 424 Subpart C
0938-0022 | 413.20, 413.24, 413.106
0938-0023 | 424.103
0938-0025 | 406.28, 407.27
0938-0027 | 486.100-486.110
0938-0033 | 405.807
0938-0035 | 407.40
0938-0037 | 413.20, 413.24
0938-0041 | 408.6, 408.202
0938-0042 | 410.1, 410.40, 424.124, 424.601, 414.605, 414.610, 414.615, 414.620, 414.625, 424.32
0938-0045 | 405.711
0938-0046 | 405.2133
0938-0050 | 413.20, 413.24
0938-0062 | 431.151, 435.151, 435.1009, 440.220, 440.250, 442.1, 442.10-442.16, 442.30, 442.40, 442.42, 442.100-442.119, 483.400-483.480, 488.332, 488.400, 498.3-498.5
0938-0065 | 485.701-485.729
0938-0074 | 491.1-491.11
0938-0080 | 406.7, 406.13
0938-0086 | 420.200-420.206, 455.100-455.106
0938-0101 | 430.30
0938-0102 | 413.20, 413.24
0938-0107 | 413.20, 413.24
0938-0146 | 431.800-431.865
0938-0147 | 431.800-431.865
0938-0151 | 493.1-493.2001
0938-0155 | 405.2470
0938-0193 | 430.10-430.20, 440.167
0938-0202 | 413.17, 413.20
0938-0214 | 411.25, 489.2, 489.20
0938-0236 | 413.20, 413.24
0938-0242 | 488.26 and 442.30
0938-0245 | 407.10, 407.11
0938-0246 | 431.800-431.865
0938-0251 | 406.7
0938-0266 | 416.1-416.150
0938-0267 | 485.56, 485.58, 485.60, 485.64, 485.66
0938-0269 | 412.116, 412.632, 413.64, 413.350, 484.245
0938-0270 | 405.376
0938-0272 | 440.180, 441.300-441.310
0938-0273 | 485.701-485.729
0938-0279 | 424.5
0938-0287 | 447.31
0938-0296 | 413.170, 413.184
0938-0301 | 413.20, 413.24, 415.60
0938-0302 | 418.22, 418.24, 418.28, 418.56, 418.58, 418.70, 418.74, 418.83, 418.96, 418.100
0938-0313 | 489.11, 489.20
0938-0328 | 482.12, 482.13, 482.21, 482.22, 482.27, 482.30, 482.41, 482.43, 482.45, 482.53, 482.56, 482.57, 482.60, 482.61, 482.62, 482.66, 485.618, 485.631
0938-0334 | 491.9, 491.10
0938-0338 | 486.104, 486.106, 486.110
0938-0354 | 441.50
0938-0355 | 442.30, 488.26
0938-0358 | 488.26
0938-0359 | 412.40-412.52
0938-0360 | 488.60
0938-0365 | 484.10, 484.12, 484.14, 484.16, 484.18, 484.36, 484.48, 484.52
0938-0372 | 414.330
0938-0378 | 482.60-482.62
0938-0379 | 442.30, 488.26
0938-0386 | 405.2100-405.2171
0938-0391 | 488.18, 488.26, 488.28
0938-0426 | 480.104, 480.105, 480.116, 480.134
0938-0429 | 447.53
0938-0443 | 478.18, 478.34, 478.36, 478.42
0938-0444 | 1004.40, 1004.50, 1004.60, 1004.70
0938-0445 | 412.44, 412.46, 431.630, 476.71, 476.74, 476.78
0938-0447 | 405.2133
0938-0448 | 405.2133, 45 CFR 5, 5b; 20 CFR Parts 401, 422E
0938-0449 | 440.180, 441.300-441.310
0938-0454 | 424.20
0938-0456 | 412.105
0938-0463 | 413.20, 413.24, 413.106
0938-0467 | 431.17, 431.306, 435.910, 435.920, 435.940-435.960
0938-0469 | 417.126, 422.502, 422.516
0938-0470 | 417.143, 422.6
0938-0477 | 412.92
0938-0484 | 424.123
0938-0501 | 406.15
0938-0502 | 433.138
0938-0512 | 486.301-486.348
0938-0526 | 475.102, 475.103, 475.104, 475.105, 475.106
0938-0534 | 410.38, 424.5
0938-0544 | 493.1-493.2001
0938-0564 | 411.32
0938-0565 | 411.20-411.206
0938-0566 | 411.404, 411.406, 411.408
0938-0573 | 412.256
0938-0578 | 447.534
0938-0581 | 493.1-493.2001
0938-0599 | 493.1-493.2001
0938-0600 | 405.371, 405.378, 413.20
0938-0610 | 417.436, 417.801, 422.128, 430.12, 431.20, 431.107, 483.10, 484.10, 489.102
0938-0612 | 493.801, 493.803, 493.1232, 493.1233, 493.1234, 493.1235, 493.1236, 493.1239, 493.1241, 493.1242, 493.1249, 493.1251, 493,1252, 493.1253, 493.1254, 493.1255, 493.1256, 493.1261, 493.1262, 493.1263, 493.1269, 493.1273, 493.1274, 493.1278, 493.1283, 493.1289, 493.1291, 493.1299
0938-0618 | 433.68, 433.74, 447.272
0938-0653 | 493.1771, 493.1773, 493.1777
0938-0657 | 405.2110, 405.2112
0938-0658 | 405.2110, 405.2112
0938-0667 | 482.12, 488.18, 489.20, 489.24
0938-0686 | 493.551-493.557
0938-0688 | 486.301-486.325
0938-0691 | 412.106
0938-0692 | 466.78, 489.20, 489.27
0938-0701 | 422.152
0938-0702 | 45 CFR 146.111, 146.115, 146.117, 146.150, 146.152, 146.160, 146.180
0938-0703 | 45 CFR 148.120, 148.122, 148.124, 148.126, 148.128
0938-0714 | 411.370-411.389
0938-0717 | 424.57
0938-0721 | 410.33
0938-0723 | 421.300-421.316
0938-0730 | 405.410, 405.430, 405.435, 405.440, 405.445, 405.455, 410.61, 415.110, 424.24
0938-0732 | 417.126, 417.470
0938-0734 | 45 CFR 5b
0938-0739 | 413.337, 413.343, 424.32, 483.20
0938-0749 | 424.57
0938-0753 | 422.000-422.700
0938-0754 | 441.151, 441.152
0938-0758 | 413.20, 413.24
0938-0760 | 484.55, 484.205, 484.245, 484.250
0938-0761 | 484.11, 484.20
0938-0763 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.286, 423.293, 423.301, 423.308, 423.315, 423.322, 423.329, 423.336, 423.343, 423.346, 423.350
0938-0770 | 410.2
0938-0778 | 422.111, 422.564
0938-0779 | 417.126, 417.470, 422.64, 422.210
0938-0781 | 411.404, 484.10
0938-0786 | 438.352, 438.360, 438.362, 438.364
0938-0790 | 460.12-460.210
0938-0792 | 491.8, 491.11
0938-0796 | 422.64
0938-0798 | 413.24, 413.65, 419.42
0938-0802 | 419.43
0938-0818 | 410.141-410.146, 414.63
0938-0829 | 422.568
0938-0832 | Parts 489 and 491
0938-0833 | 483.350-483.376
0938-0841 | 431.636, 457.50, 457.60, 457.70, 457.340, 457.350, 457.431, 457.440, 457.525, 457.560, 457.570, 457.740, 457.750, 457.810, 457.940, 457.945, 457.965, 457.985, 457.1005, 457.1015, 457.1180
0938-0842 | 412.23, 412.604, 412.606, 412.608, 412.610, 412.614, 412.618, 412.626, 413.64
0938-0846 | 411.352-411.361
0938-0857 | Part 419
0938-0860 | Part 419
0938-0866 | 45 CFR Part 162
0938-0872 | 413.337, 483.20
0938-0873 | 422.152
0938-0874 | 45 CFR Parts 160 and 162
0938-0878 | Part 422 Subparts F and G
0938-0887 | 45 CFR 148.316, 148.318, 148.320
0938-0897 | 412.22, 412.533
0938-0907 | 412.230, 412.304, 413.65
0938-0910 | 422.620, 422.624, 422.626
0938-0911 | 426.400, 426.500
0938-0915 | 421.120, 421.122
0938-0916 | 483.160
0938-0920 | 438.6, 438.8, 438.10, 438.12, 438.50, 438.56, 438.102, 438.114, 438.202, 438.206, 438.207, 438.240, 438.242, 438.402, 438.404, 438.406, 438.408, 438.410, 438.414, 438.416, 438.604, 438.710, 438.722, 438.724, 438.810
0938-0921 | 414.804
0938-0931 | 45 CFR 142.408, 162.408, and 162.406
0938-0933 | 438.50
0938-0935 | 422 Subparts F and K
0938-0936 | 423
0938-0939 | 405.502
0938-0944 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, 423.350
0938-0950 | 405.910
0938-0951 | 423.48
0938-0953 | 405.1200 and 405.1202
0938-0954 | 414.906, 414.908, 414.910, 414.914, 414.916
0938-0957 | Part 423 Subpart R
0938-0964 | 403.460, 411.47
0938-0969 | 421.405
0938-0975 | 423.562(a)
0938-0976 | 423.568
0938-0977 | Part 423 Subpart R
0938-0978 | 423.464
0938-0982 | 422.310, 423.301, 423.322, 423.875, 423.888
0938-0986 | 412.20-412.30
0938-0990 | 423.56
0938-0992 | 423.505, 423.514
0938-0993 | 1396
0938-0997 | 424.5
0938-0999 | Part 424 Subpart C
0938-1004 | 423.502
0938-1009 | 411.357(v), 411.357(w)
0938-1013 | 423.56(e)
0938-1019 | 405.1206, 422.622
0938-1020 | 412.525(a)(4), 412.529(c)(3), 412.84(i)(2)
0938-0123 | 422.152(a)(1), 422.152(a)(2)
0938-1024 | 1396
0938-1026 | 447.520
0938-1013 | 423.56e
0938-1019 | 405.1206, 422.622
0938-1023 | 422.152a
0938-1033 | 455
0938-1034 | 489.20
0938-1049 | 424.36(b)

Addendum VIII—Medicare-Approved Carotid Stent Facilities [April through June 2009]

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

Facility | Provider No. | Effective date | State | Additional information
East El Paso Physicians Medical Center, 1416 George Dieter Drive, El Paso, TX 79936 | 450877 | 05/14/2009 | TX |
New York Westchester Square Medical Center, 2475 St. Raymond Avenue, Bronx, NY 10461 | 330316 | 05/14/2009 | NY |
P&S Surgical Hospital, 312 Grammont Street, Suite 101, Monroe, LA 71201 | 190246 | 05/14/2009 | LA |
The MetroHealth System, 2500 MetroHealth Drive, Cleveland, OH 44109-1998 | 360059 | 05/20/2009 | OH |
Clarian Arnett Health, 5165 McCarty Lane, Lafayette, IN 47905 | 150173 | 07/02/2009 | IN |
Maury Regional Medical Center, 1224 Trotwood Avenue, Columbia, TN 38401 | 440073 | 07/02/2009 | TN |
Tulane Medical Center, 1415 Tulane Avenue, New Orleans, LA 70112 | 190176 | 07/02/2009 | LA |
Northeast Baptist Hospital, 8811 Village Drive, San Antonio, TX 78217 | 450058 | 10/04/2005 | TX |
St. Luke's Baptist Hospital, 7930 Floyd Curl Drive, San Antonio, TX 78229 | 450058 | 10/04/2005 | TX |
Southeast Baptist Hospital, 4214 East Southcross Boulevard, San Antonio, TX 78222 | 450058 | 10/04/2005 | TX |
North Central Baptist Hospital, 520 Madison Oak Drive, San Antonio, TX 78258 | 450058 | 10/04/2005 | TX |

Addendum IX—American College of Cardiology's National Cardiovascular Data Registry Sites [April through June 2009]

In order to obtain reimbursement, Medicare national coverage policy requires that providers implanting ICDs for primary prevention clinical indications (that is, patients without a history of cardiac arrest or spontaneous arrhythmia) report data on each primary prevention ICD procedure. This policy became effective January 27, 2005. Details of the clinical indications that are covered by Medicare and their respective data reporting requirements are available in the Medicare National Coverage Determination (NCD) Manual, which is on the Centers for Medicare & Medicaid Services (CMS) Web site at http://www.cms.hhs.gov/Manuals/IOM/itemdetail.asp?filterType=none&filterByDID=99&sortByDID=1&sortOrder=ascending&itemID=CMS014961.

A provider can use either of two mechanisms to satisfy the data reporting requirement. Patients may be enrolled either in an Investigational Device Exemption trial studying ICDs as identified by the FDA or in the American College of Cardiology's National Cardiovascular Data Registry (ACC-NCDR) ICD registry. Therefore, in order for a beneficiary to receive a Medicare-covered ICD implantation for primary prevention, the beneficiary must receive the scan in a facility that participates in the ACC-NCDR ICD registry.

We maintain a list of facilities that have been enrolled in this registry. Addendum IX includes the facilities that have been designated in the quarter covered by this notice.

Facility name | Address 1 | Address 2 | City | State | Zip
Abbott Northwestern Hospital | 800 East 28th Street (Internal Zip 33210) |  | Minneapolis | MN | 55407
Abilene Regional Medical Center | 6250 Highway 83-84 Antilley Road |  | Abilene | TX | 97606
Abington Memorial Hospital | 1200 York Road | 5 Toll-AMH | Abington | PA | 19446
Adena Regional Medical Center | 272 Hospital Road |  | Chillicothe | OH | 45601
Adventist Bolingbrook Hospital | 120 North Oak Street |  | Bolingbrook | IL | 60440
Adventist Glen Oaks Hospital | 701 Winthrop Avenue |  | Glendale Heights | IL | 60139
Adventist Hinsdale Hospital | 120 N. Oak Street |  | Hinsdale | IL | 60521
Adventist Medical Center | 10123 SE. Market Street |  | Portland | OR | 97216
Advocate Christ Medical Center | 4440 West 95th Street | #127NOB | Oak Lawn | IL | 60453
Advocate Condell Medical Center | 801 S. Milwaukee Avenue |  | Libertyville | IL | 60048
Advocate Good Shepherd Hospital | 450 W. Highway 22 |  | Barrington | IL | 60010
Advocate Illinos Masonic Medical Center | 836 W. Wellington Avenue |  | Chicago | IL | 60657
Advocate Lutheran General Hospital | 1775 Dempster Street |  | Park Ridge | IL | 60068
Affinity Medical Center | 400 Austin Avenue |  | Massillon | OH | 44646
Aiken Regional Medical Center | 302 University Parkway |  | Aiken | SC | 29802
Akron City Hospital | 525 East Market Street |  | Akron | OH | 44309-2090
Akron General Medical Center | 400 Wabash Avenue | Heart & Vascular Center | Akron | OH | 44307
Alamance Regional Medical Center | P.O. Box 202 |  | Burlington | NC | 27216
Alaska Regional Hospital | 2801 Debarr Road |  | Anchorage | AK | 99508
Albany Medical Center Hospital | 43 New Scotland Avenue |  | Albany | NY | 12208
Albert Einstein Medical Center | 5501 Old York Road |  | Philadelphia | PA | 19141
Alegent Health Bergan Mercy Medical Center | 7500 Mercy Road |  | Omaha | NE | 68124
Alegent Health Immanuel Medical Center | 6828 North 72nd Street | Suite 3000N | Omaha | NE | 68122-1709
Alegent Health Mercy Hospital | 6901 North 72nd Street |  | Omaha | NE | 68122
Alexian Brothers Medical Center | 800 Biesterfield Road |  | Elk Grove Village | IL | 60007-3311
Allegheny General Hosptial | 320 East North Avenue |  | Pittsburg | PA | 15212
Allegiance Health (W.A. Foote Memorial Hospital) | 205 N. East Avenue | Heart Center 1st Floor | Jackson | MI | 49201
Allen Memorial Hospital | 1825 Logan Avenue |  | Waterloo | IA | 50703
Alpena Regional Medical Center | 1501 W. Chisholm Street |  | Alpena | MI | 49707
Alta Bates Medical Center | 2450 Ashby Avenue |  | Berkeley | CA | 94705
Alta Bates Summit Medical Center | 350 Hawthorne Avenue |  | Oakland | CA | 94609
Alton Memorial Hospital | 1 Memorial Drive |  | Alton | IL | 62067
Altoona Hospital | 620 Howard Avenue |  | Altoona | PA | 16601
Altru Health System | 1200 South Columbia Road |  | Grand Forks | ND | 58201
Alvarado Hospital | 6645 Alvarado Road |  | San Diego | CA | 92120
Anaheim Memorial Medical Center | 1111 W. La Palma Avenue |  | Anaheim | CA | 92801
AnMed Health | 800 North Fant Street |  | Anderson | SC | 29621
Anna Jaques Hospital | 25 Highland Avenue |  | Newburyport | MA | 01950
Anne Arundel Medical Center | 2001 Medical Parkway |  | Annapolis | MD | 21404
Appleton Medical Center/ThedaClark Medical Center | 1818 N. Meade Street | Rm 165-B | Appleton | WI | 54911
Arizona Heart Hospital | 1930 East Thomas Road |  | Phoenix | AZ | 85016
Arizona Regional Medical Center | 4838 East Baseline Road | Suite 109-110 | Mesa | AZ | 85206
Arkansas Heart Hospital | 1701 S. Shackelford Road |  | Little Rock | AR | 72202
Arlington Memorial Hospital | 800 W. Randol Mill Road |  | Arlington | TX | 76012
Arnot-Ogden Medical Center | 600 Roe Avenue |  | Elmira | NY | 14905
Arrowhead Hospital | 18701 N. 67th Avenue |  | Glendale | AZ | 85308
Ashtabula County Medical Center | 2420 Lake Avenue |  | Ashtabula | OH | 44004
Aspirus Wausau Hospital | 333 Pine Ridge Boulevard |  | Wausau | WI | 54401
Athens Regional Medical Center | 1199 Prince Avenue |  | Athens | GA | 30606
Atlanta Medical Center | 303 Parkway Drive NE. |  | Atlanta | GA | 30312
Atlanticare Regional Medical Center | 2500 English Creek Avenue |  | Egg Habour Township | NJ | 08234
Atrium Medical Center | One Medical Center |  | Franklin | OH | 45005
Audrain Medical Center | 620 E. Monroe Street |  | Mexico | MO | 65265
Aultman Hospital | 2600 Sixth Street SW. |  | Canton | OH | 44710
Aurora BayCare Medical Center | 2845 Greenbrier Road |  | Green Bay | WI | 54308
Aurora Medical Center—Kenosha | 2900 W. Oklahoma Avenue |  | Milwaukee | WI | 53132
Aurora Medical Center of Washington County | 1032 E. Sumner Street |  | Hartford | WI | 53027
Aurora Medical Center Oshkosh | 855 N. Westhaven Street |  | Oshkosh | WI | 53132
Aurora Memorial Hospital of Burlington | 2900 W. Oklahoma Avenue |  | Milwaukee | WI | 53215
Aurora Sheboygan Memorial Medical Center | 2629 N. 7th Street |  | Sheboygan | WI | 53083
Aurora Sinai Medical Center | 945 N. 12th Street |  | Milwaukee | WI | 53233
Aurora West Allis Memorial Hospital | 2900 E. Oklahoma Avenue |  | Milwaulee | WI | 53215
Auxilio Mutuo Hospital | Apartado 191227 |  | San Juan | PR | 00919-1227
Aventura Hospital and Medical Center | 5631 Glencrest Boulevard |  | Tampa | FL | 33625-1008
Avera Heart Hospital of South Dakota | 4500 West 69th Street |  | Sioux Falls | SD | 57108
Avera Sacred Heart Hospital | 501 Summit |  | Yankton | SD | 57078
Avera St. Luke's | 305 South State Street |  | Aberdeen | SD | 57401
Bakersfield Heart Hospital | 3001 Sillect Avenue |  | Bakersfield | CA | 93308
Bakersfield Memorial Hospital | 420 34th Street | P.O. Box 1888 | Bakersfield | CA | 93303-1888
Ball Memorial Hospital | 2401 University Avenue |  | Muncie | IN | 47303
Baltimore Washington Medical Center | 301 Hosptial Drive | 2nd Floor Cardiac Cath Lab | Glen Burnie | MD | 21061
Banner Boswell Medical Center | 10401 W. Thunderbird Boulevard |  | Sun City | AZ | 85351
Banner Desert Medical Center | Banner Desert Medical Center, Quality Management | 1400 S. Dobson Road | Mesa | AZ | 85202
Banner Estrella Medical Center | 9201 W. Thomas Road |  | Phoenix | AZ | 85037
Banner Good Samaritan Med Center | 1111 East McDowell Road |  | Phoenix | AZ | 85006-2612
Banner Heart Hospital | 6750 E. Baywood Avenue |  | Mesa | AZ | 85206
Banner Thunderbird Med Center | 5555 W. Thunderbird Road |  | Glendale | AZ | 85306
Baptist Health Medical Center | 9601 Interstate 630 Exit 7 |  | Little Rock | AR | 72205-7299
Baptist Health Medical Center | 3333 Springhill Drive |  | North Little Rock | AR | 72117
Baptist Hospital | 1000 W. Moreno Street |  | Pensacola | FL | 32501
Baptist Hospital | 4220 Harding Road |  | Nashville | TN | 37202
Baptist Hospital East | 4000 Kresge Way |  | Louisville | KY | 40207
Baptist Hospital of Miami | 8900 SW. 88th Street |  | Miami | FL | 33176
Baptist Hospital of Southeast Texas | P.O. Box 1591 | 3080 College Street | Beaumont | TX | 77704
Baptist Hospital West | 10820 Parkside Drive |  | Knoxville | TN | 37934
Baptist Medical Center | 800 Prudential Drive |  | Jacksonville | FL | 32207
Baptist Medical Center | 730 North Main Avenue | Suite 409 | San Antonio | TX | 78205
Baptist Memorial Hospital North Mississippi | 2301 South Lamar Boulevard |  | Oxford | MS | 38655
Baptist Memorial Hospital | 6019 Walnut Grove Road |  | Memphis | TN | 38120
Baptist Memorial Hospital-Desoto | 7601 Southcrest Parkway |  | Southaven | MS | 38671
Baptist Memorial Hospital-Union City | 1201 Bishop Street |  | Union City | TN | 38261
Baptist St. Anthony's Health Systems | 1600 Wallace Boulevard |  | Amarillo | TX | 79106
Barberton Citizens Hospital | 155 5th Street NE. |  | Barberton | OH | 44203
Barnes Jewish Hospital/Washington University | #1 Barnes Jewish Hospital Plaza | SW. Tower-Main. Mailstop 90-59-315 | Saint Louis | MO | 63110-9930
Bartow Regional Medical Center | 2200 Osprey Boulevard |  | Bartow | FL | 33830
Bassett Healthcare-(Mary Imogene Bassett Hospital) | One Atwell Road |  | Cooperstown | NY | 13326
Baton Rouge General Medical Center | 3600 Florida Boulevard |  | Baton Rouge | LA | 70806
Battle Creek Health System | 300 North Avenue |  | Battle Creek | MI | 49016
Baxter Regional Medical Center, Attn: A/P | 624 Hospital Drive |  | Mountain Home | AR | 72653
Bay Medical Center | 615 North Bonita Avenue |  | Panama City | FL | 32401
Bay Regional Medical Center | 1900 Columbus Avenue |  | Bay City | MI | 48708
Bayfront Medical Center | 701 Sixth Street South |  | St. Petersburg | FL | 33701
Bayhealth Medical Center (KGH) | 640 S. State Street |  | Dover | DE | 19901
Baylor All Saints Medical Center at Fort Worth | 1400 8th Avenue |  | Fort Worth | TX | 76104
Baylor Jack and Jane Hamilton Heart and Vascular Hospital | 621 North Hall Street |  | Dallas | TX | 75226
Baylor Medical Center at Garland | 2300 Marie Curie Drive |  | Garland | TX | 75042
Baylor Medical Center at Irving | 1901 North MacArthur Boulevard |  | Irving | TX | 75061
Baylor Regional Medical Center at Grapevine | 1650 West College Street |  | Grapevine | TX | 76051
Bayshore Medical Center | 4000 Spencer Highway |  | Pasadena | TX | 77504
Baystate Medical Center | 759 Chestnut Street | Springfield 4 4558 | Springfield | MA | 01199
Beauregard Memorial Hospital | 600 S. Pine Street |  | Deridder | LA | 70634
Bellevue Hospital Center | 462 First Avenue |  | New York | NY | 10016
Bellin Memorial Hospital | 744 S. Webster Avenue | Cardiac Data Center 5th Floor | Green Bay | WI | 54301
Benefis Healthcare | 1101 26th Street South |  | Great Falls | MT | 59405-5161
Berkshire Medical Center, Inc. | 725 North Street |  | Pittsfield | MA | 01201-4124
Bert Fish Medical Center | 401 Palmetto Street |  | New Smyrna Beach | FL | 32168
Beth Israel Deaconess Medical Center | 185 Pilgrim Road |  | Boston | MA | 02215
Bethesda Memorial Hospital | 2815 S. Seacrest Blvd |  | Boynton Beach | FL | 33435
Bethesda North Hospitals | 375 Dixmyth Avenue |  | Cincinnati | OH | 45220-2489
Beverly Hospital | 85 Herrick Street |  | Beverly | MA | 01915
Bexar County Hospital District d.b.a. University Health | 4502 Medical Drive | Stop 34-1 | San Antonio | TX | 78229
Biloxi Regional Medical Center | 150 Reynoir Street |  | Biloxi | MS | 39531
Blake Medical Center | 2020 59th Street West |  | Bradenton | FL | 34209
Blanchard Valley Hospital | 1900 South Main Street | HeartCare Center | Findlay | OH | 45840
Blessing Hospital | 1005 Broadway | P.O. Box 7005 | Quincy | IL | 62305-7005
Bloomington Hospital | 601 W. Second Street |  | Bloomington | IN | 47403
Boca Raton Community Hospital | 12201 NW. Second Place |  | Coral Springs | FL | 33071
Bon Secours DePaul Medical Center | 150 Kingsley Lane |  | Norfolk | VA | 23505
Bon Secours—Maryview Medical Center | 5801 Bremo Road | Suite 310, North Medical Office Building | Richmond | VA | 23226
Bon Secours-Memorial Regional Medical Center | 5801 Bremo Road | Suite 310, North Medical Office Building | Richmond | VA | 23226
Bon Secours St Francis Medical Center | 13701 Centerpointe Parkway |  | Midlothian | VA | 23114
Bon Secours St. Marys Hospital | 5801 Bremo Road | Suite 310, North Medical Office Building | Richmond | VA | 23226
Boone Hospital Center | 1600 E. Broadway |  | Columbia | MO | 65201-5897
Borgess Medical Center | 1521 Gull Road |  | Kalamazoo | MI | 49048
Boston Medical Center | One Boston Medical Place |  | Boston | MA | 02118
Bothwell Regional Health Center | 601 East 14th Street |  | Sedalia | MO | 65301
Botsford Hospital | 28050 Grand River Avenue |  | Farmington Hills | MI | 48336
Boulder Community Hospital | 1100 Balsam Avenue |  | Boulder | CO | 80304
Braddock Campus | 900 Seton Drive |  | Cumberland | MD | 21502-1850
Brandon Regional Hospital | 119 Oakfield Drive |  | Brandon | FL | 33511
Bridgeport Hospital | 267 Grant Street |  | Bridgeport | CT | 06610
Brigham & Womens Hospital | 75 Francis Street | L258A | Boston | MA | 02115
Bromenn Hospital | P.O. Box 2850 |  | Bloomington | IL | 61702-2850
Bronson Methodist Hospital | 601 John Street |  | Kalamazoo | MI | 49007-5348
Brookdale Hospital & Medical Center | 1 Brookdale Plaza |  | Brooklyn | NY | 11212
Brooklyn Hospital Center | 121 DeKalb Avenue |  | Brooklyn | NY | 11201
Brooksville Regional Hospital | 17240 Cortez Boulevard |  | Brooksville | FL | 34601
Brookwood Medical Center | 2010 Brookwood Medical Center |  | Birmingham | AL | 35209
Broward General Medical Center | 1600 S. Andrews Avenue |  | Ft. Lauderdale | FL | 33316
Bryan LGH Medical Center | 1600 South 48th Street |  | Lincoln | NE | 68526
Bryn Mawr Hospital | Suite 557 Lankenau MOB East | 100 Lancaster Avenue | Wynnewood | PA | 19096
Buffalo General Hospital/Aaron Health Sciences Library 4D | 100 High Street |  | Buffalo | NY | 14203
Cabell Huntington Hospital | 1340 Hal Greer Boulevard |  | Huntington | WV | 25701
California Pacific Medical Center | 2330 Clay Street, Stern Building, Room #103 | Stern Building, Room #103 | San Francisco | CA | 94115
CAMC Teays Valley Hospital | 1400 Hospital Drive |  | Hurricane | WI | 25526
Camden-Clark Memorial Hospital | 800 Garfield Avenue |  | Parkersburg | WV | 26101
Candler Hospital, Inc. | 5353 Reynolds Street |  | Savannah | GA | 31405
Cape Canaveral Hospital | 701 West Cocoa Beach Causeway |  | Cocoa Beach | FL | 32931
Cape Cod Hospital | 40 Quinlan Way |  | Hyannis | MA | 02601
Cape Fear Valley Health System | 303 Wagoner Drive |  | Fayetteville | NC | 28303-4646
Capital Medical Center | 3900 Capital Mall Drive |  | Olympia | WA | 98502
Capital Regional Medical Center | barbara.scott3@ hcahealthcare.com |  | Tallahassee | FL | 32308
Capital Regional Medical Center | 1125 Madison Street (P.O. Box 1128) |  | Jefferson City | MO | 65102-1128
Cardio Tricare | 4300 Alton Road |  | Miami Beach | FL | 33140
Cardiovascular Center of Puerto Rico | P.O. Box 366528 |  | San Juan | PR | 00936-6528
Carilion Roanoke Memorial Hosp | Att: Cardiac Cath Lab | P.O. Box 13367 | Roanoke | VA | 24033-3367
Caritas Norwood Hospital | 800 Washington Street |  | Norwood | MA | 02062
Caritas St. Elizabeths Medical Center | 736 Cambridge Street |  | Boston | MA | 02135
Carle Foundation Hospital | 611 W. Park Street |  | Urbana | IL | 61801
Carolina Pines Regional Medical Center | 1304 W. BoBo Newsom Highway |  | Hartsville | SC | 29550
Carolinas Hospital System | 805 Pamplico Highway |  | Florence | SC | 29505
Carolinas Medical Center | 1001 Blythe Boulevard |  | Charlotte | NC | 28227
Carolinas Medical Center—Mercy | 2001 Vail Avenue | Cath Lab | Charlotte | NC | 28207
Carondelet Heart Institute at St. Joseph Medical Center | 1000 Carondelet Drive |  | Kansas City | MO | 64114
Carroll Hospital Center | 200 Memorial Avenue |  | Westminster | MD | 21157
Carson Tahoe Regional Medical Center | 1600 Medical Parkway |  | Carson City | NV | 89706
Cartersville Medical Center | P.O. Box 20008 |  | Cartersville | GA | 30120
Casa Grande Regional Medical Center | 1800 E. Florence Boulevard |  | Casa Grande | AZ | 85222
Castleview Hospital | 300 North Hospital Drive |  | Price | UT | 84501
Catawba Valley Medical Center | 810 Fairgrove Church Road |  | Hickory | NC | 28602
Catholic Medical Center | 100 McGregor Street | Level C Room 248 | Manchester | NH | 03102-3770
Cayuga Medical Center at Ithaca | 101 Dates Drive |  | Ithaca | NY | 14850
Cedars-Sinai Health Systems | 8700 Beverly Boulevard | MGB 901 | Los Angeles | CA | 90048
Centennial Hills Hospital Medical Center | 6900 N. Durango Drive |  | Las Vegas | NV | 89149-4409
Centennial Medical Center | 12505 Lebanon Boulevard |  | Frisco | TX | 75035
Centennial Medical Center | 2300 Patterson Street |  | Nashville | TN | 37203
Centerpoint Medical Center | 19600 E. 39th Street |  | Independence | MO | 64057
Centinela Hospital Medical Center | 555 E. Hardy Street |  | Inglewood | CA | 90301
Central Baptist Hospital | 1800 Nicholasville Road Suite 401 |  | Lexington | KY | 40503
Central DuPage Hospital | 25 N. Winfield Road |  | Winfield | IL | 60190
Central Florida Regional Hospital | 1401W. Seminole Boulevard |  | Sanford | FL | 32771
Central Maine Medical Center | CMHVI 60 High Street |  | Lewiston | ME | 04240
Central Minnesota Heart Center at St. Cloud Hospital | 1406 Sixth Avenue North |  | St. Cloud | MN | 56303
Central Mississippi Medical Center | 1850 Chadwick Drive |  | Jackson | MS | 39204
Central Washington Hospital | 1201 South Miller Street |  | Wenatchee | WA | 98801
Chandler Regional Medical Center | 475 S. Dobson Road | Quality Management Department | Chandler | AZ | 85224
Charleston Area Medical Center | 501 Morris Street |  | Charleston | WV | 25301
Charlotte Regional Medical Center | 809 East Marion Avenue |  | Punta Gorda | FL | 33950
Charlton Memorial Hospital | 363 Highland Avenue |  | Fall River | MA | 02720-3700
Chattanooga-Hamilton County Hospital Authority/ER | 975 E. Third Street |  | Chattanooga | TN | 37403
Chesapeake General Hospital | 736 Battlefield Boulevard North |  | Chesapeake | VA | 23320
Cheshire Medical Center | 580 Court Street |  | Keene | NH | 03431
Chester County Hospital | 701 E. Marshall Street |  | West Chester | PA | 19380
Chester River Hospital Center | 100 Brown Street |  | Chestertown | MD | 21620
Cheyenne Regional Medical Center | Cheyenne Regional Medical Center | 214 E. 23rd Street | Cheyenne | WY | 82001
Christian Hospital | 11133 Dunn Road |  | St Louis | MO | 63136
Christiana Care Health System | 4755 Ogletown-Stanton Road |  | Newark | DE | 19718
Christus Hospital-St. Mary | 3600 Gates Boulevard |  | Port Arthur | TX | 77642
Christus Saint Elizabeth Hospital | 2830 Calder Street |  | Beaumont | TX | 77702
Christus Santa Rosa Hospital | 333 N. Santa Rosa Street |  | San Antonio | TX | 78207
Christus Spohn Hospital Corpus Christi—Shoreline | 600 Elizabeth Street |  | Corpus Christi | TX | 78404
Christus St. John Hospital | 18300 St. John Drive | Cath Lab | Nassau Bay | TX | 77058
Christus St. Michael Health System | 2600 St. Michael Drive |  | Texarkana | TX | 75503
Christus St. Patrick Hospital | 524 South Ryan Street |  | Lake Charles | LA | 70602-3401
Christus—Schumpert Highland Hospital | One St. Mary Place |  | Shreveport | LA | 71101
Christus—St. Frances Cabrini Hospital | 3330 Masonic Drive | Cath Lab | Alexandria | LA | 71301
Citrus Memorial Health System | 502 W. Highland Boulevard |  | Inverness | FL | 34452
CJW Medical Center | 7101 Jahnke Road |  | Richmond | VA | 23225-4044
Claremore Regional Hospital | 1202 N. Muskogee Place |  | Claremore | OK | 74017
Clarian Health Partners-Methodist Hospital campus | 1701 N. Senate Boulevard | Room A1082 | Indianapolis | IN | 46202
Clarian North Medical Center | 11725 Illinois Street B-178 |  | Carmel | IN | 46032
Clark Memorial Hospital | 1220 Missouri Avenue |  | Jeffersonville | IN | 47130
Clear Lake Regional Medical Center | 500 Medical Center Boulevard |  | Webster | TX | 77598
Cleveland Clinic Florida | 3100 Weston Road |  | Weston | FL | 33331
Cleveland Clinic Foundation | 9500 Euclid Avenue |  | Cleveland | OH | 44195
Coliseum Medical Centers | 350 Hospital Drive |  | Macon | GA | 31217
College Station Medical Center | 1604 Rock Prairie Road |  | College Station | TX | 77845
Columbia Hospital | 4425 North Port Washington Road |  | Glendale | WI | 53212
Columbia Regional Hospital | 404 Keene Street |  | Columbia | MO | 65201
Columbia St. Mary's Hospital Milwaukee | 4425 N. Port Washington Road |  | Milwaukee | WI | 53212
Columbia St. Mary's Hospital Ozaukee | 13111 N. Port Washington Road |  | Mequon | WI | 53097
Columbus Cardiovascular Care, PLLC | 2520 5th Street NorthP.O. Box 1307 |  | Columbus | MS | 39703
Columbus Regional Hospital | 2400 17th Street |  | Columbus | IN | 47201
Comanche County Memorial Hospital | 3401 W. Gore Boulevard | P.O. Box 129 | Lawton | OK | 73505
Community Health Partners | 3700 Kolbe Road |  | Lorain | OH | 44053
Community Hospital | 5637 Marine Parkway |  | New Port Richey | FL | 34652
Community Hospital | The Community Hospital | 901 MacArthur Boulevard | Munster | IN | 46321
Community Hospital and Wellness Center | 433 West High Street |  | Bryan | OH | 43506
Community Hospital East | Cardiovascular Services | 1500 North Ritter Avenue | Indianapolis | IN | 46219
Community Hospital of the Monterey Peninsula | P.O. Box HH |  | Monterey | CA | 93942-1085
Community Hospital South | 1500 N. Ritter Avenue |  | Indianapolis | IN | 46219-3027
Community Medical Center | 2827 Fort Missoula Road |  | Missoula | MT | 59804
Community Medical Center | 99 Highway 37 West |  | Toms River | NJ | 08775
Community Medical Center | 1800 Mulberry Street |  | Scranton | PA | 18510
Community Medical Center-Clovis | 2755 Herndon Avenue |  | Clovis | CA | 93611
Community Memorial Hospital | 147 N. Brent Street |  | Ventura | CA | 93003
Community Memorial Hospital | W180 N8085 Town Hall Road |  | Menomonee Falls | WI | 53052
CommunityMercy AKA Springfield Regional Medical Center | 2615 E. High Street |  | Springfield | OH | 45525
Concord Hospital | 250 Pleasant Street |  | Concord | NH | 03301
Conroe Regional Medical Center | 504 Medical Center Boulevard |  | Conroe | TX | 77304
Covenant Heart Institute | 3615 19th Street |  | Lubbock | TX | 79410
Conway Regional Medical Center | 2302 College Avenue |  | Conway | AR | 72034-6226
Cooley Dickinson Hospital | 30 Locust Street |  | Northampton | MA | 01060
Cooper University Hospital | One Cooper Plaza | D386B | Camden | NJ | 08103
Coral Gables Hospital | 3100 Douglas Road |  | Coral Gables | FL | 33134
Corpus Christi Medical Center | 7101 SPID |  | Corpus Christi | TX | 78412
County of Santa Clara | 751 S. Bascom Avenue |  | San Jose | CA | 95128
Covenant Healthcare | 1447 N. Harrison Street |  | Saginaw | MI | 48602
Covenant Medical Center | 3421 West Ninth Street |  | Waterloo | IA | 50702
Cox Medical Center South | 3801 S. National Avenue |  | Springfield | MO | 65807
Craven Regional Medical Center | 2000 Neuse Boulevard | P.O. Box 12157 | New Bern | NC | 28560
Creighton University Medical Center | 601 N. 30th Street |  | Omaha | NE | 68131
Crestwood Medical CenterTriad Hospitals, Inc. | One Hospital Drive |  | Huntsville | AL | 35801-3495
Crittenton Hospital Medical Center | 1101 W. University Drive |  | Rochester | MI | 48307-1831
Crouse Hospital | 736 Irving Avenue |  | Syracuse | NY | 13210
Crozer Chester Medical Center | 1 Medical Center Boulevard |  | Chester | PA | 19013-3995
Cumberland Cardiology | 5000 U.S. Route 321 |  | Prestonsburg | KY | 41653
CVPH Medical Center | 75 Beekman Street |  | Plattsburgh | NY | 12901
Cypress Fairbanks Medical Center | 10655 Steepletop Drive |  | Houston | TX | 77065
Dallas Regional Medical Center | 1011 N. Galloway Avenue |  | Mesquite | TX | 75149
Dameron Hospital | 525 W. Acacia Street |  | Stockton | CA | 95203
Danbury Hospital | 24 Hospital Avenue | Cardiology 2 South | Danbury | CT | 06810
Dauterive Hospital | 600 N. Lewis Street |  | New Iberia | LA | 70563
Davis Hospital | 1600 West Antelope Drive |  | Layton | UT | 84041
DCH Regional Medical Center | 809 University Boulevard E. |  | Tuscaloosa | AL | 35401-2029
Deaconess Billings Clinic | 2800 9th Avenue, North |  | Billings | MT | 59101
Deaconess Hospital | 311 Straight Street |  | Cincinnati | OH | 45219
Deaconess Hospital | 5501 N. Portland Avenue |  | Oklahoma City | OK | 73112
Deaconess Hospital | 600 Mary Street |  | Evansville | IN | 47747
Deaconess Medical Center | W. 800 Fifth Avenue |  | Spokane | WA | 99204
Deborah Heart & Lung Center | 200 Trenton Road |  | Browns Mills | NJ | 08015
Decatur General Hospital | 1201 7th Street |  | Decatur | AL | 35601
Dekalb Medical Center | 2701 N. Decatur Road |  | Decatur | GA | 30033
Dekalb Regional Medical Center | 200 Medical Center Drive |  | Fort Payne | AL | 35968
Del Sol Medical Center | 10301 Gateway West |  | El Pasoq | TX | 79925
Delray Medical Center | 5352 Linton Boulevard |  | Delray Beach | FL | 33484
Delta Regional Medical Center | 1400 E. Union Street |  | Greenville | MS | 38702
Denton Regional Medical Center | 3535 South I-35E |  | Denton | TX | 76205
Denver Health Medical Center | 777 Bannock Street |  | Denver | CO | 80204
DePaul Health Center | 12303 DePaul Drive |  | Bridgeton | MO | 63044
Des Peres Hospital | 2345 Dougherty Ferry Road |  | St. Louis | MO | 63122
Desert Regional Medical Center | 1150 N. Indian Canyon |  | Palm Springs | CA | 92262
DeTar Hospital | 506 E. San Antonio Street |  | Victoria | TX | 77902
Dixie Regional Medical Center | 1380 E. Medical Drive |  | St. George | UT | 84790
Doctors Hospital | 5000 University Drive |  | Miami | FL | 33146
Doctors Hospital | 5100 West Broad Street |  | Columbus | OH | 43228
Doctors Hospital | 9440 Poppy Drive |  | Dallas | TX | 75218
Doctor's Hospital | 3983 I-49 S. Service Road |  | Opelousas | LA | 70570
Doctors Hospital at Renaissance | 5501 S. McColl Road |  | Edinburg | TX | 78539
Doctors Hospital—Augusta | 3651 Wheeler Drive |  | Augusta | GA | 30909
Doctors Hospital of Sarasota | 5731 Bee Ridge Road |  | Sarasota | FL | 34233
Doctors Hospital-Tidwell | 510 West Tidwell Road |  | Houston | TX | 77091
Doctors Medical Center | 2000 Vale Road |  | San Pablo | CA | 94806
Doctors Medical Center | 1441 Florida Avenue |  | Modesto | CA | 95350
Dominican Santa Cruz Hospital | 1555 Soquel Drive |  | Santa Cruz | CA | 95065
Downey Regional Medical Center | 11500 Brookshire Avenue |  | Downey | CA | 90241
Doylestown Hospital | 595 West State Street |  | Doylestown | PA | 18901
DuBois Regional Medical Center | 100 Hospital Avenue |  | DuBois | PA | 15801
Duke Raleigh Hospital | 3400 Wake Forest Road |  | Raleigh | NC | 27609
Duke University Hospital | Erwin Road DUMC 3943 |  | Durham | NC | 27710
Dunn Memorial Hospital | 1600 23rd Street |  | Bedford | ID | 47421
Durham Regional Hospital | 3634 Roxboro Road |  | Durham | NC | 27704
East Alabama Medical Center | 2000 Pepperall Parkway |  | Opelika | AL | 36830
East Georgia Regional Medical Center | 1499 Fair Road (P.O. Box 1048) |  | Statesboro | GA | 30459
East Jefferson General Hospital | 4200 Houma Boulevard | Quality Management Department | Metairie | LA | 70006
East Texas Medical Center | 1000 S. Beckham Avenue |  | Tyler | TX | 75711
Eastern Idaho RMC | 3100 Channing Way |  | Idaho Falls | ID | 83404
Eastern Maine Medical Center | 489 State Street | P.O. Box 404 | Bangor | ME | 04402-0404
Easton Hospital (Northampton Hospital Corp.) | 250 South 21st Street |  | Easton | PA | 18042
Edward Hospital | 120 Spalding Drive #205 |  | Naperville | IL | 60540
Eisenhower Medical Center | 39000 Bob Hope Drive |  | Rancho Mirage | CA | 92270
El Camino Hospital | 2500 Grant Road |  | Mountain View | CA | 94040
Eliza Coffee Memorial Hospital | 603 West College Street |  | Florence | AL | 35630
Elkhart General Hospital | 600 East Boulevard | 3 South Suites | Elkhart | IN | 46514-2499
Elliot Hospital | 1 Elliot Way |  | Manchester | NH | 03103
Ellis Hospital | 1101 Nott Street |  | Schenectady | NY | 12308
Elmhurst Hospital Center | 79-01 Broadway | Dept of Cardiology, Suite D-54 | Elmhurst | NY | 11373
Elmhurst Memorial Hospital Marquardt Memorial Lib | 200 Berteau Avenue |  | Elmhurst | IL | 60126
EMH Regional Medical Center | 630 East River Street |  | Elyria | OH | 44035
Emory Crawford Long Hospital | 550 Peachtree Street |  | Atlanta | GA | 30308
Emory Dunwoody Medical Center | 4575 North Shallowford Road |  | Atlanta | GA | 30338
Emory Eastside Medical Center | 1700 Medical Way |  | Snellville | GA | 30078
Emory Johns Creek | 6325 Hospital Parkway |  | Johns Creek | GA | 30097
Emory University Hospital | 1364 Clifton Road, NE. C408 |  | Atlanta | GA | 30322
Englewood Community Hospital (HCA) | 700 Medical Boulevard |  | Englewood | FL | 34223
Englewood Hospital & Medical Center | 350 Engle Street |  | Englewood | NJ | 07631
Enloe Medical Center | 1600 Esplanade |  | Chico | CA | 95926
Erie County Medical Center | 462 Grider Street |  | Buffalo | NY | 14215
Evergreen Healthcare | 12040 NE. 128th Street MS21 |  | Kirkland | WA | 98034
Excela Health Westmoreland Hospital | 532 West Pittsburgh Street |  | Greensburg | PA | 15601
Exempla good Samaritan Medical Center | 2420 W. 26th Avenue Building D Suite 100 |  | Denver | CO | 80211
Exempla Lutheran Medical Center | 2420 W. 26th Avenue Building D Suite 140 |  | Denver | CO | 80211
Exempla Saint Joseph Hospital | 2420 W. 26th Avenue Building D Suite 140 |  | Denver | CO | 80211
Exeter Hospital | 5 Alumni Drive |  | Exeter | NH | 03833
F.E. Lajam, MD PC | 140-04 58th Road |  | Flushing | NY | 11355
Fairfield Cardiac Cath Labs | 3000 Mack Road | Suite 200 | Fairfield | OH | 45014
Fairfield Medical Center | 401 N. Ewing Street |  | Lancaster | OH | 43130
Fairview Hospital | 18101 Lorain Road #329 |  | Cleveland | OH | 44111
Fairview Park Hospital | P.O. Box 1408 |  | Dublin | GA | 31021
Fairview Southdale Hospital | 6401 France Avenue South |  | Edina | MN | 55435
Faith Regional Health Services | 2700 W. Norfolk Avenue |  | Norfolk | NE | 68701
Fawcett Memorial Hospital | 21298 Olean Boulevard |  | Port Charlotte | FL | 33949-4960
Faxton—St. Luke's Campus | 1656 Champlin Avenue |  | New Hartford | NY | 13413
FirstHealth Moore Regional Hospital | 155 Memorial Drive |  | Pinehurst | NC | 28374
Fisher-Titus Medical Center | 272 Benedict Avenue |  | Norwalk | OH | 44857
Flagler Hospital | 400 Health Park Boulevard |  | St. Augustine | FL | 32086
Flagstaff Medical Center | 1200 N. Beaver Street |  | Flagstaff | AZ | 86001-3198
Fletcher Allen Health Care | 111 Colchester Avenue |  | Burlington | VT | 05401
Florida Hospital Zephyrhills | 5631 Glencrest Boulevard |  | Tampa | FL | 33625-1008
Florida Hospital | 601 East Rollins Street | Box 99 | Orlando | FL | 32803
Florida Hospital Fish Memorial | 1055 Saxon Boulevard |  | Orange City | FL | 32763
Florida Hospital Ormond Memorial | 875 Sterthaus Avenue |  | Ormond Beach | FL | 32174
Florida Hospital Waterman, Inc. | 1000 Waterman Way |  | Tavares | FL | 32778
Florida Medical Center | 5000 W. Oakland Park Boulevard |  | Lauderdale Lakes | FL | 33313
Flowers Hospital | 4370 West Main Street |  | Dothan | AL | 36305
Floyd Medical Center | 304 Turner McCall Boulevard |  | Rome | GA | 30165
Floyd Memorial Hospital | 1850 State Street |  | New Albany | IN | 47150
Forrest General Hospital | 6051 Highway 49 South |  | Hattiesburg | MS | 39404-6389
Forsyth Medical Center | 3333 Silas Creek Parkway | Clinical Improvement Box 102 | Winston-Salem | NC | 27103
Fort Sanders Regional Medical Center | 1901 Clinch Avenue |  | Knoxville | TN | 37916-2307
Fort Walton Beach Medical Center | 1000 Mar Walt Drive |  | Fort Walton Beach | FL | 32547
Forum Health—Northside Medical Center | 500 Gypsy Lane |  | Youngstown | OH | 44501-0240
Fountain Valley Regional Hosp | 17100 Euclid Street |  | Fountain Valley | CA | 92708-4004
Frankford Hospital | Knights & Red Lion Roads |  | Philadelphia | PA | 19114
Frankfort Regional Medical Center | 299 Kings Daughter Drive |  | Frankfort | KY | 40601
Franklin Square Hospital | 9000 Franklin Square Drive |  | Baltimore | MD | 21237
Frederick Memorial Hospital | 400 W. Seventh Street |  | Frederick | MD | 21710
Freeman Hospital | 1102 W. 32nd Street | 1102 W. 32nd Street | Joplin | MO | 64804
Freeport Health Network | 1045 W. Stephenson Street |  | Freeport | IL | 61032
Fremont Area Medical Center | 450 East 23rd Street |  | Fremont | NE | 68025
French Hospital Medical Center | 1911 Johnson Avenue |  | St Luis Obispo | CA | 93401
Fresno Community Hospital and Medical Center | 2823 Fresno Street |  | Fresno | CA | 93721
Fresno Heart Hospital | 15 East Audubon Drive |  | Fresno | CA | 93720
Froedtert Hospital | 9200 W. Wisconsin Avenue |  | Milwaukee | WI | 53226
Frye Regional Medical Center | 420 N. Center Street |  | Hickory | NC | 28601
Gadsden Regional Medical Center | 1007 Goodyear Avenue |  | Gadsden | AL | 35903
Galichia Heart Hospital | 2610 N. Woodlawn Boulevard |  | Wichita | KS | 67220
Garden City Hospital | 6245 Inkster Road |  | Garden City | MI | 48135
Garden Grove Hospital | 12601 Garden Grove Boulevard |  | Garden Grove | CA | 92843
Gaston Memorial Hospital | 2525 Court Drive |  | Gastonia | NC | 28054
Gateway Medical CenterGateway Health System | 651 Dunlap Lane |  | Clarksville | TN | 37043
Gateway Regional Medical Center | 2100 Madison Avenue |  | Granite City | IL | 62040
Geisinger Medical Center | 100 North Academy Avenue |  | Danville | PA | 17822-2160
Geisinger Wyoming Valley Medical Center | 100 North Academy Avenue |  | Danville | PA | 17822-2160
Genesis Medical Center | 1236 East Rusholme Street | Suite 190 | Davenport | IA | 52803-2459
Genesis Medical Center, Illini Campus | 801 Illini Drive |  | Silvis | IL | 61282
Genesys Regional Medical Center | One Genesys Parkway |  | Grand Blanc | MI | 48439
Georgetown University Hospital | 3800 Reservoir Road NW. |  | Washington | DC | 20007
Gerald Champion Reginal Medical | 2669 North Scenic Drive |  | Alamogordo | NM | 88310
Glenbrook Hospital | 2100 Pfingsten Road |  | Evanston | IL | 60026
Glendale Adventist Medical Center | 1509 Wilson Terrace |  | Glendale | CA | 91206
Glendale Memorial Hospital and Health Center | 1420 S. Central Avenue |  | Glendale | CA | 91204
Glens Falls Hospital | 100 Park Street |  | Glens Falls | NY | 12801
Glenwood Regional Medical Center | 503 McMillan Road |  | West Monroe | LA | 71291
Good Samaritan Heart Center | 520 South 7th Street |  | Vincennes | IN | 47591
Good Samaritan Hospital and Health Center | 2222 Philadelphia Drive |  | Dayton | OH | 45406
Good Samaritan Hospital | 2425 Samaritan Drive | 2425 Samaritan Drive | San Jose | CA | 95124
Good Samaritan Hospital | 605 N. 12th Street |  | Mount Vernon | IL | 62864
Good Samaritan Hospital | 3815 Highland Avenue |  | Downers Grove | IL | 60515
Good Samaritan Hospital | 375 Dixmyth Avenue |  | Cincinnati | OH | 45220-2489
Good Samaritan Hospital | 1225 Wilshire Boulevard |  | Los Angelos | CA | 90017
Good Samaritan Hospital | 10 East 31st Street |  | Kearney | NE | 68848
Good Samaritan Hospital | 255 Lafayette Avenue |  | Suffern | NY | 10901
Good Samaritan Hospital Cardiology | 1000 Montauk Highway |  | West Islip | NY | 11795
Good Samaritan Hospital of Maryland | 5601 Loch Raven Boulevard |  | Baltimore | MD | 21239
Good Samaritan Medical Center | 1309 North Flagler Drive |  | West Palm Beach | FL | 33401
Good Samaritan Regional Medical Center | 3600 NW. Samaritan Drive |  | Corvallis | OR | 97330
Good Shepherd Medical Center | 700 East Marshall Avenue |  | Longview | TX | 75601
Goshen General Hospital | 200 High Park Avenue |  | Goshen | IN | 46526
Governor Juan F. Luis Hospital & Medical Center | 4007 Estate Diamond Ruby |  | Christiansted | VI | 00820
Graduate Hospital | 1800 Lombard Street |  | Philadelphia | PA | 19146
Grady Health System | 80 Jessie Hill Jr. Drive SE. |  | Atlanta | GA | 30303
Grady Memorial Hospital | 561 West Central Avenue |  | Delaware | OH | 43015-1489
Grand Strand Regional Medical Center | 809 82nd Parkway |  | Myrtle Beach | SC | 29572
Grandview Medical Center | 405 Grand Avenue |  | Dayton | OH | 45405
Grant Medical Center | 111 S. Grant Avenue |  | Columbus | OH | 43215
Gratiot Medical Center | 4005 Orchard Drive | Campus Ridge 1 | Midland | MI | 48670
Great Plains Regional Medical Center | Box 2339 |  | Elk City | OK | 73648
Greater Baltimore Medical Center | GBMC—Cardiac Cath Lab | 6701 N. Charles Street | Towson | MD | 21204
Greene Memorial Hospital | 1141 N. Monroe Drive |  | Xenia | OH | 45385
Greenview Regional Hospital | 1801 Ashley Circle |  | Bowling Green | KY | 42104
Greenville Memorial Hospital | 701 Grove Road |  | Greenville | SC | 29605
Greenwich Hospital | 5 Perryridge Road |  | Greenwich | CT | 06830
Gulf Coast Medical Center | 449 W. 23rd Street |  | Panama City | FL | 32406-5309
Gulf Coast Medical Center | 1400 Highway 59 |  | Wharton | TX | 77488
Gundersen Lutheran Medical Center, Inc. | 1900 South Avenue | H06-004 | LaCrosse | WI | 54601
Gwinnett Hospital System | 1000 Medical Center Boulevard |  | Lawrenceville | GA | 30045
Hackensack University Medical Center | 30 Prospect Avenue |  | Hackensack | NJ | 07601
Hahnemann University Hospital | 230 N. Broad Street |  | Philadelphia | PA | 19102
Halifax Medical Center | 303 N. Clyde Morris Boulevard |  | Daytona Beach | FL | 32114-2732
Halifax Regional Hospital | 2204 Wilborn Avenue |  | South Boston | VA | 24592
Hamilton Medical Center | 1200 Memorial Drive |  | Dalton | GA | 30720
Hamot Medical Center | 201 State Street |  | Erie | PA | 16550
Hannibal Regional Hospital | 6000 Hospital Drive |  | Hannibal | MO | 63401
Harbor Hospital Center | 3001 S. Hanover Street |  | Baltimore | MD | 21225
Hardin Memorial Hospital | 913 N. Dixie Avenue |  | Elizabethtown | KY | 42701
Harlingen Medical Center | 5501 South Expressway 77 |  | Harlingen | TX | 78550
Harper University Hospital | 3990 John R. Street |  | Detroit | MI | 48201
Harris Methodist Fort Worth | 1301 Pennsylvania Avenue |  | Fort Worth | TX | 76104
Harris Methodist HEB | 1600 Hospital Parkway |  | Bedford | TX | 76022
Harrison Medical Center | 2520 Cherry Avenue |  | Bremerton | WA | 98310
Hartford Hospital | 80 Seymour Street |  | Hartford | CT | 06102-8000
Harton Regional Medical Center | 1801 N. Jackson Street |  | Tullahoma | TN | 37388
Havasu Regional Medical Center | 101 Civic Center Lane |  | Lake Havasu City | AZ | 86403
Hawaii Medical Center East, LLC | 2230 Liliha Street |  | Honolulu | HI | 96817
Hawaii Medical Center West | 91-2141 Fort Weaver Road |  | Ewa Beach | HI | 96706
Hays Medical Center | 2220 Canterbury Road |  | Hays | KS | 67601
Hazard ARH Regional Medical Center | 100 Medical Center Drive |  | Hazard | KY | 41701
Health Care Authority for Baptist Health | 2105 East South Boulevard |  | Montgomery | AL | 36116
Heart and Lung Clinic | 900 East Broadway Box 5510 |  | Bismarck | ND | 58502
Heart Center of Indiana | 8333 Nabb Road Suite 330 | Suite 330 | Indianapolis | IN | 46290
Heart Hospital of Austin | 3801 N. Lamar Boulevard |  | Austin | TX | 78756
Heart Hospital of Lafayette | 1105 Kaliste Saloom Road |  | Lafayette | LA | 70508
Heart Hospital of New Mexico | 504 Elm Street NE. |  | Albuqerque | NM | 87102
Heart of Florida Regional Medical Center | 40100 Highway 27 |  | Davenport | FL | 33837
Heart of Lancaster Regional Medical Center | 250 College Avenue |  | Lancaster | PA | 17604
Heartland Regional Medical Center | 3333 W. Deyoung Street |  | Marion | IL | 62959
Heartland Regional Medical Center | The Heart Center—Cardiac Cath Lab | 5325 Faraon Street | Saint Joseph | MO | 64506-3373
Helen Ellis Memorial | 1395 South Pinella Avenue |  | Tarpon Springs | FL | 34689
Hellen Keller Hospital | 1300 South Montgomery Avenue |  | Sheffield | AL | 35660
Hemet Valley Medical Center | 1117 E. Devonshire Avenue |  | Hemet | CA | 92543
Hendersonville Medical Center | 355 New Shackle Island Road |  | Hendersonville | TN | 37075
Hendrick Medical Center | 1900 Pine Street |  | Abilene | TX | 79601
Hennepin County Medical Center | 701 Park Avenue |  | Minneapolis | MN | 55415-1829
Henrico Doctors Hospital | 1602 Skipwith Road | Cardiac Cath Lab | Richmond | VA | 23229
Henry Ford Hospital | 2799 W. Grand Boulevard | K-14 | Detroit | MI | 48202
Henry Ford Macomb | 15855 Nineteen Mile Road |  | Clinton Township | MI | 48038
Henry Ford Macomb-Warren | 13355 East Ten Mile Road |  | Warren | MI | 48089
Henry Mayo Newhall Memorial Hospital | 23845 McBean Parkway |  | Valencia | CA | 91350
Henry Medical Center, Inc. | 1133 Eagles Landing Parkway |  | Stockbridge | GA | 30281
Hialeah Hospital | 651 East 25th Street |  | Hialeah | FL | 33013
High Point Regional Hospital | 601 N. Elm Street |  | High Point | NC | 27261
Highland Park Hospital | 718 Glenview Avenue |  | Highland Park | IL | 60035
Hillcrest Baptist Medical Center | 3000 Herring Avenue |  | Waco | TX | 76708
Hillcrest Hospital | 6780 Mayfield Road |  | Mayfield Heights | OH | 44124
Hillcrest Medical Center | 1120 S. Utica Avenue | 3 West | Tulsa | OK | 74104
Hilton Head Regional Medical Center | 25 Hospital Center Boulevard |  | Hilton Head | SC | 29925
HMA-Physician Management Region 25 Disb. Acct. (Physician's Regional) | 6101 Pine Ridge Road |  | Naples | FL | 34119
Hoag Memorial Hospital Presbyterian | One Hoag Drive |  | Newport Beach | CA | 92658
Holland Community Hospital | 602 Michigan Avenue |  | Holland | MI | 49423
Hollywood Medical Center | 3600 Washington Street |  | Hollywood | FL | 33021
Holmes Regional Medical Center | 1355 South Hickory Street Suite 203 |  | Melbourne | FL | 32901
Holy Cross Hospital | 4725 N. Federal Highway |  | FT. Lauderdale | FL | 33308
Holy Cross Hospital | 2701 W. 68th Street |  | Chicago | IL | 60629
Holy Cross Hospital Medical Library | 1500 Forest Glen Road |  | Silver Spring | MD | 20910
Holy Spirit Health System | 503 N. 21st Street | Heart Center Admin. | Camp Hill | PA | 17011-2204
Holzer Cardiovascular Institute | 90 Jackson Pike |  | Gallipolis | OH | 45631
Hopkins County Memorial Hospital | 115 Airport Road |  | Sulphur Springs | TX | 75482
Hospital Auxilio Mutuo de Puerto Rico | P.O. Box 191277 |  | San Juan | PR | 00919-1227
Hospital of St. Raphael | Cardiac Cath Lab, 1450 Chapel Street |  | New Haven | CT | 06511
Hospital of the University of Pennsylvania | 9011 E. Gates 3400 Spruce Street |  | Philadelphia | PA | 19104
Houston Northwest Medical Center Accounts Payable | 710 FM 1960 Road West |  | Houston | TX | 77090
Howard County General Hospital | 5755 Cedar Lane |  | Columbia | MD | 21044
Howard Regional Health System | 3500 South LaFountain Street |  | Kokomo | IN | 46904-9011
Howard University Hospital | 2041 Georgia Avenue, NW |  | Washington | DC | 20060
Huguley Memorial Medical Center | 11801 South Freeway |  | Ft. Worth | TX | 76115
Huntington Hospital | 100 W. California Boulevard |  | Pasadena | CA | 91109
Huntington Hospital | 270 Park Avenue |  | Huntington | NY | 11743
Huntsville Hospital | 101 Sivley Road |  | Huntsville | AL | 35801
Hutchinson Hospital | 1701 E. 23rd Avenue |  | Hutchinson | KS | 67502
Iberia Medical Center | 2315 East Main Street |  | New Iberia | LA | 70560
Immanuel-St. Joseph's Hospital | 1025 Marsh Street |  | Mankato | MN | 56001
Indian River Medical Center | 1000 36th Street |  | Vero Beach | FL | 32960
Indiana Heart Institute | 8333 Naab Rd | Suite 330 | Indianapolis | IN | 46260
Indiana Regional Medical Center Cardiology Department | 835 Hospital Road |  | Indiana | PA | 15701
Ingalls Hospital | One Ingalls Drive |  | Harvey | IL | 60426
Ingham Regional Medical Center | 401 W. Greenlawn Avenue |  | Lansing | MI | 48910
Innovis Health | 3000 32nd Avenue SW. |  | Fargo | ND | 58104
Inova Alexandria Hospital | 3289 Woodburn Road |  | Falls Church | VA | 22042
Inova Fairfax Hospital/Inova Heart & Vascular Institute | 3300 Gallows Road |  | Falls Church | VA | 22042
Inova Loudoun Hospital | 3289 Woodburn Road | Suite 235 | Falls Church | VA | 22042
Integris Baptist Medical Center | 3433 NW. 56th Street, Suite 805 |  | Oklahoma City | OK | 73112
Integris Health | 600 S. Monroe Street |  | Enid | OK | 73701
Integris Southwest Medical Center | 4401 South Western Avenue |  | Oklahoma City | OK | 73109
Interfaith Medical Center | 1545 Atlantic Avenue |  | Brooklyn | NY | 11213
Intermountain Medical Center | P.O. Box 577000 |  | Murray | UT | 84157-7000
Iowa Lutheran Hospital | 700 E. University Avenue |  | Des Moines | IA | 50316
Iowa Methodist Medical Center | 700 E. University Avenue |  | Des Moines | IA | 50316
Iredell Memorial Hospital | 557 Brookdale Drive |  | Statesville | NC | 28687
Iroquois Memorial Hospital | 200 Fairman Avenue |  | Watseka | IL | 60970
Jackson Hospital and Clinic | 1725 Pine Street |  | Montgomery | AL | 36106
Jackson Madison General Hospital | 708 West Forrest Avenue |  | Jackson | TN | 38301
Jackson Memorial Hospital | 1611 NW. 12th Avenue |  | Miami | FL | 33136
Jacobi Medical Center | 1400 Pelham Parkway |  | Bronx | NY | 10461-1101
Jamaica Hospital Medical Center | 8900 VanWyck Expressway |  | Jamaica | NY | 11418
Jane Phillips Memorial Medical Center | 3500 Frank Phillips Boulevard |  | Bartlesville | OK | 74006
Jeanes Hospital | 7600 Central Avenue |  | Philadelphia | PA | 19111
Jeff Anderson Regional Medical Center | 2124 14th Street |  | Meridian | MS | 39301
Jefferson Memorial Hospital | P.O. Box 350 |  | Crystal City | MO | 63019
Jefferson Regional Medical Center | 1600 West 40th Avenue |  | Pine Bluff | AR | 71603
Jefferson Regional Medical Center | P.O. Box 18119 565 Coal Valley Road |  | Pittsburgh | PA | 15236-0119
Jennie Edmundson Memorial Hospital | 933 E. Pierce Street |  | Council Bluffs | IA | 51503
Jersey City Medical Center | 355 Grand Street |  | Neptune | NJ | 07307
Jersey Shore University Medical Center | 1945 State Route 33 |  | Neptune | NJ | 07753
Jewish Hospital | 4777 East Galbraith Road |  | Cincinnati | OH | 45236
Jewish Hospital | 200 Abraham Flexner Way |  | Louisville | KY | 40202
JFK Medical Center | 5631 Glencrest Boulevard |  | Tampa | FL | 33625-1008
John C. Lincoln Hospital—Deer Valley | 19829 N. 27th Ave. |  | Phoenix | AZ | 85027-4002
John C. Lincoln Hospital—North Mountain | 250 E. Dunlap Avenue |  | Phoenix | AZ | 85020-2871
John F. Kennedy Memorial Hospital | 47-111 Monroe Street |  | Indio | CA | 92201
John Muir Medical Center—Concord Campus | 1601 Ygnacio Valley Road |  | Walnut Creek | CA | 94550
John Muir—Walnut Creek | 1601 Ygnacio Valley Road |  | Walnut Creek | CA | 94550
Johns Hopkins Bayview Medical Center | 4940 Eastern Avenue |  | Baltimore | MD | 21224
Johns Hopkins Hospital | 600 N. Wolfe Street |  | Baltimore | MD | 21287
Johnson City Medical Center Hosp | 400 N. State of Franklin |  | Johnson City | TN | 37604
Jordan Valley Hospital | 3580 W. 9000 S |  | West Jordan | UT | 84088
Kadlec Medical Center | 888 Swift Boulevard |  | Richland | WA | 99352
Kaiser Foundation Hospital | 1526 Edgemont Street |  | Los Angeles | CA | 90027
Kaiser Foundation Hospital | 6600 Bruceville Road |  | Sacramento | CA | 95823
Kaiser Permanente—Moanalua Medical Center | 3288 Moanalua Road |  | Honolulu | HI | 96819
Kaiser Permanente—Panorama City | 13652 Cantara Street |  | Panoram City | CA | 91402
Kaiser Permanente Medical Center | 2350 Geary Boulevard | 1st Floor—CV Surgery | San Francisco | CA | 94115
Kaiser Permanente Medical Center—Santa Clara | 710 Lawrence Expressway | Department 212 | Santa Clara | CA | 95051
Kaiser Permanente Medical Center Health Sciences Library | 9400 E. Rosecrans Avenue |  | Bellflower | CA | 90706
Kaiser Sunnyside Medical Center | 10180 SE. Sunnyside Road |  | Clackamas | OR | 97015
Kansas Heart Hospital | 3601 N. Webb Road |  | Wichita | KS | 67226
Kansas Heart Hospital | 3601 N. Webb Road |  | Wichita | KS | 67226
Kansas Medical Center | 1124 West 21st Street |  | Andover | KS | 67002
Kansas University Hospital Authority | 3901 Rainbow Boulevard |  | Kansas City | KS | 66160
Kapi'olani Medical Center Pali Momi | 98-1079 Moanalua Road |  | Aiea | HI | 96701
Katherine Shaw Bethea Hospital | 403 E. First Street |  | Dixon | IL | 61021
Kaweah Delta Hospital District | Kaweah Delta Hospital District | 400 W. Mineral King Avenue | Visalia | CA | 93291
Kendall Regional Medical Center | 5631 Glencrest Boulevard |  | Tampa | FL | 33625-1008
Kershaw County Medical Center | 1315 Roberts Street |  | Camden | SC | 29020
Kettering Medical Center | 3535 Southern Boulevard |  | Kettering | OH | 45429
Kingman Regional Medical Center | 3269 Stockton Hill Road |  | Kingman | AZ | 86401
Kings Daughters Hospital | 1901 Southwest H.K. Dodgen Loop |  | Temple | TX | 76502
Kings Daughters Medical Center | 2201 Lexington Avenue |  | Ashland | KY | 41101
Kingwood Medical Center | 22999 Highway 59 N. |  | Kingwood | TX | 77339
Kishwaukee Community Hospital | One Kish Hospital Drive |  | Dekalb | IL | 60115
Knox Community Hospital | 1330 Coshocton Road |  | Mount Vernon | OH | 43050
Kootenai Medical Center | 2003 Lincoln Way |  | Coeur d' Alene | ID | 83814
Kuakini Medical Center | 347 North Kuakini Street |  | Honolulu | HI | 96817
Lafayette General Medical Center | 1214 Coolidge Avenue |  | Lafayette | LA | 70505
LaGrange Memorial Hospital | 120 North Oak Street |  | Hinsdale | IL | 60521
Lahey Clinic | 41 Mall Road |  | Burlington | MA | 01805
Lake Charles Memorial Hospital | 1701 Oak Park Boulevard |  | Lake Charles | LA | 70601
Lake City Medical Center | 340 NW. Commerce Boulevard |  | Lake City | FL | 32055
Lake Hospital System | 36000 Euclid Avenue |  | Willoughby | OH | 44094
Lake Pointe Medical Center | 6800 Scenic Drive |  | Rowlett | TX | 75088
Lake Regional Health System | 54 Hospital Drive |  | Osage Beach | MO | 65065
Lakeland Hospital | 1234 Napier Avenue |  | Saint Joseph | MI | 49085-2112
Lakeland Regional Medical Center | 1324 Lakeland Hills Boulevard |  | Lakeland | FL | 33804
Lakeside Hospital | 6901 N. 72nd Street Suite 3300 |  | Omaha | NE | 68122
Lakeview Regional Medical Center | 95 East Fairway Drive |  | Covington | LA | 70433-7500
Lakeway Regional Hospital | 726 McFarland Street |  | Morristown | TN | 37814
Lakewood Hospital | 14519 Detroit Avenue |  | Lakewood | OH | 44107
Lakewood Ranch Medical Center | 8330 Lakewood Ranch Boulevard |  | Bradenton | FL | 34202
Lakewood Regional Medical Center | 3700 East South Street |  | Lakewood | CA | 90712
Lancaster Community Hosp | 43830 North 10th Sreet West |  | Lancaster | CA | 93534
Lancaster General Hospital | 555 N. Duke Street P.O. Box 3555 |  | Lancaster | PA | 17604-3555
Lancaster Regional Medical Center | 250 College Avenue |  | Lancaster | PA | 17604
Landmark Medical Center | 115 Cass Avenue |  | Woonsocket | RI | 02895
Lane Regional Medical Center | 6300 Main Street |  | Zachary | LA | 70791
Lankenau Hospital | Suite 557 Lankenau MOB East | 100 Lancaster Avenue | Wynnewood | PA | 19096
La Porte Hospital | 1007 Lincolnway |  | La Porte | IN | 46352
Laredo Medical Center | 1720 Bustamante Street |  | Laredo | TX | 78044
Largo Medical Center | 201 14th Street SW. |  | Largo | FL | 33770
Las Colinas Medical Center | 6800 North MacArthur Boulevard |  | Irving | TX | 75039
Las Palmas Medical Center | 1801 N. Oregon Street |  | El Paso | TX | 79902
Latrobe Hospital | One Mellon Way |  | Latrobe | PA | 15601
Lawnwood Medical Center | 1700 S. 23rd Street |  | Fort Pierce | FL | 34950
Lawrence & Memorial Hospital | 365 Montauk Avenue |  | New London | CT | 06375
Lawrence Hospital | 55 Palmer Avenue |  | Broxville | NY | 10708-3491
Lee Memorial Health System-Cape Coral Hospital | 276 Cleveland Avenue |  | Fort Myers | FL | 33901
Lee Memorial Health System-Health Park Med Center | 276 Cleveland Avenue |  | Fort Myers | FL | 33901
Lee's Summit Medical Center | 2100 SE. Blue Parkway |  | Lee's Summit | MO | 64063
Leesburg Regional Medical Center | 600 East Dixie Avenue |  | Leesburg | FL | 34748
Legacy Emanuel Hospital | 1919 NW. Lovejoy Street |  | Portland | OR | 97209
Legacy Good Samaritan Hospital | 1919 NW. Lovejoy Street |  | Portland | OR | 97209
Legacy Meridian Park Hospital | 1919 NW. Lovejoy Street |  | Portland | OR | 97209
Legacy Salmon Creek Hospital | 1919 NW. Lovejoy Street |  | Portland | OR | 97209
Lehigh Regional Medical Center | 1500 Lee Boulevard |  | Lehigh Acres | FL | 33963
Lehigh Valley Hospital | 1200 S. Cedar Crest Boulevard | Jaindl Pavilion 1st Floor | Allentown | PA | 18103
Lehigh Valley Hospital—Muhlenberg | 2545 Schoenersville Road | Invasive Cardiology 3rd Floor | Bethlehem | PA | 18017-7330
Lenox Hill Heart and Vascular Institute of New York | 100 East 77th Street |  | New York | NY | 10021
Lewis Gale Medical Center | 1900 Electric Road |  | Salem | VA | 24153
Lexington Medical Center | 2720 Sunset Boulevard |  | West Columbia | SC | 29169
Liberty Hospital | 2525 Glenn Hendren Drive |  | Liberty | MO | 64068
Licking Memorial Hospital | 1320 W. Main Street |  | Newark | OH | 43055
Lima Memorial Hospital | 1001 Bellefontaine Avenue |  | Lima | OH | 45804
Little Company of Mary Hospital | 4101 Torrance Boulevard |  | Torrance | CA | 90503
Little Company of Mary Hospital | 2800 W. 95th Street |  | Evergreen Park | IL | 60805
Logan General Hospital, LLC | 20 Hospital Drive |  | Logan | WV | 25601
Loma Linda University Medical Center | 11234 Anderson Street Room 2431 |  | Loma Linda | CA | 92354
Long Beach Memorial Medical Center | 2801 Atlantic Avenue |  | Long Beach | CA | 90806
Long Island College Hospital | 339 Hicks Street |  | Brooklyn | NY | 11201
Long Island Jewish Medical Center | 270-05 76th Avenue |  | New Hyde Park | NY | 11040
Longmont United Hospital | 1950 Moutain View Avenue |  | Longmont | CO | 80501
Longview Regional Medical Center | P.O. Box 14000 |  | Longview | TX | 75607
Los Alamitos Medical Center | 3751 Katella Avenue |  | Los Alamitos | CA | 90720
Los Robles Hospital & Medical Center | 215 W. Janss Road |  | Thousand Oaks | CA | 91360-1899
Louisiana Medical Center and Heart Hospital | 64030 Louisiana Highway 434 |  | Lacombe | LA | 70445
Lourdes Hospital | 1530 Lone Oak Road |  | Paducah | KY | 42003
Lowell General Hospital | 295 Varnum Avenue |  | Lowell | MA | 01854
Lower Bucks Hospital | 501 Bath Road |  | Bristol | PA | 19007
Lower Keys Medical Center | 5900 College Road |  | Key West | FL | 33040
Loyola University Medical Center | 2160 S. First Avenue | Rm. 1318 Bldg. 104 Att: Mike | Maywood | IL | 60153
Lubbock Heart Hospital | 4810 N. Loop 289 |  | Lubbock | LA | 79416
Lutheran Hospital of Indiana | 7950 W. Jefferson Boulevard |  | Fort Wayne | IN | 46804
Lutheran Medical Center | 150 55th Street |  | Brooklyn | NY | 11220
Lynchburg General Hospital | 1901 Tate Springs Road | Cardiac Cath Lab | Lynchburg | VA | 24501-1167
MacNeal Hospital | 3249 S. Oak Park Avenue |  | Berwyn | IL | 60402
Magnolia Regional Health Center | 611 Alcorn Drive |  | Corinth | MS | 38834
Maimonides Medical Center Division of Cardiology | Division of Cardiology | 4802 10th Avenue | Brooklyn | NY | 11219
Maine Medical Center | 22 Bramhall Street |  | Portland | ME | 04102
Mainland Medical Center | 6801 Emmett F. Lowry Expressway |  | Texas City | TX | 77591
Manatee Memorial Hospital | 206 Second Street East |  | Bradenton | FL | 34208
Marian Medical Center | 1400 East Church Street |  | Santa Maria | CA | 93454
Maricopa Integrated Health System | 2601 E. Roosevelt Street |  | Phoenix | AZ | 85008
Marin General Hospital | 250 Bon Air Road |  | Greenbrae | CA | 94904
Marion General Hospital | 441 N. Wabash Avenue |  | Marion | IN | 46952
Marion General Hospital | 1000 McKinley Park Drive |  | Marion | OH | 43302-6397
Marquette General Hospital System | 580 W. College Avenue |  | Marquette | MI | 49855
Marshall University School of Medicine | 420 West Magnetic Street |  | Huntington | WV | 25701
Martha Jefferson Hospital | 459 Locust Avenue |  | Charlottesville | VA | 22902
Martin Memorial Medical Center | P.O. Box 9010 |  | Stuart | FL | 34995
Mary Black Hospital | 1700 Skylyn Drive |  | Spatanburg | SC | 29307
Mary Greeley Medical Center | 1111 Duff Avenue |  | Ames | IA | 50010
Mary Hitchcock Memorial Hospital | One Medical Center Drive |  | Lebanon | NH | 03756
Mary Immaculate Hospital | 2 Bernadine Drive |  | Newport News | VA | 23601
Mary Rutan Hospital | 205 Palmer Avenue |  | Bellefontaine | OH | 43311
Mary Washington Hospital | 1001 Sam Perry Boulevard |  | Fredericksburg | VA | 22401
Massachusetts General Hospital | 55 Fruit Street |  | Boston | MA | 02114
Mat-Su Regional Medical Center | 2500 S. Woodworth Loop |  | Palmer | AR | 99645
Maui Memorial Medical Center | 221 Mahalani Street |  | Wailuku | HI | 96793
Maury Regional Hospital | 1224 Trotwood Avenue |  | Columbia | TN | 38401
Mayo Clinic | 4500 San Pablo Road |  | Jacksonville | FL | 32216
Mayo Clinic Arizona | 5777 E. Mayo Boulevard |  | Phoenix | AZ | 85054
Mayo Clinic— St. Mary's Hospital | 1216 2nd Street SW. |  | Rochester | MN | 55902
McAlester Regional Health Center | 1 Clark Bass Boulevard |  | McAlester | OK | 74501
McAllen Medical Center | 301 W. Expressway 83 |  | McAllen | TX | 78503
MCG Health Inc. | 1120 15th Street BBR-8521 |  | Augusta | GA | 30912
McKay-Dee Hospital Center | 4401 Harrison Boulevard |  | Ogden | UT | 84405
McKee Medical Center | 2000 Boise Avenue |  | Loveland | CO | 80538
McLeod Regional Medical Center | 555 E. Chaves Street |  | Florence | SC | 29501
Mease Countryside Hospital | 300 Pinellas Street | MS 73 | Clearwater | FL | 33756
Mease Dunedin Hospital | 207 Jeffords Street MS 142 |  | Clearwater | FL | 33756
Med Central Mansfield | 335 Glessner Avenue |  | Mansfield | OH | 44903
Medcenter One | 300 N. 7th Street |  | Bismarck | ND | 58501
Medical Center at Bowling Green | 250 Park Street |  | Bowling Green | KY | 42101
Medical Center Hospital | 500 W. 4th Street |  | Odessa | TX | 79760
Medical Center of Arlington | 3301 Matlock Road |  | Arlington | TX | 76015
Medical Center of Aurora | 1501 S. Potomac Street |  | Aurora | CO | 80012
Medical Centerof Central Georgia | 777 Hemlock Street HB 53 |  | Macon | GA | 31208
Medical Center of Lewisville | 500 West Main Street |  | Lewisville | TX | 75057
Medical Center of Louisiana at New Orleans | 1541 Tulane Avenue Room #203 Butterworth Building |  | New Orleans | LA | 70112
Medical Center of McKinney | 4500 Medical Center Drive |  | McKinney | TX | 75069
Medical Center of Plano | 3901 W. 15th Street |  | Plano | TX | 75075-7738
Medical Center of South Arkansas, LLC | 700 West Grove Street |  | El Dorado | AR | 71730
Medical Center of Southeastern Oklahoma | 1800 University Boulevard |  | Durant | OK | 74701
Medical Center of the Rockies | 2500 Rocky Mountain Avenue |  | Loveland | CO | 80538
Medical City Dallas Hospital | 7777 Forest Lane |  | Dallas | TX | 75230
Medical University of South Carolina | 25 Countenay Drive |  | Charleston | SC | 29425-2110
Memorial Health System | 1400 E. Boulder Street |  | Colorado Springs | CO | 80909-5599
Memorial Health University Medical Center | Cardiac Cath Lab Memorial Health University Medical Center | 4700 Waters Avenue | Savannah | GA | 31404
Memorial Hermann Hospital | 6411 Fannin Street |  | Houston | TX | 77030
Memorial Hermann HVI South West | 7787 Southwest Freeway |  | Houston | TX | 77074
Memorial Hermann Memorial City Hospital | 921 Gessner Road |  | Houston | TX | 77024
Memorial Hermann Northeast | 18951 Memorial North |  | Humble | TX | 77338
Memorial Hermann Northwest Hospital | 1635 North Loop West |  | Houston | TX | 77008
Memorial Hermann The Woodlands Hospital | 9250 Pinecroft Drive |  | Spring | TX | 77380
Memorial Hospital | 800 West 9th Street |  | Jasper | IN | 47546
Memorial Hospital | 2525 Desales Avenue |  | Chattanooga | TN | 37404-1102
Memorial Hospital at Gulfport | 4500 13th Street | P.O. Box 1810 | Gulfport | MS | 39502
Memorial Hospital Carbondale | 405 W. Jackson Street |  | Carbondale | IL | 65902
Memorial Hospital Miramar | 1901 SW. 172 Avenue |  | Miramar | FL | 33029
Memorial Hospital of Martinsville | 320 Hospital Drive |  | Martinsville | VA | 24112
Memorial Hospital of Rhode Island Brown University | 111 Brewster Street |  | Pawtucket | RI | 02860
Memorial Hospital of South Bend | 615 N. Michigan Street |  | South Bend | IN | 46601-1033
Memorial Hospital Pembroke/South Broward Hospital | 7800 Sheridan Street |  | Pembroke Pines | FL | 33024
Memorial Hospital West/South Broward Hospital District | 703 North Flamingo Road |  | Pembroke Pines | FL | 33028
Memorial Hospital—Jacksonville | 3625 University Boulevard South |  | Jacksonville | FL | 32215
Memorial Hospitals Association | 1700 Coffee Road |  | Modesto | CA | 95355
Memorial Medical Center | 701 N. First Street |  | Springfield | IL | 62781
Memorial Medical Center | 2450 S. Telshor Boulevard |  | Las Cruces | NM | 88011
Memorial Medical Center | 1086 Franklin Street |  | Johnstown | PA | 15905-4398
Memorial Regional Hospital/South Broward Hospital | 3501 Johnson Street |  | Hollywood | FL | 33021
Memphis Hospital (Germantown Campus) | 1265 Union Avenue |  | Memphis | TN | 38104-3499
Memphis Hospital (North Campus) | 1265 Union Avenue |  | Memphis | TN | 38104-3499
Menifee Valley Medical Center | 28400 McCell Boulevard |  | Sun City | CA | 92585
Menorah Medical Center | 5721 West 119th Street |  | Overland Park | KS | 66209
Mercy Fitzgerald Hospital | 1500 Lansdowne Avenue |  | Darby | PA | 19023
Mercy General Health Partners | 1500 E. Sherman Boulevard |  | Muskegon | MI | 49444
Mercy General Hospital—Sacramento | 3939 J Street | Suite 215 | Sacramento | CA | 95819
Mercy Gilbert Medical Center | 3555 South Val Vista Drive | Attn.: Cardiac Cath Lab | Gilbert | AZ | 85296
Mercy Health System of Northwestern Arkansas | 2710 Rife Medical Lane |  | Rogers | AR | 72756
Mercy Hospital | 144 State Street |  | Portland | ME | 04101
Mercy Hospital | 2925 Chicago Avenue |  | Minneapolis | MN | 55407
Mercy Hospital—Scranton | 746 Jefferson Avenue |  | Scranton | PA | 18501
Mercy Hospital & Medical Center | 2525 South Michigan Avenue |  | Chicago | IL | 60616-2477
Mercy Hospital Anderson | 7500 State Road |  | Cincinnati | OH | 45255
Mercy Hospital Attn.: Accounts Payable | 3663 South Miami Avenue |  | Miami | FL | 33133
Mercy Hospital of Buffalo | 515 Abbott Road | Marion Building Suite 306 | Buffalo | NY | 14220
Mercy Hospital Attn: A/P | 271 Carew Street P.O. Box 9012 |  | Springfield | MA | 01102
Mercy Iowa City | 500 East Market Street |  | Iowa City | IA | 52245
Mercy Medical Center | 2700 Steward Parkway |  | Roseburg | OR | 97470
Mercy Medical Center | 801 5th Street |  | Sioux City | IA | 51101
Mercy Medical Center | 1111 6th Avenue |  | Des Moines | IA | 51101
Mercy Medical Center | 1320 Mercy Drive | Cardiology Management and Support 3C | Canton | OH | 44708
Mercy Medical Center | 301 St. Paul Place |  | Baltimore | MD | 21202
Mercy Medical Center | 2900 W. 9th Avenue | Suite 107 | Oshkosh | WI | 54904
Mercy Medical Center | 701 10th Street SE. |  | Cedar Rapids | IA | 52403
Mercy Medical Center | 1000 North Village Ave |  | Rockville Centre | NY | 11571
Mercy Medical Center Merced | 301 E. 13th Street |  | Merced | CA | 95340
Mercy Medical Center Redding | 2175 Rosaline Avenue | P.O. Box 496009 | Redding | CA | 96049-6009
Mercy Medical Center—North Iowa | 1000 4th Street SW. |  | Mason City | IA | 50401
Mercy Memorial Health Center Sisters of Mercy | 1011 14th Avenue NW. |  | Ardmore | OK | 73401
Mercy Regional Health Center | 1823 College Avenue |  | Manhattah | KS | 67218
Mercy Regional Medical Center | 1010 Three Springs Boulevard |  | Durango | CO | 81301
Mercy San Juan Hospital | 3941 J Street | c/o Mercy General Hospital Administration | Sacramento | CA | 95819
MeritCare Hospital | 801 Broadway North |  | Fargo | ND | 58122
Meriter Hospital | 202 South Park Street | 10 Tower—Heart Center | Madison | WI | 53715
Methodist Charlton Medical Center (Methodist Health System) | MHS Sam & Anne Kesner Heart Center | 1441 N. Beckley Avenue | Dallas | TX | 75203
Methodist Dallas Medical Center (Methodist Health System) | MHS Sam & Anne Kesner Heart Center | 1441 N. Beckley Avenue | Dallas | TX | 75203
Methodist Hospital | 7700 Floyd Curl Drive |  | San Antonio | TX | 78229
Methodist Hospital | 6500 Excelsior Boulevard 2nd Floor HVC |  | St. Louis Park | MN | 55426
Methodist Hospital of South CA | 300 W. Huntington Drive |  | Arcadia | CA | 91007-3402
Methodist Lebonheur Health Care University Hospital (University Campus) | 1265 Union Avenue |  | Memphis | TN | 38104-3499
Methodist Mansfield Medical Center | MHS Sam & Anne Kesner Heart Center | 1441 N. Beckley Avenue | Dallas | TX | 75203
Methodist Medical Center | 280 Fort Sanders Boulevard Building 4 Suite 218 |  | Knoxville | TN | 37922
Methodist Medical Center of Illinois | 221 NE. Glen Oak Avenue |  | Peoria | IL | 61636
Methodist Speciality and Transplant Hospital | 7700 Floyd Curl Drive |  | San Antonio | TX | 78229
Methodist Stone Oak Hospital | 1139 E. Sonterra Boulevard |  | San Antonio | TX | 78258
Methodist Sugar Land Hospital | 16655 Southwest Freeway |  | Sugar Land | TX | 77479
Methodist Willowbrook Hospital | 18220 Tomball Parkway |  | Houston | TX | 77070
Metro Health Hospital | 5900 Byron Center Road |  | Wyoming | MI | 49519
MetroHealth Medical Center | 2500 MetroHealth Drive |  | Cleveland | OH | 44109
Metroplex Hospital | 2201 S. Clear Creek Road |  | Killeen | TN | 76549
MetroSouth Medical Center | 12935 Gregory Street |  | Blue Island | IL | 60406-2470
MetroWest Medical Center | 115 Lincoln Street | Cardiac Cath Lab | Framingham | MA | 01702-6327
Miami Valley Hospital | One Wyoming Street |  | Dayton | OH | 45409
Michael Reese Hospital | 2929 S. Ellis Avenue |  | Chicago | IL | 60616
Midland Memorial Hospital | 2200 W. Illinois Avenue c/o Heart Institute |  | Midland | TX | 79701
Midlands Community Hospital | 6901 N. 72nd Street |  | Omaha | NE | 68122
MidMichigan Medical Center-Midland | 4005 Orchard Drive |  | Midland | MI | 48670
Midwest Regional Medical Center | 2825 Parklawn Drive |  | Midwest City | OK | 73110
Milford Regional Medical Center | 14 Prospect Street |  | Milford | MA | 01568
Millard Fillmore Hospital | 3 Gates Circle | Room 4-EB-13 | Buffalo | NY | 14209
Millard Filmore Suburban | 100 High Street |  | Buffalo | Ny | 14203
Mills-Peninsula Hospital | 1783 Elcamino Real |  | Burlingame | CA | 94010
Miriam Hospital | 164 Summit Avenue |  | Providence | RI | 02906
Mission Hospital Regional Medical Center | 27700 Medical Center Road |  | Mission Viejo | CA | 92691-6426
Mission Hospitals, Inc. | 509 Biltmore Avenue |  | Asheville | NC | 28801-4690
Mission Regional Medical Center | 900 S. Bryan Road |  | Mission | TX | 78572
Mississippi Baptist Medical Center | 1225 N. State Street |  | Jackson | MS | 39202-2097
Missouri Baptist Medical Center | 3015 N. Ballas Road | 3105 North Ballas Road | Saint Louis | MO | 63131-2374
Moberly Regional Medical Center | 1515 Union Avenue |  | Moberly | MO | 65270
Mobile Infirmary Medical Center | 5 Mobile Infirmary Circle |  | Mobile | AL | 36607
Monongalia Genera; Hospital | 1200 JD Anderson Drive |  | Morgantown | WV | 26505
Monroe Hospital | 4011 South Medical Park Boulevard |  | Bloomington | IN | 47403
Montefiore Medical Center | 111 East 210th Street |  | Bronx | NY | 10467-2490
Montgomery General Hospital | 18101 Prince Philip Drive |  | Olney | MD | 20832
Morris Hospital | 150 West High Street |  | Morris | IL | 60450
Morristown Memorial Hospital | 100 Madison Avenue |  | Morristown | NJ | 07962
Morton Plant Hospital | 300 Pinellas Street | MS 73 | Clearwater | FL | 33756
Morton Plant North Bay Hospital | 6600 Madison Street |  | New Port Richey | FL | 34652
Moses Cone Health System | 1200 N. Elm Street |  | Greensboro | NC | 27401
Mother Frances Hospital | 800 E. Dawson Street |  | Tyler | TX | 75701
Mount Auburn Hospital | 330 Mount Auburn Street | South 2—Administration | Cambridge | MA | 02138
Mount Carmel East | 6150 East Broad Street | Office EB 148 | Columbus | OH | 42313
Mount Carmel St. Ann's Hospital | 6150 East Broad Street | Office EB 148 | Columbus | OH | 42313
Mount Carmel West | 6150 East Broad Street | Office EB 148 | Columbus | OH | 42313
Mount Clemens Regional Medical Center | 1000 Harrington Street |  | Mount Clemens | MI | 48043-2992
Mountain View Regional Center | 4311 E. Lohman Avenue |  | Las Cruces | NM | 88011
Mountain Vista Medical Center | 1301 S. Crismon Road |  | Mesa | AZ | 85209
Mountainview Hospital | 3100 N. Tenaya Way |  | Las Vegas | NV | 89128
Munroe Regional Medical Center | 1500 SW. 1st Avenue P.O. Box 6000 |  | Ocala | FL | 34478
Munson Medical Center | 1105 Sixth Street |  | Traverse City | MI | 49684-2386
Nacogdoches Medical Center | 4920 NE. Stallings Drive |  | Nacogdoches | TX | 75965
Naples Community Hospital | 350 7th Street South |  | Naples | FL | 34102
Nashoba Valley Medical Center | 200 Groton Road |  | Ayer | MA | 01432
National Park Medical Center | 1910 Malvern Avenue |  | Hot Springs | AR | 71901
NEA Baptist Memorial Hospital | 3024 Stadium Boulevard |  | Jonesboro | AR | 72401
Nebraska Heart Hospital | 7500 South 91st Street |  | Lincoln | NE | 68526
Nebraska Methodist Hospital | 8303 Dodge Street |  | Omaha | NE | 68114
New Hanover Regional Medical Center | 2131 S. 17th Street |  | Wilmington | NC | 28402
New Milford Hospital | 21 Elm Street |  | New Milford | CT | 06776
New York Community Hospital | 2525 Kings Highway |  | Brooklyn | NY | 11229
New York Hospital Medical Center of Queens Health Education Library | 5645 Main Street | Floor 1 | Flushing | NY | 11355
New York Methodist Hospital | 506 6th Street Brooklyn |  | New York City | NY | 11215
New York Presbyterian Hospital | 6220West 168th Street | PH-2 | New York City | NY | 10032
Newark Beth Israel Medical Center | 201 Lyons Avenue at Osborne Terrace |  | Newark | NJ | 07112
Niagara Falls Memorial Medical Center | 621 Tenth Street |  | Niagara Falls | NY | 14302
Nicholas H. Noyes Memorial Hospital | 111 Clara Barton Street |  | Dansville | NY | 14437
NIX Healthcare System | 414 Navarro Street |  | San Antonio | TX | 78205
Norman Regional Health System | P.O. Box 1308 |  | Norman | OK | 73070-1308
North Austin Medical Center | 5103 Hereford Way |  | Austin | TX | 78727
North Bay Medical Center | 1200 B. Gale Wilson Boulevard |  | Fairfield | CA | 94533
North Broward Medical Center | 201 E. Sample Road |  | Pompano Beach | FL | 33064
North Carolina Baptist Hospital | Medical Center Boulevard |  | Winston-Salem | NC | 27157
North Central Baptist Hospital | 730 North Main Avenue | Suite 409 | San Antonio | TX | 78205
North Colorado Medical Center | 1801 16th Street |  | Greeley | CO | 80631
North Cypress Medical Center | 21214 Northwest Freeway |  | Cypress | TX | 77429
North Florida Regional Medical Center | 6500 Newberry Road |  | Gainesville | FL | 32605
North Hills Hospital | 4401 Booth Calloway Road |  | North Richland Hills | TX | 76180
North Kansas City Hospital | 2800 Clay Edward Drive |  | North Kansas City | MO | 64116
North Memorial Medical Center | 3300 Oakdale Avenue, N. |  | Robbinsdale | MN | 55422
North Mississippi Medical Center | 830 S. Gloster Street |  | Tupelo | MS | 38801
North Oaks Medical Center | 15790 Paul Vega MD Drive |  | Hammond | LA | 70403
North Shore Medical Center | 1100 NW. 95th Street |  | Miami | FL | 33150
North Shore Medical Center—Salem Hospital | 81 Highland Avenue | Davenport 5 | Salem | MA | 01970
North Shore University Hospital | 300 Community Drive |  | Manhasset | NY | 11030
North Suburban Medical Center | 9191 Grant Street |  | Denver | CO | 80229
North Vista Hospital | 1409 E. Lake Mead Boulevard |  | North Las vegas | NV | 89030
Northeast Alabama Regional Medical Center | 400 East 10th Street |  | Anniston | AL | 36202
Northeast Baptist Hospital | 730 N. Main Avenue | Suite 409 | San Antonio | TX | 78205
Northeast Georgia Medical Center | 743 Spring Street |  | Gainesville | GA | 30501
NorthEast Medical Center | 920 Church Street North |  | Concord | NC | 28025
Northeast Methodist Hospital | 12412 Judson Road |  | Live Oak | TX | 78233
Northern Illinois Medical Center | 4201 Medical Center Drive |  | McHenry | IL | 60050
Northern Michigan Regional Hospital | 416 Connable Avenue |  | Petoskey | MI | 49770
Northern Nevada Medical Center | 2375 E. Prater Way |  | Sparks | NV | 89434
Northlake Medical Center | 1455 Montreal Road |  | Tucker | GA | 30084
Northridge Hospital Medical Center | 18300 Roscoe Avenue |  | Northridge | CA | 91325
Northshore Regional Medical Center | 100 Medical Center Drive |  | Slidell | LA | 70461
Northside Hospital | 1000 Johnson Ferry Road |  | Atlanta | GA | 30342
Northside Hospital | 6000 49th Street, N. |  | Pinellas Park | FL | 33709
Northside Hospital—Forsyth | 1200 Northside Forsyth Drive |  | Cumming | GA | 30041
Northwest Community Hospital | 800 W. Central Road |  | Arlington Heights | IL | 60005
Northwest Hospital | 1550 North 115th Street |  | Seattle | WA | 98113
Northwest Hospital Center | 5401 Old Court Road |  | Randallstown | MD | 21133
Northwest Medical Center | 2801 N. State Road 7 |  | Margate | FL | 33063
Northwest Medical Center | Northwest Medical Center | 6200 N. La Cholla Boulevard | Tucson | AZ | 85741
Northwest Medical Center—Bentonville | 3000 Medical Center Parkway |  | Bentonville | AR | 72712
Northwest Arkansas Hospitals LLC, dba NMC | 609 West Maple Street |  | Springdale | AR | 72764
Northwest Mississippi Regional Medical Center | 1970 Hospital Drive |  | Clarksdale | MS | 38614
Northwestern Memorial Hospital | 676 N. St. Clair Street, Suite 1700 |  | Chicago | IL | 60611
Norton Audubon | P.O. Box 35070 |  | Louisville | KY | 40232
Norton Hospital | P.O. Box 35070 |  | Louisville | KY | 40232
Norwalk Hospital | 24 Stevens Street |  | Norwalk | CT | 06856
NYU Medical Center | 560 First Avenue |  | New York | NY | 10016
Oak Hill Hospital | 11375 Cortez Boulevard |  | Brooksville | FL | 34613
Obici Hospital | 2800 Godwin Boulevard |  | Suffolk | VA | 23434
Ocala Regional Mecical Center | 1431 SW. First Avenue |  | Ocala | FL | 34474
Ocean Springs Hospital | 3109 Bienville Boulevard |  | Ocean Springs | MS | 39564
Ochsner Medical Center—Baton Rouge | 17000 Medical Center Drive |  | Baton Rouge | LA | 70816
Ochsner Medical Center—West Bank | 2500 Belle Chasse Highway |  | Gretna | LA | 70056
Ochsner Medical Center—Kenner (Kenner Regional Medical Center) | 180 West Esplanade Avenue |  | Kenner | LA | 70065
Ochsner Medical Foundation | 1514 Jefferson Highway |  | New Orleans | LA | 70121
Oconee Regional Medical Center | 812 N. Cobb Street |  | Milledgeville | GA | 31061
O'Connor Hospital | 2105 Forest Avenue |  | San Jose | CA | 95128
Odessa Regional Hospital | 520 East Sixth Street |  | Odessa | TX | 79760
Ogden Regional Medical Center | 5475 South 500 East |  | Ogden | UT | 84403
Ohio Valley Medical Center | 2000 Eoff Street |  | Wheeling | WV | 26003
Oklahoma Heart Hospital | 4050 W. Memorial Road |  | Oklahoma City | OK | 73120
Oklahoma State University Medical Center | 744 W. 9th Street |  | Tulsa | OK | 74127
Olathe Medical Center | 20333 W. 151st Street |  | Olathe | KS | 66061-7211
Opelousas General Health System | 539 E. Prudhomme Street |  | Opelousas | LA | 70570
Orange Coast Memorial Medical Center | 9920 Talbert Avenue |  | Fountain Valley | CA | 92708
Orange Regional Medical Center | 60 Prospect Avenue |  | Middletown | NY | 10940
Oregon Health & Science University | 3181 SW. Sam Jackson Road |  | Portland | OR | 97239
Orlando Regional Medical Center | 1414 Kuhl Avenue |  | Orlando | FL | 32806
Osceola Regional Medical Center | 700 W. Oak Street |  | Kissimmee | FL | 34745
OSF Saint Anthony Medical Center | 5666 East State Street |  | Rockford | IL | 61108
OSF Saint Joseph Medical Center | 2200 E. Washington Street |  | Bloomington | IL | 61701
OSF Saint Francis Medical Center | 530 NE. Glen Oak Avenue |  | Peoria | IL | 61637
OU MEDICAL CENTER | 700 NE. 13th Street |  | Oklahoma City | OK | 73104
Our Lady of Lourdes Medical Center | 1600 Haddon Avenue |  | Camden | NJ | 08103
Our Lady of Lourdes Regional Medical Center | 611 Saint Landry Street P.O. Box 4027 |  | Lafayette | LA | 70506
Our Lady of The Lake Regional | 5000 Hennessy Boulevard |  | Baton Rouge | LA | 70808-4350
Our Lady of the Resurrection Medical Center | 5645 W. Addison Street |  | Chicago | IL | 60634
Overlake Hospital Medical Center | 1035 116th Avenue NE. |  | Bellevue | WA | 98004
Overland Park Regional Medical Center/ Health Midwest | 10500 Quivira Road |  | Overland Park | KS | 66215
Owensboro Medical Health System | 811 E. Parrish Avenue |  | Owensboro | KY | 42303
Ozarks Medical Center | 1100 Kentucky Avenue | P.O. Box 1100 | West Plains | MO | 65775
P and S Surgical Hospital | 312 Grammont Street |  | Monroe | LA | 71201
Palm Beach Gardens Medical Center | 3360 Burns Road |  | Palm Beach Gardens | FL | 33410
Palmetto General Hospital | 2001 West 68th Street |  | Hialeah | FL | 33016
Palmetto Health Heart Hospital | 6 Richland Medical Park Drive | Suite 4525 | Columbia | SC | 29203
Palomar Medical Center | 555 East Valley Parkway |  | Escondido | CA | 92025
Palos Community Hospital | 12251 S. 80th Avenue | Cardiovascular Services | Palos Heights | IL | 60463-0930
Paoli Hospital | 557 Lankenau MOB East | 100 Lancaster Avenue | Wynnewood | PA | 19096
Paradise Valley Hospital | 3929 E. Bell Road |  | Phoenix | AZ | 85032
Paradise Valley Hospital | 2400 E. Fourth Street |  | National City | CA | 91950
Paris Regional Medical Center | 865 DeShong Drive |  | Paris | TX | 75462
Park Plaza Hospital | 1313 Hermann Drive |  | Houston | TX | 77004
Parkland Health and Hospital Systems | 5201Harry Hines Boulevard |  | Dallas | TX | 75235
Parkridge Medical Center | 2333 McCallie Avenue |  | Chattanooga | TN | 37404
Parkview Hospital | 2200 Randallia Drive |  | Fort Wayne | IN | 46805
Parkview Medical Center | 400 W. 16th Street |  | Pueblo | CO | 81003
Parkway Regional Medical Center | 160 NW. 170th Street |  | North Miami | FL | 33169
Parkwest Medical Center | 9352 Parkwest Boulevard |  | Knoxville | TN | 37923
Parma Community General Hospital | 7007 Powers Boulevard |  | Parma | OH | 44129
Parrish Medical Center | 951 N. Washington Avenue |  | Titusville | FL | 32796
Pasco Regional Medical Center | 13000 100 Fort King Road |  | Dade City | FL | 33525
PBI Regional Medical Center | 350 Boulevard |  | Passaic | NJ | 07055
Peace River Regional Medical | 2500 Harbor Boulevard |  | Port Charlotte | FL | 33952
Peninsula Regional Medical Center | 100 East Carroll Street |  | Salisbury | MD | 21801
Penn Presbyterian Medical Center | 39th & Market Streets |  | Philadelphia | PA | 19104
Penn State Hershey Medical Center | P.O. Box 850 H139 |  | Hershey | PA | 17033
Pennsylvania Hospital | 800 Spruce Street |  | Philadelphia | PA | 19107-6192
Penrose—St. Francis Health Services | 2222 North Nevada, #3000 |  | Colorado Springs | CO | 80907
Phelps County Regional Medical Center | 1000 W. 10th Street |  | Rolla | MO | 65401
Phoebe Putney Memorial Hospital | 417 Third Avenue |  | Albany | GA | 31701
Phoenix Baptist Hospital | 2000 W. Bethany Home Road |  | Phoenix | AZ | 85015
Phoenixville Hospital | 140 Nutt Road |  | Phoenixville | PA | 19460-3906
Piedmont Hospital | 95 Collier Road Suite 2075 |  | Atlanta | GA | 30309
Piedmont Medical Center | 222 S. Herlong Avenue |  | Rock Hill | SC | 29732
Pikesville Medical Center | 911 Bypass Road |  | Pikesville | KY | 41501
Pinnicle Health Invasive Cardiology | 111 South Front Street |  | Harrisburg | PA | 17101-2099
Pioneer Valley Hospital | 3590 West 9000 South, Suite 315 |  | West Jordan | UT | 84088
Pitt County Memorial Hospital | 2100 Statonsburg Road | PCMH Heart Center | Greenville | NC | 27835
Plantation General Hospital | 401 NW. 42nd Avenue |  | Plantation | FL | 33317
Plaza Medical Center of Fort Worth | 900 Eighth Avenue |  | Fort Worth | TX | 76104
Pocono Medical Center | 206 East Brown Street |  | East Stroudsburg | PA | 18301
Pomona Valley Hospital Med Center | 1798 N. Garey Avenue |  | Pomona | CA | 91768
Pontiac Osteopathic Hospital | 50 N. Perry Street |  | Pontiac | MI | 48342
Poplar Bluff Regional Medical Center | 2620 N. Westwood Boulevard |  | Poplar Bluff | MO | 63901
Port Huron Hospital | 1221 Pine Grove Avenue |  | Port Huron | MI | 48060
Porter Adventist Hospital | 2525 S. Downing Street |  | Denver | CO | 80210-5817
Porter Valparaiso Hospital Campus | 814 Laporte Avenue |  | Valparaiso | IN | 46383
Portneuf Medical Center | 651 Memorial Drive |  | Pocatello | ID | 83201
Portsmouth Regional Hospital | 333 Borthwick Avenue |  | Portsmouth | NH | 03801
Prairie Lakes Healthcare | 401 9th Avenue |  | Watertown | SD | 57201
Presbyterian Healthcare Services | P.O. Box 26666 |  | Albuquerque | NM | 87125
Presbyterian Hospital | 200 Hawthorne Lane |  | Charlotte | NC | 28233
Presbyterian Hospital—Denton | 3000 I-35 N. |  | Denton | TX | 76201
Presbyterian Hospital—Dallas | Presbyterian Hospital | 8200 Walnut Hill Lane | Dallas | TX | 75231
Presbyterian Hospital—Plano | 6200 West Parker Road |  | Plano | TX | 75093-7914
Presbyterian Intercommunity Hospital | 12401 Washington Boulevard |  | Whittier | CA | 90602
Presbyterian/ St.Luke's Medical Center | 1719 E. 19th Avenue |  | Denver | CO | 80218-1235
Prince George's Hospital Center | 3001 Hospital Drive |  | Cheverly | MD | 20785
Princeton Baptist Medical Center | Princeton BMC, Nursing Administration 701 Princeton Avenue, SW |  | Birmingham | AL | 35211-1399
Proctor Hospital | 5409 N. Knoxville Avenue |  | Peoria | IL | 61614
Protestant Memorial Medical Center | 4500 Memorial Drive |  | Belleville | IL | 62226
Provena Covenant Medical Center | 1400 West Park Street |  | Urbana | IL | 61801-9901
Provena Mercy Medical Center | 1325 North Highland Avenue |  | Aurora | IL | 60506
Provena Saint Joseph Medical Center | 333 North Madison Street |  | Joliet | IL | 60435-6595
Provena Saint Marys Hospital | 500 West Court Street |  | Kankakee | IL | 60901
Provena St. Joseph Hospital | 77 N. Airlite Street |  | Elgin | IL | 60123
Providence Alaska Medical Center | 3200 Providence Drive |  | Anchorage | AK | 99508-4662
Providence Everett Medical Center | 1321 Coby Avenue | P.O. Box 1147 | Everett | WA | 98206-1147
Providence Health Center | 6901 Medical Parkway |  | Waco | TX | 76712
Providence Holy Cross Medical Center | 501 South Buena Vista Street |  | Burbank | CA | 91505
Providence Hospital | 6801 Airport Boulevard |  | Mobile | AL | 36608
Providence Hospital | 2435 Forest Drive |  | Columbia | SC | 29204
Providence Medford Medical | 1111 Crater Lake Avenue |  | Medford | OR | 97504
Providence Medical Center | 8929 Parallel Parkway |  | Kansas City | KS | 66112-1689
Providence Memorial Hospital | 2001 North Oregon Street |  | El Paso | TX | 79902
Providence Park Hosptial | 16001 W. Nine Mile Road |  | Novi | MI | 48374
Providence Portland Medical Center | 9205 SW. Barnes Road | 9205 South West. Barnes Road | Portland | OR | 97225
Providence Saint Joseph Medical Center | 501 South Buena Vista Street |  | Burbank | CA | 91505
Providence Saint Vincent Medical Center | Regional Heart Data Services | 9205 South West Barnes Road #33 | Portland | OR | 97225
Providence St. Peter Hospital | 413 N. Lilly Road |  | Olympia | WA | 98506
Providence Tarzana Medical Center | 18321 Clark Street |  | Tarzana | CA | 91356-3501
Putnam Hospital Center | 670 Stoneleigh Avenue |  | Carmel | NY | 10512
Queen of the Valley Medical Center | 1000 Trancas Street |  | Napa | CA | 94558
Queens Medical Center | 1301 Punchbowl Street |  | Honolulu | HI | 96813
Rancho Spring Medical Center | 25500 Medical Center Drive |  | Murrieta | CA | 92562
Rankin Medical Center | 350 Crossgates Boulevard |  | Brandon | MS | 39042
Rapid City Regional Hospital | 353 Fairmont Boulevard |  | Rapid City | SD | 57702
Rapides Regional Medical Center | 211 4th Street Box 30101 |  | Alexandria | LA | 71301
Raulerson Hospital (HCA) | 1796 Highway 441 North |  | Okeechobee | LA | 34972
Redmond Regional Medical Center | 501 Redmond Road |  | Rome | GA | 30165
Reedsburg Area Medical Center | 2000 N. Dewey Avenue |  | Reedsburg | WI | 53959
Regents of the University of Michigan | 300 N. Ingalls Street 7A10 |  | Ann Arbor | MI | 48109
Regional Hospital of Jackson | 367 Hospital Boulevard |  | Jackson | TN | 38305
Regional Medical Center | 225 N. Jackson Avenue |  | San Jose | CA | 95116
Regional Medical Center | 3000 St. Matthews Road |  | Orangeburg | SC | 29118
Regional Medical Center | 900 Hospital Drive |  | Madisonville | KY | 42431-1644
Regional Medical Center Bayonet Point | 14000 Fivay Road |  | Hudson | FL | 34667
Regions Hospital | 640 Jackson Street | Mail Stop 11102-M | St. Paul | MN | 55101
Reid Hospital & Healthcare Services | 1401 Chester Boulevard |  | Richmond | IN | 47374
Renown Regional Medical Center | 1155 Mill Street | R 11 | Reno | NV | 89502
Research Medical Center | 2316 East Meyer Boulevard | Cardiology Services | Kansas City | MO | 64132
Reston Hospital Center | 1850 Town Center Parkway |  | Reston | VA | 20190
Resurrection Medical Center | 7435 Talcott Avenue |  | Chicago | IL | 60631
Rex Hospital | 4420 Lake Boone Trail |  | Raleigh | NC | 27607
Rhode Island Hospital | 593 Eddy Street |  | Providence | RI | 02903
Richardson Regional Medical Center | 401 W. Campbell Road |  | Richardson | TX | 75080
Richmond University Medical Center | 355 Bard Avenue |  | Staten Island | NY | 10310
Riddle Memorial Hospital | 1068 W. Baltimore Pike |  | Media | PA | 19063-5177
Rideout Memorial Hospital | 726 4th Street |  | Maryville | CA | 95901
Ridgecrest Regional Hospital | 1081 N. China Lake Boulevard |  | Ridgecrest | CA | 93555
Riley Hospital | 1102 Constitution Avenue |  | Meridian | MS | 39301
Rio Grande Regional Hospital | 101 E. Ridge Road |  | McAllen | TX | 78503
River Oaks Hospital | 1030 River Oaks Drive |  | Flowood | MS | 39232
River Region Medical Center | 2100 Highway 61 North |  | Vicksburg | MS | 39183
Riverside Community Hospital | 4445 Magnolia Avenue |  | Riverside | CA | 92501
Riverside Medical Center | 350 N. Wall Street |  | Kankakee | IL | 60901
Riverside Methodist Hospital | 3535 Olentangy River Road |  | Columbus | OH | 43214
Riverside Regional Medical Center | 500 J Clyde Morris Boulevard |  | Newport News | VA | 23601
Riverview Hospital | 395 Westfield Road |  | Noblesville | IN | 46060
Riverview Regional Medical Center | 600 South Third Street | P.O. Box 268 | Gadsden | AL | 35901
Robert Packer Hospital | 1 Guthrie Square |  | Gadsden | AL | 18840
Robert Wood Johnson University Hospital | 1 Robert Wood Johnson Place |  | New Brunswick | NJ | 08901
Robinson Memorial Hospital | 6847 N. Chestnut Street |  | Ravenna | OH | 44266
Rochester General Hospital | 1425 Portland Avenue |  | Rochester | NY | 14621
Rockford Memorial Hospital | 2400 North Rockton Avenue |  | Rockford | IL | 61103
Rogue Valley Medical Cent | 2825 E. Barnett Road | Performance Improvement Dept. | Medford | OR | 97504
Roper Hospital | 316 Calhoun Street |  | Charleston | SC | 29401
Rose Medical Center | 4567 E. 9th Avenue |  | Denver | CO | 80220-3941
Round Rock Medical Center | 2400 Round Rock Medical Center |  | Round Rock | TX | 78681
Rush Hospital | 1314 19th Avenue |  | Meridian | MS | 39301
Rush University Medical Center | 1653 West Congress Parkway |  | Chicago | IL | 60612
Rush-Copley Medical Center Attn: Health Science Library | 2000 Ogden Avenue |  | Alexander City | AL | 60504
Russell Medical Center | 3316 Highway 280 P.O. Box 939 |  | Alexander City | AL | 35011
Rutland Regional Medical Center | 160 Allen Street |  | Rutland | VT | 05701
Sacred Heart Hospital of Pensacola | 5151 North 9th Avenue |  | Pensacola | FL | 32504-8721
Sacred Heart Hospital Attn: A/P | 900 W. Clairemont Avenue |  | Eau Claire | WI | 54701
Sacred Heart Medical Center | 770 E. 11th Avenue |  | Eugene | OR | 97401
Sacred Heart Medical Center | 101 W. Eighth Avenue |  | Spokane | WA | 99204
Saddleback Memorial Medical Center | 24451 Health Center Drive |  | Laguna Hills | CA | 92653
Saint Agnes Medical Center | 1303 E. Herndon Avenue |  | Fresno | CA | 93720
Saint Anthony Medical Center | 1201 S. Main Street |  | Crown Point | IN | 46307
Saint Bernadine Medical Center | 2101 N. Waterman Avenue | 2101 N. Waterman Avenue | San Bernadino | CA | 92404-4836
Saint Clare's Hospital | 611 St. Joseph's Avenue |  | Marshfield | WI | 54449
Saint Elizabeth Health Center | 1044 Belmont Avenue |  | Youngstown | OH | 44511
Saint Elizabeth Hospital | 2700 W. 9th Avenue Suite 107 |  | Oshkosh | WI | 54904
Saint Elizabeth Medical Center-South | 1 Medical Village Drive |  | Edgewood | KY | 41017-3403
Saint Elizabeth Regional Medical Center | 555 S. 70th Street |  | Lincoln | NE | 68510-2462
Saint Elizabeth's Hospital | 211 South 3rd Street |  | Belleville | IL | 62220-1915
Saint Francis Hospital | 2122 Manchester Expressway |  | Columbus | GA | 31904
Saint Francis Hospital | 5959 Park Avenue |  | Memphis | TN | 38119
Saint Francis Hospital | 6161 S. Yale Avenue |  | Tulsa | OK | 74136
Saint Francis Hospital & Health Center | 8111 S. Emerson Avenue |  | Indianapolis | IN | 46237
Saint Francis Hospital & Medical Center | 114 Woodland Street |  | Hartford | CT | 06105
Saint Francis Hospital of Evanston | 355 Ridge Avenue |  | Evanston | IL | 60202
Saint John Hospital & Medical Center | 22151 Moross Road | Professional Bldg #1, #126 | Detroit | MI | 48236-2148
Saint John Macomb-Oakland Hospital | 11800 E. 12 Mile Road | Room # 2510 | Warren | MI | 48093
Saint Johns Mercy Medical Center | 615 S. New Ballas Road |  | St. Louis | MO | 63141
Saint Joseph—London | 310 East 9th Street |  | London | KY | 40741
Saint Joseph Hospital | 2900 N. Lake Shore Drive |  | Chicago | IL | 60657-6274
Saint Joseph Hospital | Saint Joseph Hospital & Medical Center | 350 West Thomas Road | Phoenix | AZ | 85013
Saint Joseph Hospital | 1100 W. Steward Drive |  | Orange | CA | 92868
Saint Joseph Hospital | 2700 Dolbeer Street |  | Eureka | CA | 95501
Saint Joseph Hospital | 3001 W. Martin Luther King Boulevard |  | Tampa | FL | 33607
Saint Joseph Regional Health Center | 2801 Franciscan Street |  | Bryan | TX | 77802-2544
Saint Joseph's Hospital | 1824 Murdoch Avenue |  | Parkersburg | WV | 26102-0327
Saint Josephs Hospital/Marshfield Clinic | 611 St. Joseph Avenue |  | Marshfield | WI | 54449-1832
Saint Joseph's Hospital of Atlanta | 5665 Peachtree Dunwoody Road |  | Atlanta | GA | 30342
Saint Louis University Hospital | 3635 Vista at Grand |  | Saint Louis | MO | 63110
Saint Luke's East—Lee's Summit | 100 NE. Saint Luke's Boulevard |  | Lee's Summit | MO | 64086
Saint Luke's Hospital | 1026 A Avenue, North East |  | Cedar Rapids | IA | 52406-3026
Saint Luke's Hospital | 4401 Wornall Road (MAHI 5th Floor) |  | Kansas City | MO | 64111
Saint Luke's Northland | Saint Luke's Hospital | 4401 Wornall Road | Kansas City | MO | 64111
Saint Luke's Hospital | 232 S. Woods Mill Road |  | Chesterfield | MO | 63017-3417
Saint Luke's Regional Medical Center | 190 E. Bannock Street |  | Boise | ID | 83712-6241
Saint Margaret Mercy | 5454 Hohman Avenue |  | Hammond | IN | 46320
Saint Mary Corwin Medical Center | 1008 Minnequa Avenue |  | Pueblo | CO | 81004-3798
Saint Mary Mercy Hospital | 36475 West Five Mile Road |  | Livonia | MI | 48154
Saint Mary's Hospital | 56 Franklin Street |  | Waterbury | CT | 06706
Saint Mary's Hospital and Regional Medical Center | 2635 N. 7th Street |  | Grand Junction | CO | 81501-8209
Saint Mary's Medical Center | 2900 First Avenue |  | Huntington | WV | 25702
Saint Mary's Medical Center | 3700 Washington Avenue |  | Evansville | IN | 47750
Saint Mary's Regional Medical Center | 235 W. Sixth Street |  | Reno | NV | 89503
Saint Peter's Hospital | 315 South Manning Boulevard |  | Albany | NY | 12208
Saint Rita's Medical Center | 730 West Market Street |  | Lima | OH | 45801-4602
Saint Rose Dominican—Siena Campus | 3001 St. Rose Parkway |  | Henderson | NV | 89052
Saint Thomas Health Care Services | 2000 Church Street | STHS-Baptist Hospital Campus | Nashville | TN | 37236
Saint Vincent Health Center | 252 West 25th Street |  | Erie | PA | 16544
Saint Vincent Hospital | 123 Summer Street | Suite 270 | Worcester | MA | 01608
Saint Vincent Hospital Manhattan | 170 W. 12th Street |  | New York | NY | 10011
Saint Vincent Medical Center/Health Center | 2 St. Vincent Circle |  | Little Rock | AR | 72205
Saint Vincent's Medical Center | 2800 Main Street |  | Bridgeport | CT | 06606
Salem Hospital (Regional Health Services) | 665 Winter Street SE |  | Salem | OR | 97301-3919
Salina Regional Health Center | 400 S. Santa Fe Avenue |  | Salina | KS | 67401
Salinas Valley Memorial Hospital | 450 E. Romie Lane |  | Salinas | CA | 93901-4098
Salt Lake Regional Medical Center | 1050 E South Temple |  | Salt Lake City | UT | 84102
San Antonio Community Hospital | 999 San Bernardino Road |  | Upland | CA | 91786
San Francisco Heart and Vascular Institute | 1900 Sullivan Avenue |  | Daly City | CA | 94015
San Jacinto Methodist Hospital | 4401 Garth Road |  | Baytown | TX | 77521
San Joaquin Community Hospital | 2615 Eye Street |  | Bakersfield | CA | 93301
San Joaquin General Hospital | 500 W. Hospital Road |  | French Camp | CA | 95231
San Juan Regional Medical Center | 801 W. Maple Street |  | Farmington | NM | 87401
San Ramon Regional Medical Center | 6001 Norris Canyon Road |  | San Ramon | CA | 94583
Sanford USD Medical Center | 900 East 54th Street |  | Sioux Falls | SD | 57104
Santa Barbara Cottage Hospital | P.O. Box 689 |  | Santa Barbara | CA | 93102-0689
Santa Rosa Memorial Hospital | 1165 Montgomery Drive P.O. Box 522 |  | Santa Rosa | CA | 95402
Sarasota Memorial Hospital | 1700 S. Tamiami Trail |  | Sarasota | FL | 34239
Satilla Heart Center | 410 Darling Avenue |  | Waycross | GA | 31501
Savoy Medical Center | 801 Poincianna Street |  | Mamou | LA | 70554
Scott and White Hospital | 2401 South 31st Street |  | Temple | TX | 76508
Scottsdale Healthcare Osborn | 7400 E. Osborn Road |  | Scottsdale | AZ | 85260
Scottsdale Healthcare Shea | 9003 E. Shea Boulevard—Administration |  | Scottsdale | AZ | 85260
Scottsdale Healthcare Thompson Peak | 7400 E. Osborn Road |  | Scottsdale | AZ | 85251
Scripps Green Hospital—La Jolla | 10666 North Torrey Pines Road |  | La Jolla | CA | 92037
Scripps Memorial Hospital Encinitas | 354 Santa Fe Drive |  | Encinitas | CA | 92024
Scripps Memorial Hospital—La Jolla | 9888 Genessee Avenue |  | La Jolla | CA | 92037
Scripps Mercy Hospital—San Diego | 4077 5th Avenue | MER 74 | San Diego | CA | 92103
Scripps Mercy Hospital—Chula Vista | 435 H Street |  | Chula Vista | CA | 91910
Sebastian River Medical Center | 13695 U.S. Highway 1 |  | Sebastian | FL | 32962
Self Regional Healthcare | 1325 Spring Street |  | Greenwood | SC | 29646
Sentara Norfolk General Hospital | 600 Gresham Drive |  | Norfolk | VA | 23507
Sentara Obici Hospital | 2800 Goodwin Boulevard |  | Suffolk | VA | 23434
Sentara Virginia Beach General Hospital | 1060 First Colonial Road |  | Virginia Beach | VA | 23454-0685
Sequoia Hospital | Whipple and Alameda Avenues | 170 Alameda de Las Pulgas | Redwood City | CA | 94062
Seton Medical Center | 1201 W. 38th Street |  | Austin | TX | 78705
Seton Medical Center Williamson | 201 Seton Parkway |  | Round Rock | TX | 78665
Shady Grove Adventist Hospital | 9901 Medical Center Drive |  | Rockville | MD | 20850
Shands at AGH | 801 SW. 2nd Avenue |  | Gainesville | FL | 32601
Shands Jacksonville Medical Center | 655 West 8th Street |  | Jacksonville | FL | 32209
Sharon Regional Health System | 740 E. State Street |  | Sharon | PA | 16146
Sharp Chula Vista Medical Center | 8695 Spectrum Center Court |  | San Diego | CA | 92123
Sharp Grossmont | 5555 Grossmont Center Drive |  | La Mesa | CA | 91942
Sharp Memorial Hospital | 7901 Frost Street |  | San Diego | CA | 92123
Shasta Regional Medical Center | 1100 Butte Street |  | Redding | CA | 96001
Shawnee Mission Medical Center | 9100 West 74th Street |  | Shawnee Mission | KS | 66204-4004
Shelby Baptist Medical Center | 1000 First Street North |  | Alabaster | AL | 35007
Sherman Hospital | 934 Center Street | Decision Support | Elgin | IL | 60120
Shore Health System of Maryland | 219 South Washington Street |  | Easton | MD | 21601
Sierra Medical Center | 1625 Medical Center Drive |  | El Paso | TX | 79902
Sierra Providence East Medical Center | 1625 Medical Center Drive |  | El Paso | TX | 79902
Sierra Vista Regional Medical Center | 1010 S. Murray Avenue |  | San Luis Obispo | CA | 93405
Silver Cross Hospital | 1200 Maple Road |  | Joliet | IL | 60432
Simi Valley Hospital & Health Care Services | 2975 North Sycamore Drive |  | Simi Valley | CA | 93065
Sinai—Grace Hospital | 6071 W. Outer Drive |  | Detroit | MI | 48235
Sinai Hospital of Baltimore | 2401 West Belvedere Avenue |  | Baltimore | MD | 21215-5271
Singing River Hospital | 3109 Bienville Boulevard |  | Ocean Springs | MS | 39564
Sisters of Charity Hospital | 2157 Main Street |  | Buffalo | NY | 14120
Skaggs Community Health Center | P.O. Box 650 |  | Branson | MO | 65615-0650
Skagit Valley Hospital Cardiac Cath Lab | 1415 E. Kincaid Street |  | Mt. Vernon | WA | 98273
Skokie Hospital | 9600 Gross Point Road | Cardiac Cath Lab | Skokie | IL | 60076-1214
Sky Ridge Medical Center | 10101 Ridgegate Parkway |  | Lone Tree | CO | 80124
Skyline Medical Center/HTI Memorial Hospital Corp | 3441 Dickerson Pike |  | Nashville | TN | 37207
Somerset Hospital | 225 South Center Avenue |  | Somerset | PA | 15501-2088
South Baldwin Regional Medical Center | 1613 N. McKenzie Street |  | Foley | AL | 36535
South Bay Hospital | 4016 Sun City Center Boulevard |  | Sun City Center | FL | 33570
South Fulton Medical Center | 1170 Cleveland Avenue |  | East Point | GA | 30344
South GA Medical Center | P.O. Box 1727 |  | Valdosta | GA | 31603-1727
South Lake Hospital | 1099 Citrus Tower Boulevard |  | Clermont | FL | 34711
South Miami Hospital | 6200 SW. 73rd Street |  | Miami | FL | 33143
South Nassau Communities Hospital | One Healthy Way |  | Oceanside | NY | 11572
South Shore Hospital | 55 Fogg Road |  | South Weymouth | MA | 02190-2432
Southeast Alabama Medical Center | 1108 Ross Clark Circle |  | Dothan | AL | 36301
Southeast Baptist Hospital | 730 North Main Avenue | Suite 409 | San Antonio | TX | 78205
Southeast Missouri Hospital | 1701 Lacey Street |  | Cape Girardeau | MO | 63701
Southern Hills Hospital | 9300 West Sunset Road |  | Las Vegas | NV | 89148
Southern New Hampshire Medical Center | 8 Prospect Street |  | Nashua | NH | 03060
Southern Ohio Medical Center | 1805 27th Street |  | Portsmouth | OH | 45662
Southern Regional Medical Center | 11 Upper Riverdale Road SW. |  | Riverdale | GA | 30274
Southside Hospital | 301 East Main Street |  | Bayshore | NY | 11706
SouthView Hospital | 1997 Miamisburg-Centerville Road |  | Dayton | OH | 45459
Southwest Florida Regional Medical Center | 636 Del Prado Boulevard Suite 104 |  | Cape Coral | FL | 33990
Southwest General Health Center | 18697 Bagley Road |  | Middleburg Heights | OH | 44130-3417
Southwest General Hospital | 7400 Barlite Boulevard |  | San Antonio | TX | 78224
Southwest Medical Center | 2810 Ambassador Caffrey Parkway |  | Lafayette | LA | 70506
Southwest MS Regional Medical Center | 303 Marion Avenue |  | McComb | MS | 39648
Southwest Washington Medical Center | 600 NE. 92nd Avenue |  | Vancouver | WA | 98664
Southwestern Medical Center | 5602 SW. Lee Boulevard |  | Lawton | OK | 73505
Spalding Regional Medical Center | 601 South 8th Street |  | Griffin | GA | 30224
Sparks Regional Medical Center | 1311 South I Street |  | Fort Smith | AR | 72917-7006
Sparrow Health System | 1215 East Michigan Avenue |  | Lansing | MI | 48909-7980
Spartanburg Regional Medical Center | 101 East Wood Street | Cardiac Cath Lab/3rd Floor Heart Center | Spartanburg | SC | 29303
Spectrum Health | 100 Michigan Street NE. | MC 037, Rm 3825A | Grand Rapids | MI | 49503-2560
Spring Branch Medical Center | 8850 Long Point Road |  | Houston | TX | 77055
Spring Valley Hospital | 5400 S. Rainbow Boulevard |  | Las Vegas | NV | 89118
Springfield Regional Medical Center—High Street Campus | 2615 E. High Street |  | Springfield | OH | 45505
Springhill Memorial Hospital | 3719 Dauphin Street |  | Mobile | AL | 36608
SSM St. Joseph Health Center | 300 First Capitol Drive |  | St. Charles | MO | 63301
SSM St. Joseph Hospital of Kirkwood | 525 Couch Avenue |  | Kirkwood | MO | 63122
St. Anthony Central Hospital | 4231 W. 16th Avenue |  | Denver | CO | 80204-1335
St. Anthony North Hospital | 4231 W. 16th Avenue |  | Denver | CO | 80204
St. James Hospital and Health Centers | 3800 West 203rd Street Suite 207 |  | Olympia Fields | IL | 60461
St. Joseph Hospital | 700 Broadway |  | Fort Wayne | IN | 46802
St. Joseph Hospital-Oakland | 44405 Woodward Avenue |  | Pontiac | MI | 48341-5023
St. Joseph Medical Center | 1717 South J Street |  | Tacoma | WA | 98405-4933
St. Josephs Hospital | 69 W. Exchange Street |  | St Paul | MN | 55102
St. Joseph Hospital Health Center | 301 Prospect Avenue |  | Syracuse | NY | 13203
St. Luke's Cornwall Hospital | 70 DuBois Street |  | Newburgh | NY | 12550
St. Mary's Health Care Systems | 1230 Baxter Street |  | Athens | GA | 30606
St. Mary's Hospital | 400 North Pleasant |  | Centralia | IL | 62801
St. Mary's Regional Medical Center | 305 S. 5th Street |  | Enid | OK | 73701
St. Vincent Mercy Medical Center | 2213 Cherry Street |  | Toledo | OH | 43608
St. Agnes Hospital | 900 Caton Avenue |  | Baltimore | MD | 21229
St. Agnes Hospital | 430 E. Division Street |  | Fond du lac | WI | 54935
St. Alexius Medical Center | 1555 Barrington Road |  | Hoffman Estates | IL | 60194-1018
St. Alphonsus Regional Medical Center | 1055 N. Curtis Road |  | Boise | ID | 83706
St. Anthony Hospital | 1000 N. Lee Avenue |  | Oklahoma City | OK | 73102
St. Anthony Memorial Health Centers | 301 N. Homer Street | Cath Lab | Michigan City | IN | 46360
St. Anthony's Health Care | 1200 7th Avenue North | MS 2019 | St. Petersburg | FL | 33705
St. Anthony's Medical Center | 10010 Kennerly Road |  | St. Loius | MO | 63128-2106
St. Barnabas Medical Center | 94 Old Short Hills Road |  | Livingston | NJ | 07039
St. Bernards Medical Center | 225 E. Jackson Avenue |  | Jonesboro | AR | 72401
St. Catherine Hospital East Chicago | 1500 South Lake Park Avenue |  | Hobart | IN | 46342
St. Catherine of Siena | 50 Route 25A |  | Smithtown | NY | 11787
St. Charles Hospital | 200 Belle Terre Road |  | Port Jefferson | NY | 11777
St. Charles Medical Center | 2500 North East Neff Road |  | Bend | OR | 97701-6015
St. Clair Hospital | St. Clair Hospital | 1000 Bower Hill Road | Pittsburgh | PA | 15243
St. Cloud Regional Medical Center | 2906 17th Street |  | St. Cloud | FL | 34769
St. David's Medical Center | 919 East 32nd Street |  | Austin | TX | 78765
St. David's South Austin Hospital | 901 W. Ben White Boulevard |  | Austin | TX | 78704
St. Dominic-Jackson Memorial Hospital | 969 Lakeland Drive |  | Jackson | MS | 39216
St. Edwards Mercy Medical Center | 7301 Rogers Avenue |  | Ft. Smith | AR | 72917-7000
St. Elizabeth Hospital Medical Center | 1501 Hartford Street |  | Lafayette | IN | 47904
St. Elizabeth Medical Center | 2209 Genesee Street |  | Utica | NY | 13501
St. Francis Health Center | 1700 SW. 7th Street |  | Topeka | KS | 66605
St. Francis Hospital | One St. Francis Drive |  | Greenville | SC | 29601
St. Francis Hospital | 7th & Clayton Streets |  | Wilmington | DE | 19805
St. Francis Hospital | 333 Laidley Street | P.O. Box 44 Culloden, WV 25510 | Charleston | WV | 25322
St. Francis Hospital | 100 Port Washington Boulevard |  | Roslyn | NY | 11576
St. Francis Medical Center | 211 Saint Francis Drive |  | Cape Girardeau | MO | 63703-5049
St. Francis Medical Center | 3630 Imperial Highway |  | Lynwood | CA | 90265
St. Francis Medical Center | 309 Jackson Street |  | Monroe | LA | 71201
St. Francis Medical Center | 601 Hamilton Avenue |  | Trenton | NJ | 08629
St. Francis North Hospital | 309 Jackson Street |  | Monroe | LA | 71201
St. Helena Hospital | 10 Woodland Road |  | St. Helena | CA | 94574
St. James Health Care | 400 South Clark Street |  | Butte | MT | 59701
St. John Medical Center | 1923 S. Utica Avenue | Heart Institute Education/ Research | Tulsa | OK | 74104
St. John Medical Center | 1615 Delaware Street |  | Longview | WA | 98632
St. John Providence Hospital | 16001 W. Nine Mile Road |  | Southfield | MI | 48075
St. John West Shore Hospital | 29000 Center Ridge Road |  | Westlake | OH | 44145
St. John's Hospital | 800 E. Carpenter Street |  | Springfield | IL | 62769
St. John's Hospital | 1235 East Cherokee Street |  | Springfield | MO | 65804
St. Johns Regional Medical Center | 2727 McClelland Boulevard |  | Joplin | MO | 64804
St. Johns Regional Medical Center | 1600 N. Rose Avenue |  | Oxnard | CA | 93030-3722
St. Joseph Hospital | 172 Kinsley Street |  | Nashua | NH | 03060
St. Joseph Hospital | 360 Broadway |  | Bangor | ME | 04401
St. Joseph Hospital | 1 Saint Joseph Drive |  | Lexington | KY | 40504
St. Joseph Hospital | 2901 Squalicum Parkway |  | Bellingham | WA | 98225
St. Joseph Medical Center | 2200 E. Washington Street |  | Bloomington | IL | 61701
St. Joseph Medical Center | 12th & Walnut Streets |  | Reading | PA | 19603
St. Joseph Medical Center | 1401 St. Joseph Parkway |  | Houston | TX | 77002
St. Joseph Medical Center | 7601 Olser Drive |  | Towson | MD | 21204
St. Joseph Mercy Hospital | 5325 Elliot Drive |  | Ann Arbor | MI | 48106
St. Joseph Reg. Medical Center | 801 E. Lasalle Avenue |  | South Bend | IN | 46617
St. Joseph Regional Medical Center | 703 Main Street |  | Paterson | NJ | 07503
St. Joseph's Hospital | 11705 Mercy Boulevard |  | Savannah | GA | 31419
St. Joseph's Hospital | 350 N. Wilmot Road |  | Tucson | AZ | 85711
St. Joseph's Medical Center | 127 S. Broadway |  | Yonkers | NY | 10701
St. Josephs Medical Center of Stockton | 1805 North California Street | Suite #303 | Stockton | CA | 95204
St. Josephs Mercy Health Center | 300 Werner Drive |  | Hot Springs | AR | 71913
St. Jude Medical Center | 101 East Valencia Mesa |  | Fullerton | CA | 92835
St. Luke Hospital East | 85 N. Grand Avenue |  | Ft. Thomas | KY | 41075
St. Luke Hospital West | 7380 Turfway Road |  | Florence | KY | 41042
St. Luke's Baptist Hospital | 730 North Main Avenue | Suite 409 | San Antonio | TX | 78205
St. Luke's Community Medical Center (The Woodlands) | 17200 St. Luke's Way |  | The Woodlands | TX | 77384
St. Luke's Episcopal Hospital | 3100 Main Street | MC5-313 | Houston | TX | 77030
St. Lukes Hospital | 363 Highland Avenue |  | Falls River | MA | 02720
St. Lukes Hospital | 5901 Monclova Road |  | Maumee | OH | 43537
St. Luke's Hospital | 915 E. First Street |  | Duluth | MN | 55805
St. Luke's Hospital & Health Network | 801 Ostrum Street | St. Luke's Hospital & Health Network | Bethlehem | PA | 18015
St. Luke's Hospital and Health Network (Allentown Campus) | 1736 Hamilton Boulevard |  | Allentown | PA | 18104
St. Luke's Medical Center | 2901 West Oklahoma Avenue |  | Milwaukee | WI | 53215-4330
St. Luke's Medical Center | 1800 E. Van Buren Street |  | Phoenix | AZ | 85006
St. Luke's Regional Medical Center | 2720 Stone Park Boulevard |  | Sioux City | IA | 51104
St. Luke's South Hospital | Saint Luke's Hospital | 4401 Wornal Road | Kansas City | MO | 64111
St. Luke's Sugar Land Hospital | 3100 Main Street Suite 647D |  | Houston | TX | 77002
St. Luke's-Roosevelt Hospital Center | 1111 Amsterdam Avenue |  | New York City | NY | 10025
St. Mark's Hospital/Northern Utah Healthcare Corporation | 1200 East 3900 South |  | Salt Lake City | UT | 84124
St. Mary Hospital | 1201 Langhorne Newton Road |  | Langhorne | PA | 19047
St. Mary Medical Center | 18300 Highway 18 |  | Appple Valley | CA | 92307
St. Mary Medical Center | 1050 Linden Avenue |  | Long Beach | CA | 90813-3321
St. Mary Medical Center | 1500 South Lake Park Avenue |  | Hobart | ID | 46342
St. Mary of Nazareth Hospital Center | 2233 W. Division Street |  | Chicago | IL | 60622
St. Mary's Health Center | 6420 Clayton Road |  | St. Louis | MO | 63117
St. Mary's Hospital | 707 S. Mills Street |  | Madison | WI | 53715-1849
St. Mary's Hospital (Passaic) | 350 Boulevard |  | Passaic | NJ | 07055
St. Mary's Medical Center | 901 45th Street |  | West Palm Beach | FL | 33407
St. Mary's Medical Center | 450 Stanyan Street |  | San Francisco | CA | 94117
St. Mary's Medical Center | 900 E. Oak Hill Avenue |  | Knoxville | TN | 37917
St. Mary's Medical Center | 407 East Third Street |  | Duluth | MN | 55805
St. Mary's of Michigan | 800 S. Washington Avenue |  | Saginaw | MI | 48601
St. Mary's Regional Medical Center | P.O. Box 291 Campus Avenue |  | Lewiston | ME | 04243-0291
St. Michael's Medical Center | 111 Central Avenue |  | Newark | NJ | 07102
St. Patrick Hospital and Health Sciences Center | 500 W. Broadway |  | Missoula | MT | 59802
St. Rose Dominican—De Lima Campus | 3001 Saint Rose Parkway |  | Henderson | NV | 89052
St. Rose Dominican—San Martin | 3001 Saint Rose Parkway |  | Henderson | NV | 89052
St. Rose Hospital | 27200 Calaroga Avenue |  | Hayward | CA | 94539
St. Tammany Parish Hospital | 1202 S. Tyler Street |  | Covington | LA | 70433
St. Vincent Charity Hospital | 2351 East 22nd Street |  | Cleveland | OH | 44115
St. Vincent Healthcare | 1233 N. 30th Street |  | Billings | MT | 59101
St. Vincent Hospital | 2660 10th Avenue South #738 |  | Birmingham | AL | 35205
St. Vincent Hospital | 835 S. Van Buren Street |  | Green Bay | WI | 54301
St. Vincent Medical Center | 2131 W. 3rd Street |  | Los Angeles | CA | 90703
St. Vincent's Medical Center | 1800 Barrs Street |  | Jacksonville | FL | 32204
St.Vincent's East | 50 Medical Park East Drive |  | Birmingham | AL | 35235-3499
Stamford Hospital Health Sciences Library | 30 Shelbourne Road P.O. Box 9317 |  | Stamford | CT | 06904-9317
Stanford Hospital and Clinics | Falk Building 2nd Floor 300 Pasteur Drive |  | Stanford | CA | 94305
Staten Island University Hospital | 475 Seaview Avenue |  | Staten Island | NY | 10305
Stony Brook University Medical Center | 3 Technology Drive |  | East Setauket | NY | 11733-4073
Stormont-Vail Regional Medical Center | 929 SW. Mulvane Street |  | Topeka | KS | 66606
Straub Clinic & Hospital: Cath Lab | 888 S. King Street |  | Honolulu | HI | 96813
Stringfellow Memorial Hospital | 301 East 18th Street |  | Anniston | AL | 36202
Suburban Hospital | 8600 Old Georgetown Road |  | Bethesda | MD | 20814
Summerlin Hospital Medical Center | 657 Town Center Drive |  | Las Vegas | NV | 89144
Summit Healthcare Regional Medical Center | 2200 East Show Low Lake Road |  | Show Low | AZ | 85901
Summit Medical Center | East Main & South 20th Street |  | Van Buren | AZ | 72956
Summit Medical Center | 5655 Frist Boulevard |  | Hermitage | TN | 37076
Sunrise Hospital and Medical Center | 3186 S. Maryland Parkway |  | Las Vegas | NV | 89109
Sutter Delta Medical Center | 3901 Lone Tree Way |  | Antioch | CA | 94509
Sutter Medical Center—Sacramento | 3528 Eisenhower Drive |  | Sacramento | CA | 95826
Sutter Medical Center of Santa Rosa | 3325 Chanate Road |  | Santa Rosa | CA | 95404
Sutter Roseville Medical Center | One Medical Plaza |  | Roseville | CA | 95661
Swedish American Hospital | 1401 E. State Street |  | Rockford | IL | 61104
Swedish Covenant Hospital | 5145 N. California Avenue |  | Chicago | IL | 60625
Swedish Health Services | 500 17th Avenue #A85C |  | Seattle | WA | 98104
Swedish Medical Center | 501 East Hampden Avenue |  | Englewood | CO | 80113
T. J. Samson Community Hospital | 1301 North Race Street |  | Glasgow | KY | 42141
Tacoma General Hospital | 315 Martin Luther King, Jr. Way |  | Tacoma | WA | 98415
Tahlequah City Hospital | 1400 East Downing Street |  | Tahlequah | OK | 74465-1008
Tallahassee Memorial Hospital | 1300 Miccosukee Road | Attn: Performance Improvement | Tallahassee | FL | 32308
Tampa General Hospital | 1 Tampa General Circle |  | Tampa | FL | 33601-1289
Temple University Hospital | 3401 North Broad Street | 1 PP Cardiology | Philadelphia | PA | 19140
Terre Haute Regional Hospital | 3901 South 7th Street |  | Terre Haute | IN | 47802
Terrebonne General Medical Center | 8166 Main Street |  | Houma | LA | 70360
Texoma Medical Center | 1000 Memorial Drive |  | Denison | TX | 75020
TexSAn Heart Hospital | 6700 IH-10 West |  | San Antonio | TX | 78201-2009
The Christ Hospital | 2139 Auburn Avenue |  | Cincinnati | OH | 45219
The George Washington University Hospital | 900 23rd Street, NW. |  | Washington | DC | 20037
The Good Samaritan Hospital | P.O. Box 1281 | 4th and Walnut Streets | Lebanon | PA | 17042
The Heart Hospital at Deaconess Gateway, LLC | 600 Mary Street |  | Evansville | IN | 47747
The Heart Hospital Baylor Plano | 1100 Allied Drive |  | Plano | TX | 75093
The Heart Hospital of Northwest Texas | 1501 S. Coulter Street | P.O. Box 1110 | Amarillo | TX | 79175
The Hospital at Westlake Medical Center | 5656 Bee Caves Road M-302 |  | Austin | TX | 78746
The Hospital of West Central Connecticut | 100 Grand Street P.O. Box 100 |  | New Britain | CT | 06050
The Indiana Heart Hospital | 8075 North Shadeland Avenue |  | Indianapolis | IN | 46250
The Medical Center (TMC) | 1000 Dutch Ridge Road |  | Beaver | PA | 15009
The Medical Center of Southeast Texas | 2555 Jimmy Johnson Boulevard |  | Port Arthur | TX | 77640
The Methodist DeBakey Heart Center | 6565 Fannin Street |  | Houston | TX | 77030
The Monroe Clinic | 515 22nd Avenue |  | Monroe | WI | 53566
The Mount Sinai Medical Center | The Mount Sinai Medical Center |  | New York | NY | 10029
The Nebraska Medical Center | 987551 Nebraska Medical Center |  | Omaha | NE | 68198-7551
The Ohio State University Medical Center | 410 W. 10th Avenue | 142 Doan Hall | Columbus | OH | 43210
The Reading Hospital and Medical Center | Sixth Avenue and Spruce Street |  | West Reading | PA | 19611
The Surgery Center on Soncy | 3501 Soncy Road Suite 118 |  | Amarillo | TX | 79119
The Toledo Hospital | 2142 North Cove Boulevard | Jobst Tower Suite 200 | Toledo | OH | 43606
The Valley Hospital | 223 North Van Dien Avenue |  | Ridgewood | NJ | 07450
The Village Regional Hospital |  |  |  | AR |
The Washington Hospital | 155 Wilson Avenue |  | Washington | PA | 15301-3398
The Western Pennsylvania Hospital | 4800 Friendship Avenue | CVI | Pittsburgh | PA | 15224
The Wisconsin Heart Hospital, Inc | WFH Clinical Data Management and Analysis | 5000 West Chambers, M229 | Milwaukee | WI | 53210
Thomas Hospital | 750 Morphy Avenue |  | Fairhope | AL | 36532
Thomas Jefferson University Hospital | TJUH | 111 S. 11th Street Gibbon Building | Philadelphia | PA | 19107
Tift Regional Medical Center | P.O. Box 747 | 901 E. 18th Street | Tifton | GA | 31794
Timpanogos Regional Hospital | 750 W. 800 S. |  | Orem | UT | 84057
Tobey Hospital | 363 Highland Avenue |  | Fall River | MA |
Tomball Regional Hospital | 605 Holderrieth Boulevard |  | Tomball | TX | 77375
Torrance Memorial Medical Center | 3330 Lomita Boulevard |  | Torrance | CA | 90505
Tri-City Medical Center | 4002 Vista Way |  | Oceanside | CA | 92056
Trident Regional Medical Center | 9330 Medical Plaza Drive |  | Charleston | SC | 29406
Trinity Hospitals | P.O. Box 5020 |  | Minot | ND | 58702
Trinity Medical Center | Attn: CardioVascular Services | 800 Montclair Road | Birmingham | AL | 35213
Trinity Medical Center | 2701 17th Street | 3rd Floor | Rock Island | IL | 61201
Trinity Medical Center | 4343 Josey Lane |  | Carrollton | TX | 75010
Trinity Medical Center West | 4000 Johnson Road |  | Steubenville | OH | 43952
Trinity Regional Medical Center | 802 Kenyon Road |  | Fort Dodge | IA | 50501
Trinity Regional Medical Center | 2701 17th Street | 3rd Floor | Rock Island | IL | 61201
Truman Medical Centers | 2301 Holmes Street |  | Kansas City | MO | 64108
Tucson Heart Hospital | 4888 North Stone Avenue |  | Tucson | AZ | 85704
Tucson Medical Center | 5301 E. Grant Road |  | Tucson | AZ | 85712
Tufts Medical Center | 750 Washington Street |  | Boston | MA | 02111
Tulane Medical Center | 1415 Tulane Avenue |  | New Orleans | LA | 70112
Tuomey Healthcare System Tuomey Regional Medical Center | 129 N. Washington Street |  | Sumter | SC | 29150
UC San Diego Medical Center | 200 W. Arbor Drive |  | San Diego | CA | 92103
UMASS Memorial Medical Center | 55 Lake Ave North |  | Worcester | MA | 01655-0002
Union Hospital | 1606 N. 7th Street |  | Terre Haute | IN | 47804
Union Hospital | 106 Bow Street |  | Elkton | MD | 21921
Union Memorial Hospital | 201 E. University Parkway |  | Baltimore | MD | 21218-2891
United Health Services Hospitals/Wilson Regional Medical Center | 33—57 Harrison Street | Decker 4 Lobby | Johnson City | NY | 13790
United Hospital | 333 N. Smith Avenue |  | St. Paul | MN | 55102
United Hospital Center, Inc. | P.O. Box 1680 |  | Clarksburg | WV | 53143
United Hospital System | 6308 8th Avenue |  | Kenosha | WI | 53143
United Regional Healthcare System | 1600 11th Street |  | Wichita Falls | TX | 76301
Unity Health Center | 1102 West MacArthur |  | Shawnee | OK | 74804
Unity Hospital | 550 Osbourne Road NE. |  | Minneapolis | MN | 55432
Unity Hospital | 1555 Long Pond Road |  | Rochester | NY | 14626
University Community Hospital | 3100 East Fletcher Avenue |  | Tampa | FL | 33613
University Community Hospital Carrollwood Campur | 3100 East Fletcher Avenue |  | Tampa | FL | 33613
University of Alabama Hospital | 620 19th Street South |  | Birmingham | AL | 35249
University Hospital | 234 Goodman Street |  | Cincinnati | OH | 45219
University Hospital | 1350 Walton Way |  | Augusta | GA | 30901
University Hospitals Bedford Medical Center | 44 Blaine Avenue |  | Bedford | OH | 44146
University Hospitals Case Medical Center | 11100 Euclid Avenue |  | Cleveland | OH | 44106
University Hospitals Geauga Medical Center | 13207 Ravenna Road |  | Chardon | OH | 44024
University Hospitals Richmond Medical Center | 27100 Chardon Road |  | Richmond Heights | OH | 44143
University Hospital UMDNJ | 150 Bergen Street |  | Newark | NJ | 07101
University Medical Center | 1501 N. Campbell Avenue |  | Tucson | AZ | 85724
University Medical Center | 1411 Baddour Parkway |  | Lebanon | TN | 37087
University Medical Center | 602 Indiana Avenue |  | Lubbock | TX | 79410
University Medical Center LSU | 2390 W. Congress Street |  | Lafayette | IA | 70506
University Medical Center of El Paso | 4815 Alameda Avenue |  | El Paso | TX | 79905
University Medical Center Southern Nevada | 1800 W. Charleston Boulevard |  | Las Vegas | NV | 89102
University of Arkansas Medical Sciences | 4301 West Markham Street Suite 532 |  | Little Rock | AR | 72205
University of Califorina, Irvine Division of Cardiology | 101 The City Drive |  | Orange | CA | 92868
University of California (UCLA) | 757 Westwood Boulevard Rm. 2412 |  | Los Angeles | CA | 90095
University of California Davis Medical Center | 2315 Stockton Boulevard Main Hospital, Rm 6312 |  | Sacramento | CA | 95817
University of California San Francisco Medical Center | 505 Parnassus Avenue L-523 Box 0210 |  | San Francisco | CA | 94143-0210
University of Chicago Hospitals | 5841 S. Maryland Avenue |  | Chicago | IL | 60637
University of Colorado Hospital Authority | 16205 E. 16th Avenue | Box 132 | Aurora | CO | 80045
University of CT Health Center/John Dempsey Hospital | 263 Farmington Avenue |  | Farmington | CT | 06030
University of Florida (Shands) College of Medicine | 1600 SW. Archer Road |  | Gainesville | FL | 32610
University of Illinois Medical Center at Chicago | 1740 W. Taylor Street | Bldg 949 Rm 2181 | Chicago | IL | 60610
University of Iowa Hospitals and Clinics | 200 Hawkins Drive |  | Iowa City | IA | 52242
University of Kentucky | 800 Rose Street |  | Lexington | KY | 40536
University of Louisville Hospital | 530 S. Jackson Street |  | Loiusville | KY | 40202
University of Maryland Medical Center Cardiology | 22 S. Greene Street |  | Baltimore | MD | 21201-1544
University of Miami | 1400 NW. 12th Street |  | Miami | FL | 33136
University of Minnesota Medical Center Fairview | 420 Delaware Street SE. MMC 815 |  | Minneapolis | MN | 55455
University of Mississippi Medical Center | 2500 N. State Street |  | Jackson | MS | 39216
University of Missouri Hospital and Clinics | 1 Hospital Drive |  | Columbia | MO | 65212
University of New Mexico Hospital | 2211 Lomas Boulevard |  | Albuquerque | NM | 87106
University of North Carolina Hospitals | UNC Hospitals | 101 Manning Drive CB#7075 | Chapel Hill | NC | 27514
University of Rochester Medical Center | 601 Elmwood Avenue |  | Rochester | NY | 14642
University of South Alabama Cardiology Department | 2451 Fillingim Street |  | Mobile | AL | 36617
University of Tennessee Medical Center | 1924 Alcoa Highway |  | Knoxville | TN | 37920-6999
University of Texas Health Science Center at Tyler | 11937 U.S. Highway 271 |  | Tyler | TX | 75728
University of Texas Medical Branch at Galveston | 301 University Boulevard |  | Galveston | TX | 77555-0294
University of Texas Southwestern-University Hospital | 5323 Harry Hines Boulevard |  | Dallas | TX | 75390-9013
University of Toledo Medical Center | 3065 Arlington Avenue | DH2261 | Toledo | OH | 43614
University of Utah Hospitals and Clinics | 50 North Medical Drive |  | Salt Lake City | UT | 84132
University of Virginia Medical Center | 2441 Barringer West Complex | P.O. Box 800679 | Charlottesville | VA | 22908-0679
University of Washington Medical Center | 1959 NE. Pacific Street |  | Seattle | WA | 98195-6422
University of Wisconsin Hospital & Clinics | 600 Highland Avenue MC 3204 |  | Madison | WI | 53792
UPMC Mercy | 1400 Locust Street |  | Pittsburgh | PA | 15219
UPMC Passavant Hospital | 9100 Babcock Boulevard |  | Pittsburgh | PA | 15237
UPMC Presbyterian Hospital | 461 Baum Road | 2nd Floor | Pittsburgh | PA | 15213
UPMC Shadyside Hospital | 461 Baum Road | 2nd Floor | Pittsburgh | PA | 15213
Upper Chesapeake Medical Center, Inc | 500 Upper Chesapeake Drive |  | Bel Air | MD | 21014
Upstate Medical University (SUNY) | 750 East Adams Street |  | Syracuse | NY | 13120
USC University Hospital | 1500 San Pablo Street |  | Los Angeles | CA | 90033
Utah Valley Regional Medical Center | 1034 S. 500 W |  | Provo | UT | 84605
Val Verde Regional Medical Center | 801 Bedell Avenue |  | Del Rio | TX | 78840
Valley Baptist Medical Center | 2101 Pease Street |  | Harlingen | TX | 78550
Valley Care Medical Center | 1111 East Stanley Boulevard |  | Livermore | CA | 94550
Valley Hospital Medical Center | 620 Shadow Lane |  | Las Vegas | NV | 89106
Valley Medical Center | 400 South 43rd Street |  | Renton | WA | 98058
Valley Presbyterian Hospital | 15107 Vanowen Street |  | Van Nuys | CA | 91405
Valley Regional Medical Center | Valley Regional Medical Center | 100A East Alton Gloor Building | Brownsville | TX | 78526
Vanderbilt Heart Institute | 1215 21st Avenue | MCE 5th floor | Nashville | TN | 37232
Vassar Brothers Medical Center | 45 Reade Place |  | Poughkeepsie | NY | 12601
Vaughan Regional Medical Center | 1015 Medical Center Parkway |  | Selma | AL | 36701
VCU—Medical College of Virginia | P.O. Box 980036 |  | Richmond | VA | 23298
Venice Regional Medical Center | 540 The Rialto |  | Venice | FL | 34285
Verde Valley Medical Center | 269 South Candy Lane |  | Cotttonwood | AZ | 86326
Verdugo Hills Hospital | 1812 Verdugo Boulevard |  | Glendale | CA | 91208
Via Christi Wichita Health Network | 929 N. St. Francis Street |  | Wichita | KS | 67214
Ville Platte Medical Center | 800 East Main Street |  | Ville Platte | LA | 70586
Virginia Hospital Center | 1701 N. George Mason Drive |  | Arlington | VA | 22205-3698
Virginia Mason Medical Center | 1100 Ninth Avenue | X3-CVL | Seattle | WA | 98111
WakeMed Cary Hospital | 3000 New Bern Avenue |  | Raleigh | NC | 27610
WakeMed Raleigh Campus | 3000 New Bern Avenue |  | Raleigh | NC | 27610
Walker Regional Medical Center | 3400 Highway 78 E. |  | Jasper | AL | 35501
Washington Adventist Hospital | 7600 Carroll Avenue |  | Takoma Park | MD | 20912
Washington County Hospital | 251 East Antietam Street |  | Hagerstown | MD | 21740
Washington Hospital | 2000 Mowry Avenue |  | Fremont | CA | 94538
Washington Hospital Center | 110 Irving Street NW. Rm 5A14 |  | Washington | DC | 20010
Washington Regional Medical Center | 1125 N. College Avenue |  | Fayetteville | AR | 72703-1994
Waterbury Hospital | P.O. Box 2153 |  | Waterbury | CT | 06722-2153
Waukesha Memorial Hospital | N-17 W24100 Riverwood Drive |  | Waukesha | WI | 53188-1187
Wayne Memorial Hospital | P.O. Box 8001 |  | Goldsboro | NC | 27533
Weatherford Regional Medical Center | 713 East Anderson Street |  | Weatherford | TX | 76086
Weiss Memorial Hospital | 4646 N. Marine Drive |  | Chicago | IL | 60640
Wellmont Holston Valley Medical Center | 130 W. Ravine Road |  | Kingsport | TN | 37660
Wellstar Cobb Hospital | 677 Church Street |  | Marietta | GA | 30066
Wellstar Kennestone Hospital | 677 Church Street |  | Marietta | GA | 30066
Wesley Medical Center | 550 N. Hillside Street |  | Wichita | KS | 67214
West Anaheim Medical Center | 3033 West Orange Avenue |  | Anaheim | CA | 92084
West Florida Hospital | 8383 North Davis Highway |  | Pensacola | FL | 32514
West Georgia Medical Center | 1514 Vernon Road |  | LaGrange | GA | 30240
West Hills Hospital | 7300 Medical Center Drive |  | West Hills | CA | 91307
West Houston Medical Center | 12141 Richmond Avenue |  | Houston | TX | 77082
West Jefferson Medical Center | 1101 Medical Center Boulevard |  | Marrero | LA | 70072
West Penn Hospital Forbes Regional Campus | 2570 Haymaker Road |  | Monroeville | PA | 15146
West Suburban Medical Center | 3 Erie Court |  | Oak Park | Il | 60302
West Valley Hospital | 13677 W. McDowell Road |  | Goodyear | AZ | 85338
West Virginia University Hospitals, Inc | P.O. Box 8003 | Medical Center Drive | Morgantown | WV | 26506-8003
Westchester County Medical Center | 95 Grasslands Road Suite 114 |  | Valhalla | NY | 10595
Western Baptist Hospital | 2501 Kentucky Avenue |  | Paducah | KY | 42003
Western Cardiology | 9191 Grant Street |  | Denver | CO | 80229
Western Medical Center Santa Ana | 1001 North Tustin Avenue |  | Santa Ana | CA | 92705
Western Plains Medical Center | 3001 Avenue A |  | Dodge City | KS | 67801
Westside Regional Medical Center | 8201 West Broward Boulevard |  | Plantation | FL | 33324
Wheaton Franciscan Healthcare-All Saints, Inc | WFHC Clinical Data Management and Analysis | 5000 West Chambers, M229 | Milwaukee | WI | 53210
Wheaton Franciscan Healthcare-St. Francis, Inc | WFHC Clinical Data Management and Analysis | 5000 West Chambers, M229 | Milwaukee | WI | 53210
Wheaton Franciscan Healthcare-St. Joseph, Inc | WFH Clinical Data Management and Analysis | 5000 West Chambers, M229 | Milwaukee | WI | 53210
Wheeling Hospital | 1 Medical Park |  | Wheeling | WV | 26003
White County Medical Center | 3214 E. Race Avenue |  | Searcy | AR | 72143-4810
White Memorial Medical Center | 1720 Cesar E. Chavez Avenue |  | Los Angeles | CA | 90033
White River Medical Center | 1710 Harrison Street |  | Batesville | AR | 72501
William Beaumont Hospital | 54373 Samara Drive |  | Macomb | MI | 48073-2213
William Beaumont Hospita—Troy | 44201 Dequindre Road |  | Troy | MI | 48085
William W. Backus Hospital | 326 Washington Street |  | Norwich | CT | 06360
Willis-Knighton Pierremont | 2600 Greenwood Road |  | Shreveport | LA | 71103
Willis-Knighton Medical Center | 2600 Greenwood Road |  | Shreveport | LA | 71103
Wilson Memorial Hospital | 915 West Michigan Street |  | Sidney | OH | 45365
Wilson N. Jones Medical Center | 500 N. Highland Avenue |  | Sherman | TX | 75092
Winchester Medical Center Inc | 220 Campus Boulevard | Suite 313 | Winchester | VA | 22601
Winter Haven Hospital | 20005 Avenue F Northeast |  | Winter Haven | FL | 33881
Winthrop University Hospital | 19600 E. 39th Street |  | Independence | MO | 64057
Wise Regional Health System | 609 Medical Center Drive |  | Decatur | TX | 76234
Woman's Christian Association Hospital | 207 Foote Avenue |  | Jamestown | NY | 14701
Woodland Heights Medical Center | 505 S. John Redditt Drive |  | Lufkin | TX | 75904
Wooster Community Hospital | 1761 Beall Avenue |  | Wooster | OH | 44691
Wuesthoff Health System | 110 Longwood Avenue |  | Rockledge | FL | 32956-5002
Wyckoff Heights Medical Center | 374 Stockholm Street | Division of Cardiology-3rd Floor | Brooklyn | NY | 11237
Wyoming Medical Center | 1233 East 2nd Street |  | Casper | WY | 82601-2988
Wyoming Valley Health Care System | 575 North River Street |  | Wilkes-Barre | PA | 18764
Yakima Regional Medical Center/Cardiac Center | 110 S. 9th Avenue |  | Yakima | WA | 98902
Yakima Valley Memorial Hospital | 2811 Tieton Drive |  | Yakima | WA | 98902
Yale New Haven Hospital | 20 York Street |  | New Haven | CT | 06510
Yavapai Regional Medical Center | 1003 Willow Creek Road |  | Prescott | AZ | 86301
York Hospital | 15 Hospital Drive |  | York | ME | 03909
York Hospital | 1001 South George Street |  | York | PA | 17405
Yuma Regional Medical Center | 2400 S. Avenue A |  | Yuma | AZ | 85364

Addendum X—Active CMS Coverage-Related Guidance Documents [April through June 2009]

On September 24, 2004, we published a notice in the Federal Register (69 FR 57325), in which we explained how we would develop coverage-related guidance documents. These guidance documents are required under section 731 of the MMA. In our notice, we committed to the public that, “At regular intervals, we will update a list of all guidance documents in the Federal Register.”

Addendum X includes a list of active CMS guidance documents as of the ending date of the period covered by this notice. To obtain full-text copies of these documents, visit the CMS Coverage Web site at http://www.cms.hhs.gov/mcd/index_list.asp?list_type=mcd_1.

Document Name: Factors CMS Considers in Commissioning External Technology Assessments.

Date of Issuance: April 11, 2006.

Document Name: Factors CMS Considers in Opening a National Coverage Determination.

Date of Issuance: April 11, 2006.

Document Name: (Draft) Factors CMS Considers in Referring Topics to the Medicare Coverage Advisory Committee.

Date of Issuance: March 9, 2005.

Document Name: National Coverage Determinations with Data Collection as a Condition of Coverage: Coverage With Evidence Development.

Date of Issuance: July 12, 2006.

Addendum XI—List of Special One-Time Notices Regarding National Coverage Provisions [April through June 2009]

As medical technologies, the contexts under which they are delivered, and the health needs of Medicare beneficiaries grow increasingly complex, our national coverage determination (NCD) process must adapt to accommodate these complexities. As part of this adaptation, our national coverage decisions often include multi-faceted coverage determinations, which may place conditions on the patient populations eligible for coverage of a particular item or service, the providers who deliver a particular service, or the methods in which data are collected to supplement the delivery of the item or service (such as participation in a clinical trial).

We outline these conditions as we release new or revised NCDs. However, details surrounding these conditions may need to be shared with the public as “one-time notices” in the Federal Register. For example, we may require that a particular medical service may be delivered only in the context of a CMS-recognized clinical research study, which was not named in the NCD itself. We would then use Addendum XI of this notice, along with our coverage Web site at http://www.cms.hhs.gov/coverage, to provide the public with information about the clinical research study that it ultimately recognizes.

Addendum XI includes any additional information we may need to share about the conditions under which an NCD was issued as of the ending date of the period covered by this notice.

There were no Special One-Time Notices Regarding National Coverage Provisions published this quarter.

Addendum XII—National Oncologic PET Registry (NORP)

In January 2005, we issued our decision memorandum on positron emission tomography (PET) scans, which stated that CMS would cover PET scans for particular oncologic indications, as long as they were performed in the context of a clinical study. We have since recognized the National Oncologic PET Registry as one of these clinical studies. Therefore, in order for a beneficiary to receive a Medicare-covered PET scan, the beneficiary must receive the scan in a facility that participates in the Registry. The following facilities have met the CMS's requirements for performing PET scans under National Coverage Determination CAG-00181N.

Facility name | Provider No. | Date approved | State | Other information
Barnes-Jewish Hospital, Barnes-Jewish Plaza, Mailstop #90-72-374, St. Louis, MO 63110 | E40080o | 03/07/2006 | MO
Duke University Medical Center PET Facility, Room 0402 Duke So., Durham, NC 27710 | 34003 | 03/07/2006 | NC | Yellow Zone Box 3949.
VCU Health System-Molecular Imaging Center, Dept of Nuclear Medicine, North Hospital 7th Floor, Richmond, VA 23298 | 490032 | 03/07/2006 | VA | 1300 East Marshall—P.O. Box 980001.
Acadiana Oncologic Imaging, 2311 Kaliste Saloom, Lafayette, LA 70508 | 5CA64 | 03/06/2006 | LA
Adler Institute for Advanced Imaging, 261 Old York Road Suite 106, Jenkintown, PA 19046 |  | 03/07/2006 | PA
Advanced Medical Imaging San Saba, 215 N. San Saba, Suite 107, San Antonio, TX 78207 | 00BC90 | 03/07/2006 | TX
Advanced Medical Imaging Stone Oak, 540 Oak Centre, Suite 100, San Antonio, TX 78258 | 00BC90 | 03/07/2006 | TX
Advanced Radiological PET Imaging, PC, 2334 30th Avenue, Astoria, NY 11102 | 05677 | 03/07/2006 | NY | Lower Level.
Akron Regional PET Scan, LLC, 3009 Smith Road, Suite 350, Akron, OH 44333 | AKID01691 | 03/07/2006 | OH
American Radiology Services—Owings Mills, 21 Crossroads Drive, Suite 100, Owings Mills, MD 21117 | 434L | 03/07/2006 | MD
American Radiology Services—Bethesda, 6430 Rockledge Drive, Suite 100, Bethesda, MD 20817 | G00000 | 03/07/2006 | MD
American Radiology Services—Waldorf, 3510 Old Washington Road, Suite 101, Waldorf, MD 20602 | 435L | 03/07/2006 | MD
American Radiology Services—Columbia, 8820 Columbia Parkway 100, Columbia, MD 21045 | 434L | 03/07/2006 | MD
American Radiology Services—Frederick, 141 Thomas Johnson Drive, Suite 170, Frederick, MD 21702 | 435L | 03/07/2006 | MD
American Radiology Services—Timonium, 2080 York Road, Suite 160, Timonium, MD 21093 | 434L | 03/07/2006 | MD
Angel Williamson Imaging Center—Ft. Walton Beach, 1013-D Mar-Walt Drive, Ft. Walton Beach, FL 32547 | 39953A | 03/07/2006 | FL
Angel Williamson Imaging Center—Pensacola, 5120 Bayou Boulevard Suite 9, Pensacola, FL 32503 | 39953 | 03/07/2006 | FL
Edison Imaging Center, 3900 Park Avenue, Suite 107, Edison, NJ 08820 | AS008835 | 03/07/2006 | NJ
Avon Medical Diagnostic Center, 1480 Center Road, Suite C, Avon, OH 44011 | MC4039571 | 03/07/2006 | OH
Baltimore Imaging Centers, 3708 Mountain Road, Pasadena, MD 21122 | H476 | 03/07/2006 | MD
Baptist Hospital PET/CT, 1000 West Moreno Street, Pensacola, FL 32501 | 100093 | 03/07/2006 | FL
Bethesda Health City, 2623 S. Seacrest Boulevard, Boynton Beach, FL 33435 | 40237 | 03/07/2006 | FL
PET/CT Imaging at White Marsh, 9900 Franklin Square Drive, Suite D, Nottingham, MD 21236 | FMNX01 | 03/07/2006 | MD
Biomedical Research Foundation PET Imaging Center, 1505 Kings Highway, Shreveport, LA 71103 | 5D914 | 03/07/2006 | LA
BodyScan of Louisville LLC, 807 Shelbyville Road, Suite 201, Louisville, KY 40222 | 9372701 | 03/07/2006 | KY
Bradley Regional PET Imaging, Cleveland, TN 37311 | 3373976 | 03/07/2006 | TN | 2305 Chambliss Ave NW.
PET Imaging Institute of NJ, 1608 Rte 88 West, Suite 302, Brick, NJ 08724 | 070684 | 03/07/2006 | NJ
Broward PET Imaging Center, LLC, 4850 W. Oakland Park Boulevard, Suite A, Fort Lauderdale, FL 33313 | E5709 | 03/07/2006 | FL
Camelback Imaging, 15215 S. 48th Street, #110, Phoenix, AZ 85044 | 100488 | 03/07/2006 | AZ
California Imaging and Treatment Center, 3000 Oak Road, #111, Walnut Creek, CA 95497 | ZZZ27175Z | 03/07/2006 | CA
Cancer Care Centers of Brevard, 1430 S. Pine Street, Melbourne, FL 32901 | 39835 | 03/07/2006 | FL
Center for Medical Imaging—Florida Hospital, 1922 Salk Avenue, Tavares, FL 32778 | 100057 | 03/07/2006 | FL
Cancer Center of Colorado Springs, 320 E. Fontanero, Suite 200, Colorado Springs, CO 80907 | 79804 | 03/07/2006 | CO
Centro Sononuclear de Rio Piedras, 1028 Los Angeles Street, San Juan, PR 00926 | 83910 | 03/07/2006 | PR
Chattanooga Imaging East, 1710 Gunbarrel Road, Chattanooga, TN 37421 | 3716643 | 03/07/2006 | TN
Chester County PET Associates, 701 East Chester Marshall Street, West Chester, PA 19380 | 085698 | 03/07/2006 | PA
Cincinnati PET Scan, LLC—Kenwood, 7730 Montgomery Road, Suite 120, Cincinnati, OH 45236 | 311754291 | 03/07/2006 | OH
Cincinnati PET Scan, LLC Monfort Heights, 5575 Cheviot Road, Cincinnati, OH 45247 | 311754291 | 03/07/2006 | OH
Clinical PET of Hernando, 4003 Mariner Boulevard, Spring Hill, FL 34609 | L13228 | 03/07/2006 | FL
Clinical PET of Citrus, 6140 W. Corporate Oaks Drive, Crystal River, FL 34429 | U0121 | 03/07/2006 | FL
Clinical PET of Lake City, 484 SW. Commerce Drive, Suite 145, Lake City, FL 32025 | V2683 | 03/07/2006 | FL
Clinical PET of Ocala, 3143 SW. 32nd Avenue, Suite 100, Ocala, FL 34474 | E7179 | 03/07/2006 | FL
Columbus Regional Hospital, 2400 East 17th Street, Columbus, IN 47201 | 150112 | 03/07/2006 | IN
Concord Imaging, 18802 Meisner Drive, San Antonio, TX 78258 | 00126Z | 03/07/2006 | TX
Dartmouth Hitchcock Medical Center, One Medical Center Drive, Lebanon, NH 03756 |  | 03/07/2006 | NH
Dedicated PET Imaging, 2315 Sunset Boulevard, Suite E, Steubenville, OH 43952 | 01181 | 03/07/2006 | OH
Diablo Valley Oncology & Hematology Medical Group, 3000 Oak Road, #111, Walnut Creek, CA 94597 | ZZZ26796Z | 03/07/2006 | CA
Diagnostic Imaging at Baywalk, 129 1st Avenue N., St. Petersburg, FL 33701 | 00022 | 03/07/2006 | FL
DMS Imaging, 2101 N. University Drive, Fargo, ND 58109 |  | 03/07/2006 | ND | P.O. Box 8070.
Doylestown PET Associates, 599 W. State Street, Doylestown, PA 18901 | 059536 | 03/07/2006 | PA | Suite 202.
East Bay Medical Oncology-Hematology Assoc., Inc., 3000 Oak Road, #111, Walnut Creek, CA 94597 | ZZZ267792 | 03/07/2006 | CA
East River Medical Imaging, 519 East 72 Street, Suite 103, New York, NY 10021 | W11781 | 03/07/2006 | NY
El Camino Imaging Center, 8020 Constitution Place NE., Albequerque, NM 87110 | 237150 | 03/07/2006 | NM
Elite Imaging, LLC, 2845 Aventura Boulevard, Suite 145, Aventura, FL 33180 | K3535 | 03/07/2006 | FL
EPIC Imaging Center, 233 NE. 102nd Avenue, Portland, OR 97220 | 0000WCGNQ | 03/07/2006 | OR
Evergreen Radia, 11521 NE. 128th Street, Kirkland, WA 98034 | GAB39931 | 03/07/2006 | WA
Excel Diagnostics Imaging Clinics, 9701 Richmond Avenue, Suite 122, Houston, TX 77042 | FTA109 | 03/07/2006 | TX
First Imaging of the Carolinas, 30 Memorial Drive, Pinehurst, NC 29374 | 2346997 | 03/07/2006 | NC
Florida Hospital Advanced Nuclear Imaging PET, 328 Spruce Street, Orlando, FL 32804 | 100007 | 03/07/2006 | FL
Fort Jesse Imaging Center, LLC, 2200 Fort Jesse Road, Suite 120, Normal, IL 61761 | 209824 | 03/07/2006 | IL
Fox Chase Cancer Center, 333 Cotman Avenue, Philadelphia, PA 19111 | 390196 | 03/07/2006 | PA
Frederick Imaging Centers, 46B Thomas Johnson Drive, Frederick, MD 21702 | H476 | 03/07/2006 | MD
Fusion Diagnostic Group, LLC, 1700 California Street, Suite 260, San Francisco, CA 94109 | 00G366470 | 03/07/2006 | CA
Fusion Imaging Institute, 2419 E. Commercial Boulevard, Suite 101, Ft. Lauderdale, FL 33308 | 18281 | 03/07/2006 | FL
Future Diagnostics Group, 254 N. Republic Avenue, Joliet, IL 60435 | 200825 | 03/07/2006 | IL
Greater Niagra PET, LLC, 1 Columbia Drive, Suite 3, Niagra Falls, NY 14305 | BA0213 | 03/07/2006 | NY | Witmer Park Medical Center.
Hematology Oncology Associates of Baton Rouge, 4950 Essen Lane, Baton Rouge, LA 70809 | 5C696 | 03/07/2006 | LA
Gulf Coast Cancer & Diagnostic of Southeast, 12811 Beamer Road, Houston, TX 77089 | 149949301 | 03/07/2006 | TX
Henry Ford, Department of Radiology, 2799 W. Grand Boulevard, Detroit, MI 48202 | 230053 | 03/07/2006 | MI
High Point Regional Health System, 601 N. Elm Street, High Point, NC 27262 | 3400040 | 03/07/2006 | NC
Highlands Oncology Group, 3232 N. North Hills Boulevard, Fayetteville, AR 27203 | 5B823 | 03/07/2006 | AR
Holy Name Hospital, 718 Teaneck Road, Teaneck, NJ 07666 | 310008 | 03/07/2006 | NJ | PET/CT Center.
Holy Family Memorial Medical Center, P.O. Box 1450, Manitowoc, WI 54221 | 520107 | 03/07/2006 | WI | 2300 Western Ave.
Hospital of Saint Raphael, 1450 Chapel Street, New Haven, CT 05611 | 070001 | 03/07/2006 | CT
San Patricio MRI & CT Center, 1508 Roosevelt Avenue, Suite 103, San Juan, PR 00920 | 84997 | 03/07/2006 | PR
Imaging Center of Hartford Hospital, 80 Seymour Street, P.O. Box 5037, Hartford, CT 06102 | 070025 | 03/07/2006 | CT
Indian Wells PET/CT Center, 74785 Highway 111, #101, Indian Wells, CA 92210 | 1264523891 | 03/07/2006 | CA
Imaging Technology Associates, 3800 Reservoir Road NW., Washington, DC 20007 | FDNCX1 | 03/07/2006 | DC | Gorman 2043, PET Scan.
San Francisco Magnetic Resonance Center, 1180 Post Street, San Francisco, CA 94109 | ZZZ27498Z | 03/07/2006 | CA
Intermountain Medical Imaging, 2929 E. Magic View Drive, Meridian, ID 83642 | 82-05144-22 | 03/07/2006 | ID
Jefferson Center City Imaging, 850 Walnut Street, Philadelphia, PA 19107 | 66277 | 03/07/2006 | PA
Kansas City Cancer Center—Kansas, 12200 W. 110th Street, Overland Park, KS 66210 | 5650000D | 03/07/2006 | KS
Kansas City Cancer Center—Missouri, 4881 Goodview Circle, Lee's Summit, MO 66064 | 5650000E | 03/07/2006 | MO
Kreitchman PET Center, 180 Ft. Washington Avenue, HP3-315, New York, NY 10032 | WEM661 | 03/07/2006 | NY
LakePointe PET, 10914 Hefner Pointe Drive, Suite 100, Oklahoma City, OK 73120 | 700522143 | 03/07/2006 | OK
Lakeshore PET Imaging, LLC, 4932 W. 95th Street, Oak Lawn, IL 60453 | 200108 | 03/07/2006 | IL
Larchmont Imaging Associates, LLC, 210 Ark Road, Mt. Laurel, NJ 08054 | 517216 | 03/07/2006 | NJ
Las Cruces PET/CT Imaging, 1121 Mall Drive, Suite D, Las Cruces, NM 88011 | 300521065 | 03/07/2006 | NM
Lehigh Valley Diagnostic Imaging PET/CT, 1230 S. Cedar Crest Boulevard, Suite 104, Allentown, PA 18103 | 563802 | 03/07/2006 | PA
LifeScan Louisville, LLC, 4046 Dutchmans Lane, Louisville, KY 40207 | 9365601 | 03/07/2006 | KY
Limerick PET Associates, 420 W. Linfield-Trappe Road, Limerick, PA 19468 | 075015 | 03/07/2006 | PA | Suite 3400, Third Floor, Rear.
LifeScan Minnesota, 6525 France Avenue S, Suite 225, Edina, MN 55435 | 470000014 | 03/07/2006 | MN
Louisiana PET Imaging of Alexandra, LLC, 5419 A Jackson Street Exit, Alexandria, LA 71303 | 5C743 | 03/07/2006 | LA
LMR PET, 12600 Creekside Lane, Ft. Meyers, FL 33919 | E5725 | 03/07/2006 | FL
Louisiana PET Imaging of Lake Charles, LLC, 1750 Ryan Street, Lake Charles, LA 70601 | 5C905 | 03/07/2006 | LA
Insight Diagnostic Center—Forest Lane, 11617 N. Central Expressway #132, Dallas, TX 75243 | FTA016 | 03/07/2006 | TX
MDI of Thousand Oaks, 300 Lombard Street, Thousand Oaks, CA 91360 | W14186 | 03/07/2006 | CA
Meadowbrook PET Associates, 1695 Huntington Pike, Meadowbrook, PA 19046 | 064866 | 03/08/2006 | PA
Medical Imaging of Baltimore, 6715 N. Charles Street, Baltimore, MD 21204 | 258L | 03/08/2006 | MD
Metabolic Imaging of Laredo, 2344 Laguna Del Mar, Suites 5 & 6, Laredo, TX 78045 | FTN029 | 03/08/2006 | TX
Methodist Hospital PET Imaging Center, 301 W. Huntington Drive, Suite 120, Arcadia, CA 91007 | 9511643336 | 03/08/2006 | CA
Metro Region PET Center at Chevy Chase, 5454 Wisconsin Avenue, Suite 810, Chevy Chase, MD 20815 | 724811 | 03/08/2006 | MD
Clinical PET of St. Charles County, 1475 Kisker Road, St. Charles, MO 63304 | 000047047 | 03/08/2006 | MO
Metro Region PET Center at Woodburn Nuclear Medicine, 3289 Woodburn Road, Annandale, VA 22003 | 724811 | 03/08/2006 | VA
Michiana Hematology-Oncology, PC, 100 Navarre Place, Suite 5550, South Bend, IN 46601 | 216950 | 03/08/2006 | IN
Michigan State University—Radiology, 184 Radiology Building, East Lansing, MI 48824 | OC36350 | 03/08/2006 | MI
Clinical PET of West County, 450 N. New Ballas Road, Creve Coeur, MO 63141 | 000093043 | 03/08/2006 | MO
Modality Integration Services, Inc., 1854 SW. Greenway Circle, West Linn, OR 97068 |  | 03/08/2006 | OR
Molecular Imaging Center, 1733 Curie Drive, Suite 305, El Paso, TX 79912 | 00315U | 03/08/2006 | TX
Molecular Imaging of Suburban Chicago, LLC, 908 N. Elm Street, Suite 110, Hinsdale, IL 60521 | 212300 | 03/08/2006 | IL
Montclair Road Imaging LLC, 924 Montclair Road Suite 108, Birmingham, AL 35213 | 000056277 | 03/08/2006 | AL
Montefiore Medical Center, 1695A Eastchester Road, Bronx, NY 10461 | W06552 | 03/08/2006 | NY
Neurodiagnostics, PSC, 1725 Harrodsburg Road, Suite 100, Lexington, KY 40504 | 0406 | 03/08/2006 | KY
New Century Imaging, 555 Kinderkamack Road, Oradel, NJ 07649 | 085146 | 03/08/2006 | NJ
Newport Diagnostic Center, 1605 Avocado Avenue, Newport Beach, CA 92660 | W13396 | 03/08/2006 | CA
Next Generation Radiology PET/CT, 560 Northern Boulevard, Suite 111, Great Neck, NY 11021 | WR6091 | 03/08/2006 | NY
North Valley MRI and CT, 1638 Esplanade, Chico, CA 95926 | ZZZ247802 | 03/08/2006 | CA
Northwest Alabama Cancer Center Radiology Services, 302 W. Dr. Hicks Boulevard, Florence, AL 35630 | 051552219 | 03/08/2006 | AL
Northern Kentucky PET Scan, LLC, 651 Centre View Boulevard, Crestview Hills, KY 41017 | 311754291 | 03/08/2006 | KY
Northwest Cancer Center, 17323 Red Oak Drive, Houston, TX 77090 | 00D29C | 03/08/2006 | TX
Northwestern Memorial Hospital, 251 East Huron Street, Chicago, IL 60611 | 140281 | 03/08/2006 | IL | Galter 8-113.
Northern Shared Medical Services—Atlantic, IA, 1501 East Tenth Street, Atlantic, IA 50022 | I16068 | 03/08/2006 | IA | Cass County Memorial Hospital.
Northern Shared Medical Services—Audubon, IA, 515 Pacific Street, Audubon, Iowa 50025 | I16068 | 03/08/2006 | IA | Audobon County Memorial Hospital.
Northern Shared Medical Services—Beloit, KS, 400 West Eighth, Beloit, KS 67420 | 130618 | 03/10/2006 | KS | Mitchell County Hospital.
Northern Shared Medical Services—Bloomfield, IA, 507 North Madison Street, Bloomfield, IA 52537 | I16068 | 03/10/2006 | KS | Davis County Hospital.
Northern Shared Medical Services—Carrollton, MO, 1502 North Jefferson, Carrollton, MO 64633 | 000047013 | 03/10/2006 | MO | Carroll County Memorial Hospital.
Northern Shared Medical Services—Centerville, IA, 1st St. Joseph Drive, Centerville, IA 52544 | I16068 | 03/10/2006 | IA | Mercy Medical Center.
Northern Shared Medical Services—Carthage, IL, 160 S. Adams Street, Carthage, IL 62321 | 208196 | 03/10/2006 | IL | Memorial Hospital.
Northern Shared Medical Services—Clarinda, IA, 823 S. 17th Street, Clarinda, IA 51632 | I16068 | 03/10/2006 | IA | Clarinda Regional Health Center.
Northern Shared Medical Services—Chanute, KS, 629 South Plummer Avenue, Chanute, KS 66720 | 130618 | 03/10/2006 | KS | Neosho Memorial Regional Medical Center.
Northern Shared Medical Services—Edwardsville, IL, 1121 University Drive, Edwardsville, IL 62025 | 208196 | 03/10/2006 | IL | Edwardsville Health Center.
Northern Shared Medical Services—El Dorado, AR, 700 West Grove Street, El Dorado, AR 71730 | 5F168 | 03/10/2006 | AR | Medical Center of South Arkansas.
Northern Shared Medical Services—Farmington, MO, 1212 Weber Road, Farmington, MO 63640 | 000047013 | 03/10/2006 | MO | Mineral Area Regional Medical Center.
Northern Shared Medical Services—Janesville, WI, 1321 Creston Park Drive, Janesville, WI 53545 | 000092420 | 03/10/2006 | WI | Janesville Occupational Health & Medical Center.
Northern Shared Medical Services—Hiawatha, KS, 300 Utah Street, Hiawatha, KS 66434 | 130618 | 03/10/2006 | KS | Hiawatha Community Hospital.
Northern Shared Medical Services—Keokuk, IA, 1600 Morgan Street, Keokuk, IA 52632 | I16068 | 03/10/2006 | IA | Keokuk Area Hospital.
Northern Shared Medical Services—Macomb, IL, 525 East Grant Street, Macomb, IL 61455 | 208196 | 03/10/2006 | IL | McDonough District Hospital.
Northern Shared Medical Services—Mexico, MO, 620 East Monroe Street, Mexico, MO 65265 | 000047013 | 03/10/2006 | MO | Audrain Medical Center.
Northern Shared Medical Services—Moberly, MO, 1515 Union Avenue, Moberly, MO 65270 | 000047013 | 03/10/2006 | MO | Moberly Regional Medical Center.
Northern Shared Medical Services—Mountain Home, AR, 899 Burnett Drive, Mountain Home, AR 72653 | 5F168 | 03/10/2006 | AR | Cogburn Cancer Clinic.
Northern Shared Medical Services—Poplar Bluff, MO, 221 Physicians Park Drive, Poplar Bluff, MO 63901 | 000047013 | 03/10/2006 | MO | Poplar Bluff Medical Partners.
Northern Shared Medical Services—Perryville, MO, 434 North West Street, Perryville, MO 63775 | 000047013 | 03/10/2006 | MO | Perry County Memorial Hospital.
Northern Shared Medical Services—Rolla, MO, 1000 West Tenth Street, Rolla, MO 65401 | 000047013 | 03/10/2006 | MO | Phelps Co Regional Medical Center.
Northern Shared Medical Services—Virginia, MN, 901 Ninth Street North, Virginia, MN 55792 | 470000057 | 03/10/2006 | MN | Virginia Regional Medical Center.
Northern Shared Medical Services—Russellville, AR, 2504 West Main Street, Russellville, AR 72801 | 5F168 | 03/10/2006 | AR | Russellville Land Co.
Northern Shared Medical Services—West Plains, MO, 1100 Kentucky Avenue, West Plains, MO 65775 | 000047013 | 03/10/2006 | MO | Ozarks Medical Center.
Oakwood Hospital Medical Center, 18101 Oakwood Boulevard, Dearborn, MI 48124 | 230020 | 03/10/2006 | MI
Oakwood Southshore Medical Center, 5450 Fort Street, Trenton, MI 48183 | 230176 | 03/10/2006 | MI
Ocean Medical Imaging Center, 21 Stockton Drive, Toms River, NJ 08755 | 158432 | 03/10/2006 | NJ
Orange County Regional PET Center, LLC, 16300 Sand Canyon Avenue, Suite 103, Irvine, CA 92618 | TP018 | 03/10/2006 | CA
Orange Advanced Imaging Center, 230 Main Street, #101, Orange, CA 92868 | TP016A | 03/10/2006 | CA
Pacific Coast Imaging—Irvine, 250 E Yale Loop, Suite A, Irvine, CA 92604 | WG87478B | 03/10/2006 | CA
Pacific Coast Imaging—Newport, 3300 West Coast Highway, Newport Beach, CA 92663 | WG87478 | 03/10/2006 | CA
Pacific Imaging and Treatment Center, 5395 Ruffin Road, Suite 202, San Diego, CA 92123 | TP126 | 03/10/2006 | CA
Palm Beach Cancer Institute, 1395 State Road 7, Suite 310, Wellington, FL 33414 | 34754 | 03/10/2006 | FL
Pennsylvania PET Associates, 800 Spruce Street, Philadelphia, PA 19107 | 066282 | 03/10/2006 | PA | Second Floor, Widener Building.
PET Center of Western NY, 127 North Street, Batavia, NY 14020 | 187140 | 03/10/2006 | NY
Pet Imaging at CDR, 7600 N. 15th Street, Suite 102, Phoenix, AZ 85020 | WCFDG | 03/10/2006 | AZ
PET Imaging at the Lake, 5000 Hennessy Boulevard, Baton Rouge, LA 70809 | 5C868 | 03/10/2006 | LA
PET Imaging Center at Harford County, 602 S. Atwood Road, Suite 201, Bel Air, MD 21014 | FMN006 | 03/10/2006 | MD
PET Imaging Institute of South Florida, East 150 N. 35th Avenue, #665, Hollywood, FL 33021 | E3783 | 03/10/2006 | FL
PET Imaging Institute of South Florida—West, 603 N. Flamingo Road, S-155, Pembroke Pines, FL 33028 | E3783 | 03/10/2006 | FL
PET Scan Arizona—Peoria, 13460 N. 94th Drive, Suite J1, Peoria, AZ 85381 | 75400 | 03/10/2006 | AZ
PET Scan Arizona—Phoenix, 6036 N. 19th Avenue, Suite 305, Phoenix, AZ 85015 | 66860 | 03/10/2006 | AZ
PET/CT Diagnostic Medical Imaging, PC, 1200 Waters Place, Suite M108, Bronx, NY 10461 | W31091 | 03/10/2006 | NY
Precision Imaging, 4416 East West Highway, Suite 410, Bethesda, MD 20814 | FMN005 | 03/10/2006 | MD
Preferred PET Imaging of Kansas, LLC, 928 N. St. Francis Street, Wichita, KS 67214 | 110693 | 03/10/2006 | KS
Premium Diagnostics Center, 5319 Hoag Drive, Suite 130, Elyria, OH 44035 | ID01851 | 03/10/2006 | OH
PET Center Ft. Worth, 800 W. Magnolia Avenue, Fort Worth, TX 76104 | 0J062 | 03/10/2006 | TX | Suite 100.
Radiology Associates, LLP, 6001 S. Staples Street, Corpus Christi, TX 78413 | 00E816 | 03/10/2006 | TX
S. Arlington Imaging Center, 4601 Matlock Road, Arlington, TX 76018 | 0J062 | 03/10/2006 | TX
Radiology Group Imaging Center, LLC, 1970 E. 53rd Street, Davenport, IA 52807 | 16031 | 03/10/2006 | IA
PET/CT Scan Center Pembroke, 11325 Pembroke Square, Suite 116, Waldorf, MD 20603 | 521454775 | 03/10/2006 | MD
New York MedScan, 751 Second Avenue, New York, NY 10017 | 978701 | 03/10/2006 | NY
Rex Healthcare, 4420 Lake Boone Trail, Raleigh, NC 27607 | 340114 | 03/10/2006 | NC
San Fernando Regional PET Center, 6855 Noble Avenue, Van Nuys, CA 91405 | TP078 | 03/10/2006 | CA
PET/CT Imaging Center of Northwest Florida, 5149 North 9th Avenue, Suite 124, Pensacola, FL 32504 | U4696 | 03/10/2006 | FL
Saint Joseph's Hospital—Nuclear Medicine, 611 St. Joseph Avenue, Marshfield, WI 54449 | 520037 | 03/10/2006 | WI
Shared PET Imaging, LLC—Brooklyn, NY, 6300 Eight Avenue, Brooklyn, NY 11220 | 97Z661 | 03/10/2006 | NY
SC Cancer Specialists, 25 Hospital Center Boulevard #301, Hilton Head Island, SC 29926 | 1285633289 | 03/10/2006 | SC
Shared PET Imaging, LLC—Granger, IN, 6901 N. Main Street, Granger, IN 46530 | 232800 | 03/10/2006 | IN
University Hospital—Cincinnati, Eden Avenue & Albert Sabin Way, Cincinnati, OH 45219 |  | 03/10/2006 | OH
Shared PET Imaging, LLC—Marion, OH, 1050 Delaware Avenue, Marion, OH 43302 | ID01511 | 03/10/2006 | OH
Shared PET Imaging, LLC—Terre Haute IN, 3702 South Fourth Street, Terre Haute, IN 47802 | 201320 | 03/10/2006 | IN
South Jersey Radiology Associates, PA, 100 Carnie Boulevard, Suite B5, Voorhees, NJ 08043 | S0429966 | 03/10/2006 | NJ
Southwest PET/CT Institute—Tucson, 3503 N. Campbell Avenue, Suite 155, Tucson, AZ 85719 | 1396736922 | 03/10/2006 | AZ
Southwest PET/CT Institute—Yuma, 1951 W. 25th Street, Suite G, Yuma, AZ 85364 | 106077 | 03/10/2006 | AZ
St. Francis Health Center, 1700 SW. 7th Street, Topeka, KS 66606 | 17-0016 | 03/10/2006 | KS
Southwoods PET Scan, LLC, 250 Debartolo Place, Building B, Youngstown, OH 44512 | PCN05210036 | 03/10/2006 | OH
St. Louis PET Centers, LLC, 12637 Olive Boulevard, Creve Coeur, MO 63376 | 1861470734 | 03/10/2006 | MO
St. Vincent's PET Center, LLC, 2660 10th Avenue S, POBI Suite 104, Birmingham, AL 35205 | 051555054 | 03/10/2006 | AL
Sun Molecular Imaging—Peoria, 13090 N. 94th Drive, #103, Peoria, AZ 85381 | 71585 | 03/10/2006 | AZ
Sun Molecular Imaging—Sun City West, 13909 W Camino Del Sol, #101, Sun City West, AZ 85375 | 71585 | 03/10/2006 | AZ
Tarzana Advanced Imaging, 5536 Reseda Boulevard, Tarzana, CA 91356 | TP051A | 03/10/2006 | CA
The Methodist Hospital PET Center, 6565 Fannin Street, MBI-066, Houston, TX 77030 | 450358 | 03/10/2006 | TX
Texarkana PET Imaging Institute, LP, 1929 Moores Lane, Texarkana, TX 75503 | FTN008 | 03/10/2006 | TX
The PET/CT Center of North Florida, 5742 Booth Road, Jacksonville, FL 32207 | K7038P | 03/10/2006 | FL
The Washington Hospital, 155 Wilson Avenue, Washington, PA 15301 | 390042 | 03/10/2006 | PA
The PET/CT Scanning Center, 235 18th Street, SE., Hickory, NC 28602 | 2881788 | 03/10/2006 | NC
Thompson Cancer Survival Center PET Imaging Center, 9711 Sherrill Boulevard, Knoxville, TN 37923 | 3791106 | 03/10/2006 | TN
Thunderbird MRI and PET Center, 6591 W. Thunderbird Road, Suite A-1, Glendale, AZ 85306 | 79467 | 03/10/2006 | AZ
Tower Imaging Roxsan, 465 N. Roxbury Drive, Suite 101, Beverly Hills, CA 90210 | TP114 | 03/10/2006 | CA
Tower Hematology Oncology Medical Group, 9090 Wilshire Boulevard, Suite 200, Beverly Hills, CA 90211 | W11793 | 03/10/2006 | CA
TRA Medical Imaging, 2202 S. Cedar Street, Suite 200, Tacoma, WA 98405 | 001055600 | 03/10/2006 | WA
Trident PET of Fayette, 1275 Highway 54 West, Suite 102, Fayetteville, GA 30214 | 47BBBJJ | 03/10/2006 | GA
Trident PET of Gwinnett, 545 Old Norcross Road, Lawrenceville, GA 30045 | 47BBBGX | 03/10/2006 | GA | Suite 200.
Trident PET of Savannah, 7135 Hodgson Memorial Drive, Savannah, GA 31406 | 47BBBKP | 03/10/2006 | GA | Suite 10A.
Tristan Associates, 4520 Union Deposit Road, Harrisburg, PA 17111 | 112344 | 03/10/2006 | PA
Union Square Diagnostic Imaging, 144 Fourth Avenue, New York, NY 10003 | WR7502 | 03/10/2006 | NY
UCLA—Dept. of Molecular & Medical Pharmacology, 10833 Le Conte Avenue, Los Angeles, CA 90095 | HW13029 | 03/10/2006 | CA | AR-115-CHS.
UCLA—Dept. of Molecular & Medical Pharmacology, 10833 Le Conte Avenue, Los Angeles, CA 90095 | HW13029 | 03/10/2006 | CA | AR-115-CHS.
University Nuclear Medicine, Inc., 105 Parker Hall, Buffalo, NY 14214 | 14414A | 03/10/2006 | NY | 3435 Main St.
University Radiology Group, 75 Veronica Avenue, Suite 102, Somerset, NJ 08873 | 425699 | 03/10/2006 | NJ
Anne Arundel Medical Center, 2001 Medical Parkway, Annapolis, MD 21401 | 210023 | 03/10/2006 | MD
US Imaging Center Corp., LLC, 842 Sunset Lake Boulevard, Suite 301, Venice, FL 34292 | U0331 | 03/10/2006 | FL
USC PET Imaging Science Center, 1510 San Pablo Street, Suite 350, Los Angeles, CA 90033 | W11874 | 03/10/2006 | CA
Rolling Oaks Radiology, 415 Rolling Oak Drive, Suite 160, Thousand Oaks, CA 91361 | W10746 | 03/10/2006 | CA
Vero Radiology Associates, Inc., 777 37th Street, Suite A-103, Vero Beach, FL 32960 | 97445 | 03/10/2006 | FL
Ventura Coast Imaging Center, 4601 Telephone Road, Suite 101, Ventura, CA 93003 | W11335 | 03/10/2006 | CA
Washington Imaging Services, LLC, 1135-116th Avenue, NE., Bellevue, WA 98004 | GAB23386 | 03/10/2006 | WA
Washington Hospital Center, 110 Irving Street, NW., Washington, DC 20010 | 090011 | 03/10/2006 | DC
Washoe Med Imaging Services at 75 Kirman, 75 Kirman Avenue, Reno, NV 89502 | WCHBB | 03/10/2006 | NV
Wesley Long Hospital-Moses Cone Health System, 501 North Elam Avenue, Greensboro, NC 27403 | 34-0091 | 03/10/2006 | NC
Westcoast Radiology, 36463 U.S. Highway, 19 N., Palm Harbor, FL 34684 | E4187 | 03/10/2006 | FL
Western Washington Oncology, 4525 3rd Avenue SE., Lacey, WA 98503 | 1497749642 | 03/10/2006 | WA
Windber Medical Center, 600 Somerset Avenue, Windber, PA 15963 | 390112 | 03/10/2006 | PA
Wyoming Valley PET Associates, 190 Welles Street, Forty Fort, PA 18704 | 045012 | 03/10/2006 | PA
Youngstown Regional PET Scan, 850 McKay Court, Youngstown, OH 44512 | Y0ID0174 | 03/10/2006 | OH
X-RAY Associates at Santa Fe, 490 A West Zia Road, Suite 130, Santa Fe, NM 87505 | 2258263 | 03/10/2006 | NM
Sibley Memorial Hospital, 5255 Loughboro Road, NW., Washington, DC 20016 | 090005 | 03/10/2006 | DC
Lerman Diagnostic Imaging, 6511 Fort Hamilton Parkway, Brooklyn, NY 11215 | 16H771 | 03/10/2006 | NY
XRC Medical Imaging, 53940 Carmichael Drive, South Bend, IN 46635 | 187390 | 03/10/2006 | IN
St. Luke's Hospital, 1026 A. Avenue N.E., Cedar Rapids, IA, 52406-3026 | 160045 | 03/10/2006 | IA | P.O. Box 3026.
University Imaging at Science Park, 110 Science Parkway, Suite 100, Rochester, NY 14620 | 16624A | 03/10/2006 | NY
Kadlec Medical Center/Nuclear Medicine Dept., 945 Goethals Street, Richland, WA 99352 | 1972507580 | 03/10/2006 | WA
Central Georgia PET, LLC, 1650 Hardmon, Macon, GA 31201 | 47BBBKC | 03/10/2006 | GA
PET/CT Imaging at Swedish Cancer Institute, 1221 Madison Street, First Floor, Seattle, WA 98104 | 8857387 | 03/10/2006 | WA
National PET Scan Duval, LLC, 425 North Lee Street, Jacksonville, FL 32204 | E7348 | 03/10/2006 | FL
National PET Scan Pinellas, LLC, 805 Executive Center Drive W., St. Petersburg, FL 33702 | E7503 | 03/10/2006 | FL
National PET Scan Dade, LLC, 7867 North Kendall Drive, Suite 121, Miami, FL 33156 | E5427 | 03/10/2006 | FL
National PET Scan Broward, LLC, 6290 North Federal Highway, Fort Lauderdale, FL 33308 | E5432 | 03/10/2006 | FL
Scottsdale Medical Imaging, Ltd., 7624 E. Indian School Road, Suite 109-1, Scottsdale, AZ 85251 | WCFKX | 03/10/2006 | AZ
Lakes Regional General Hospital, 80 Highland Street, Laconia, NH 03246 | 300005 | 03/10/2006 | NH
Northern California PET Imaging Center, 3195 Folsom Boulevard, Sacramento, CA 95816 | ZZZ15725Z | 03/10/2006 | CA
Northern California PET Imaging Center—Mobile, 3195 Folsom Boulevard, Sacramento, CA 95816 | ZZZ25157Z | 03/10/2006 | CA
Northern California PET Imaging Center—VAPA, 3801 Miranda Avenue, Palo Alto, CA 94304 | ZZZ21308Z | 03/10/2006 | CA
Advanced Medical Imaging, 3548 Route 9 South, Old Bridge, NJ 08857 | 595865 | 03/10/2006 | NJ
St. Vincent Infirmary Medical Center, PET/CT Center, 2 St. Vincent Circle, Little Rock, AR 72205-5499 | 04-0007 | 03/10/2006 | AR
Lincoln Trail Diagnostics, 1111 Woodland Drive, Elizabethtown, KY 42701 | 470001408 | 03/10/2006 | KY
LifeScan Imaging, 607 Clifty Street, Somerset, KY 42503 | 7614 | 03/10/2006 | KY
St. John's Hospital Springfield Nuclear Medicine, 1235 E. Cherokee Street, Springfield, MO 65804 | 26-0065 | 03/10/2006 | MO
City of Hope, 1500 E. Duarte Road, Duarte, CA 91010 | 050146 | 03/10/2006 | CA | Dept. of Nuclear Medicine.
Hackettstown Regional Medical Center, 651 Willow Grove Street, Hackettstown, NJ 07840 | 310115 | 03/10/2006 | NJ
Imaging Alliance—Nashville PET, LLC, 52 White Bridge Road, Nashville, TN 37205 | 3791068 | 03/10/2006 | TN
Molecular Imaging of Bradenton, 2301 60th Street, Court West, Suite A, Bradenton, FL 34209 | U1334 | 03/10/2006 | FL
Molecular Imaging of Charlotte County, 4130 Tamiami Trail, Port Charlotte, FL 33952 | U1934 | 03/10/2006 | FL
Imaging For Life, 3830 Bee Ridge Road, Suite A, Sarasota, FL 34233 | E6704 | 03/10/2006 | FL
Seattle Nuclear Medicine/Ultrasound Associates, 1229 Madison Street, Suite 1050, Seattle, WA 98104 | G000158400 | 03/10/2006 | WA
Columbus Circle Imaging, 1790 Broadway, 9th Floor, Yonkers, NY 10704 | W00691 | 03/10/2006 | NY
Bryn Mawr Imaging Center-PET, 100 Lancaster Avenue, Wynnewood, PA 19096 | 473120 | 03/10/2006 | PA
Beth Israel Deaconess Medical Center, 330 Brookline Avenue, Boston, MA 02215 | 220086 | 03/10/2006 | MA
Boca Raton Community Hospital, 800 Meadows Road, Boca Raton, FL 33486 | 100168 | 03/10/2006 | FL
Centro Tomograficio de PR, Inc., 1409 Ashford Avenue, San Juan, PR 00907 | 0087834 | 03/10/2006 | PR
Comprehensive Cancer Centers of Nevada, 3730 S. Eastern Avenue, Las Vegas, NV 89109 | WCHCX | 03/10/2006 | NV
Grossman Imaging Center of CMH, 2151 E. Gonzales Road, Suite 101, Oxnard, CA 93036 | W17252 | 03/10/2006 | CA
Cookeville Regional Medical Center, 142 W. 5th Street, Cookeville, TN 38501 | 440059 | 03/10/2006 | TN
Instituto Central de Diagnostico, Inc., 1er. Floor Oncologic Hospital, San Juan, PR 00928 | 007835 | 03/10/2006 | PR | PR Medical Center.
Mercy Medical Center—Cedar Rapids, 701 Tenth Street SE., Cedar Rapids, IA 52403 | 16-0079 | 03/10/2006 | IA
Midwest Radiologic Imaging—1144217241, 4087 Gateway Boulevard, Newburgh, IN 47630 | 1144217241 | 03/10/2006 | IN
Miami Valley Hospital, 1 Wyoming Street, Dayton, OH 45409 | 360051 | 03/10/2006 | OH
Midwest Radiologic Imaging—214790, 4087 Gateway Boulevard, Newburgh, IN 47630 | 214790 | 03/10/2006 | IN
Midwest Regional PET/CT Center, 6001 S. Sharon Avenue, Suite #2, Sioux Falls, SD 57108 | 41406 | 03/10/2006 | SD
Mission Hospital, PET Center, 222 Asheland Avenue, Asheville, NC 28801 | 3400002 | 03/10/2006 | NC
Mobile Molecular Imaging, LLC, 100 Memorial Hospital Drive, Suite 1E, Mobile, AL 36608 | 1003804345 | 03/10/2006 | AL
Nebraska Health Imaging, 7819 Dodge Street, Omaha, NE 68114 | 098975 | 03/13/2006 | NE
Montgomery Metabolic & Memory Imaging Center, 7100 University Court, Montgomery, AL 36117 | 057554625 | 03/13/2006 | AL
Orange County Diagnostic Radiology, Inc., 17150 Euclid Street, Suite 101, Fountain Valley, CA 92708 | TD057 | 03/13/2006 | CA
Northwest PET Imaging, 265 N. Broadway, Portland, OR 97227 | 105512 | 03/13/2006 | OR
Nevada Cancer Institute Medical Group, One Breakthrough Way, 10441 W. Twain Avenue, Las Vegas, NV 89135 | 100505 | 03/13/2006 | NV
Positron Emission Tomography Institute at Hampton, 5357 Henneman Drive, Norfolk, VA 23513 | FVN001 | 03/13/2006 | VA
Positron Imaging Facility, 1311 Record Crossing Road, Mail Code 9140, Dallas, TX 75235 | UT000F626 | 03/13/2006 | TX
Premier Diagnostic Imaging, 10019 Forest Green Boulevard, Louisville, KY 40299 | 9375201 | 03/13/2006 | KY
Positron PET/CT of the Southern Tier, 169 Riverside Drive, Binghamton, NY 13905 | AA1047 | 03/13/2006 | NY
Radiology Regional Center, PA, Inc.—Naples, 700 Goodlette Road, Naples, FL 34102 | 77185 | 03/13/2006 | FL
Somascan Plaza, Inc., Suite 405 Torre de Plaza Plaza Las Americas, San Juan, PR 00917 | 0089178 | 03/13/2006 | PR
Somascan, Inc., Jose Marti #56, San Juan, PR 00917 | 0082435 | 03/13/2006 | PR
Southern Indiana Radiological Associates, 500 Landmark Avenue, Bloomington, IN 47403 | 214160 | 03/13/2006 | IN
Southern Illinois Cancer Center, 10286 Fleming Road, Carterville, IL 62918 | 643740 | 03/13/2006 | IL
South Nassau PET, One Healthy Way, Oceanside, NY 11572 | 97z851 | 03/13/2003 | NY
Southwest Diagnostic Center for Molecular Imaging, 8440 Walnut Hill Lane, Suite 100, Dallas, TX 75231 | FTN-015 | 03/13/2006 | TX
St. Mary's Health Systems, 900 E. Oakhill Avenue, Knoxville, TN 37917 | 440120 | 03/13/2006 | TN
Tower Diagnostic Center, 4719 N. Habana Avenue, Tampa, FL 33614 | 00169 | 03/13/2003 | FL
Torrance Morial Medical Center, 3330 Lomita Boulevard, Torrance, CA 90505 | 050351 | 03/13/2006 | CA
University of Colorado Hospital (AOP), 1635 N. Ursula Street, Aurora, CO 80045 | 06-0024 | 03/13/2006 | CO
William Beaumont Hospital—Royal Oak, 3601 West 13 Mile Road, Royal Oak, MI 48073-6769 | 23030 | 03/13/2006 | MI
Esther Quijoy Catalya, M.D., 3000 Oak Road #111, Walnut Creek, CA 94597 | 00A449120 | 03/13/2006 | CA
Valley PET Institute, 311 S. Ham Lane, Lodi, CA 95242 | 00C283720 | 03/13/2006 | CA
Dan Ben-Zeev, M.D., 3000 Oak Road #111, Walnut Creek, CA 94597 | 00G129831 | 03/13/2006 | CA
Midwest Center for Advanced Imaging, 1307 Macom Drive, Naperville, IL 60564 | L72461 | 03/13/2006 | IL
Crittenton Hospital Medical Center, 1101 W. University Drive, Rochester, MI 48307 | 230054 | 03/13/2006 | MI
Medical Specialists of Palm Beaches, Inc., 5700 Lake Worth Road, Suite 204, Lake Worth, FL 33463 | 33941A | 03/13/2006 | FL
PET Medical Imaging Center, 3264 North Evergreen Drive, Grand Rapids, MI 49525 | 0P02650 | 03/13/2006 | MI
Radiology Regional Center, PA, Inc.—RPET, 6100 Winkler Road, Suite A, Fort Myers, FL 33919 | 77185 | 03/13/2006 | FL
Good Samaritan Hospital, 520 S. 7th Street, Vincennes, IN 47591 | 150042 | 03/13/2006 | IN
Central Indiana Cancer Center, 6845 Rama Drive, Indianapolis, IN 46219 | 065910 | 03/13/2006 | IN
Decatur PET Imaging, 2774 W. Decatur Road, Decatur, GA 30033 | 47BBBLP | 03/13/2006 | GA
Community Memorial Hospital, Medical Imaging, 855 S. Main Street, Oconto Falls, WI 54154 | 00439MPN | 03/13/2006 | WI
Olympic Radiology, 2700 Clare Avenue, Bremerton, WA 98310 | 000242100 | 03/13/2006 | WA
Capitol Imaging, 3161 L Street, Sacramento, CA 95816 | 1285615294 | 03/13/2006 | CA
National Medical Imaging—Bryn Mawr, 574 W. Lancaster Avenue, Bryn Mawr, PA 19010 | 024513 | 03/13/2006 | PA
National Medical Imaging—Langhorne, 2 Doublewoods Road, Suite B, Langhorne, PA 19047 | 024513 | 03/13/2006 | PA
National Medical Imaging—Philadelphia, 1903-05 South Broad Street, Philadelphia, PA 19148 | 024513 | 03/13/2006 | PA
University of VA Health System, Radiology, 1215 Lee Street, Charlottesville, VA 22908 | 490009 | 03/13/2006 | VA
Florida Institute for Advanced Diagnostic Imaging, 9238 U.S. 19, Port Richey, FL 34668 | 59-3475930 | 03/13/2006 | FL
Roseville PET & Nuclear Medicine Imaging, 2241 Douglas Boulevard #110, Roseville, CA 95661 | 1194706689 | 03/13/2006 | CA
Memorial Sloan Kettering Cancer Center, 1275 York Avenue, New York, NY 10021 | 330154 | 03/13/2006 | NY
Northeast PET Imaging Center, 8400 Roosevelt Boulevard, Suite 208, Philadelphia, PA 19152 | 083723 | 03/13/2006 | PA | Medical Arts Center at Parte Ridge.
UAMS PET Center, 4301 West Markham Street, Little Rock, AR 72205 | 50528 | 03/13/2006 | AR
Joliet Oncology-Hematology Assoc., Ltd., 1600 W. Route 6, Morris, IL 60450 | 205474 | 03/13/2006 | IL
Saint Luke's Hospital, 4323 Wornall Road, Kansas City, MO 64111 | 26-0138 | 03/13/2006 | MO | AH Peet Center.
Mercy Medical Center, 1320 Mercy Drive, Canton, OH 44708 | 360070 | 03/13/2006 | OH
Dayton Medical Imaging Center, 7901 Schatz Pointe Drive, Dayton, OH 45459 | US1D00231 | 03/13/2006 | OH
Community Radiology of Virginia, 2000 Leatherwood Lane, Bluefield, VA 24605 | FVA002 | 03/13/2006 | VA
Bab Radiology—Huntington, 75 East Main Street, Huntington, NY 11743 | W1L612 | 03/13/2006 | NY
Bab Radiology—Hauppauge, 521 Route 111, Suite 312, Hauppauge, NY 11788 | W1L601 | 03/13/2006 | NY
Center for Diagnostic Imaging—37, 5775 Wayzata Boulevard #190, St. Louis Park, MN 55416 | 470000037 | 03/13/2006 | MN
Center for Diagnostic Imaging, 5775 Wayzata Boulevard, Suite 190, St. Louis Park, MN 55416 | C01307 | 03/13/2006 | MN
Center for Diagnostic Imaging—Mendota Heights, 910 Sibley Memorial Highway, Mendota Heights, MN 55118 | 470000038 | 03/13/2006 | MN
Huntsville Hospital Imaging Center, 1963 Memorial Parkway, Huntsville, AL 35801 | 010039 | 03/13/2006 | AL
Long Beach PET Imaging Center, 2888 Long Beach, Boulevard, Suite 110, Long Beach, CA 90806 | TG167 | 03/13/2006 | CA
Highway Imaging Associates, LLP, 2095 Flatbush Avenue, Brooklyn, NY 11234 | W10671 | 03/13/2006 | NY
St. Vincent Hospital, P.O. Box 13508, Green Bay, WI 54307 | 520075 | 03/13/2006 | WI
Park South Imaging Center, 6215 21st Avenue, West #A, Bradenton, FL 34209 | E1858 | 03/13/2006 | FL
Mary Bird Perkins Cancer Center, 4950 Essen Lane, Baton Rouge, LA 70809 | 57290 | 03/13/2006 | LA
Boston Diagnostic Imaging, 398 Altamonte Drive, Altamonte Springs, FL 32701 | E3510 | 03/13/2006 | FL
Sioux Valley Hospital Medical Center, 1305 W. 18th Street, Sioux Falls, SD 57117 | 430027 | 03/13/2000 | SD
Indianapolis Regional PET Scan, LLC, 3830 Shore Drive, Indianapolis, IN 46254 | 207260 | 03/13/2006 | IN
St. Joseph's PET Center, 1 Mercy Lane, Suite 105, Hot Springs, AR 71913 | 5C739 | 03/13/2006 | AR
Hinsdale PET Scan, LLC, 812 Ogden Avenue, Westmont, IL 60559 | 206271 | 03/13/2006 | IL
Del Amo PET Imaging Center, 3531 Fashion Way, Torrance, CA 90501 | TP120 | 03/13/2006 | CA
North Shore PET Imaging Center, 85 Herrick Street, Beverly, MA 1915 | 327110 | 03/13/2006 | MA | Beverly Hospital.
Robert D. Russo & Associates Radiology, PC, P.O. Box 6128, Bridgeport, CT 06606 | C02013 | 03/13/2006 | CT
Advanced Medical Specialties, 9035 Sunset Drive, Suite 102, Miami, FL 33173 | K7806 | 05/03/2006 | FL
Baptist M & S Imaging Center—Downtown, 215 E. Quincy Street #100, San Antonio, TX 78215 | FTA078 | 05/03/2006 | TX
Community Cancer Center, 545 W. Umpqua Street, Roseburg, OR 97470 | R116571 | 05/03/2006 | OR
Baptist M & S Imaging Center, 7888 Fredericksburg Road, San Antonio, TX 78228 | FTA078 | 05/03/2006 | TX
Evanston Northwestern Healthcare—Highland Park, 757 Park Avenue West, Highland Park, IL 60035 | 14-0010 | 05/03/2006 | IL
Grenada Diagnostic Radiology, 1300 Sunset Drive, Suite U, Grenada, MS 38901 | 470000034 | 05/03/2006 | MS
Huntsman Cancer Hospital, 2000 Circle of Hope, Suite 2121, Salt Lake City, UT 84112-5550 | 460009 | 05/03/2006 | UT
High Tech Medical Park, 11800 Southwest Highway, Palos Heights, IL 60463 | 0703070 | 05/03/2006 | IL
Cyrus Diagnostic Imaging, Inc., 165 Waymont Court, Lake Mary, FL 32746 | 40586 | 05/03/2006 | FL
Indiana Regional PET Imaging, 7891 Broadway, Suite A, Merrillville, IN 46410 | 229400 | 05/03/2006 | IN
Lancaster PET Imaging, 2100 Harrisburg Pike, Lancaster, PA 17601 | 054504 | 05/03/2006 | PA
James PET/CT Imaging Center, 236 Doan Hall, Columbus, OH 43210 | 360242 | 05/03/2006 | OH | 410 W. 10th Ave.
Mary Lanning Memorial Hospital, 715 N. St. Joseph Avenue, Hastings, NE 68901 | 280032 | 05/03/2006 | NE
Maplewood Cancer Center—MOHPA, 1580 Beam Avenue, Maplewood, MN 55109 | C01828 | 05/03/2006 | MN
Titusville Area Hospital, 406 W. Oak Street, Titusville, PA 16354 | 390122 | 05/03/2006 | PA
Memorial Hospital, 325 S. Belmont Street, York, PA 17403 | 390101 | 05/03/2006 | PA
Mercy Regional Health Center, 1823 College Avenue, Manhattan, KS 66502 | 17-0142 | 05/03/2006 | KS
Northshore Regional PET Scan, LLC, 1464 Waukegan Road, Glenview, IL 60025 | 206272 | 05/03/2006 | IL
Northwest Indiana PET/CT Center, 1505 S. Calument Road, Suites 7 & 8, Chesterton, IN 46304 | 229810 | 05/03/2006 | AL
Parkway Ventures, Inc., 9000 Franklin Square Drive, Baltimore, MD 21237 | FMN002 | 05/03/2006 | MD | Franklin Square Hospital.
PET Fusion Imaging, 3707 New Vision Drive, Fort Wayne, IN 46845 | 190320 | 05/03/2006 | IN
River Oaks Imaging & Diagnostics, P.O. Box 4346, Houston, TX 77210 | FTA059 | 05/03/2006 | TX | Dept 848.
Regional PET Scan, LLC—Beachwood, 2000 Auburn Road, Beachwood, OH 44122 | REID02211 | 05/03/2006 | OH
Regional PET Scan, LLC—Fairview, 20455 Lorain Road, Fairview Park, OH 44126 | REID02211 | 05/03/2006 | OH
Regional PET Scan, LLC—Ridgepark, 7575 Northcliff Avenue, Brooklyn, OH 44144 | REID02211 | 05/03/2006 | OH
Saint Francis Hospital, 114 Woodland Street, Hartford, CT 06105 | 07-0002 | 05/03/2006 | CT
St. Nicholas Hospital, 3100 Superior Avenue, Sheboygan, WI 53081 | 520044 | 05/03/2006 | WI
Swedish Medical Center, 501 E. Hampton Avenue, Englewood, CO 80113 | 060034 | 05/03/2006 | CO
St. Bernards PET Center, 225 E. Jackson Avenue, Jonesboro, AR 72401 | 5C658 | 05/03/2006 | AR
Toledo Regional PET Scan, LLC, 3442 Granite Circle, Toledo, OH 43617 | T0ID01881 | 05/03/2006 | OH
University MRI, 3848 F.A.U. Boulevard, Suite 200, Boca Raton, FL 33431 | E1765 | 05/03/2006 | FL
Tucson PET Imaging, 5355 E. Erickson Drive, Tucson, AZ 85712 | WCBBM | 05/03/2006 | AZ
Via Christi Oklahoma Regional Medical Center, 1900 N. 14th Street, Ponca City, OK 74601 | 370006 | 05/03/2006 | OK
Christian Hospital, 11133 Dunn Road, St Louis, MO 63136 | 260180 | 05/03/2006 | MO
DRA Imaging PC, 1 Columbia Street, Poughkeepsie, NY 12601 | W18691 | 05/03/2006 | NY
Cleveland Clinic Star Imaging, 921 Jasonway Avenue, Columbus, OH 43214 | 34-1932969 | 05/03/2006 | OH
Norman PET Associates, LLC, 3750 W. Robinson Street, Suite 130, Norman, OK 73072 | 900522224 | 05/03/2006 | OK
Rhode Island PET Services—St. Josephs, 200 High Service Avenue, N Providence, RI 02904 | 479003556 | 05/03/2006 | RI
Rhode Island PET Services—South County Hospital, 100 Kenyon Avenue, Wakefield, RI 02879 | 479003556 | 05/03/2006 | RI
Rhode Island PET Services—Roger Williams, 825 Chalkstone Avenue, Providence, RI 02908 | 479003556 | 05/03/2006 | RI
Rhode Island PET Services—Landmark, 115 Cass Avenue, Woonsocket, RI 02895 | 479003556 | 05/03/2006 | RI
Forest City Diagnostic Imaging, 735 Perryville Road, Rockford, IL 61107 | 546450 | 05/03/2006 | IL | Lower Level 2.
New England Molecular Imaging—York, 15 Hospital Drive, York, ME 03909 | 479003556 | 05/03/2006 | ME
Pavilion Imaging, 750 Wellington Avenue, Grand Junction, CO 81502 | 060023 | 05/03/2006 | CO
Lifescan Chicago, 2242 W. Harrison Street, Chicago, IL 600612 | 470000014 | 05/03/2006 | IL
Southeast Medical Imaging, 300 Evergreen Drive, Suite 210, Glen Mills, PA 19342 | 092801 | 05/03/2006 | PA
The Western Pennsylvania Hospital, 4800 Friendship Avenue, Pittsburgh, PA 15224 | 390090 | 05/03/2006 | PA
Southtowns PET/CT, 550 Orchard Park Road, West Seneca, NY 14224 | 14422A | 05/03/2006 | NY
Main Street Radiology—Bayside, 44-01 Francis Lewis Boulevard, Bayside, NY 11361 | 04217 | 05/03/2006 | NY
Main Street Radiology—Bayside, 44-01 Francis Lewis Boulevard, Bayside, NY 11361 | 04217A | 05/03/2006 | NY
West VA University Center for Advanced Imaging, 1 Medical Center Drive, Morgantown, WV 26506 | 9121131 | 05/03/2006 | WV | P.O. Box 9236, Health Center South.
Twin Lakes Medical Specialist, PA, 228 Bucher Drive, Mountain Home, AR 72653 | 5B019 | 05/03/2006 | AR
Valley Metabolic Imaging, LLC, 6121 N Thesta Street, Fresno, CA 93710 | ZZZ23924Z | 05/03/2006 | CA | Suite 207.
Johnson City Medical Center, 400 North State of Franklin, Johnson City, TN 37642 | 440063 | 05/03/2006 | TN
St. Louis University Hospital, 3665 Vista Avenue, St Louis, MO 63110 | 000050109 | 05/03/2006 | MO
Margaret R. Pardee Memorial Hospital, 800 North Justice Street, Hendersonville, NC 28791 | 340017A | 05/03/2006 | NC
Valley Imaging Partnership, 1401 W. Merced Avenue #103, West Covina, CA 91790 | TP035 | 05/03/2006 | CA
Sierra Imaging, 155 Calle Portal, Sierra Vista, AZ 85635 | Z68496 | 05/03/2006 | AZ
Aspirus Wausau Hospital, 333 Pine Ridge Boulevard, Wausau, WI 54401 | 520030A | 05/03/2006 | WI
Cancer Care Northwest PET Center, 910 W. 5th Avenue, Spokane, WA 99204 | 1922072081 | 05/03/2006 | WA | Suite 130.
PET/CT Imaging of North Texas, 2900 North I-35, Denton, TX 76201 | 00088Y | 05/03/2006 | TX | Suite 119.
Loyola University Health System, 2160 S. First Avenue, Maywood, IL 60153 | 140276 | 05/03/2006 | IL
St. Elizabeth Medical Center, One Medical Village Drive, Edgewood, KY 41017 | 180035 | 05/03/2006 | KY
Cleveland Clinic, 9500 Euclid Avenue, Cleveland, OH 44195 | 9925511 | 05/03/2006 | OH
Ingalls Family Care Center, 6701 159th Street, Tinley Park, IL 60477 | 14-0191 | 05/03/2006 | IL
PET Fusion Center, 4204 Houma Boulevard, Metairie, LA 70006 | 5CB31 | 05/03/2006 | LA
United Regional Medical Center, 1001 McArthur Drive, Manchester, TN 37355 | 440007 | 05/03/2006 | TN
Joel Bernstein, MD, 5395 Ruffin Road, Suite 202, San Diego, CA 92123 | W18972 | 05/03/2006 | CA
Hasnat Ahmed, MD, 5395 Ruffin Road, Suite 202, San Diego, CA 92123 | W18370 | 05/03/2006 | CA
Meridian North Imaging Center, 12188 N. Meridian Street, Carmel, IN 46280 | 026010 | 05/03/2006 | IN | Suite 100.
Cancer Center Oncology Medical Group, 5395 Ruffin Road, Suite 202, San Diego, CA 92123 | W12245A | 05/06/2006 | CA
Firelands Regional Medical Center, 1101 Decatur Street, Sandusky, OH 44870 | 360025 | 05/03/2006 | OH
United Radiology—Greenbelt, P.O. Box 34979, West Bethesda, MD 20827 | FMN007 | 05/03/2006 | MD
Richard Just, MD, 5395 Ruffin Road, Suite 202, San Diego, CA 92123 | W16197 | 05/03/2006 | CA
Michael Kipper, MD, 5395 Ruffin Road, Suite 202, San Diego, CA 92123 | A24091 | 05/03/2006 | CA
McLaren Regional Medical Center, 401 S. Ballenger Highway, Flint, MI 48532 | 230141 | 05/03/2006 | MI
United Radiology—Silver Spring, P.O. Box 34979, West Bethesda, MD 20827 | FMN007 | 05/03/2006 | MD
United Radiology—Rockville, P.O. Box 34979, West Bethesda, MD 20827 | FMN007 | 05/03/2006 | MD
St Mary's Health Center, 6420 Clayton Road, St Louis, MO 63117 | 260091 | 05/03/2006 | MO
Bay Regional Medical Center, 1900 Columbus Avenue, Bay City, MI 48708 | 230041 | 05/03/2006 | MI
Lapeer Regional Medical Center, 1375 N. Main Street, Lapeer, MI 48446 | 230193 | 05/03/2006 | MI
Scottsdale Medical Imaging, Ltd.-SW. Diagnostics, 9003 E. Shea Boulevard, Scottsdale, AZ 85260 | 1902896236 | 05/03/2006 | AZ
Valley Medical Oncology Consultants, Inc., 3000 Oak Road #111, Walnut Creek, CA 94597 | ZZZ29659Z | 05/03/2006 | CA
Northwest Community Hospital, 800 W Central Road, Arlington Heights, IL 60005 | 36-2340313 | 05/03/2006 | IL
PET Imaging of Dallas, 8333 Douglas Avenue, C-20, Dallas, TX 75225 | FTN017 | 05/03/2006 | TX
PET Imaging of Dallas—Northeast, 1250 R Northwest Highway, Garland, TX 75041 | FTN028 | 05/03/2006 | TX
St Joseph's Regional Medical Center, 703 Main Street, Paterson, NJ 07503 | 310019 | 05/03/2006 | NJ
PET Imaging of Houston, 2493-A South Braeswood Blvd., Houston, TX 77030 | FTN010 | 05/03/2006 | TX
Goshen General Hospital, 200 High Park Avenue, Goshen, IN 46526 | 150026 | 05/03/2006 | IN
PET Imaging of ELMC, 8550 West 38th Avenue, Suite 102, Wheat Ridge, CO 80033 | 800665 | 05/03/2006 | CO
PET Imaging of Houston—Southeast, 6021 Fairmont Parkway, Suite 120, Pasadena, TX 77505 | FTN030 | 05/03/2006 | TX
Peninsula Imaging, LLC, 560 Riverside Drive, Suite A104, Salisbury, MD 21801 | 481L | 05/03/2006 | AL
Zwanger-Pesiri, 126 Hicksville Road, Massapequa, NY 11758 | W13931 | 05/03/2006 | NY
Las Calinas PET Imaging, LLP, 1110 Cottonwood Lane, Irving, TX 75038 | FTN019 | 05/03/2006 | TX | Suite 220.
Mt Carmel Regional Medical Center, 1102 East Centennial Drive, Pittsburg, KS 66762 | 014041 | 05/03/2006 | KS
Iowa Blood & Cancer Care, PLC, 855 A. Avenue NE., Cedar Rapids, IA 52402 | I6672 | 05/03/2006 | IA | Medical Office Plaza, LL4.
Hackensack University Medical Center, 30 Prospect Avenue, Hackensack, NJ 07601 | 310001 | 05/03/2006 | NJ
McLeod PET Imaging Center, 800 East Cheves Street, Florence, SC 29501 | 570370242001 | 05/03/2006 | SC | Suite 170.
St Alexius Medical Center, 900 E. Broadway Avenue, Bismarck, ND 58506 | 35-0002 | 05/03/2006 | ND | P.O. Box 5510.
Center for Diagnostic Imaging, 1295 Orange Avenue, Winter Park, FL 32789 | K0097 | 05/03/2006 | FL
Charleston Radiologists, PA, 9313 Medical Plaza Drive, Charleston, SC 29406 | 1709 | 05/03/2006 | SC | Suite 302.
PET Imaging of Houston—West, 9525 Katy Freeway, Suite 102, Houston, TX 77024 | FTN023 | 05/03/2006 | TX
University Hospitals of Cleveland, 11100 Euclid Avenue, Cleveland, OH 44106 | 36-0137 | 05/03/2006 | OH | Mailstop BSHB5056.
PET Imaging of Sugar Land, 17320 W Grand Parkway S., Suite A, Sugar Land, TX 77479 | FTN027 | 05/03/2006 | TX
PET Imaging of Oklahoma City, 1000 N. Lincoln Boulevard, Suite 250, Oklahoma City, OK 73104 | 800522283 | 05/03/2006 | OK
PET Imaging of Tulsa, 6711 S. Yale Avenue, #104, Tulsa, OK 74136 | 400522320 | 05/03/2006 | OK
PET Imaging of The Woodlands, 3091 College Park Drive, Suite 340, The Woodlands, TX 77384 | FTN021 | 05/03/2006 | TX
Tarrant Diagnostic Imaging, 1121 8th Avenue, Fort Worth, TX 76104 | FTN012 | 05/03/2006 | TX
Wyandot Memorial Hospital, 85 North Sandusky Avenue, Upper Sandusky, OH 43351 | 361329 | 05/03/2006 | OH
Oregon Health & Science University, 3181 SW. Sam Jackson Park Road, Portland, OR 97229 | 380009 | 05/03/2006 | OR
Saint John's Health System, 2015 Jackson Street, Anderson, IN 46016 | 150088 | 05/03/2006 | IN
Hudson Valley PET Imaging, LLC, 160 North Midland Avenue, Nyack, NY 10960 | W1L903 | 05/03/2006 | NY
Kingston Diagnostic Center, 167 Schwenk Drive, Kingston, NY 12401 | W1L921 | 05/03/2006 | NY
Appleton Medical Center, 1818 N. Meade Street, Appleton, WI 54911 | 520160 | 05/03/2006 | WI
St. Elizabeth Health Center, 1044 Belmont Avenue, Youngstown, OH 44501 | 360064 | 05/03/2006 | OH
Sinai Hospital of Baltimore, 2401 West Belvedere Avenue, Baltimore, MD 21215 | 210012 | 05/03/2006 | MD
Associates in Radiology of Plattsburgh, NY, 762 Route 3, Suite 14, Plattsburgh, NY 12901 | 33572A | 05/03/2006 | NY
Affiliated PET Systems—Rockville, 9711 Medical Center Drive, Rockville, MD 20850 | FDNX01 | 05/03/2006 | MD
Lake Medical Imaging & Breast Center, 1400 U.S. Highway 441 North, Suite 510, The Villages, FL 32159 | 59-3522082 | 05/03/2006 | FL
Affiliated PET Systems—Silver Spring, 1400 Forest Glen Road, Silver Spring, MD 20910 | FDNX01 | 05/03/2006 | MD | Suite 430.
North Texas Clinical PET Institute, 3535 Worth Street, Suite 150, Dallas, TX 75246 | 99R339 | 05/03/2006 | TX
Lake Imaging Center, 801 E. Dixie Avenue, Suite 104, Leesburg, FL 34748 | 59-3635297 | 05/06/2006 | FL
Edwards Comprehensive Cancer Center, 1400 Hal Greer Boulevard, Huntington, WV 25701 | 510055 | 05/03/2006 | WV
Allison Cancer Center, 301 North N Street, Midland, TX 79701 | 140414744 | 05/03/2006 | TX
Clinical PET of Leesburg, 8525 U.S. Highway 441, Leesburg, FL 34748 | E7179A | 05/03/2006 | FL
Greene Medical Imaging, PC, 159 Jefferson Heights, D-106, Catskill, NY 12414 | W25021 | 05/03/2006 | NY
Caritas PET Imaging, LLC—Norwood Hospital, 70 Walnut Street, Foxboro, MA 02035 | 32-7092 | 05/03/2006 | MA | Caritas Norwood Hospital—Foxboro Campus.
Caritas PET Imaging, LLC—New England Medical Center, 750 Washington Street, Boston, MA 02111 | 32-7092 | 05/03/2006 | MA | Tufts—New England Medical Center.
Austin, Radiological Assn.—San Marcos, 1348 B Highway 123 South, San Marcos, TX 78666 | 74-1597116 | 05/03/2006 | TX
ARA Imaging—Rock Creek, 2120 N. Mays Street, #220, Round Rock, TX 78664 | 20-1651590 | 05/03/2006 | TX
ARA Imaging—Southwood, 1701 W. Ben White Boulevard #170, Austin, TX 78704 | 20-1651590 | 05/03/2006 | TX
Elkhart General Hospital, 600 East Boulevard, Elkhart, IN 46514 | 15-0018 | 05/03/2006 | IN
Austin, Radiological Assn.—Midtown, 1301 W. 38th Street, Suite 100, Austin, TX 78705 | 74-1597116 | 05/03/2006 | TX
Caritas PET Imaging, LLC—St. Elizabeth's, 736 Cambridge Street, Boston, MA 02135 | 32-7092 | 05/03/2006 | MA | St. Elizabeth's Medical Center.
Global PET Imaging, LLC, 1800 Hollister Drive, Suite G-10, Libertyville, IL 60048 | 309590 | 05/03/2006 | IL | Grand Oaks Health Center.
Caritas PET Imaging, LLC—Carney Hospital, 2100 Dorchester Avenue, Dorchester, MA 02124 | 32-7092 | 05/03/2006 | MA | Caritas Carney Hospital.
Caritas PET Imaging, LLC—Milton Hospital, 92 Highland Street, Milton, MA 02186 | 32-7092 | 05/03/2006 | MA
Caritas PET Imaging, LLC—St. Anne's Hospital, 795 Middle Street, Fall River, MA 02721 | 32-7087 | 05/03/2006 | MA | St. Anne's Hospital.
Caritas PET Imaging, LLC—Good Samaritan, 235 North Pearl Street, Brockton, MA 02301 | 32-7087 | 05/03/2006 | MA | Caritas Good Samaritan Medical Center.
Panhandle PET Imaging, 6700 W. 9th Avenue, Amarillo, TX 79106 | TFN0007 | 05/03/2006 | TX
PET Imaging of San Francisco, 1700 California Street, Suite 480, San Francisco, CA 94109 | ZZZ-223-782 | 05/03/2006 | CA
PET/CT Imaging of Berkeley, 2855 Telegraph Avenue, Suite 100, Berkeley, CA 94705 | ZZZ-288-837 | 05/03/2006 | CA
Western Maryland Health System—Sacred Heart Campus, 902 Seton Drive, Cumberland, MD 21502 | 210027 | 05/03/2006 | MD | Western Maryland Health System—Sacred Heart Campus.
Desert PET Imaging, LLC, 1180 N. Indian Cyn Drive, Palm Springs, CA 92262 | ZZZ28648Z | 05/03/2006 | CA
First PET of Stockton, 4744 Quail Lake Drive, Stockton, CA 95207 | 00A484230 | 05/03/2006 | CA
Utah Cancer Specialist, 3838 South 700 East, Salt Lake City, UT 84106 | 57172 | 05/03/2006 | UT | Suite 100.
Washington Radiology Associates, PC, 2121 K Street, NW., Washington, DC 20006 | WA409885 | 05/03/2006 | DC | Suite T-120.
New Rochelle Radiology Associates, PC, 175 Memorial Highway, New Rochelle, NY 10801 | W05571 | 05/03/2006 | NY
North Little Rock PET Associates, LLC, 3500 Springhill Drive, North Little Rock, AR 72117 | 5F437 | 05/03/2006 | AR | Suite 100.
Advanced Imaging Concepts, PL, 13063 Cortez Boulevard, Brooksville, FL 34613 | 94774 | 05/03/2006 | FL
Mansfield Imaging Center, 536 S. Trimble Road, Mansfield, OH 44906 | MAD10921 | 05/03/2006 | OH
West Tennessee Imaging Center, 300 Coatsland Drive, Jackson, TN 38305 | 44-0002 | 05/03/2006 | TN
Imaging Center of North Central Indiana, Inc., 2201 W. Boulevard, Kokomo, IN 46902 | 224110 | 05/03/2006 | IN
University of Kansas Hospital, 3901 Rainbow Boulevard, Kansas City, KS 66160 | 17-00040 | 05/03/2006 | KS | Division of Nuclear Medicine.
PET Imaging of SWLA, LLC, 600 Bayou Pines East, Lake Charles, LA 70601 | 5CK63 | 05/03/2006 | LA | Suite A.
Community Imaging Partners of Frederick, 67 Thomas Johnson Drive, Frederick, MD 21702 | 980M | 05/03/2006 | MD
Community Imaging Partners of Olney, 18111 Prince Phillip Drive, #T-20, Olney, MD 20832 | 409410 | 05/03/2006 | MD | Community Imaging Partners.
The West Clinic, PC, 100 N. Humphreys Boulevard, Memphis, TN 38120 | 3704066 | 05/03/2006 | TN
Imaging Central LLC, 7111 W. Central Avenue, Toledo, OH 43617 | IMID01641 | 05/03/2006 | OH
Advanced Radiology—Dixon, 291 Stoner Avenue, Westminster, MD 21157 | 527L | 05/03/2006 | MD
Advanced Radiology—Harford Imaging, 104 Plumtree Road, Bel Air, MD 21015 | 527L | 05/03/2006 | MD | Suite 106.
Advanced Radiology—Cross Roads, 4801 Dorsey Hall Road, Ellicott City, MD 21042 | 527L | 05/03/2006 | MD | Suite 101.
Advanced Radiology—PET Imaging of MD, 1700 Reisterstown Road, Baltimore, MD 21208 | 527L | 05/03/2006 | MD | Suite 119.
Cancer & Blood Disease Center, 521 N. Lecanto Highway, Lecanto, FL 34461 | 72840 | 05/03/2006 | FL
Huntington Outpatient Imaging Center, Inc., 800 S. Fairmount Avenue, Pasadena, CA 91105 | W1575B | 05/03/2006 | CA | Suite 120.
Universal Imaging, Inc., 4600 Investment Drive, Troy, MI 48083 | ON69130 | 05/03/2006 | MI
Berger Health System, 1170 North Court Street, Circleville, OH 43113 | 360710 | 05/03/2006 | OH
Contemporary Imaging—Trenton, 1676 Fort Street, Trenton, MI 48183 | 0P23200 | 05/03/2006 | MI
South Tulsa PET, LLC, 7712 S. Yale Avenue, Tulsa, OK 74136 | 800522360 | 05/03/2006 | OK | Ste 100.
Cancer Center of the Carolinas, 200 Andrews Street, Greenville, SC 29601 | 6526 | 05/03/2006 | SC | Suite 100.
OSF Saint Francis Medical Center, 530 NE. Glen Oak Avenue, Peoria, IL 61637 | 14-0067 | 05/03/2006 | IL
Sacred Heart—St. Mary's Hospitals, Inc., 2251 Northshore Drive, Rhinelander, WI 54501 | 1100700 | 05/03/2006 | WI
Capital Region Radiation Therapy & Imaging, 3400 W. Truman Boulevard, Jefferson City, MO 65109 | 260047 | 05/03/2006 | MO | P.O. 150832.
University PET/CT Imaging, 19 Bradhurst Avenue, Hawthorne, NY 10532 | W2Y371 | 05/03/2006 | NY | Suite 1200.
Aztech Radiology—Apache Trail, 1840 W. Apache Trail, Apache Junction, AZ 85222 | Z72398 | 05/03/2006 | AZ
Aztech Radiology—Casa Grande, 1669 E. McMurray Boulevard, Casa Grande, AZ 85222 | Z25341 | 05/03/2006 | AZ
Missouri Cancer Associates, 105 N. Keene Street, Columbia, MO 65201 | 000012700 | 05/03/2006 | MO | Suite 100.
White River Medical Center, 1710 Harrison Street, Batesville, AR 72501 | 040119 | 05/03/2006 | AR
Englewood Hospital & Medical Center, 350 Engle Street, Englewood, NJ 07631 | 310045 | 05/03/2006 | NJ
Regional Imaging & Therapeutic Radiology Services, 360 Bard Avenue, Staten Island, NY 10310 | 1023095445 | 05/03/2006 | NY
Rocky Mountain Cancer Centers—South, 7951 E. Maplewood Avenue, Suite 300, Greenwood Village, CO 80111 | 204508 | 05/03/2006 | CO
Rocky Mountain Cancer Centers—North, 7951 E. Maplewood Avenue, Suite 300, Greenwood Village, CO 80111 | 204508 | 05/03/2006 | CO
Molecular Imaging of Hamilton County—Bethesda, 4197 Fulton Road NW., Suite C, Canton, OH 44718 | MOID01221 | 05/03/2006 | OH
Molecular Imaging of Hamilton County—Good Sam, 4197 Fulton Road NW., Suite C, Canton, OH 44718 | MOID01221 | 05/03/2006 | OH
Kettering Medical Center, 3535 Southern Boulevard, Kettering, OH 45429 | 360079 | 05/03/2006 | OH
St. Mary's Hospital, 5801 Bremo Road, Richmond, VA 23226 | 540793767 | 05/03/2006 | VA
Columbus Medical Institute of NY, 97-85 Queens Boulevard, Rego Park, NY 11374 | 05679 | 05/03/2006 | NY
Meadville Medical Center, 1034 Grove Street, Meadville, PA 16335 | 39-0113 | 05/03/2006 | PA
Chambersburg Hospital-Radiology, 112 North Seventh Street, Chambersburg, PA 17201 | 390151 | 05/03/2006 | PA
Oregon Advanced Imaging, 881 O'Hare Parkway, Medford, OR 97504 | R114546 | 05/03/2006 | OR
Singing River Hospital, 2809 Denny Avenue, Pascagoula, MS 39581 | 250040 | 05/03/2006 | MS
East Texas Medical Center—Tyler, 1000 S. Beckham Avenue, Tyler, TX 75701 | 4500833 | 05/03/2006 | TX
Columbia, St. Mary's Hospital, 2025 E. Newport Avenue Columbia Campus, Milwaukee, WI 53211 | 520051 | 05/03/2006 | WI
Sharon Regional Health System, 740 East State Street, Sharon, PA 16146 | 390211 | 05/03/2006 | PA
Northern Ohio Imaging Center, 1900 West River Road, Elyria, OH 44035 | 36-0172 | 05/03/2006 | OH
Oxford Valley Diagnostic Center, 940 Town Center Drive, Langhorne, PA 19047 | 232745550 | 05/03/2006 | PA | Suite F50.
The Emory Clinic, 1365 Clifton Road, Building C, Room Court 048, Atlanta, GA 30322 | 582030692 | 05/03/2006 | GA
Alegent Health Bergan Mercy Medical Center, 7500 Mercy Road, Omaha, NE 68124 | 280060 | 05/03/2006 | NE
University Center Imaging, 1065 Delaware Avenue, Marion, OH 43302 | 20-3873307 | 05/03/2006 | OH
Elk Regional Health Center, 763 Johnsonburg Road, St Mary's, PA 15857 | 39-0154 | 05/03/2006 | PA
Health Park Hospital, 1636 Higdon Ferry Road, Hot Springs, AR 71913 | 04-0142 | 05/03/2006 | AR
Johnsonburg Health Center, 81 Clarion Road, Johnsonburg, PA 15845 | 39-0104 | 05/03/2006 | PA
Jane Phillips Medical Center, 3500 E. Frank Phillips Boulevard, Bartlesville, OK 74006 | 370015 | 05/03/2006 | OK
North Main Imaging Center, 7650 First Place, Suite B, Oakwood Village, OH 44146 | NEID01521 | 05/03/2006 | OH
PET Imaging Center of Delaware County—DCMH, 501 North Lansdowne Avenue, Drexel Hill, PA 19026 | 390081 | 05/03/2006 | PA
NEO-PET CRC Imaging, 7650 First Place, Suite B, Oakwood Village, OH 44146 | NEID01521 | 05/03/2006 | OH
PET Imaging Center of Delaware County—Springfield, 190 West Sproul Road, Springfield, PA 19064 | 381080 | 05/03/2006 | PA
Harper University Hospital, 3990 John R Street, Detroit, MI 48201 | 230104 | 05/03/2006 | MI
Sinai-Grace Hospital, 6071 W. Outer Drive, Detroit, MI 48235 | 23-0024 | 05/03/2006 | MI
Seattle Radiologists APC, 1229 Madison Street, Seattle, WA 98104 | G0001589600 | 05/03/2006 | WA | #900.
Huron Valley-Sinai Hospital, 1 William Carl Drive, Commerce, MI 48382 | 23-0277 | 05/03/2006 | MI
East Memphis PET Imaging, 6005 Park Avenue, Memphis, TN 38119 | 3374526 | 05/03/2006 | TN | Suite 101B.
UPMC-PET Imaging Facility, 200 Lothrop Street, Pittsburgh, PA 15213 | 390164 | 05/03/2006 | PA | 9th Floor, B-Wing PUH.
UPMC-PET Imaging Facility, 300 Halket Street, Pittsburgh, PA 15213 | 390114 | 05/03/2006 | PA
Rhode Island Hospital, 593 Eddy Street, Providence, RI 02903 | 05-025-8954 | 05/03/2006 | RI
David C. Pratt Cancer Center, 607 South New Bulbs Road, St Louis, MO 63141 | 260020 | 05/03/2006 | MO
Lewistown Hospital, 400 Highland Avenue, Lewistown, PA 17044 | 390048 | 05/03/2006 | PA
Lawrence Memorial Hospital, 325 Maine Street, Lawrence, KS 66044 | 170137 | 05/03/2006 | KS
Jameson Hospital, 1211 Wilmington Avenue, New Castle, PA 16105 | 39-0016 | 05/03/2006 | PA
Diagnostic Clinic of Houston, 1200 Binz Street, Houston, TX 77004 | 76-0203506 | 05/03/2006 | TX
Arlington Heights Radiology Center, LLC, 121 South Wilke Road, Arlington Heights, IL 60005 | 212301 | 05/03/2006 | IL
Oregon Imaging Center, 1200 Hilyard Street, Eugene, OR 97401 | R0000WCPGH | 05/03/2006 | OR | #330.
Arlington Heights Radiology Center, LLC, 121 South Wilke Road, Arlington Heights, IL 60005 | 212301 | 05/03/2006 | IL
Indiana Univ Radiology Assoc PET Imaging Center, 950 W. Walnut Street, Room E124, Indianapolis, IN 46202 | 959090 | 05/03/2006 | IN
Morristown Memorial Hospital, 100 Madison Avenue, Morristown, NJ 07962 | 310015 | 05/03/2006 | NJ
Baton Rouge Radiology Group, 5422 Dijon Drive, Baton Rouge, LA 70808 | 5B039 | 05/03/2006 | LA
North Texas PET Imaging, 3720 South I-35E, Denton, TX 76210 | 752131429 | 05/03/2006 | TX
Children's Hospital of Michigan PET Center, 3901 Beaubien Street, Detroit, MI 48201 | 23-3300 | 05/03/2006 | MI
Winchester Medical Center, 1840 Amherst Street, Winchester, VA 22601 | 490005 | 05/03/2006 | VA
Decatur Health Imaging, LLC, 1123 16th Avenue SE., Decatur, AL 35601 | 051555161 | 05/03/2006 | AL
Health Imaging Services, LLC, 1760 Warnke Circle NE., Cullman, AL 35058 | 051553273HEA | 05/03/2006 | AL
PET/CT Imaging of the Mainline, 21 Industrial Boulevard, Suite 103, Paoli, PA 19301 | 097715 | 05/03/2006 | PA
PET Imaging of Brevard, 1430 Pine Street, Melbourne, FL 32901 | 39254 | 05/03/2006 | FL
North Carolina Baptist Hospital, Medical Center Boulevard, Winston Salem, NC 27157 | 34-0047 | 05/03/2006 | NC
St Francis Hospital, 34515 9th Avenue S, Federal Way, WA 98003 | 500108 | 05/03/2006 | WA
Saint Barnabas Outpatient Center, 200 S. Orange Avenue, Livingston, NJ 07039 | 440149 | 05/03/2006 | NJ
PET/CT Imaging of Ramapa Radiology, 972 Route 45, Suite 106, Pomona, NY 10970 | W21711 | 05/03/2006 | NY
Medical University of South Carolina PET/CT, 169 Ashley Avenue, Charleston, SC 29425 | 420004 | 05/03/2006 | SC
Akron General Medical Center, 300 Wabash Avenue, Akron, OH 44307 | 36-0027 | 05/03/2006 | OH
New England Molecular Imaging—Mercy Hospital, 144 State Road, Portland, ME 04103 | NE327075 | 05/03/2006 | ME
New England Molecular Imaging—Penobscot Bay, 6 Glenn Cove Drive, Rockport, ME 04856 | NE327076 | 05/03/2006 | ME
Center for Outpatient Services—St. Joseph, 3900 Hollywood Road, St. Joseph, MI 49085 | 23-0021 | 05/03/2006 | MI
New England Molecular Imaging—Central Maine, 12 High Street, Lewiston, ME 04240 | NE327076 | 05/03/2006 | ME
Imaging Consultants, Inc.—Berkshire, 8 Conte Drive, Pittsfield, MA 01210 | 327085 | 05/03/2006 | MA
Imaging Consultants, Inc.—Boston Medical, 840 Harrison Avenue, Boston, MA 02118 | 327083 | 05/03/2006 | MA
Imaging Consultants, Inc.—Boston PET, One Brookline, Place, Brookline, MA 02445 | 327083 | 05/03/2006 | MA
Baptist Memorial Hospital PET Center, 6027 Walnut Grove Road, Memphis, TN 38120 | 44-0048 | 05/03/2006 | TN
Southern Oklahoma PET/CT Imaging, 701 E. Robinson Street, Norman, OK 73071 | 90015477 | 05/03/2006 | OK
Ann G. Fetters Diagnostic Imaging Center, 2151 N. Harbor Boulevard, Fullerton, CA 92835 | 050168 | 05/03/2006 | CA
Pitt County Memorial Hospital, 2100 Stantonsburg Road, Greenville, NC 27835 | 56-0585243 | 05/03/2006 | NC
Inland Imaging, LLC, 105 W. 8th Avenue, Spokane, WA 99202 | AB01749 | 05/03/2006 | WA | Suite 100C.
University of Chicago Hospitals, 5758 S. Maryland Avenue, Chicago, IL 60637 | 140088 | 05/03/2006 | IL | Room #0150.
Birch Medical Imaging Center, 20162 SW. Birch Street, Newport Beach, CA 92660 | W19353 | 05/03/2006 | CA
Tennessee Oncology PET Services, 2018 Murphy Avenue, Nashville, TN 37203 | 3709319 | 05/03/2006 | TN | Suite 200.
Tennessee PET Scan, 1020 N. Highland Avenue, Murfreesboro, TN 37130 | 3791187 | 05/03/2006 | TN | Suite A.
Texas Oncology-Harris Center HEB, 1615 Hospital Parkway, Bedford, TX 76022 | 00R66C | 05/03/2006 | TX | Suite 300.
Greater Dayton Cancer Center, 3120 Governor's Place Boulevard, Kettering, OH 45409 | 9295791 | 05/03/2006 | OH
Martha Jefferson Hospital, 459 Locust Avenue, Charlottesville, VA 22902 | 490077 | 05/03/2006 | VA
Modern Diagnostic Imaging, 600 S. Dobson Road, Chandler, AZ 85224 | 107628 | 05/03/2006 | AZ | Suite B-16.
Christiana Care Nuclear Medicine/PET, 4755 Ogletown-Stanton Road, Newark, DE 19718 | 080001 | 05/03/2006 | DE
Advanced Imaging of Port Charlotte, LLC, 2625 Tamiami Trail, Port Charlotte, FL 33952 | K6802 | 05/03/2006 | FL | Suite 1.
St. Joseph's Diagnostic Center—MLK, 3003 Martin Luther King, Jr. Boulevard, Tampa, FL 33067 | 97779 | 05/03/2006 | FL
South Carolina Oncology Associates, 166 Stoneridge Drive, Columbia, SC 29210 | 6275 | 05/03/2006 | SC
South Carolina Oncology Associates, 166 Stoneridge Drive, Columbia, SC 29210 | 6276 | 05/03/2006 | SC
Access Health Imaging, 5257 Highway 82, East, Lake Village, AR 71653 | 5M809 | 05/03/2006 | AR
PET/CT Services of Florida—Beverly Hills, 3404 N. Lecanto Highway, Beverly Hills, FL 34465 | V0103 | 05/03/2006 | FL | Beverly Hills Medical Park.
PET/CT Services of Florida—Ocala, 1541 SW. 1st Avenue, Ocala, FL 34474 | V0103 | 05/03/2006 | FL | Suite 101B.
Blanchard Valley Regional Health Center, 145 W. Wallace Street, Findlay, OH 45840 | 360095 | 05/03/2006 | OH
Papastavros Associates Medical Imaging, 1701 Augustine Cut-Off, Wilmington, DE 19803 | 1083615561 | 05/03/2006 | DE
PET Imaging of Willowbrook, 13300 Hargrave Road, Houston, TX 77070 | FTN032 | 05/03/2006 | TX | Suite 130.
PET Imaging of Northern Colorado, 1915 Wilmington Drive, Ft Collins, CO 80528 | 804621 | 05/03/2006 | CO | Suite 101.
Temecula Valley Advanced Imaging, 25395 Hancock Avenue, Murrieta, CA 92592 | ZZZ-150752 | 05/03/2006 | CA | Suite 110.
Saint Anthony Memorial Health Center, 301 West Homer Street, Michigan City, IN 46360 | A150015 | 05/03/2006 | IN
Salina Regional Health Center, 400 S. Santa Fe Avenue, Salina, KS 67401 | 170012 | 05/03/2006 | KS | P.O. Box 5080.
Cancer Center of Kansas, 818 N. Emporia Street, Wichita, KS 67214 | 110217 | 05/03/2006 | KS | Suite 100.
Clinton Crossings Imaging, 995 Senator Keating Boulevard, Rochester, NY 14618 | 14439A | 05/03/2006 | NY
NSMS—Shelby County, 4253 Argosy Court, Madison, WI 53714 | I16068 | 05/03/2006 | WI
Verrazano Radiology, PC, 256A Mason Avenue, Staten Island, NY 10305 | 200011201 | 05/03/2006 | NY
Imaging Consultants, Inc.—Brockton Hospital, 680 Centre Street, Brockton, MA 02301 | 327085 | 05/03/2006 | MA
Imaging Consultants, Inc.—Cape Cod, 252 Long Pond Drive, Harwich, MA 02645 | 327085 | 05/03/2006 | MA | Fontain Medical Center.
Imaging Consultants Inc—Falmouth, 100 Ter Hewn Drive, Falmouth, MA 02540 | 327085 | 05/03/2006 | MA
Imaging Consultants, Inc.—Jordan, 275 Sandwich Street, Plymouth, MA 02360 | 327085 | 05/03/2006 | MA
Imaging Consultants, Inc.—Holyoke, 575 Beech Street, Holyoke, MA 01040 | 327085 | 05/03/2006 | MA
Imaging Consultants, Inc.—Mercy Medical, 271 Carew Street, Springfield, MA 01089 | 327085 | 05/03/2006 | MA
Imaging Consultants, Inc.—Lawrence Memorial, 170 Governors Avenue, Medford, MA 02155 | 327083 | 05/03/2006 | MA
Imaging Consultants, Inc.—Metro West, 115 Lincoln Street, Framingham, MA 01701 | 327083 | 05/03/2006 | MA
Imaging Consultants, Inc.—Milford, 14 Prospect Street, Milford, MA 01757 | 327085 | 05/03/2006 | MA
Imaging Consultants, Inc.—Quincy, 114 Whitwell Street, Quincy, MA 02196 | 327083 | 05/03/2006 | MA
Imaging Consultants, Inc.—Saints Memorial, 2 Hospital Drive, Lowell, MA 01852 | 327083 | 05/03/2006 | MA
Imaging Consultants, Inc.—Truesdale, 1030 Presidents Avenue, Fall River, MA 02720 | 327085 | 05/03/2006 | MA
Imaging Consultants, Inc.—Twin City, 76 Summer Street, Fitenburg, MA 01420 | N/A | 05/03/2006 | MA
Imaging Consultants, Inc.—Worcester, 20 Worcester Center Boulevard, Worcester, MA 01608 | 327085 | 05/03/2006 | MA
Sentara Mobile PET/CT—Careplex, 5900 Lake Wright Drive Suite B, Norfolk, VA 23502 | 250605 | 05/04/2006 | VA
Sentara Mobile PET/CT—Lake Wright, 5900 Lake Wright Drive Suite B, Norfolk, VA 23502 | 250605 | 05/04/2006 | VA
Sentara Mobile PET/CT—Princess Anne, 5900 Lake Wright Drive Suite B, Norfolk, VA 23502 | 250605 | 05/04/2006 | VA
Sentara Mobile PET/CT—Williamsburg, 5900 Lake Wright Drive Suite B, Norfolk, VA 23502 | 250605 | 05/04/2006 | VA
Memorial Hospital of South Bend, 615 N. Michigan Street, South Bend, IN 46601 | 150058 | 05/04/2006 | IN
NSMS—Belleville, IL, 4253 Argosy Court, Madison, WI 53714 | 208196 | 05/04/2006 | WI
NSMS—Flora, IL, 4253 Argosy Court, Madison, WI 53714 | 208196 | 05/04/2006 | WI
NSMS—Breese, IL, 4253 Argosy Court, Madison, WI 53714 | 208196 | 05/04/2006 | WI
SSM DePaul Health Center, 12303 DePaul Drive, St Louis, MO 63044 | 260104 | 05/04/2006 | MO
Lutheran Hospital, 7950 W. Jefferson Boulevard, Fort Wayne, IN 46804 | 150017 | 05/11/2006 | IN
Memorial MRI and Diagnostic, 1346 Campbell Road, Houston, TX 77055 | 00941U | 05/11/2006 | TX
Shields Imaging of Eastern Mass, 55 Fogg Road, Weymouth, MA 2190 | 327088 | 05/11/2006 | MA
Baystate MRI and Imaging Center, 3300 Main Street, Springfield, MA 1107 | 327039 | 05/11/2006 | MA
Advanced Imaging Center, 16110 Jog Road, 200, Delray Beach, FL 33446 | U2049 | 05/11/2006 | FL
UMASS Memorial MRI and Imaging Center, 214 Shrewsburg Street, Worcester, MA 1604 | 327040 | 05/11/2006 | MA
RCOA Imaging Services, 1108 Minnequa Avenue, Pueblo, CO 81004 | 475748 | 05/11/2006 | CO
Adventist Health PET/CT—Hanford, 450 N. Greenfield Avenue, Hanford, CA 93230 | ZZZ318852 | 05/11/2006 | CA
Adventist Health PET/CT—Feather River, 5974 Pertz Road, Paradise, CA 95969 | ZZZ318852 | 05/11/2006 | CA
Adventist Health PET/CT—Sonora, 1000 Greenley Road, Sonora, CA 95370 | ZZZ318852 | 05/11/2006 | CA
Sarasota Memorial PET, 5350 University Parkway, Sarasota, FL 34238 | U1775 | 05/11/2006 | FL
Adventist Health PET/CT—Redbud, 18th Ave. at Highway 53, P.O. Box 6710, Clear Lake, CA 95422 | ZZZ318852 | 05/11/2006 | CA
Adventist Health PET/CT—St. Helena, 10 Woodland Road, St. Helena, CA 94574 | ZZZ318852 | 05/11/2006 | CA
Adventist Health PET/CT—Ukiah, 275 Hospital Drive, Ukiah, CA 95482 | ZZZ318852 | 05/11/2006 | CA
Mease Outpatient Imaging, 1840 Mease Drive, Safety Harbor, FL 34685 | 100265 | 05/11/2006 | FL
Bardmoor Outpatient Center, 8787 Bryan Dairy Road, Largo, FL 33777 | 00594C | 05/11/2006 | FL
Trinity Outpatient Center, 2102 Trinity Oaks Boulevard, New Port Richey, FL 34655 | 00594D | 05/11/2006 | FL
Walnut Creek Imaging Center, 114 La Casa Via, #200, Walnut Creek, CA 94598 | ZZZ13902Z | 05/11/2006 | CA
Carlisle Imaging Center, 1240 S. Ft. Harrison, Clearwater, FL 33756 | 594 | 05/11/2006 | FL
Valley Radiology Imaging at Samaritan, 2581 Samaritan Drive, #100, San Jose, CA 95124 | ZZZ139851Z | 05/11/2006 | CA
Forest Hills PET Imaging, 102-02 Queens Boulevard, Forest Hills, NY 11375 | 06998G | 05/11/2006 | NY
Roper LowCountry PET Imaging Center, 316 Calhoun Street, Charleston, SC 29401 | Q326280001 | 05/11/2006 | SC
Premier PET Imaging of NJ, 119 Cherry Hill Road, Parsippany, NJ 07054 | 68433 | 05/11/2006 | NJ | Suite 100.
Methodist Medical Center of Illinois, 221 NE. Glen Oak Avenue, Peoria, IL 61636 | 370661223 | 05/11/2006 | IL
Medical Imaging of Baltimore, 6715 N. Charles Street, Baltimore, MD 21204 | 258L | 05/12/2006 | MD
Yagnesh Oza, MD, 4117 Velerous Memorial Drive, Mt Vernon, IL 62864 | 212702 | 05/12/2006 | IL
Moffitt Cancer Center, 12902 Magnolia Drive, Tampa, FL 33612 | 100271 | 05/12/2006 | FL
PrimeMed Imaging, 5 Morgan Highway, Suite 7, Scranton, PA18505 | 260 | 05/12/2006 | PA | Morgan Medical Complex.
Rockville PET Imaging, PC, 119 North Park Avenue, Rockville Centre, NY 11570 | WTC601 | 05/12/2006 | NY | Suite 101.
Porter Adventist Hospital, 2525 South Downing Street, Denver, CO 80210 | 60064 | 05/12/2006 | CO
Rapid City Regional Hospital Medical Imaging Services, 353 Fairmont Boulevard, Rapid City, SD 57701 | 43007 | 05/12/2006 | SD
Advanced Radiolgy Consultants, 56 Quarry Road, Trumbull, CT 06611 | C02747 | 05/12/2006 | CT
Northeastern PA Imaging Center, 2601 Stafford Avenue, Scranton, PA 18505-0305 | 475385 | 05/12/2006 | PA | P.O. Box 3305.
Billings MRI Center, 1041 North 29th Street, Billings, MT, 59101-1075 | 81030 | 05/12/2006 | MT
Aurora St. Luke's Medical Center, 2900 W. Oklahoma Avenue, Milwaukee, WI 53215 | 520138 | 05/12/2006 | WI | Nuclear Medicine Department.
Memorial & St. Elizabeth's Healthcare Services, LLC, 4000 N. Illinois Lane, Swansea, IL 62226 | 201339 | 05/12/2006 | IL | PET/CT Imaging Center.
Palm Beach Cancer Institute—West Palm Beach, 1309 North Flagler Drive, West Palm Beach, FL 33401-2710 | 34754 | 05/12/2006 | FL
Overlook Hospital, 99 Beauvoir Avenue, Summit, NJ 07902 | 8772966189 | 05/12/2006 | NJ
Ashland Bellefonte Cancer Center, 122 Saint Christopher Drive, Ashland, KY 41101 | 2150 | 05/12/2006 | KY
Bryn Mawr Imaging Center, 101 S. Bryn Mawr Avenue, Bryn Mawr, PA 19010 | 473120 | 05/12/2006 | PA
Oncology Alliance, 1055 N. Mayfair Road, Suite 100, Wauwatosa, WI 53220 | 32836000 | 05/12/2006 | WI
Shared PET Maimonides, 6300 Eighth Avenue, Brooklyn, NY 11220 | 97Z661 | 05/12/2006 | NY
Hoboken Radiology, LLC, 79 Hudson Street, Suite 100, Hoboken, NJ 07030 | 80395 | 05/12/2006 | NJ
Akron City Hospital, 525 E. Main Street, Akron, OH 44309 | 360020 | 05/12/2006 | OH
Park Avenue Radiologists, PC, 525 E. Main Street, Rome, GA 30165 | W21771 | 05/12/2006 | NY
Comprehensive Blood & Cancer Center, 6501 Truxtun Avenue, Bakersfield, CA 93309 | zzz238732 | 05/12/2006 | CA
Rome Imaging Center, 309 West 10th Street, Rome, GA 30165 | GRP1221 | 05/12/2006 | GA
Hawaii PET Imaging, 2230 Liliha Street, Honolulu, HI 96817 | 54537 | 05/12/2006 | HI
Imaging Consultants, Inc. at Henry Heywood Hospital, 242 Green Street, Gardner, MA 01440 | 327085 | 05/12/2006 | MA
Imaging Consultants, Inc. at Nashoba Valley Medical Center, 200 Groton School Road, Ayer, MA 01432 | 327085 | 05/12/2006 | MA
Rhode Island PET Services at Memorial Hospital, 111 Brewster Street, Pawtucket, RI 2860 | 479003556 | 05/12/2006 | RI
Osceola Cancer Center, 737 W. Oak Street, Kissimmee, FL 34741 | 1629034202 | 05/12/2006 | FL
Valley Radiologists, Ltd.—Paseo II Office, 5605 W. Eugie Avenue, Suite 110, Glendale, AZ 85304 | 1902896236 | 06/13/2006 | AZ
Southeast GYN, Oncology PET, 5210 Belfort Road, Suite 130, Jacksonville, FL 32256 | 45542 | 06/13/2006 | FL
The Johns Hopkins PET Center, 600 N. Wolfe Street, Baltimore, MD 21287 | 210009 | 06/13/2006 | MD | Nelson Basement.
Maklansky, Grunter, Kurzban, Cohen, Zimmer, Hyman, 165 East 84th Street, New York, NY 10028 | W20393 | 06/13/2006 | NY
Methodist Medical Center of Illinois, 112 Crescent Avenue, Peoria, IL 61636 | 370661223 | 06/13/2006 | IL
Phoebe Putney Memorial Hospital, 417 Third Avenue, P.O. Box 1828, Albany, GA 31702-1828 | 110007 | 06/13/2006 | GA
Eiber Radiology/PET Premier Imaging, 21 West 49th Street, Hialeah, FL 33012 | k3166 | 06/13/2006 | FL
Botsford Hospital, 28050 Grand River Avenue, Farmington Hills, MI 48336 | 230151 | 06/13/2006 | MI
Middletown Regional Hospital, 105 McKnight Drive, Middletown, OH 45044 | 360076 | 06/13/2006 | OH
Waukesha Memorial Hospital, 725 American Avenue, Waukesha, WI 53188 | 390910727 | 06/13/2006 | WI
Battle Creek Health System, 300 North Avenue, Battle Creek, MI 49016 | 230075 | 06/13/2006 | MI
Orlando Regional Medical Center, 1414 Kuhl Avenue, Orlando, FL 32806 | 100006 | 06/13/2006 | FL
NorthEast Medical Center, 1065 NorthEast Gateway Court NE., Concord, NC 28025 | 340001 | 06/13/2006 | NC
Premier Medical Imaging, 7651 Stagers Loop, Delaware, OH 43015 | 9912921 | 06/13/2006 | OH
Advanced Radiolgy Consultants, 15 Corporate Drive, Trumbull, CT 6611 | C02747 | 06/13/2006 | CT
Advance PET Imaging, 23 Technology Drive, East Setauket, NY 11733 | 46a401 | 06/13/2006 | NY
Premier PET Imaging of Wichita, 500 S. Main Street, Suite B, Wichita, KS 67202 | 110682 | 06/13/2006 | KS
Health Center Northwest, 320 Sunnyview Lane, Kalispell, MT 59901 | 270087 | 06/13/2006 | MT
Olympic Medical Center, 844 N. 5th Avenue, Sequim, WA 98382 | 500072 | 06/13/2006 | WA
Premier PET Imaging of Jacksonville, 5210 Belfort Road, Suite 130, Jacksonville, FL 32256 | K3166 | 06/13/2006 | FL
PET/CT Imaging of San Jose, 2211 Moorpark Avenue, Suite 220, San Jose, CA 95128 | ZZZ19866Z | 06/13/2006 | CA
The Reading Hospital and Medical Center, 6th and Spruce Streets, West Reading, PA 19611 | 390044 | 06/13/2006 | PA
Julia Rackley Perry Memorial Hospital, 530 Park Avenue East, Princeton, IL 61356 | 141337 | 06/13/2006 | IL
Ashland Bellefonte Cancer Center, 122 Saint Christopher Drive, Ashland, KY 41101 | 2150 | 06/13/2006 | KY
Tower Imaging BBD, 14231 Bruce B Down Boulevard, Tampa, FL 33613 | 169 | 06/13/2006 | FL
VyMed Diagnostic Imaging Tampa, LLC, 10010 N. Dale Mabry, Suite 160, Tampa, FL 33618 | U4068 | 06/13/2006 | FL
Texas Oncology Cancer Center Sugar Land, 1350 First Colony Boulevard, Sugar Land, TX 77479 | 00073F | 06/13/2006 | TX
Samaritan North Health Center, 9000 N. Main Street, Dayton, OH 45415 | 360052 | 06/13/2006 | OH
The PET Center of Oxford, 1612 U.S. Highway 78 East, Suite 102, Oxford, AL 36203 | 51554888 | 06/13/2006 | AL
Shared PET Mem Lighthouse, 6901 N. Main Street, Granger, IN 46530 | 232800 | 06/13/2006 | IN
Shared PET Hope Cancer Center, 3702 South Fourth Street, Terre Haute, IN 47802 | 201320 | 06/13/2006 | IN
Athens Regional Medical Center, 1199 Prince Avenue, Athens, GA 30606 | 110074 | 06/13/2006 | GA
Muskogee PET & Nuclear Imaging, 3300 Chandler Road, Suite #106, Muskogee, OK 74403 | 400522529 | 06/13/2006 | OK
Lubbock Imaging Center, 4011 19th Street, Lubbock, TX 79410 | 00027K | 06/13/2006 | TX
Memorial Medical Center, 701 N. First Street, Springfield, IL 62781 | 140148 | 06/13/2006 | IL
Hamamatsu/Queen's PET Imaging Center, 1301 Punchbowl Street, Honolulu, HI 96813 |  | 06/13/2006 | HI
Aurora BayCare Medical Center, 2845 Greenbrier Road, Green Bay, WI 54308 | 520193 | 06/13/2006 | WI
Medical Center of Plano, 3901 W. 15th Street, Plano, TX 75002 | 450651 | 06/13/2006 | TX
Carolinas Medical Center, 1000 Blythe Boulevard, Charlotte, NC 28203 | 340113 | 06/13/2006 | NC
Redwood Regional Medical Group d.b.a. Santa Rosa Radiology, 121 Sotoyome Street, Santa Rosa, CA 95405 | 680344865 | 06/13/2006 | CA
Boone Hospital Center, 1600 East Broadway, Columbia, MO 65201 | 260068 | 06/13/2006 | MO
River Radiology, 45 Pine Grove Avenue, Kingston, NY 12401 | W30681 | 06/13/2006 | NY
University of Washington Medical Center, 1959 NE. Pacific Street, Seattle, WA 98195 | 142700 | 06/13/2006 | WA
Mid American Imaging—Salem, 1987 E. 4th Street, Salem, OH 44460 | ID00804 | 06/13/2006 | OH
Piedmont Medical Center, 222 S. Herlong Avenue, Rock Hill, SC 29732 | 420002 | 06/13/2006 | SC
Alliance Imaging—Sparks, 1311 South I Street, Fort Smith, AR 72817 | 5F463 | 06/13/2006 | AR
Radiology Imaging Associates, 1825 SE. Tiffany Avenue, Suite 104, Port St. Lucie, FL 34952 | 52 | 06/13/2006 | FL
Mount Sinai Medical Center, One Gustave L. Levy Place, New York, NY 10029 | H23620 | 06/13/2006 | NY
NSMS—Ottawa, IL, 4253 Argosy Court, Madison, WI 53714 | 208196 | 06/13/2006 | WI
Center for Diagnostic Imaging, 1550 E. Chestnut Avenue, Vineland, NJ 08360 | 53290 | 06/13/2006 | NJ | Bldg 4 Suite A.
St. Mary Mercy Hospital—Livonia, 36475 Five Mile Road, Livonia, MI 48154 | 230002 | 06/13/2006 | MI
Harold Leever Regional Cancer, 1075 Chase Parkway, Waterbury, CT 06708 | 470000025 | 06/13/2006 | CT
Kentucky Metabolic Imaging, 2425 Regency Road, Suite B, Lexington, KY 40503 | 9366001 | 06/13/2006 | KY
Western Baptist Hospital, 2501 Kentucky Avenue, Paducah, KY 42001 | 180104 | 06/13/2006 | KY
St. Anthony Regional Hospital, 311 South Clark Street Box 628, Carroll, IA 51401 | 1720067127 | 06/13/2006 | IA
Alliance Imaging—Sequoia Hospital, 170 Alameda De Las Pulgas, Redwood City, CA 94062 | ZZZ28890Z | 06/13/2006 | CA
Craven Regional Medical Center, 2000 Neuse Boulevard, New Bern, NC 28560 | 340131 | 06/13/2006 | NC
Alliance Imaging—Tri City Medical Center, 4002 Vista Way, Oceanside, CA 92056 | TG281C | 06/13/2006 | CA
Alliance Imaging—Yavapai, Del Webb Outpatient Center, Prescott Valley, AZ 86314 | 76103 | 06/13/2006 | AZ | 3262 Windsong Drive.
Saint Vincent's Comprehensive Cancer Center, 325 West 15th Street, New York, NY 10011 | 330290 | 06/13/2006 | NY
Alliance Imaging—Southwest Medical Imaging, 3104 Stockton Hill Road, Kingman, AR 86401 | 76103 | 06/13/2006 | AZ
Alliance Imaging—North Idaho Imaging, 700 Ironwood Drive, Coeur d'Alene, ID 93814 | 1790291 | 06/13/2006 | ID
Froedtert Hospital, 9200 W. Wisconsin Avenue, Milwaukee, WI 53226 | 520177 | 06/13/2006 | WI
Alliance Imaging—Flagstaff Medical Center, 1200 N. Beaver Street, Flagstaff, AZ 86001 | 71855 | 06/13/2006 | AZ
South Florida Oncology and Hematology Consultants, 4850 W. Oakland Park Boulevard, Lauderdale Lakes, FL 33313 | 33873 | 06/13/2006 | FL | Suite A.
Alliance Imaging—Sierra Vista, 300 El Camino Real, Sierra Vista, AZ 85635 | 71855 | 06/13/2006 | AZ
Alliance Imaging—St. Joseph Eureka, 2700 Dolbeer Street, Eureka, CA 95501 | zzz23046z | 06/13/2006 | CA
Alliance Imaging—Corvallis Clinic, 3680 NW. Samaritan Drive, Corvallis, OR 97330 | 132104 | 06/13/2006 | OR
Bridgeport Hospital, 267 Grant Street, Bridgeport, CT 06610 | 70010 | 06/13/2006 | CT
Valley Radiologists, Ltd.—Paseo II Office, 5605 W. Eugie Avenue, Glendale, AZ 85304 | 1902896236 | 06/13/2006 | AZ | Suite 110.
Central Texas Medical Center, 1301 Wonder World Drive, San Marcos, TX 78666 | 450272 | 06/13/2006 | TX
Alliance Imaging—Verde Valley Medical Center, 269 S. Candy Lane, Cottonwood, AZ 86326 | 76103 | 06/13/2006 | AZ
Alliance Imaging—Union Hospital Cecil, 106 Bow Street, Elkton, MD 21821 | FMN008 | 06/13/2006 | MD
St. Joseph Mercy Hospital—Ann Arbor, 5301 E. Huron River Road, Ann Arbor, MI 48106 | 230156 | 06/13/2006 | MI
Alliance Imaging—Navapache, 2200 E. Show Low Lake, Show Low, AZ 85901 | 76103 | 06/13/2006 | AZ
St. Clare Medical Center, 1710 Lafayette Road, Crawfordsville, IN 17933 | 150022 | 06/13/2006 | IN
Boynton Beach EFL Imaging Center, LLC, 2300 S. Congress Avenue, Boynton Beach, FL 33426 | 272376000 | 06/13/2006 | FL | #105.
Aurora Medical Center Oshkosh, 855 N. Westhaven Drive, Oshkosh, WI 54904 | 590198 | 06/13/2006 | WI
Southeast GYN, Oncology PET, 5210 Belfort Road, Jacksonville, FL 32256 | 45542 | 06/13/2006 | FL | Suite 130.
Stockton MRI & Molecular Imaging Medical Center, 2320 N. California Street, #2, Stockton, CA 95219 | ZZZ290872 | 06/13/2006 | CA
South Texas Cancer Center, 2150 N. Expressway 83, Brownsville, TX 78521 | 14041756 | 06/13/2006 | TX
Southwest Cancer Care Medical Group, 5395 Ruffin Road, San Diego, CA 92123 | W4957B | 06/13/2006 | CA | #202.
Radiology Associates of Venice and Englewood, PA, 512-516 S. Nokomis Avenue, Venice, FL 34285 | 99390 | 06/13/2006 | FL
Langlade Memorial Hospital Oncology, 112 E. 5th Avenue, Antigo, WI 54409 | 521350 | 06/13/2006 | WI
RCOA Imaging Services, 305 South 5th Street, Enid, OK 73701 | 400522301 | 06/13/2006 | OK
North Shore Hematology Oncology Associates, PC, 235 N. Belle Mead Road, East Setauket, NY 11733 | W04051 | 06/13/2006 | NY
Providence Holy Cross Imaging Center, 26357 McBean Parkway, Suite 155, Santa Clarita, CA 91355 | TP129 | 06/13/2006 | CA
Alaska Open Imaging Center, LLC, 6911 DeBarr Road, Anchorage, AK 99504 | K153149 | 06/13/2006 | AK
Temecula Valley Nuclear Medicine, 25485 Medical Center Drive, Murrieta, CA 92562 | 00A417170 | 06/13/2006 | CA | Suite 102.
Hematology Oncology Assoc. of the Treasure Coast, 1801 SE. Hillmoor Drive, Port Saint Lucie, FL 34952 | 40806 | 06/13/2006 | FL | Suite B-107 (Mobile).
The Center for Cancer and Blood Disorders, 800 W. Magnolia Avenue, Fort Worth, TX 76104 | 00L79L | 06/13/2006 | TX
Alliance Imaging—South Coast Medical Center, 31872 Pacific Coast Highway, Laguna Beach, CA 92651 | TG281B | 06/13/2006 | CA
The Medical Center at Bowling Green, 250 Park Street, Bowling Green, KY 42101 | 180013 | 06/13/2006 | KY | PET/CT Center.
Johns Hopkins Bayview Medical Center, 4940 Eastern Avenue, Baltimore, MD 21224 | 210029 | 06/13/2006 | MD | Imaging Department-Nuclear Medicine.
University of Michigan, Department of Radiology, 1500 E. Medical Center Drive, Ann Arbor, MI 48109 | 230046 | 06/13/2006 | MI | Box 0028, B1H418 University Hospital.
Carmichael Imaging, LLC, 4147 Carmichael Road, Montgomery, AL 36106 | 51551742 | 06/13/2006 | AL
Clearfield Hospital, 809 Turnpike Avenue, Clearfield, PA 16830 | 390052 | 06/13/2006 | PA
Clinical Pet of Hernando, 4003 Mariner Boulevard, Spring Hill, FL 34609 | V2683 | 06/13/2006 | FL
Booth Radiology, 105 Kings Way, W. Hurffville—Crosskeys Road, Sewell, NJ 08080 | 39460 | 06/13/2006 | NJ
Clinical PET of Zepherhills, 38044 Daughtery Road, Zephyrhills, FL 33542 | E7179B | 06/13/2006 | FL
Radiology & Diagnostic Imaging, 2200 East Parrish Avenue, Owensboro, KY 42303 | 3641 | 06/13/2006 | KY | Building D.
Santa Monica Bay Physicians, 12524 W. Washington Boulevard, Los Angeles, CA 90066 | W14560 | 06/13/2006 | CA
Missouri Baptist Medical Center, 3023 N. Ballas Road, St. Louis, MO 63141 | 260108 | 06/13/2006 | MO | Suite 150, Building D.
Radiology Associates of Tallahassee, PA, 1600 Phillips Road, Tallahassee, FL 32308 | 60 | 06/13/2006 | FL
Pacific Imaging—Oakland, 3200 Telegraph Avenue, Oakland, CA 94609 | 1265480099 | 06/13/2006 | CA
Medical Group of North County, 5395 Ruffin Road, #202, San Diego, CA 92123 | W11609 | 06/13/2006 | CA | #202.
Somerset Community Hospital, 225 South Center Avenue, Somerset, PA 15501 | 390039 | 06/13/2006 | PA
Elmbrook Memorial Hospital, 19333 W. North Avenue, Brookfield, WI 53045 | 520170 | 06/13/2006 | WI
San Luis Diagnostic Medical Associates, 1100 Monterey Street, San Luis Obispo, CA 93401 | W14221 | 06/13/2006 | CA | Suite 210.
Cancer Care Centers of S.Texas, PA (New Braunfels), 1448 Common Street, New Braunfels, TX 78130 | 00U40Q | 06/13/2006 | TX
Cancer Care Centers of S.Texas, PA (San Antonio), 8109 Fredericksburg Road, San Antonio, TX 78229 | 00U40Q | 06/13/2006 | TX
Cancer Care Centers of S.Texas, PA (Kerrville), 694 Hill Country Drive, Kerrville, TX 78028 | 00U40Q | 06/13/2006 | TX
San Antonio Molecular Imaging SAMI, 9102 Floyd Curl Drive, San Antonio, TX 78240 | FTN025 | 06/13/2006 | TX | Suite 193.
Pacific Medical Imaging and Oncology Center, Inc., 707 South Garfield Avenue, Alhambra, CA 91801 | W19267 | 06/13/2006 | CA | Suite B-001.
Northern IL Cancer Treatment Center, 327 IL Route 2, Dixon, IL 61021 | 210699 | 06/13/2006 | IL
Cancer Care Center, 2210 Green Valley Road, New Albany, IN 47150 | 243690 | 06/13/2006 | IN | Suite 1.
Northeast Radiology, 3839 Danbury Road, Brewster, NY 10509 | 1134118607 | 06/13/2006 | NY
New England PET Imaging System, 70 East Street, Methuen, MA1844 | M20762 | 06/13/2006 | MA
Southeast Texas PET Imaging, 690 North 14th Street, Beaumont, TX 77702 | 0004CC | 06/13/2006 | TX
Sun City West PET Scan, 14418 W. Meeker Boulevard, Sun City West, AZ 85374 | 102496 | 06/13/2006 | AZ | Suite 105.
Butler Memorial Hospital, 911 East Brady Street, Butler, PA 16001 | 390168 | 06/13/2006 | PA
Diagnos, Inc., d.b.a. Diagnos PET/CT Imaging, 2000 North Loop West, Houston, TX 77018 | ftnx11 | 06/13/2006 | TX | Suite 100.
Alliance Imaging—Washington Hospital, 38950 Civic Center Drive, Fremont, CA 94538 | ZZZ28890Z | 06/13/2006 | CA
Providence Saint Joseph Hospital, 201 S. Buena Vista Street, Burbank, CA 91505 | 50235 | 06/13/2006 | CA | #125.
Alliance Imaging—Centinela Freeman, 333 Prairie Avenue, Inglewood, CA 90301 | TG281 | 06/13/2006 | CA
Alliance Imaging—Corona Regional Hospital, 800 S. Main Street, Corona, CA 91720 | ZZZ23042Z | 06/14/2006 | CA
Alliance Imaging—St. Mary's Regional Medical Center, 235 W. 6th Street, Reno, NV 89503 | 37860 | 06/14/2006 | NV | 235 W. 6th Street.
Alliance Imaging—Downey Regional Medical Center, 11500 Brookshire Avenue, Downey, CA 90241 | TG490 | 06/14/2006 | CA
Alliance Imaging—Visalia Medical Clinic, 5400 W. Hillsdale Drive, Visalia, CA 93291 | ZZZ23046Z | 06/14/2006 | CA
Alliance Imaging—Anaheim Memorial Medical Center, 1111 W. La Palma Avenue, Anaheim, CA 92801 | TD017C | 06/14/2006 | CA | Anaheim Memorial Medical Center.
Glendale Diagnostic Imaging Network Medical Office, 403 South Glendale Avenue, Glendale, CA 91205 | W19100 | 06/14/2006 | CA
Advanced Imaging at Baybrook, 11 Murray Street, Glens Falls, NY 12801 | 33554a | 06/14/2006 | NY
Elizabethtown Hematology-Oncology PLC, 1107 Woodland Drive, Elizabethtown, KY 42701 | 3638 | 06/14/2006 | KY | Suite 105.
Northern Arizona Radiology, 77 W. Forest Avenue, Suite 101, Flagstaff, AZ 86001 | WCGJX | 06/14/2006 | AZ
Suburban Imaging—Coon Rapids, 8990 Springbrook Drive, Suite 140, Coon Rapids, MN 55433 | 3087 | 06/14/2006 | MN
Covenant Medical Center, 200 East Ridgeway Avenue, Waterloo, IA 50702 | 421264647 | 06/14/2006 | IA
Mayo Clinic Rochester, 10 3rd Avenue NW., Rochester, MN 55905 | 1922074434 | 06/14/2006 | MN | Charlton Building.
Thousand Oaks Diagnostic Imaging Center, 2180 Lynn Road, Thousand Oaks, CA 91360 | TP118 | 06/14/2006 | CA
InnerVision Advanced Medical Imaging, 3801 Amelia Avenue, Lafayette, IN 47905 | 167840 | 06/14/2006 | IN
UT-M.D. Anderson Cancer Center-PET Facility, 1220 Holcombe Boulevard, Houston, TX 77030 | 450076 | 06/14/2006 | TX | ACB 6th Floor.
Emory University Hospital, 1364 Clifton Road, NE., Atlanta, GA 30322 | 110010 | 06/14/2006 | GA | Rm. E121 Nuclear Medicine/PET.
Glendale MRI Institute, 624 S. Central Avenue, Glendale, CA 91204 | HW9951 | 06/14/2006 | CA
Princeton Radiology, 9 Centre Drive, Jamesburg, NJ 08831 | 526492 | 06/14/2006 | NJ
Caromont Imaging Services, 620 Summit Crossing Place, Gastonia, NC 28054 | 340032 | 06/14/2006 | NC | Suite 106.
North Central Imaging, 155 Sonterra Boulevard, Suite 100, San Antonio, TX 78258 | 00867N | 06/14/2006 | TX
Robert L. B. Tobin Diagnostic Imaging Center, 7979 Wurzbach Drive, Suite U113, San Antonio, TX 78229 | 00867N | 06/14/2006 | TX
Edwards Comprehensive Cancer Center, 1400 Hal Greer Boulevard, Huntington, WV 25701 | 510055 | 06/14/2006 | WV
Home Hospital GLHS, 2400 South Street, Lafayette, IN 47904 | 150109 | 06/14/2006 | IN
St. Luke's North PET, 153 Brodhead Road, Bethlehem, PA 18017 | 390049 | 06/14/2006 | PA
Alamance Regional Medical Center, 1240 Huffman Mill Road, Burlington, NC 27216-0202 | 340070 | 06/14/2006 | NC | P.O. Box 202.
Verrazano Radiology, 256 Mason Avenue, Staten Island, NY 10305 | 1698 | 06/14/2006 | NY
Total Imaging Sun City, 3862 Sun City Center, Sun City Center, FL 33571 | U4840 | 06/14/2006 | FL
Ortonville Area Health Services, 450 Eastvold Avenue, Ortonville, MN 56278 | 241342 | 06/14/2006 | MN
Merle West Medical Center, 2865 Daggett Avenue, Klamath Falls, OR 97601 | 380050 | 06/14/2006 | OR
Elite Imaging, LLC, 2845 Aventura Boulevard, Aventura, FL 33180 | K3535 | 06/14/2006 | FL | Suite 145.
St. Mary Centralia, 400 N. Pleasant Avenue, Centralia, IL 62801 | 140034 | 06/14/2006 | IL
North Texas Regional Cancer Center, 3705 W. 15th Street, Plano, TX 75075 | 00543K | 06/14/2006 | TX
Centegra Health System, 4201 Medical Center Drive, McHenry, IL 60050 | 140116 | 06/14/2006 | IL
Boston Diagnostic Imaging, 398 East Altamonte Drive, Altamonte Springs, FL 32701 | 77022 | 06/14/2006 | FL
William W. Backus Hospital, 326 Washington Street, Norwich, CT 06360 | 70024 | 06/14/2006 | CT
NSMS—Sparta, IL, 4253 Argosy Court, Madison, WI 53714 | 208196 | 06/14/2006 | WI
LaPorte Hospital & Healthcare Services, 1007 Lincolnway, LaPorte, IN 46350 | 150006 | 06/14/2006 | IN
Skagit Valley Hospital, 1415 E. Kincaid Street, Mt.Vernon, WA 98273 | 500003 | 06/14/2006 | WA
Alliance Imaging—Fairfield Hospital, 303 NW. 11th Street, Fairfield, IL 62837 | 213393 | 06/14/2006 | IL
Anderson Hospital, 6800 State Route 162, Maryville, IL 62062 | 212761 | 06/14/2006 | IL
Alliance Imaging—Dean, 1313 Fish Hatchery Road, Madison, WI 53715 | 92170 | 06/14/2006 | WI
Alliance Imaging—Research, 2316 E. Meyer Boulevard, Kansas City, MO 64112 | 9004263A | 06/14/2006 | MO
Alliance Imaging—St. Joseph, 1000 Carondelet Drive, Kansas City, MO 64114 | 9004263A | 06/14/2006 | MO
Beebe Health Campus, d.b.a. Beebe Medical Center, 18941 John J. Williams Highway, Rehoboth, DE 19971 | 80007 | 06/14/2006 | DE
Medical Outsourcing Services, LLC, 1200 Maple Road, Joliet, IL 60432 | 211223 | 06/14/2006 | IL
Silver Spring Radiology, 10801 Lockwood Drive, Silver Spring, MD 20901 | FDX009 | 06/14/2006 | MD | STE 170.
New England PET of Greater Lowell, 295 Varnum Avenue, Lowell, MA 01854 | 327080 | 06/14/2006 | MA
Stanford University, 900A Blake Wilbur Drive, Stanford, CA 94305 | 50441 | 06/14/2006 | CA
Medical Outsourcing, Services, LLC, 3333 W. DeYoung Street, Marion, IL 62959 | 211224 | 06/14/2006 | IL
Medical Outsourcing Services, LLC, 1700 Clinton Street, Muskegon, MI 49443 | 230066 | 06/14/2006 | MI
Medical Outsourcing Services, LLC, 1001 Bellefontaine Avenue, Lima, OH 45807 | MEID02391 | 06/14/2006 | OH
Golf Diagnostic Imaging Center, 9680 Golf Road, Des Plaines, IL 60016 | 378810 | 06/14/2006 | IL
Medical Outsourcing Services, LLC, 2816 South Ellis Avenue, Chicago, IL 60616 | 211222 | 06/14/2006 | IL
Medical Outsourcing Services, LLC, 1100 E. Norris Drive, Ottawa, IL 61350 | 211224 | 06/14/2006 | IL
Medical Outsourcing Services, LLC, 111 E. Spring Street, Streator, IL 61364 | 211224 | 06/14/2006 | IL
Mansfield Imaging Center, 536 S. Trimble Road, Mansfield, OH 44906 | MAD10921 | 06/14/2006 | OH | Suite A.
Manhattan Diagnostic Radiology, 400 East 66th Street, New York, NY 10021 | W23211 | 06/14/2006 | NY
Riverside Walter Reed Hospital, 7519 Hospital Drive, Gloucester, VA 23061 | 490130 | 06/14/2006 | VA
Good Shepherd Hospital, 450 West Highway 22, Barrington, IL 60010 | 140291 | 06/14/2006 | IL
Alliance Imaging—Presbyterian Intercomm Hospital, 12401 Washington Boulevard, Whittier, CA 90602 | TG281A | 06/14/2006 | CA | Presbyterian Intercommunity Hospital.
Altru Hospital, 1200 S. Columbia Road, Grand Forks, ND 58201 | 350019 | 06/14/2006 | ND
Mid American Imaging—Union Hospital, 659 Boulevard Street, Dover, OH 44622 | ID00805 | 06/14/2006 | OH
Gundersen Clinic, 1900 South Avenue, Lacrosse, WI 54601 | 34217 | 06/14/2006 | WI
University of Minnesota Medical Center, Fairview, 500 Harvard Street, SE., Box 292, Minneapolis, MN 55455 | C02390 | 06/14/2006 | MN
The Christ Hospital, 2139 Auburn Avenue, Cincinnati, OH 45219 | 360163 | 06/14/2006 | OH
West Michigan Cancer Center, 200 N. Park Street, Kalamazoo, MI 49007 | 0N66660 | 06/14/2006 | MI
Cyrus Diagnostic Imaging, Inc., 165 Waymont Court, Lake Mary, FL 32746 | 40586 | 06/14/2006 | FL
Cancer Centers of Florida, 1561 West Fairbanks Avenue, Winter Park, FL 32789 | K1833 | 06/14/2006 | FL
Cedars-Sinai Medical Center, Adler-Nail PET Center, 8700 Beverly Boulevard, Los Angeles, CA 90048 | 951644600 | 06/14/2006 | CA | S. Mark Taper Foundation Imaging Center.
Cancer Centers of Florida, 52 West Gore Street, Orlando, FL 32806 | K1833 | 06/14/2006 | FL
Cancer Centers of Florida, 1111 Blackwood Avenue, Ocoee, FL 34761 | K1833 | 06/14/2006 | FL
Mt. Clemens Regional Medical Center, 1000 Harrington Street, Mt. Clemens, MI 48043 | 230227 | 06/14/2006 | MI
Truxtun Radiology Medical Group, LP, 1818 16th Street, Bakersfield, CA 93301 | ZZZ25213Z | 06/14/2006 | CA
Medical Outsourcing Services, LLC, 1515 North Madison Avenue, Anderson, IN 46011 | 223260 | 06/14/2006 | IN
Medical Outsourcing Services, LLC, 1215 Franciscan Drive, Litchfield, IL 62056 | 211224 | 06/14/2006 | IL
Piedmont Medical Center, 1968 Peachtree Road, NW., Atlanta, GA 30305 | 110083 | 06/14/2006 | GA
Medical Outsourcing Services, LLC, 1400 West Park Street, Urbana, IL 61801 | 211224 | 06/14/2006 | IL
Central Indiana PET, LLC, 8301 Harcourt Road, Suite 100, Indianapolis, IN 46260 | 201930 | 06/14/2006 | IN
Medical Outsourcing Services, LLC, 812 North Logan Avenue, Danville, IL 61832 | 211224 | 06/14/2006 | IL
Queens Medical Imaging, PC, 69-15 Austin Street, Forest Hills, NY 11375 | 1023011285 | 06/14/2006 | NY
NYOH PET/CT Imaging, 43 New Scotland Avenue, Albany, NY 12208 | 56917A | 06/14/2006 | NY
Conroe Regional Medical Center, 504 Medical Center Boulevard, Conroe, TX 77304 | 450222 | 06/14/2006 | TX
Northeast Georgia Health System, Inc., Northeast Georgia Medical Center; 743 Spring Street, Gainesville, GA 30501 | 110029 | 06/14/2006 | GA
Texas Oncology, PA—Mckinney, 4510 Medical Center Drive, Mckinney, TX 75069 | 00543K | 06/14/2006 | TX | #215.
Medical Outsourcing Services, LLC, 7150 Clearwater Drive, Indianapolis, IN 46256 | 223260 | 06/14/2006 | IN
Medical Outsourcing Services, LLC, 1402 East County Line Road, Indianapolis, IN 46227 | 223260 | 06/14/2006 | IN
Texas Cancer Center—Sherman, 2800 Highway 75 North, Sherman, TX 75090 | 00543K | 06/14/2006 | TX
Medical Outsourcing Services, LLC, 120 Ralston Avenue, Defiance, OH 43512 | MEID02391 | 06/14/2006 | OH
Medical Outsourcing Services, LLC, 2400 N. Rockton Avenue, Rockford, IL 61103 | 211224 | 06/14/2006 | IL
Arlington Cancer Center, 906 W. Randol Mill Road, Arlington, TX 76012 | 00LK20 | 06/14/2006 | TX
Jupiter Medical Center, 2055 Military Trail, Jupiter, FL 33458 | 100253 | 06/14/2006 | FL
Cheyenne Radiology Group and MRI, PC, 2003 Bluegrass Circle, Cheyenne, WY 82009 | W309142 | 06/14/2006 | WY
Hunterdon Imaging, PA, 2100 Wescott Drive, MRI Suite, Flemington, NJ 08822 | 714119 | 06/14/2006 | NJ
Medical Outsourcing Services, LLC, 200 Berteau Avenue, Elmhurst, IL 60126 | 211223 | 06/14/2006 | IL
Magnolia Regional Center, 611 Alcorn Drive, Corinth, MS 38834 | 250009 | 06/14/2006 | MS
Monroe Clinic, 515 22nd Avenue, Monroe, WI 53566 | 520028 | 06/14/2006 | WI
Jupiter Hematology-Oncology Associates, 345 Jupiter Lakes Boulevard, Jupiter, FL 33458 | 34922 | 06/14/2006 | FL | Ste. 100.
Southwest Regional Cancer Center, 901 West 38th Street, Austin, TX 78705 | 0080BY | 06/14/2006 | TX
Positron Imaging Of Austin, 6101 Balcones Drive, Austin, TX 78731 | 00538K | 06/14/2006 | TX
Southern Ocean County Hospital, 1140 Route 72 West, Manahawkin, NJ 08050 | 310113 | 06/14/2006 | NJ | Radiology.
Medical Outsourcing Services, LLC, 9830 S. Ridgeland Road, Chicago Ridge, IL 60145 | 211222 | 06/14/2006 | IL
Medical Outsourcing Services, LLC, 430 West Votaw Street, Portland, IN 47374 | 223260 | 06/14/2006 | IN
Saint Agnes Medical Center, 1303 E. Herndon Avenue, Fresno, CA 93720 | 50093 | 06/14/2006 | CA
Central Physicians Imaging, 100 Southland Drive, Lexington, KY 40503 | 9375001 | 06/14/2006 | KY | Suite B.
NEA Medical Center, 3024 Stadium Boulevard, Jonesboro, AR 72401 | 1386699353 | 06/14/2006 | AR
Northgate Medical Imaging, LLC, 807 Northgate Boulevard, New Albany, IN 47150 | 1205894235 | 06/14/2006 | IN
Ball Memorial Hospital, 2401 University Avenue, Muncie, IN 47303 | 150089 | 06/14/2006 | IN
The MRI Center, 5200 Harroun Road, Sylvania, OH 43560 | 360074 | 06/14/2006 | OH | Flower Hospital.
St. Joseph Regional Health Center, 2801 Franciscan Drive, Bryan, TX 77802 | 450011 | 06/14/2006 | TX
Steinberg Diagnostic (SDMI), 2850 Siena Heights, Henderson, NV 89052 | WCHCC | 06/14/2006 | NV
Raritan Bay Medical Center, 1 Hospital Plaza, Old Bridge, NJ 08857 | 310039 | 06/14/2006 | NJ
MRI Center—St. Anne Mercy Hospital, 3404 W. Sylvania Avenue, Toledo, OH 43623 | 360262 | 06/14/2006 | OH
MRI Center—St. Charles Mercy Hospital, 2600 Navarre Avenue, Oregon, OH 43616 | 360081 | 06/14/2006 | OH
MRI Center—St. Luke's Hospital, 2901 Monclova Road, Maumee, OH 43537 | 360090 | 06/14/2006 | OH
MRI Center—St. Vincent Medical Center, 2213 Cherry Street, Toledo, OH 43608 | 360112 | 06/14/2006 | OH
MRI Center—Toledo Hospital, 2142 N. Cove Boulevard, Toledo, OH 43606 | 360068 | 06/14/2006 | OH
McAlester Regional Health Center, One Clark Bass Boulevard, McAlester, OK 74501 | 370034 | 06/14/2006 | OK
Express Imaging Center, Ltd., 1987 West Fourth Street, Mansfield, OH 44906 | 9299151 | 06/14/2006 | OH | Suite A.
Mercy Regional Medical Center, 375 East Park Avenue, Durango, CO 81301 | 60013 | 06/14/2006 | CO
Texas Oncology—Longview, Cancer Center PET, 1300 N. Fourth Street, Longviews, TX 75601 | 00T35E | 06/14/2006 | TX
UNC Hospitals, 101 Manning Drive, Chapel Hill, NC 27514 | 3400610 | 06/14/2006 | NC | PET Department. Basement W/C Hospital.
DeKalb Medical Center-Diagnostic Imaging Center, 2701 North Decatur Road, Decatur, GA 30033 | 110076 | 06/14/2006 | GA
Long Island Pet Imaging, 6 Ohio Drive, Lake Success, NY 11042 | W4921 | 06/14/2006 | NY | Suite 101.
Vanderbilt University Medical Center, 1161 21st Avenue South, Nashville, TN 37232 | 3284867 | 06/14/2006 | TN | Building 1251, RRB.
Medical Outsourcing Services, LLC, 1800 E. Lakeshore Drive, Decatur, IL 62521 | 211224 | 06/14/2006 | IL
New York PET and CTA Imaging Center, 7404 5th Avenue, Brooklyn, NY 11209 | 1083680003 | 06/14/2006 | NY
Mercy Medical Center—North Iowa, 1000 4th Street SW., Mason City, IA 50401 | 160064 | 06/14/2006 | IA
Lawrence and Memorial Hospital, 365 Motauk Avenue, New London, CT 06320 | 70007 | 06/14/2006 | CT
Superior Medical Diagnostics II, LLC, 235 Franklin Avenue, Nutley, NJ 07110 | 68423 | 06/14/2006 | NJ
Oncology Specialists, S.C., 7900 N. Milwaukee Avenue, Niles, IL 60714 | 587940 | 06/14/2006 | IL | Suite 16.
Hahnemann University Hospital Broad & Vine, MS300, Philadelphia, PA 19102 | 390290 | 06/14/2006 | PA
Shrewsbury Diagnostic Imaging, LLC, 1131 Broad Street, Shrewsbury, NJ 07702 | 24021 | 06/14/2006 | NJ | Suite 110.
Medical Outsourcing Services, LLC, 500 West Court Street, Kankakee, IL 60901 | 211224 | 06/14/2006 | IL
Forsyth Medical Center, 3333 Silas Creek Parkway, Winston Salem, NC 27103 | 3400014 | 06/14/2006 | NC
Medical Outsourcing Services, LLC, 500 John Deere Road, Moline, IL 61265 | 211224 | 06/14/2006 | IL
Medical Outsourcing Services, LLC, 836 W. Wellington Avenue, Chicago, IL 60657 | 211222 | 06/14/2006 | IL
Medical Outsourcing Services, LLC, 1600 West Walnut, Jacksonville, IL 62650 | 211224 | 06/14/2006 | IL
Medical Outsourcing Services, LLC, 1600 23rd Street, Bedford, IN 47471 | 223260 | 06/14/2006 | IN
Medical Outsourcing Services, LLC, 1500 North Ritter Avenue, Indianapolis, IN 46219 | 223260 | 06/14/2006 | IN
Medical Outsourcing Services, LLC, 1221 N. Highland, Aurora, IL 60506 | 211223 | 06/14/2006 | IL
Medical Outsourcing Services, LLC, 1000 Lincoln Health Center Drive, Mattoon, IL 61938 | 211224 | 06/14/2006 | IL
Salinas Valley Memorial Healthcare System, 450 E. Romie Lane, Salinas, CA 93901 | 50334 | 06/14/2006 | CA
Bridgeport Hospital, 267 Grant Street, Bridgeport, CT 06610 | 70010 | 06/14/2006 | CT
MRIGP, Inc., d.b.a. Advanced Medical Imaging Diamond H., 2490 W 26th Avenue, Suite 20A, Denver, CO 80211 | H8808 | 06/14/2006 | CO
RCHO PET Imaging, 5120 Belfort Boulevard, Suite 130, Jacksonville, FL 32256 | 40259 | 06/14/2006 | FL
Presbyterian Hospital, 200 Hawthorne Lane, Charlotte, NC 28204 | 560554230 | 06/14/2006 | NC
Eisenhower Imaging Center, 39000 Bob Hope Drive, Rancho Mirage, CA 92210 | ZZZ91572Z | 06/14/2006 | CA | Lower Level Lucy Curci Cancer Center.
Mississippi Baptist Medical Center, 501 Marshall Street, Jackson, MS 39202 | 250102 | 06/14/2006 | MS
Texas Oncology-South Texas Cancer Center, 2121 Pease Street, Suite 101, Harlingen, TX 78550 | 14041756 | 06/14/2006 | TX | Texas Oncology-South Texas Cancer Center.
Valley Radiologists, Ltd.—Paseo II Office, 5605 W. Eugie Avenue, Suite 110, Glendale, AZ 85304 | WCFHS | 06/14/2006 | AZ
Good Samaritan Hospital, 400 15th Avenue SE., Puyallup, WA 98372 | 500079 | 06/14/2006 | WA
St. John's Mercy Hospital, 851 5th Street, Washington, MO 63090 | 260052 | 06/14/2006 | MO
Memorial Hermann The Woodlands OPID, 9200 Pinecroft Drive, Suite 100, The Woodlands, TX 77380 | 741152597 | 07/14/2006 | TX
St. Luke's Hospital, 232 South Wood's Mill Road, Chesterfield, MO 63017 | 260179 | 07/14/2006 | MO
Lake Vista Cancer Center, 2790 Lake Vista Drive, Lewisville, TX 75067 | 00543K | 07/14/2006 | TX
Palms Imaging Medical Group, Inc., 1901 Outlet Center Drive, Oxnard, CA 93036 | W19564 | 07/14/2006 | CA
Houston Medical Imaging, LLC, 3310 Richmond Avenue, Houston, TX 77006 | 00137K | 07/14/2006 | TX
Alliance Imaging—West Anaheim Medical Center, 3033 W. Orange Avenue, Anaheim, CA 92804 | TD017 | 07/14/2006 | CA
Winthrop PET Imaging Center, 222 Station Plaza North, Suite 140, Mineola, NY 11501 | 330167 | 07/14/2006 | NY
Greenville Hospital System, University Medical Center, 701 Grove Road, Greenville, SC 29605 | 420078 | 07/14/2006 | SC
High Field Open MRI, 1895 Jefferson Road, Rices Landing, PA 15357 | 7885 | 07/14/2006 | PA
PET/CT Center at St. Anthony's POB, 1201 5th Avenue North, St. Petersburg, FL 33705 | E5753 | 07/14/2006 | FL | Suite 100.
Texas Oncology-Deke Slayton Cancer Center, 501 Medical Center, Webster, TX 77598 | 00t40e | 07/14/2006 | TX
Invision North Florida Outpatient Imaging Center, 6605 NW. 9th Boulevard, Gainesville, FL 32609 | E4639 | 07/14/2006 | FL
Memorial Hospital of Union County, 500 London Avenue, Marysville, OH 43040 | 360092 | 07/14/2006 | OH
Texas Oncology/South Texas Cancer Center—McAllen, 1901 S. 2nd Street, McAllen, TX 78503 | 00N39J | 07/14/2006 | TX
Baylor Medical Center at Irving, 1901 North MacArthur Boulevard, Irving, TX 75061 | 450079 | 07/14/2006 | TX
Providence Park Hospital, 47601 Grand River Avenue, Novi, MI 48374 | 230019 | 07/14/2006 | MI
Texas Oncology—Abilene, 1957 Antilley Road, Abilene, TX 79606 | 140414748 | 07/14/2006 | TX
St. Anthony Hospital, 1000 North Lee Street, Oklahoma City, OK 73101 | 370037 | 07/14/2006 | OK
Rice Memorial Hospital, 301 Becker Avenue SW., Willmar, MN 56201 | 240088 | 07/14/2006 | MN
LDS Hospital Nuclear Medicine, 8th Avenue & C Street, Salt Lake City, UT 84143 | 460010 | 07/14/2006 | UT
RMG First & Laurel Imaging Center, 2466 First Avenue, San Diego, CA 92101 | W14057 | 07/14/2006 | CA
RMG Gardenview Imaging Center, 1200 Gardenview Road, Encinitas, CA 92024 | W14057F | 07/14/2006 | CA | Suite 110.
Decatur County Memorial Hospital, 720 North Lincoln Street, Greensburg, IN 47240 | 150062 | 07/14/2006 | IN
Midland Imaging Center, 5001 Andrews Highway, Midland, TX 79703 | 00U75H | 07/14/2006 | TX
Advanced Imaging, LLC, 3433 NW. 56th C-10, Oklahoma City, OK 73112 | 400522379 | 07/14/2006 | OK
University of Iowa Hospitals and Clinics, 200 Hawkins Drive, Iowa City, IA 52242 | 160058 | 07/14/2006 | IA
AZ Oncology Associates PET/CT & CT Imaging Center, 2070 W. Rudasill Road, Tucson, AZ 85704 | 25291 | 07/14/2006 | AZ | Suite 110.
Medical Diagnostic Imaging, 14 Raymond Avenue, Poughkeepsie, NY 12603 | EEN841 | 07/14/2006 | NY
Shore Memorial Hospital, 10085 William F. Bernart Circle, Nassawadox, VA 23413 | 540560500 | 07/14/2006 | VA
Deaconess Hospital, 600 Mary Street, Evansville, IN 47747 | 150082 | 07/14/2006 | IN
Great Neck Imaging, PC, 907 Northern Boulevard, Great Neck, NY 11021 | 1487646311 | 07/14/2006 | NY
FMH Rose Hill, 1562 Opossumtown Pike, Frederick, MD 21702 | KP72 | 07/14/2006 | MD
Oakwood Annapolis Hospital, 33155 Annapolis Road, Wayne, MI 48184 | 230142 | 07/14/2006 | MI
The Regional Cancer Center, 2500 West 12th Street, Erie, PA 16505 | 140052 | 07/14/2006 | PA
Meritcare Hospital, 801 North Broadway, Fargo, ND 58122 | 350011 | 07/14/2006 | ND
Community Hospitals and Wellness Centers, 433 W. High Street, Bryan, OH 43506 | 360121 | 07/14/2006 | OH
Sacred Heart Hospital, 900 W. Clairemont Avenue, Eau Claire, WI 54701 | 520013 | 07/14/2006 | WI
Via Radiology-Meridian Pavilion, 11011 Meridian Avenue North #101, Seattle, WA 98133 | 8859612 | 07/14/2006 | WA
Medical Outsourcing Services, LLC, 2200 Market Street, Charlestown, IN 47111 | 223260 | 07/14/2006 | IN
Allegheny General Hospital, 320 East North Avenue, Pittsburgh, PA 15232 | 60503 | 07/14/2006 | PA | Division of Nuclear Medicine.
Texas Oncology—12th Avenue, 1001 W. 12th Avenue, Fort Worth, TX 76104 | 00R66C | 07/14/2006 | TX
Southwest Fort Worth Cancer Center, 6500 Harris Parkway, Fort Worth, TX 76132 | 00R66C | 07/14/2006 | TX
St. Rita's Medical Center, 730 W. Market Street, Lima, OH 45801 | 360066 | 07/14/2006 | OH
New Mexico Oncology Hematology Consultants, Ltd., 4901 Lang Avenue NE., Albuquerque, NM 87109 | 850367056 | 07/14/2006 | NM
Emory Eastside Medical Center, 545 Old Norcross Road, Lawrenceville, GA 30045 | 110192 | 07/14/2006 | GA | Suite 200.
Riverside Regional Medical Center, 500 J. Clyde Morris Boulevard, Newport News, VA 23601 | 490052 | 07/14/2006 | VA
Connecticut Oncology & Hematology, 220 Kennedy Drive, Torrington, CT 06790 | C00633 | 07/14/2006 | CT
Chilton Memorial Hospital, 97 West Parkway, Pompton Plains, NJ 07444 | 310017 | 07/14/2006 | NJ
Riverside Diagnostic Center Williamsburg, 120 Kings Way, Williamsburg, VA 23188 | 490052 | 07/14/2006 | VA
Lawrence County MRI & Diagnostic Imaging Center, 2526 Wilmington Road, New Castle, PA 16105 | 68617 | 07/14/2006 | PA
Joint Township District Memorial Hospital, 200 St. Clair Street, Saint Marys, OH 45885 | 360032 | 07/14/2005 | OH
Radiation Therapy Regional Centers, 3680 Broadway, Fort Myers, FL 33901 | 77215 | 07/14/2006 | FL
Graduate Hospital, 1800 Lombard Street, Philadelphia, PA 19146 | 390285 | 07/14/2006 | PA | One Graduate Hospital.
Columbia Diagnostic Center, 1111 Paulison Avenue, Clifton, NJ 07015 | 94729 | 07/14/2006 | NJ
The Nebraska Medical Center, 4250 Dewey Avenue, Omaha, NE 68113 | 280013 | 07/14/2006 | NE
Memorial Hermann Memorial City OPID, 925 Gessner Road, Houston, TX 77024 | 741152597 | 07/14/2006 | TX
Clifton Springs Hospital and Clinic, 2 Coulter Road, Clifton Springs, NY 14432 | 330265 | 07/14/2006 | NY
Monongalia General Hospital, 1200 J. D. Anderson Drive, Morgantown, WV 26505 | 510024 | 07/14/2006 | WV | Monongalia General Hospital.
Providence Portland Medical Center, 4805 NE. Glisan Street, Portland, OR 97213 | 380061 | 07/14/2006 | OR
Highfield Open MRI, Inc., 995 GreenTree Road, Pittsburgh, PA 15220 | 7885 | 07/14/2006 | PA
Providence St. Vincent Medical Center, 9205 SW. Barnes Road, Portland, OR 97225 | 380004 | 07/14/2006 | OR
Conway Regional Imaging Center, 2120 Robinson Avenue, Conway, AR 72034 | 40029 | 07/14/2006 | AR
Martin Memorial Medical Center, 300 Hospital Avenue, Stuart, FL 34994 | 100044 | 07/14/2006 | FL
Northwest Medical Foundation of Tillamook, 1000 Third Street, Tillamook, OR 97141 | 381317 | 07/14/2006 | OR | Tillamook County General Hospital.
O'Connor Hospital, 2105 Forest Avenue, San Jose, CA 95128-1471 | 50153 | 07/14/2006 | CA
Midtown Imaging, LLC—Wellington, 440 N. State Road 7, Wellington, FL 33411 | E9133 | 07/14/2006 | FL
Midtown Imaging, LLC—Jupiter, 345 Jupiter Lakes Boulevard, Jupiter, FL 33458 | E9133 | 07/14/2006 | FL | Suite 100.
MMI/Mid Coast Hospital, 51 U.S. Route 1, Scarborough, ME 04074 | 327079 | 07/14/2006 | ME | Suite O.
Molecular Imaging Institute, 5349 Commerce Boulevard, Crown Point, IN 46307 | 192870 | 07/14/2006 | IN
RCOA Imaging Services, 11937 U.S. Highway 271, Tyler, TX 75708 | FTN022 | 07/14/2006 | TX
MMI/Maine Medical Center, 51 U.S. Route 1, Scarborough, ME 4074 | 327079 | 07/14/2006 | ME | Suite O.
Radiology, Ltd., 4640 East Camp Lowell Drive, Tucson, AZ 85712 | WCBBM | 07/14/2006 | AZ
Intermed Oncology Associates, S.C., 6701 159th Street, Tinley Park, IL 60477 | 610860 | 07/14/2006 | IL
Lakes Radiology, 450 Canisteo Street, Hornell, NY 14843 | 1710937727 | 07/14/2006 | NY
Opelousas PET/CT Imaging Center, 3975 I-49 South Service Road, Suite 100, Opelousas, LA 70570 | 5DA11 | 07/14/2006 | LA
Florida Cancer Institute—BRK, 7154 Medical Center Drive, Spring Hill, FL 34608 | 1427017326 | 08/07/2006 | FL
Capital Health System, 446 Belleview Avenue, Trenton, NJ 08618 | 310044 | 08/07/2006 | NJ
Hudson Valley Diagnostic Imaging, PLLC, 575 Hudson Valley Avenue, New Windsor, NY 12553 | WBH241 | 08/07/2006 | NY
St Joseph's Hospital, 3200 Pleasant Valley Road, West Bend, WI 53095 | 520063 | 08/07/2006 | WI
Atlantic Medical Imaging, 30 East Maryland Avenue, Somers Point, NJ 08244 | 101024 | 08/07/2006 | NJ
Providence Imaging Center, 3340 Providence Drive, Anchorage, AK 99508 | 2085R0202X | 08/07/2006 | AK
Rochester Radiology Associates, PC, 1277 Portland Avenue, Rochester, NY 14621 | 199726 | 08/07/2006 | NY
Melbourne Internal Medicine Associates, 1132 South Hickory Street, Melbourne, FL 32901 | 77167 | 08/07/2006 | FL
Highline Imaging, LLC, 275 SW. 160th Street, Seattle, WA 98166 | 8801784 | 08/07/2006 | WA
Tyler PET, 415 South Fleishel Avenue, Tyler, TX 75702 | 752131429 | 08/07/2006 | TX
Lake City Medical Center, 340 NW. Commerce Drive, Lake City, FL 32055 | 100156 | 08/07/2006 | FL
Blount Memorial Hospital, 907 East Lamar Alexander Boulevard, Maryville, TN 37804 | 440011 | 08/07/2006 | TN
Texas Cancer Center Mesquite, 4700 North Galloway, Mesquite, TX 75150 | R339 | 08/07/2006 | TX
Rutland Regional Medical Center: Diagnostic Imaging, 160 Allen Street, Rutland, VT 05701 | 470005 | 08/07/2006 | VT
MDMED, Inc., 155 Calle Portal, Suite 700, Sierra Vista, AZ 85635 | Z68496 | 08/07/2006 | AZ
Atlantic Medical Imaging Wall Township, 2399 North Highway 34, Manasquan, NJ 08736 | 101024 | 08/07/2006 | NJ | Ramshorn Executive Centre Bldg B.
Newport Imaging Center, 455 Old Newport Road, Suite 101, Newport Beach, CA 92660 | W10829 | 08/07/2006 | CA
Cancer Care and Hematology Specialists(CCHSC), 8915 West Golf Road, Niles, IL 60714-05825 | 355030 | 08/07/2006 | IL
Hematology Oncology Associates of Illinois (HOAI), 715 West North Avenue, Melrose Park, IL 60160 | 218860 | 08/07/2006 | IL
Princeton Community Hospital, 122 12th Street Ext, Princeton, WV 24740 | 510046 | 08/07/2006 | WV | P.O. Box 1369.
TRICAT, LLC at Edison, 3830 Park Avenue, Edison, NJ 08820 | 27193 | 08/07/2006 | NJ | Suite 102.
Olathe Medical Center, 20333 W. 151st Street, Olathe, KS 66061 | 170049 | 08/07/2006 | KS
St. Joseph Hospital, 1140 West La Veta Avenue, Orange, CA 92868 | 50069 | 08/07/2006 | CA | 2nd Floor Nuclear Medicine.
Baptist Health Medical Center, 9601 I630, Exit 7, Little Rock, AR 72205-7299 | 40114 | 08/07/2006 | AR
Florida Cancer Specialists, 3840 Broadway, Fort Myers, FL 33901 | 1225064520 | 08/07/2006 | FL
Pacca PET Imaging, 5210 Belfort Road, Suite 130, Jacksonville, FL 32256 | 37572 | 08/07/2006 | FL
National PET Scan Palm Beach, LLC, 16110 Jog Road, Delray Beach, FL 33484 | 1164452405 | 08/07/2006 | FL | Suite 200.
Central Memphis Regional PET Imaging Center, LLC, 1388 Madison Avenue, Memphis, TN 38104 | 1295719110 | 08/07/2006 | TN
Johnston Memorial Hospital, 351 Court Street NE., Abingdon, VA 24210 | 490053 | 08/07/2006 | VA
Lenox Hill Hospital, 100 East 77th Street, New York, NY 10021 | 131624070 | 08/07/2006 | NY
Mercy Medical Center, 411 Laurel Street, Suite 2310, Des Moines, IA 50314 | 160083 | 08/07/2006 | IA
New Orleans Regional PET Center, LLC, 3434 Prytania Street, Suite 120, New Orleans, LA 70115 | 1538143474 | 08/07/2006 | LA
Indiana Regional Medical Center PET Imaging, 835 Hospital Road, Indiana, PA 15701 | 390173 | 08/07/2006 | PA | P.O. Box 788.
Mid American-Defiance Clinic, 1400 E. Second Street, Defiance, OH 43512 | ID00809 | 08/07/2006 | OH
Total Imaging Robertson, 737 West Brandon Boulevard, Brandon, FL 33511 | k7282 | 08/07/2006 | FL
New Tampa Imaging Center, 14302 N. Bruce B. Downs Boulevard, Tampa, FL 33613 | k57209 | 08/07/2006 | FL
Summit Imaging, 12037 Cortez Boulevard, Brooksville, FL 34613 | 40986 | 08/08/2006 | FL
University of NM Cancer Research & Treatment Center, 900 Caminodey Salud NE., Albuquerque, NM 87131 | 400521103 | 08/08/2006 | NM
Alliance Imaging—Los Alamitos Med Center, 3751 Katella Avenue, Los Alamitos, CA 90720 | TD017 | 08/08/2006 | CA
NYU Clinical Cancer Center, Diagnostic Imaging, 160 E. 34th Street, New York, NY 10016 | W1L361 | 08/08/2006 | NY | 2nd Floor.
Margaret Mary Community Hospital, 321 Mitchell Avenue, Batesville, IN 47006 | 151329 | 08/08/2006 | IN
Quantum PET—Apple Hill, 37 Monument Road, York, PA 17403 | 40635 | 08/08/2006 | PA
Memorial Hospital, 1204 N. Mound Street, Nacogdoches, TX 75961 | 450508 | 08/08/2006 | TX
BMH—DeSoto, 7601 Southcrest Parkway, Southaven, MS 38671 | 250141 | 08/08/2006 | MS
Riverside Medical Center, 300 Bourbonnais Campus, Bourbonnais, IL 60914 | 140186 | 08/08/2006 | IL | Riverside Medical Center.
UCSD Center for Molecular Imaging, 11388 Sorrento Valley Road, Suite 100, San Diego, CA 92121 | TG302 | 08/08/2006 | CA
Imaging Partners at Valley, LLC, 400 South 43rd Street, Renton, WA 98055 | AB38657 | 08/08/2006 | WA | Olympic Building.
El Paso Cancer Treatment Center, 7848 Gateway East Boulevard, El Paso, TX 79915 | 00543K | 08/08/2006 | TX
Desert Radiologists, 3930 S. Eastern Avenue, Las Vegas, NV 89119 | VWCCBT | 08/08/2006 | NV
Saint Joseph Hospital, 2900 North Lake Shore Drive, Chicago, IL 60068 | 140224 | 08/08/2006 | IL
Midstate Medical Center, 435 Lewis Avenue, Meriden, CT 06451 | 60646715 | 08/08/2006 | VT
Brookville Hospital, 100 Hospital Road, Brookville, PA 15825 | 391312 | 08/08/2006 | PA
Suntree Diagnostic Center, 6300 N. Wickham Road, Suite 101, Melbourne, FL 32940 | 701 | 08/08/2006 | FL
Virginia Mason Medical Center, 1100 Ninth Avenue, Seattle, WA 98101 | 500005 | 08/08/2006 | WA
Van Wert County Hospital, 1250 South Washington Street, Van Wert, OH 45891 | 360071 | 08/08/2006 | OH
Manhasset Diagnostic Imaging, PC, 1350 Northern Boulevard, 2nd Floor, Manhasset, NY 11030 | W14841 | 08/08/2006 | NY
Southern New Mexico Cancer Center, 150 Road Runner Parkway, Las Cruces, NM 88011 | 752131429 | 08/08/2006 | NM
Davis Memorial Hospital, Gorman Avenue and Reed Street, Elkins, WV 26241 | 510030 | 08/08/2006 | WV | Gorman Avenue.
Advocate Good Samaritan Hospital, 3815 Highland Avenue, Downers Grove, IL 60515 | 140288 | 08/08/2006 | IL
Benefis Healthcare, 1101 26th Street South, Great Falls, MT 59405 | 270012 | 08/08/2006 | MT
Fort Walton Beach Medical Center, 1032 Mar Walt Drive, Fort Walton Beach, FL 32547 | 100223 | 08/08/2006 | FL
Blessing Hospital, P.O. Box #7005, Quincy, IL 62305 | 140015 | 08/08/2006 | IL
Alliance Imaging—Allen County Hospital, 101 South 1st Street, Iola, KS 53808 | 130656 | 08/08/2006 | KS
Florida Cancer Institute—NPR, 8763 River Crossing Boulevard, New Port Richey, FL 34655 | 1427017326 | 08/08/2006 | FL
Kimball Medical Center, 600 River Avenue, Lakewood, NJ 08701 | 315084 | 08/08/2006 | NJ
Radiology Imaging Associates at Heritage, 8926 Woodyard Road, Clinton, MD 20735 | 521454775 | 08/08/2006 | MD | Suite 502.
Immanuel Medical Center, 6901 North 72nd Street, Omaha, NE 68122 | 280081 | 08/08/2006 | NE
North Fork Radiology, 1333 Roanoke Avenue, Riverhead, NY 11901 | w11401 | 08/08/2006 | NY
South County PET Imaging, LLC, 10010 Kennerly Road, St. Louis, MO 63128 | 93053 | 08/08/2006 | MO
Carolinas Hospital System, 805 Pamplico Highway, Florence, SC 29505 | 621587267 | 08/08/2006 | SC
Radiology Associates of San Luis Obispo, 522 E. Plaza Drive, Santa Maria, CA 93454 | GR0009774 | 08/08/2006 | CA
Florida Cancer Specialists—Port Charlotte, 22395 Edgewater Drive, Port Charlotte, FL 33980 | 1225064520 | 08/08/2006 | FL
Florida Cancer Specialists—Venice, 901 South Tamiami Trail, Venice, FL 34285 | 1225064520 | 08/08/2006 | FL
Florida Cancer Specialists—Bradenton, 6001 21st Avenue West, Bradenton, FL 34209 | 1225064520 | 08/08/2006 | FL
Nebraska Methodist Hospital, 8303 Dodge Street, Omaha, NE 68114 | 280040 | 08/08/2006 | NE
PET/CT Center of Richardson, 399 Melrose Drive, Richardson, TX 75080 | 1740207539 | 08/08/2006 | TX | Suite A.
Molecular Imaging at Sequoia Imaging Center, 4949 W. Cypress Avenue, Visalia, CA 93277 | ZZZ27463Z | 08/08/2006 | CA
Central Jersey Radiologists, 2128 Kings Highway, Oakhurst, NJ 07755 | 527995 | 08/08/2006 | NJ
Claxton-Hepburn Medical Center, 214 King Street, Ogdensburg, NY 13669 | 330211 | 08/08/2006 | NY
Memorial Hermann Southeast, 11800 Astoria Boulevard, Houston, TX 77089 | 741152597 | 08/08/2006 | TX
NSMS—Pine Bluff, AR, 4253 Argosy Court, Madison, WI 53714 | 5f168 | 08/08/2006 | WI
Yuma Regional Medical Center, 2400 S. Avenue A, Yuma, AZ 85364 | 866007596 | 08/08/2006 | AZ
Carle Clinic, 1702 S. Mattis Avenue, Champagne, IL 61820 | 371188284 | 08/08/2006 | IL
North Shore-LIJ Center for Advanced Medicine, 450 Lakeville Road, Lake Success, NY 11042 | 330106 | 08/08/2006 | NY | North Shore-LIJ Center for Advanced Medicine Diagnostic Imaging Center.
McAlester Diagnostic Imaging, 10 South Third Street, McAlester, OK 74501 | 1760411540 | 08/08/2006 | OK | Suite 100.
California Imaging Institute, 1867 E. Fir Avenue, Fresno, CA 93720 | ZZZ03565Z | 08/08/2006 | CA
Bon Secours Memorial Regional Medical Center, 8260 Atlee Road, Mechanicsville, VA 23116 | 541744931 | 08/08/2006 | VA
University of Maryland Medical Center, 22 S. Greene Street Gudelksy 2nd Floor, Baltimore, MD 21201 | 210002 | 08/08/2006 | MD | Division of Nuclear Medicine.
Bixby Medical Center, 818 Riverside Avenue, Adrian, MI 49221 | 230005 | 08/08/2006 | MI
Kern Radiology Medical Group, 2301 Bahamas Drive, Bakersfield, CA 93309 | 1720023997 | 08/08/2006 | CA
Bon Secours St. Francis Medical Center, 13710 St. Francis Boulevard, Midlothian, VA 23114 | 311716973 | 08/08/2006 | VA
MMI/Maine General Waterville, 51 U.S. Route 1, Scarborough, ME 04074 | 327079 | 08/08/2006 | ME | Suite O.
Mount Adams Imaging Center, 3911 Castlevale Road, Yakimaw, WA 98902 | 8857843 | 08/08/2006 | WA
Carilion Roanoke Memorial Hospital, 2001 Crystal Spring Avenue, Roanoke, VA 24014 | 490024 | 08/08/2006 | VA
Seton Medical Center; Nuclear Medicine Dept., 1900 Sullivan Avenue, Daly City, CA, 94015-2229 | 50289 | 08/08/2006 | CA
Arnett Imaging Center, 2403 Loy Drive, Lafayette, IN 47909 | 224390 | 08/08/2006 | IN
Advanced Diagnostic Imaging, PC, 1120 Professional Boulevard, Evansville, IN 47630 | 639970 | 08/08/2006 | IN
Queen of Peace Hospital, 301 Second Street NE., New Prague, MN 56071 | 241361 | 08/08/2006 | MN
Agnesian Health Care, 430 E. Division Street, Fond du Lac, WI 54935 | 520088 | 08/08/2006 | WI
ACMH Hospital, One Nolte Drive, Kittanning, PA 16201 | 390163 | 08/08/2006 | PA
Wilshire Oncology Medical Group, Inc., 1280 Corona Pointe Court, Corona, CA 92879 | zzz19568z | 08/08/2006 | CA | Suite 112.
United Radiology—Laurel, 14201 Laurel Park Drive, Laurel, MD 20707 | 2.01558E+11 | 08/08/2006 | MD | Suite 208.
Bay Area Medical Center, 3100 Shore Drive, Marinette, WI 54143 | 520113 | 08/08/2006 | WI
Penn State Milton S. Hershey Medical Center, 500 University Drive, Hershey, PA, 17033 | 251854772 | 08/08/2006 | PA | HG380.
Delta St. Joseph's MRI, LLC, 1617 N. California Street, Stockton, CA 95204 | ZZZ19725Z | 08/08/2006 | CA | Suites 1A and 1B.
United Radiology: Bowie, 16701 Melford Boulevard, Bowie, MD 20715 | 2.01558E+11 | 08/08/2006 | MD
United Radiology Gaithersburg, 702 Russell Avenue, Gaithersburg, MD 20877 | 2.01558E+11 | 08/08/2006 | MD
United Radiology Olney, 18120 Hillcrest Drive, Olney, MD 20832 | 2.01558E+11 | 08/08/2006 | MD | Suite A.
FCS/Axcess Diagnosis/Sarasota, 600 N. Cattleman Road, Sarasota, FL 34232 | 1225064520 | 08/08/2006 | FL
NSMS—Greenville, IL, 4253 Argosy Court, Madison, WI 53714 | 208196 | 08/08/2006 | WI
FCS/Axcess Diagnosis/Venice, 842 Sunset Lake Boulevard, Venice, FL 34292 | 1225064520 | 08/08/2006 | FL | Suite #301.
Leading Edge Radiation, 8715 5th Avenue, Brooklyn, NY 11209 | WEM111 | 09/05/2006 | NY
Rena Tarbet Cancer Center, 4201 Medical Center Drive, Suite 180, McKinney, TX 75069 | oow753 | 09/05/2006 | TX
McLaughlin & Marte, M.D, LLP, 3850 Tampa Road, Suite 202, Palm Harbor, FL 34684 | 1003862079 | 09/05/2006 | FL
BryanLGH Medical Center, 2300 South 16th Street, Lincoln, NE 68502 | 280003 | 09/05/2006 | NE
Freehold MR Associates, 691 West Main Street, Freehold, NJ 07728 | 405856 | 09/05/2006 | NJ
Franciscan Skemp Healthcare, 700 West Avenue South, La Crosse, WI 54601 | 520004 | 09/05/2006 | WI
Teton Radiology, 2001 S. Woodruff, Suite 17, Idaho Falls, ID 83404 | 1371462 | 09/05/2006 | ID
Fletcher Allen Health Care, Mobile Pad, 790 College Parkway, Colchester, VT 05446 | 1659309615 | 09/05/2006 | VT | 790 College Parkway.
University of Penn Imaging Center, 3600 Market Street, 3rd Floor Silverstein, Philadelphia, PA 19104 | 764089 | 09/05/2006 | PA
Sitron-Hammel Radiology Group, 4277 Hempstead Turnpike, Suite 200, Bethpage, NY 11714 | W14891 | 09/05/2006 | NY
MRI of Saint Louis Obispo, 1064 Murray Avenue, San Luis Obispo, CA 93405 | 1881661361 | 09/05/2006 | CA
Lahey Clinic, 41 Mall Road, Burlington, MA 01805 | 220171 | 09/05/2006 | MA
St Joseph Medical Center, 215 N. 12th Street, Reading, PA 19603 | 390096 | 09/05/2006 | PA
Spartanburg Regional Medical Center, 101 E. Wood Street, Spartanburg, SC 29303 | 420007 | 09/05/2006 | SC
Aurora Sinai Medical Center, 945 N. 12th Street, Milwaukee, WI 53201 | 520064 | 09/05/2006 | WI
FHN Memorial Hospital, 1045 W. Stephenson Street, Freeport, IL 61032 | 140160 | 09/05/2006 | IL
Southwest Washington Medical Center, 400 NE. Mother Joseph Place, Vancouver, WA 98668 | 500050 | 09/05/2006 | WA
St. Lukes Center for Diagnostic Imaging, 6 McBride and Sons Corporate Center Drive, Suite 101, Chesterfield, MO 63005 | 47006 | 09/05/2006 | MO
The Stamford Health System, Shelbourn Road & West Broad Street, Stamford, CT 06904 | 70006 | 09/05/2006 | CT
Hagerstown Imaging, LLC, 1150 A Professional Court, Hagerstown, MD 21741 | 1518914936 | 09/05/2006 | MD
GCM Suburban Imaging, 6420 Rockledge Drive, Suite 3100, Bethesda, MD 20817 | 409623 | 09/05/2006 | MD
Alliance Imaging—No. Idaho Imaging, 2003 Lincoln Way, Coeur d'Alene, ID 83814 | 1790291 | 09/05/2006 | ID
HPMA PET Center, 22710 Professional Drive, Suite 104, Kingwood, TX 77339 | 0019BY | 09/05/2006 | TX
Parma Community General Hospital, 7007 Powers Boulevard, Parma, OH 44129 | 360041 | 09/05/2006 | OH
Pacific Shores Medical Group PET Imaging, 1043 Elm Street #104, Long Beach, CA 90813 | W13494 | 09/05/2006 | CA
Clark Memorial Hospital, 1220 Missouri Avenue, Jeffersonville, IN 47130 | 15009 | 09/05/2006 | IN
Abilene Imaging Center, LLC, 750 North 18th Street, Abilene, TX 79601 | FTA070 | 09/05/2006 | TX
DuBois Regional Medical Center, 100 Hospital Avenue, DuBois, PA 15801 | 390086 | 09/06/2006 | PA
Meeker County Memorial Hospital, 612 South Sibley Avenue, Litchfield, MN 55355 | 241366 | 09/06/2006 | MN
Memorial Health, 4700 Waters Avenue, Savannah, GA 31403 | 110036 | 09/06/2006 | GA
St. Luke's Regional Medical Center, Ltd., 190 E. Bannock Street, Boise, ID 83712 | 130006 | 09/06/2006 | ID
Radiology Consultants Imaging Center, 400 Avenue K, SE., Winter Haven, FL 33880 | U3944 | 09/06/2006 | FL
Patient Comprehensive Cancer Center, 4352 North Josey Lane, Carrollton, TX 75010 | 0083BY | 09/06/2006 | TX
The University of Tennessee Medical Center, 1924 Alcoa Highway, Knoxville, TN 37920 | 440015 | 09/06/2006 | TN
Radiation Therapy Regional Centers—Naples, 800 Goodlette Road, Suite 110, Naples, FL 34102 | 77215 | 09/06/2006 | FL
St. Mary's Medical Center, 2900 First Avenue, Huntington, WV 25702 | 510007 | 09/06/2006 | WV
McKinney Regional Cancer Center, 4601 Medical Center Drive, McKinney, TX 75069 | 00711W | 09/06/2006 | TX
WCA Hospital, P.O. Box 840, Jamestown, NY 14701 | 330239 | 09/06/2006 | NY | 207 Foote Avenue.
Grants Pass Imaging and Diagnostic Center, LLC, 1619 NW. Hawthorne, Suite 110, Grants Pass, OR 97526 | 1659307973 | 09/06/2006 | OR
Baptist Memorial Hospital—Golden Triangle, 2520 5th Street North, Columbus, MS 39705 | 250100 | 09/06/2006 | MS
Florida Medical Clinic, 13417 U.S. Highway 301, Dade City, FL 33525 | 39715 | 09/06/2006 | FL
Saint Clare's Hospital, 400 West Blackwell Street, Dover, NJ 07801 | 310067 | 09/06/2006 | NJ
Radiation Medicine Associates, 2202 South 77 Sun Shine Strip, Suite E, Harlingen, TX 78550 | 00645N | 09/06/2006 | TX
The Radiology Clinic, LLC, 208 McFarland Circle North, Tuscaloosa, AL 35406 | 13089 | 09/06/2006 | AL
Bay Area Hospital, 1775 Thompson Road, Coos Bay, OR 97420 | 30090 | 09/06/2006 | OR
MMI/St. Mary's Hospital, 51 U.S. Route 1, Scarborough, ME 04074 | 327079 | 09/06/2006 | ME | Suite O.
Gulf Coast Medical Diagnostic Center, 2024 State Avenue, Panama City, FL 32405 | 30930 | 09/06/2006 | FL
Diagnostic Radiology Systems, Inc., 1010 Medical Center Drive, Powderly, KY 42366 | 9366001 | 09/06/2006 | KY
Lewis Gale Medical Center, 1900 Electric Road, Salem, VA 24153 | 490048 | 09/06/2006 | VI
Radiology Diagnostic Center, 1310 Las Tablas Road, Suite 103, Templeton, CA 93465 | W7491 | 09/06/2006 | CA
Weslaco Nuclear Imaging Center, 913 S. Airport Drive, Weslaco, TX 78596 | 1780796219 | 09/06/2006 | TX
Pioneer PET, LLC, 1930 E. Southern Avenue, Tempe, AZ 85282 | 1265401996 | 12/05/2006 | AZ
Kearney Imaging Center, LLC, 3219 Central Avenue, Suite 109, Kearney, NE 68847 | 98950 | 12/05/2006 | NE
Rose Medical Center, 4567 East 9th Avenue, Denver, CO 80220 | 841321373 | 12/05/2006 | CO
UCSF Medical Center, 185 Berry Street, San Francisco, CA 94107 | 50454 | 12/05/2006 | CA | Lobby 7, Suite 180.
Broward General Medical Center, 1500 S. Andrews Avenue, Fort Lauderdale, FL 33316 | 100039 | 12/05/2006 | FL
St. Paul Radiology, PA/Midwest Radiology, 166 Fourth Street East, St. Paul, MN 55101 | CO2661 | 12/05/2006 | MN
Queen of the Valley Hospital, 1000 Trancas Street, Napa, CA 94558 | 941243669 | 12/05/2006 | CA
Dana-Farber Cancer Institute, 44 Binney Street, Boston, MA 02115 | 220162 | 12/05/2006 | MA
Holmes Regional Medical Center, 1350 South Hickory Street, Melbourne, FL 32901 | 100019 | 12/05/2006 | FL
Niagara County PET Center, Niagara Falls, NY 14302 | f27482 | 12/05/2006 | NY | 621 Tenth Street Department of Radiology.
Augusta Medical Center, 78 Medical Center Drive, Fishersville, VA 22939 | 490018 | 12/05/2006 | VA
Nevada Cancer Center, 2851 North Tenaya Way, Las Vegas, NV 89128 | VWQBHJ | 12/05/2006 | NV | #100.
Wellstar Kennestone Hospital Imaging Center, 340 Kennestone Hospital Boulevard, Marietta, GA 30060 | 110035 | 12/05/2006 | GA | Suite LL10.
Ashtabula County Medical Center, 2412 Lake Avenue, Ashtabula, OH 44004 | 1285607416 | 12/05/2006 | OH | The Regional Cancer Center.
Rowan Regional Medical Center, 514 Corporate Circle, Salisbury, NC 28147 | 340015 | 12/05/2006 | NC
The Pottsville Hospital and Warne Clinic, 420 South Jackson Street, Pottsville, PA 17901 | 390030 | 12/05/2006 | PA
Georgetown Memorial Hospital, 606 Blackriver Road, Georgetown, SC 29442 | 1982604021 | 12/05/2006 | SC
Medical Center of Arlington, 3301 Matlock Road, Arlington, TX 76015 | 450675 | 12/05/2006 | TX
Valley View Regional Hospital, 430 N. Monte Vista, Ada, OK 74820 | 370020 | 12/05/2006 | OK
Montgomery Medical Services, 644 Maysville Road, Suite 10, Mount Sterling, KY 40353 | 9141 | 12/05/2006 | KY
Medical Outsourcing Services, LLC, 5409 N. Knoxville Avenue, Peoria, IL 61614 | 211224 | 12/05/2006 | IL
Medical Outsourcing Services, LLC, 1300 N. Main Street, Rushville, IN 46173 | 223260 | 12/05/2006 | IN
Mayo Clinic Arizona, 13400 E. Shea Boulevard, Scottsdale, AZ 85259 | WCTGB | 12/05/2006 | AZ
Door County Memorial Hospital, 323 S. 18th Avenue, Sturgeon Bay, WI 54235 | 1093743874 | 12/05/2006 | WI
Center for Diagnostic Imaging—Sartell, 166 19th Street S., Sartell, MN 56377 | C01307 | 12/05/2006 | MN | Suite 100.
South Texas Institute of Cancer, 1205 South 19th Street, Corpus Christi, TX 78405 | 0065AZ | 12/05/2006 | TX
Del Sol Medical Center, 10460 Vista Del Sol, El Paso, TX 79925 | 450646 | 12/05/2006 | TX
University Hospital, 818 St. Sebastian Way, Augusta, GA 30901 | 110028 | 12/05/2006 | GA | Suite 103.
St. John Health System—Tulsa, OK, 1923 S. Utica Avenue, Tulsa, OK 74104 | 370114 | 12/05/2006 | OK
Allen Memorial Hospital, 1825 Logan Avenue, Waterloo, IA 50703 | 160110 | 12/05/2006 | IA
Craig General Hospital, 735 North Foreman Street, Vinita, OK 74301 | 370065 | 12/05/2006 | OK
Vision Imaging of Kingston, 517 Pierce Street, Kingston, PA 18704 | 86463 | 12/05/2006 | PA
Lake Hospital Mentor Campus, 9485 Mentor Avenue, Mentor, OH 44060 | 360098 | 12/05/2006 | OH | Attn: Suite A.
Excela RCL PET CT Imaging, LLC, 200 Village Drive, Greensburg, PA 15601 | 1144260415 | 12/05/2006 | PA
Kousay Al—Kourainy, MD, 5395 Ruffin Road #202, San Diego, CA 92123 | A39783 | 12/05/2006 | CA
Memorial Hermann Northwest Hospital, 1635 North Loop West, Houston, TX 77008 | 450184 | 12/05/2006 | TX
Accu/Site PET/CT Imaging Center, 30 Harrison Street, Johnson City, NY 13790 | DD1474 | 12/05/2006 | NY | Suite #102.
DDIS—Bond, 9 Bond Street, Brooklyn, NY 11201 | 687s41 | 12/05/2006 | NY
West Valley Radiology Medical Group, 7301 Medical Center Drive, West Hills, CA 91307 | Hw5870A | 12/05/2006 | CA | Suite 103.
Westside Diagnostic and Therapeutic Medical Center, LLC, 12524 West Washington Boulevard, Los Angeles, CA 90066 | TG472 | 12/05/2006 | CA
DDIS—Still, 1783 Stillwell Avenue, Brooklyn, NY 11223 | 687s41 | 12/05/2006 | NY
Alpena Regional Medical Center, 1501 W. Chisholm Street, Alpena, MI 49707 | 386000029 | 12/05/2006 | MI
Santa Monica Imaging Center, 1245 16th Street, Suite 105, Santa Monica, CA 90404 | 1881670248 | 12/05/2006 | CA
Mercer County Community Hospital, 800 W. Main Street, Coldwater, OH 45828 | 360058 | 12/05/2006 | OH
Johnson Memorial Hospital, 1125 W. Jefferson Street, Franklin, IN, 46131-2675 | 150001 | 12/05/2006 | IN | P.O. Box 549.
St. Mary's Health Center, 100 St. Mary's Medical Plaza, Jefferson City, MO 65101 | 260011 | 12/05/2006 | MO
Eastside PET Center, LLC, 46 Medical Park East Drive, Birmingham, AL 35023 | 1619925070 | 12/05/2006 | AL | Suite 224.
United Regional Health Care System, 1600 8th Street, Wichita Falls, TX 76301 | 450010 | 12/05/2006 | TX
Denton Regional Medical Center, 3535 S. I-35, Denton, TX 76210 | 450634 | 12/05/2006 | TX
Canton-Potsdam Hospital, 50 Leroy Street, Potsdam, NY 13676 | 161012691 | 12/05/2006 | NY
St. John Macomb Hospital, 11800 E. 12 Mile Road, Warren, MI 48093 | 230195 | 12/05/2006 | MI
Cleveland Regional Medical Center, 201 East Grover Street, Shelby, NC 28150 | 340021 | 12/05/2006 | NC
Bluefield Regional Medical Center, 500 Cherry Street, Bluefield, WV 24701 | 510071 | 12/05/2006 | WV
Charles Cole Memorial Hospital, 1001 East Second Street, Coudersport, PA 16915 | 390246 | 12/05/2006 | PA
New Jersey State Open MRI, 155 State Street, Hackensack, NJ 07601 | 85238 | 12/06/2006 | NJ
Westcoast Radiology, 501 S. Lincoln Ave., Clearwater, FL 33756 | E4187 | 12/06/2006 | FL
The Iowa Clinic/PETCO, LLC, 1221 Pleasant Street, Des Moines, IA 50309 | I5819 | 12/06/2006 | IA
Quantum PET—Holy Spirit Hospital, 890 Poplar Church Road, Camp Hill, PA 17011 | 40635 | 12/06/2006 | PA
Coastal Bend PET Scan, Ltd., 1533 5th Street, Corpus Christi, TX 78404 | FTN014 | 12/06/2006 | TX
Pottstown Memorial Medical Center, 1600 E. High Street, Pottstown, PA 19464 | 390123 | 12/06/2006 | PA
UTMB PET/CT Imaging Center, UTMB—Rebecca Sealy Hospital, Galveston, TX 77555-0793 | R518 | 12/06/2006 | TX | 301 University Blvd.
Diagnostic Imaging Services, LLC, 11110 Medical Campus Road, Suite 204, Hagerstown, MD 21742 | 1114982808 | 12/06/2006 | MD
North Memorial Medical Center, 3435 West Broadway, Robbinsdale, MN 55422 | 1851344907 | 12/06/2006 | MN
Hays Medical Center, 2220 Canterbury Drive, Hays, KS 67601 | 2473 | 12/06/2006 | KS
St. Patrick Hospital & Health Sciences Center, 500 West Broadway, Missoula, MT 59802 | 1023032588 | 12/06/2006 | MT
Park Ridge Hospital, 100 Hospital Drive, Hendersonville, NC 28792 | 340023 | 12/06/2006 | NC
Fostoria Community Hospital, 610 Plaza Drive, Fostoria, OH 44830 | 361318 | 12/06/2006 | OH
UMDNJ-University Hospital, 30 Bergen Street, Newark, NJ 07101 | 221775306 | 12/06/2006 | NJ | ADMC 5 Room 575, P.O. Box 1709.
Metabolic Imaging of Boca, 5458 Town Center Road, Suite 103, Boca Raton, FL 33486 | E5434 | 12/06/2006 | FL
Olean Open MRI, 413 North 8th Street, Olean, NY 14760 | AA0996 | 12/06/2006 | NY
Mercy Memorial Health Center, 1011 14th Avenue NW., Ardmore, OK 73401 | 731500629 | 12/06/2006 | OK
Pontiac Osteopathic Hospital d.b.a. POH Medical Center, 385 N. Lapeer Road, Oxford, MI 48371 | 230207 | 12/06/2006 | MI
Texas Oncology Ft. Worth, 1450 8th Avenue, Fort Worth, TX 76104 | 00R66C | 12/06/2006 | TX
West Valley Imaging, 3025 S. Rainbow Boulevard, Las Vegas, NV 89146 | WQBDY | 12/06/2006 | NV
Springman Medical Plaza Imaging Center, P.O. Box 4650, Brownsville, TX 78523 | 1912973108 | 12/06/2006 | TX
EMH Regional Health Care System, 630 East River Street, Elyria, OH 44035 | 360145 | 12/06/2006 | OH
Denfeld Medical Center, 4702 Grand Avenue, Duluth, MN 55807 | C06028 | 12/06/2006 | MN
Caldwell Memorial Hospital, 321 Mulberry Street SW., Lenoir, NC 28645 | 560554202 | 12/06/2006 | NC
Belleville, IL (Swansea), 4253 Argosy Court, Madison, WI 53714 | 208196 | 12/06/2006 | WI
Comprehensive Cancer Centers of Nevada—NW. Office, 7445 Peak Drive, Las Vegas, NV 89128 | WCHCX | 12/06/2006 | NV
Wheaton Francisan Healthcare-St. Joseph, 5000 W. Chambers Street, Milwaukee, WI 53210 | 520136 | 12/06/2006 | WI
United Hospital Center, Rt. 19 South, Clarksburg, WV 26302-1680 | 510006 | 12/06/2006 | WV | #3 Hospital Plaza.
Massena Memorial Hospital, 1 Hospital Dive, Massena, NY 13662 | 330223 | 12/06/2006 | NY
Redlands Community Hospital, 350 Terracina Boulevard, Redlands, CA 92373 | ZZZ01782Z | 12/06/2006 | CA
The Valley Hospital, 1 Valley Health Plaza, Paramus, NJ 07652 | 310012 | 12/06/2006 | NJ
Advanced Medical Imaging of Toms River, 1430 Hooper Avenue, Toms River, NJ 08753 | 447655 | 12/06/2006 | NJ | Suite 102.
McKenna Memorial Hospital, 598 N. Union Street, New Braunfels, TX 78130 | 450059 | 12/06/2006 | TX
NSMS—Parkland Farmington, Mo, 4253 Argosy Court, Madison, WI 53714 | 208196 | 12/06/2006 | WI
Alton Memorial Hospital, 1 Memorial Drive, Alton, IL 62002 | 14002 | 12/06/2006 | IL
Medical City Dallas Hospital Diagnostic Imaging, Dallas, TX 75230 | 20943901 | 12/06/2006 | TX | 7777 Forest Lane.
Mercy Medical Center, 301 St. Paul Place, Baltimore, MD 21202 | 210008 | 12/06/2006 | MD
St. Joseph's Medical Center, 503 N. 3rd Street, Brainerd, MN 56401 | 240075 | 12/06/2006 | MN
Covenant Healthcare, 600 Irving Street, Saginaw, MI 48602 | 1457354318 | 12/06/2006 | MI
Little Company of Mary Hospital, 2800 West 95th Street, Evergreen Park, IL 60805 | 140179 | 12/06/2006 | IL
Marion General Hospital Progressive Medical Imagine, 830 N. Theatre Drive, Marion, IN 46952 | 1457354318 | 12/06/2006 | IN
Escondido Pulmonary Medical Group, 5395 Ruffin Road, Suite 202, San Diego, CA 92123 | W301 | 12/06/2006 | CA
Marshall Medical Center, 1100 Marshall Way, Placerville, CA 95667 | 50254 | 12/06/2006 | CA
Clermont Radiology, 1804 Oakley Seaver Drive, Clermont, FL 34711 | U5066 | 12/06/2006 | FL | Suite B.
Mahoning Valley Imaging, Ltd., 7067 Tiffany Boulevard, Youngstown, OH 44514 | 1457354318 | 12/06/2006 | OH
Southeastern Ohio Regional Medical Center, 1341 Clark Avenue, Cambridge, OH 43725 | 1457354318 | 12/06/2006 | OH
White County Medical Center, 3214 E. Race Avenue, Searcy, AR 72143 | 40014 | 12/06/2006 | AR
MED Arts JVIC, 9101 Franklin Square Drive, Baltimore, MD 21237 | 1932167178 | 12/06/2006 | MD
Memorial Hermann Southwest OPID, 7797 SW. Freeway, Houston, TX 77074 | 741152597 | 12/06/2006 | TX
Twin County Regional Hospital, 200 Hospital Drive, Galax, VA 24333 | 1174524094 | 12/06/2006 | VA
Marion Ancillary Services, LLC, 1040 Delaware Avenue, Marion, OH 43302 | 991 | 12/06/2006 | OH
Owensboro Medical Health Systems, Breckenridge Diagnostics, Owensboro, KY 42301 | 180038 | 12/06/2006 | KY | 1020 Breckenridge Street.
NSMS—Darlington, WI, 209 Limestone Pass, Cottage Grove, WI 53527 | 92420 | 12/06/2006 | WI
Santa Fe Imaging, LLC, 1640 Hospital Drive, Santa Fe, NM 87505 | 400521037 | 12/06/2006 | NM
Suncoast Imaging of Port Orange, 1680 Dunlawton Avenue, Port Orange, FL 32127 | 40370B | 12/06/2006 | FL
Great Basin Imaging, 2874 N. Carson Street, 3rd Floor, Carson City, NV 89706 | WJBDK | 12/06/2006 | NV
St. Francis Hospital & Health Centers, 1201 Hadley Road, Mooresville, IN 46158 | 1457354318 | 12/06/2006 | IN
Las Colinas Cancer Center, 7415 Las Colinas Boulevard, Irving, TX 75063 | 00J062 | 12/06/2006 | TX
ADI, 4006 Jonathan Street, Waterloo, IA 50701 | I15454 | 12/06/2006 | IA
St Francis Hospital & Health Centers South, 8111 S. Emerson Avenue, Indianapolis, IN 46237 | 1457354318 | 12/06/2006 | IN
Central Baptist Diagnostic Center, 100 Southland Drive, Lexington, KY 40503 | 9375001 | 06/14/2006 | KY | Suite B.
Baptist Health Medical Center—NLR PET/CT, 3500 Springhill Drive, North Little Rock, AR 72117 | 5F437 | 05/03/2007 | AR | Suite 100.
Commonwealth Hematology Oncology, 216 Southtown Drive, Danville, KY 40422 | 1285687178 | 03/21/2007 | KY
Commonwealth Hematology Oncology, 95 Bogle Office Park Drive, Somerset, KY 42503 | 1285687178 | 03/21/2007 | KY
UMPC and The Washington Hospital Cancer Center, 155 Wilson Avenue Washington, PA 15301 | 105589VXB | 03/10/2006 | PA
Lexington Diagnostic Center, 1725 Harrodsburg Road, Suite 100, Lexington, KY 40504 | 0406 | 03/08/2006 | KY
UW PET Imaging Center, 8007 Excelsior Drive, Madison, WI 53717 | 1346266319 | 04/03/2007 | WI
Fort Wayne Medical Oncology and Hematology, 7910 W. Jefferson Boulevard, Suite 107, Ft. Wayne, IN 46804 | 055770 | 04/23/2007 | IN
Danbury Hospital, 24 Hospital Avenue, Danbury, CT 06810 | 070033 | 04/23/2007 | CT
Reno Diagnostic Centers, 590 Eureka Avenue, Reno, NV 89512 | 1518904994 | 04/24/2007 | NV
The Kirklin Clinic PET-CT Facility, 2000 6th Ave South, Birmingham, AL 35233 | 10933768723 | 05/07/2007 | AL
PET Imaging Radiology, PSC Paseo San Pablo 100, Bayamon, PR | 0085142 | 05/15/2007 | PR | EDIF Dr. Arturo Cadilla, Suite 208.
Punxsutawney Area Hospital, 81 Hillcrest Drive, Punxsutawney, PA 15767 | 390199 | 05/15/2007 | PA
Princeton Baptist Medical Center, 701 Princeton Avenue SW., Birmingham, AL 35211 | 35211 | 05/30/2007 | AL
Medical Arts Radiology Commack, 55 Veterans Memorial Highway, Commack, NY 11725 | W11682 | 05/31/2007 | NY
Carrol, Sheth & Raghavan, MD, 1460 Bluegrass Avenue, Louisville, KY 40215 | 5460 | 06/05/2007 | KY
Personal Care Molecular Imaging, 1514 Highway 138, Wall, NJ 07719 | 109631 | 06/06/2007 | NJ
Lincoln Radiology Imaging, 7121 Stephanie Lane, Lincoln, NE 68516 | 099920 | 06/06/2007 | NE
Medcenter One, 300 North 7th Street, Bismark, ND, 58506-5525 | 1538245634 | 07/24/2007 | ND
Wheaton Franciscan Healthcare—All Saints, 3801 Spring Street, Racine, WI 53405 | 520096 | 08/08/2007 | WI | N/A.
Diagnostic Centers of America, 6080 Boynton Boulevard, Suite 140, Boynton Beach, FL 33437 | E4439 | 08/22/2007 | FL | N/A.
Center for Integrative Cancer Medicine, P.A., 1733 Curie Drive, Suite 305, El Paso, TX 79902 | 00315U | 08/22/2007 | TX | N/A.
St. Luke's Hospital, 1026 A Avenue NE., Cedar Rapids, IA 52406-3026 | 160045 | 08/22/2007 | IA | N/A.
Shared PET Imaging, LLC—Cincinnati OH, Eden Avenue & Albert Sabin Way, Cincinnati, OH 45219 | ID01511 | 08/22/2007 | OH | N/A.
Integrated Magnetic Imaging, 7100 University Court, Montgomery, AL 36117 | 7811 | 08/22/2007 | AL | N/A.
Northwest PET Imaging, 265 N. Broadway Street, Portland, OR 97227 | 105512 | 08/22/2007 | OR | N/A.
Center for Diagnostic Imaging—St. Louis Park, 5775 Wayzata Boulevard #190, St. Louis Park, MN 55416 | C01307 | 08/22/2007 | MN | N/A.
Ponca City Medical Center, 1900 North 14th Street, Ponca City, OK 74601 | 370006 | 08/22/2007 | OK | N/A.
Sanford Health, 1305 W. 18th Street, Sioux Falls, SD 57117 | 430027 | 08/22/2007 | SD | N/A.
Central Valley PET Imaging, 4744 Quail Lake Drive, Stockton, CA 95207 | 00A484230 | 08/22/2007 | CA | N/A.
PET/CT Imaging Center, 4000 N. Illinois Lane, Swansea, IL 62226 | 201339 | 08/22/2007 | IL | PET/CT Imaging Center.
Memorial Medical Center, 1105 W. Frank Avenue, Suite 100, Lufkin, TX 75901 | 450211 | 08/22/2007 | TX | d.b.a. Temple Imaging Center.
Rockingham Memorial Hospital, 235 Cantrell Ave, Harrisonburg, VA 22801 | 490004 | 08/22/2007 | VA | N/A.
Regions Imaging Center, 401 Phalen Boulevard, 41101C, St. Paul, MN 55101 | 240106 | 08/22/2007 | MN | N/A.
Florida Hospital Imaging, LLC, 335 Clyde Morris Boulevard, Suite 250, Ormond Beach, FL 32174 | 1104876358 | 08/22/2007 | FL | N/A.
Hutchinson Clinic, PA, 2101 North Waldron Street, Hutchinson, KS 67502 | 1043298474 | 08/22/2007 | KS | N/A.
Parkwest Imaging, 3676 Parker Boulevard, Pueblo, CO 81008 | 455838 | 08/22/2007 | CO | N/A.
St. Clair Hospital/UPMC Cancer Center PET/CT, 1000 Bower Hill Road, Pittsburgh, PA 15243 | 1699708792 | 08/22/2007 | PA | N/A.
St. Joseph Mercy Oakland (SJMO), 44405 Woodward Avenue, Pontiac, MI 48341 | 1457354318 | 08/22/2007 | MI | N/A.
Edward Hospital, 801 S. Washington Street, Naperville, IL 60540 | 140231 | 08/22/2007 | IL | N/A.
East Montgomery Imaging Center, 6880 Winton Blount Boulevard, Montgomery, AL 36117 | 58866 | 08/22/2007 | AL | N/A.
Memorial Hospital of Martinsville and Henry County, 320 Hospital Drive, Martinsville, VA 24112 | 490079 | 08/22/2007 | VA | N/A.
Thomas Hospital, 750 Morphy Avenue, Fairhope, AL 36532 | 10100 | 08/22/2007 | AL | N/A.
Portland Adventist Medical Center, 10123 SE. Market Street, Portland, OR 97216 | 380060 | 08/22/2007 | OR | N/A.
Nash Healthcare System, Inc., 2460 Curtis Ellis Drive, Rocky Mount, NC 27804 | 340147 | 08/22/2007 | NC | N/A.
North Broward Medical Center, 201 E. Sample Road, Deerfield Beach, FL 33064 | 100068 | 08/22/2007 | FL | Radiology.
Jennie Stuart Medical Center, 320 West 18th Street, Hopkinsville, KY 42240 | 180051 | 08/22/2007 | KY | N/A.
Greater Houston Imaging, L.P., 6565 West Loop South, Suite 100, Bellaire, TX 77401 | FTNPX1 | 08/22/2007 | TX | N/A.
Sunrise Hospital Medical Center, 3186 South Maryland Parkway, Las Vegas, NV 89109 | 290003 | 08/22/2007 | NV | N/A.
The Diagnostic and Treatment Center, 3401 Cranberry Boulevard, Weston, WI 54476 | 92450 | 08/22/2007 | WI | N/A.
Ochsner Medical Center, 1514 Jefferson Highway, New Orleans, LA 70121 | 720502505 | 08/22/2007 | LA | N/A.
Inland Empire Medical Imaging, 225 W. Hospitality Lane Suite #100, San Bernardino, CA 92408 | zzz316682 | 08/22/2007 | CA | N/A.
Independent Nuclear PET Imaging, 1115 N. Parrott Avenue, Okeechobee, FL 34972 | 1922070796 | 08/22/2007 | FL | N/A.
Hugh Chatham Memorial Hospital, 180 Parkwood Drive, Elkin, NC 28621 | 340097 | 08/22/2007 | NC | N/A.
Marian Medical Center/Plaza Diagnostic Imaging, 525 E. Plaza Drive, Santa Maria, CA 93454 | 50107 | 08/22/2007 | CA | N/A.
DDIS—FH, 8002 Kew Gardens Road, Kew Gardens, NY 11415 | 687s41 | 08/22/2007 | NY | N/A.
NYPH-Weill Cornell, 525 E 68th Street, New York, NY 10021 | 131623978 | 08/22/2007 | NY | N/A.
Genesys Regional Medical Center, One Genesys Parkway, Grand Blanc, MI 48439-8066 | 230197 | 08/22/2007 | MI | N/A.
Geisinger Medical Center, 100 North Academy Avenue, Danville, PA 17822 | 390006 | 08/22/2007 | PA | N/A.
Citrus Diagnostic Center, 922 N Citrus Avenue, Crystal River, FL 34428 | K5374 | 08/22/2007 | FL | N/A.
Middlesex Hospital, 534 Saybrook Road, Middletown, CT 6457 | 70020 | 08/22/2007 | CT | N/A.
Geisinger Wyoming Valley Medical Center, 1000 East Mountain Drive, Wilkes-Barre, PA 18711 | 390270 | 08/22/2007 | PA | N/A.
Canton, IL—Northern Shared Medical Services, 209 Limestone Pass, Cottage Grove, WI 53527 | 208196 | 08/22/2007 | WI | N/A.
Self Regional Healthcare, 102 Academy Street, Greenwood, SC 29646 | 420071 | 08/22/2007 | SC | N/A.
Bristol Hospital, Brewster Road, Bristol, CT 06011 | 70029 | 08/22/2007 | CT | P.O. Box 977.
East Texas Hematology & Oncology Clinic, PA, 1202 West Frank Avenue, Lufkin, TX 75904 | 00T37K | 08/22/2007 | TX | N/A.
St. John River District Hospital, 4100 River Road, East China, MI 48054 | 230241 | 08/22/2007 | MI | N/A.
Morgan Hospital, 2209 John R Wooden Drive, Martinsville, IN 46151 | 150038 | 08/22/2007 | IN | N/A.
Cotton-O'Neil Cancer Center, 1414 SW. 8th Street, Topeka, KS 66606 | 1811944457 | 08/22/2007 | KS | N/A.
Barnes-Jewish West County Hospital, 12634 Olive Boulevard, St Louis, MO 63141 | 260162 | 08/22/2007 | MO | N/A.
Hardin Memorial Hospital, 913 North Dixie Avenue, Elizabethtown, KY 42701 | 180012 | 08/22/2007 | KY | N/A.
Cancer Institute of Florida, LLC, 894 E. Altamonte Drive, Altamonte Springs, FL 32701 | 72793 | 08/22/2007 | FL | N/A.
Community Hospital, New Port Richey, 5637 Marine Parkway, New Port Richey, FL 34652 | 100191 | 08/22/2007 | FL | N/A.
Pulaski Community Hospital, 2400 Lee Highway, Pulaski, VA 24301 | 490116 | 08/22/2007 | VA | N/A.
Advocate South Suburban Hospital, 17800 S. Kedzie Avenue, Hazel Crest, IL 60429 | 3.62169E+11 | 08/22/2007 | IL | N/A.
St. Vincent's Medical Center, 2800 Main Street, Bridgeport, CT 6606 | 70028 | 08/22/2007 | CT | N/A.
Cayuga Medical Center at Ithaca, 3218 Wilkins Road, Ithaca, NY 14850 | 330307 | 08/22/2007 | NY | N/A.
Immanuel-ST Josephs Mayo Health Stystem, 1025 Marsh Street, Mankato MN 56002-8673 | 240093 | 08/22/2007 | MN | P.O. Box 8673.
Kell West Regional Hospital, 5420 Kell West Boulevard, Wichita Falls, TX 76310 | 450827 | 08/22/2007 | TX | N/A.
Aurora Medical Center Kenosha, 10400 75th Street, Kenosha, WI 53142 | 520189 | 08/22/2007 | WI | N/A.
Aurora Lakeland Medical Center, W3985 County Rd Nn, Elkhorn, WI 53121 | 520102 | 08/22/2007 | WI | N/A.
Munson Medical Center, 1105 Sixth Street, Traverse City, MI 49684 | 230097 | 08/22/2007 | MI | N/A.
Kansas City Cancer Center—North, 8700 Greenhills Road, Kansas City, MO 64154 | 5650000E | 08/22/2007 | MO | N/A.
PET Imaging Center of Maine, 885 Union Street, Suite 115, Bangor, ME 04401 | 10211501 | 08/22/2007 | ME | N/A.
SMS—Chester, IL, 1900 State Street, Chester, IL 62233 | 208196 | 08/22/2007 | IL | N/A.
PET of Reston, LP, 1800 Town Center Drive Suite 115, Reston, VA 20190 | G01960P03 | 08/22/2007 | VA | N/A.
Healthcare Imaging Center, 4334 Central Ave, Riverside, CA 92506 | ZZZ14451Z | 08/22/2007 | CA | N/A.
Robert Wood Johnson University Hospital at Hamilton, 1 Hamilton Health Place, Hamilton, NJ 08690 | 310110 | 08/22/2007 | NJ | N/A.
Northside Hospital, 1000 Johnson Ferry Road, Atlanta, GA 30342 | 110161 | 08/22/2007 | GA | N/A.
Aurora Medical Center Kenosha, 10400 75th Street, Kenosha, WI 53142 | 520189 | 08/22/2007 | WI | N/A.
Partners Imaging Center of Sarasota, 1250 S. Tamiami Trail, Suite 103, Sarasota, FL 34239 | Q0353 | 08/22/2007 | FL | N/A.
Memorial Medical Center, 216 Sunset Place, Neillsville, WI 54456 | 521323 | 08/22/2007 | WI | N/A.
Central Virginia Imaging, LLC, 1900 Tate Spings Road Suite 21, Lynchburg, VA 24501 | 1578594412 | 08/22/2007 | VA | N/A.
Los Alamitos Medical Center, 3951 Katella Ave, Los Alamitos, CA 90720 | 50551 | 08/22/2007 | CA | N/A.
Valley Advanced Imaging, LLC, 2403 Butler Street, Easton, PA 18042 | 1417907023 | 08/22/2007 | PA | N/A.
Good Samaritan PET/CT and Imaging services, 1245 Montauk Hwy, West Islip, NY 11795 | 330286 | 08/22/2007 | NY | N/A.
Scotland Memorial Hospital, 500 Lauchwood Drive, Laurinburg, NC 28352 | 340008 | 08/22/2007 | NC | N/A.
McFarland Clinic, P.C., 1111 Duff Avenue, Ames, IA 50010 | 1639135643 | 08/22/2007 | IA | N/A.
Providence Hospital, 1150 Varnum Street NE., Washington, DC 20017 | 90006 | 08/22/2007 | DC | N/A.
The Angeles Clinic and Research Institute, 11818 Wilshire Boulevard, Suite 200, Los Angeles, CA 90025 | W15185A | 08/22/2007 | CA | N/A.
Rose Radiology Centers, Inc., 5107 N. Armenia Avenue, Tampa, FL 33603 | 1629162904 | 08/22/2007 | FL | Bldg B.
Texas Oncology East Houston, 13111 East Freeway, Houston, TX 77015 | 1811944101 | 08/22/2007 | TX | N/A.
NSMS—St. Joe's—Breese, IL, 9515 Holy Cross Lane, Breese, IL 62230 | 208196 | 08/23/2007 | IL | N/A.
UT Cancer Institute, 7945 Wolf River Boulevard, Germantown, TN 38138 | 3711381 | 08/23/2007 | TN | N/A.
Fresno Imaging Center, 6191 N. Rhesta Avenue, Fresno, CA 93710 | N/A | 08/23/2007 | CA | N/A.
Imaging Consultants Inc. at Sturdy Memorial, 211 Park Street, Attleboro, MA 02703 | 327085 | 08/23/2007 | MA | N/A.
Fairfax PET Imaging Center, LLC, 8503 Arlington Boulevard Lower level, Fairfax, VA 22031 | 1861433674 | 08/23/2007 | VA | N/A.
City Hospital, Inc., 2500 Hospital Drive, Martinsburg, WV 25401 | 510008 | 08/23/2007 | WV | N/A.
White Plains Radiology Associates PET Center, Davis and Post Roads, White Plains, NY 10601 | w11842 | 08/23/2007 | NY | N/A.
Lenoir Memorial Hospital, 100 Airport Road, Kinston, NC 28503-1678 | 1962446385 | 08/23/2007 | NC | N/A.
Sand Lake Imaging, 9350 Turkey Lake Road, Orlando, FL 32819 | 34896 | 08/23/2007 | FL | Suite 100.
Advocate Lutheran General Center For Advanced Care, 1800 Luther Lane, Park Ridge, IL 60068 | 140223 | 08/23/2007 | IL | N/A.
Flower Hospital, 5200 Harroun Road, Sylvania, OH 43560 | 360074 | 08/23/2007 | OH | N/A.
Dekalb Memorial Hospital, 1316 E. 7th Street, Auburn, IN 46706 | N/A | 08/23/2007 | IN | N/A.
St. John Hospital and Medical Center, 1315 Macom Drive, Naperville, IL 60564 | 116 | 08/23/2007 | IL | N/A.
Bayhealth Medical Center, 540 S. Governors Avenue, Dover, DE 19904 | N/A | 08/23/2007 | DE | N/A.
ImageCare, 713 Troy-Schenectady Road Suite 124, Latham, NY 12110 | 1922048370 | 08/23/2007 | NY | Capital Region Health Park.
Southside Regional Medical Center, 801 South Adams Street, Petersburg, VA 23803 | 490067 | 08/23/2007 | VA | N/A.
East Alabama Medical Center—Auburn Diagnostic Imaging, 1527 Professional Parkway, Auburn, AL 36830 | 29 | 08/23/2007 | AL | N/A.
Trover Health System, 900 Hospital Drive, Madisonville, KY 42431 | 1457354318 | 08/23/2007 | KY | N/A.
Doctors Hospital at Renaissance, Ltd, 5501 S. McColl Road, Edinburg, TX 78359 | 450869 | 08/23/2007 | TX | N/A.
Twin Lakes Imaging Center, 1890 LPGA Boulevard, Daytona Beach, FL 32117 | 1023040870 | 08/23/2007 | FL | Suite 110.
Nathan Littauer Hospital, 99 E. State Street, Gloversville, NY 12078 | 330276 | 08/23/2007 | NY | N/A.
Altoona Regional Health System, 620 Howard Avenue, Altoona, PA 16601 | 390073 | 08/23/2007 | PA | N/A.
Warren General Hospital, 2 Crescent Park West, Warren, PA 16365 | 390146 | 08/23/2007 | PA | N/A.
Reid Hospital Health Care Services, 1401 Chester Boulevard, Richmond, IN 47374 | 1457354318 | 08/23/2007 | IN | N/A.
Orange City Area Health System, 1000 Lincoln Circle SE., Orange City, IA 51041 | 161360 | 08/23/2007 | IA | N/A.
Mercy Hospital Clermont, 3000 Hospital Drive, Batavia, OH 45103 | 1457354318 | 08/23/2007 | OH | N/A.
Arroyo Grande Community Hospital, 345 South Halcyon Road, Arroyo Grande, CA 93454 | 50016 | 08/23/2007 | CA | N/A.
HealthEast St. John's Hospital, 1575 Beam Avenue, Maplewood, MN 55109 | 240210 | 08/23/2007 | MN | N/A.
St. Joseph's/Candler Health System, 5353 Reynolds Street, Savannah, GA 31405 | 110024 | 08/23/2007 | GA | N/A.
NSMS—Pickneyville, IL, 101 North Walnut Street, Pinckneyville, IL 62274 | 208196 | 08/23/2007 | IL | N/A.
Duke Raleigh Hospital, 3400 Wake Forrest Road, Raleigh, NC 27609 | 340073 | 08/23/2007 | NC | N/A.
Advanced Radiology Services & The Center for Women, 400 Plaza Court, East Stroudsburg, PA 18301 | 33012 | 08/23/2007 | PA | Suite C.
Community Hospital, 10020 Donald S. Powers Drive, Munster, IN 46321 | 140125 | 08/23/2007 | IN | N/A.
Avant Imaging—Woodland Health Center, 7575 Grand River Avenue, Brighton, MI 48114 | 1457354318 | 08/23/2007 | MI | N/A.
EVDI Medical Imaging—East Mesa, 6424 E. Broadway Road, Mesa, AZ 85206 | 1164434098 | 08/23/2007 | AZ | Suite 101.
NSMS—St. Louis, Mo—ARCH Medical, 209 Limestone Pass, Cottage Grove, WI 53527 | 47013 | 08/23/2007 | WI | N/A.
CNY PET LLC, 5100 West Taft Road, Liverpool, NY 13088 | AA0672 | 08/23/2007 | NY | Suite 2C.
MCMI, 3000 Telegraph Avenue, Oakland, CA 94609 | ZZZ27496Z | 08/23/2007 | CA | N/A.
Green Clinic, LLC, 1200 S. Farmerville Street, Ruston, LA 71270 | 57387 | 08/23/2007 | LA | N/A.
Fayette Memorial Hospital, 3542 North Western Avenue, Connersville, IN 47331 | 150064 | 08/23/2007 | IN | N/A.
Carolinas Medical Center—Union, 600 Hospital Drive, Monroe, NC 28112 | 340130 | 08/23/2007 | NC | Nuclear Medicine Department.
Citrus Medical Imaging Associates, Inc., 1000 Lakes Drive, Suite 170, West Covina, CA 91790 | HW2326 | 08/23/2007 | CA | N/A.
Radiation Oncology at WFUBMC, Radiation Oncology Medical Center Boulevard, Winston-Salem, NC 27152 | 340047 | 08/24/2007 | NC | Wake Forest University Baptist Medical Center Comprehensive Cancer Center.
Harrison County Hospital, 245 Atwood Street, Corydon, IN 47112 | 151331 | 08/24/2007 | IN | N/A.
Thibodaux Regional Medical Center, 602 North Acadia Road, Thibodaux LA 70301 | 190004 | 08/24/2007 | LA | N/A.
NSMS—Hot Springs, AR, 1600 Higdon Ferry Road, Hot Springs AR 71913 | 5F168 | 08/24/2007 | AR | N/A.
Pacific Oncology, PC, 15700 SW. Greystone Court, Beaverton OR 97006 | 1043262116 | 08/24/2007 | OR | N/A.
Cancer Care Associates, 1791 E. Fir Avenue, Fresno, CA 93720 | 222375652 | 08/24/2007 | CA | N/A.
Massachusetts Mobile PET, PC—Newburyport, 25 Highland Avenue, Newburyport, MA 01950 | 327086 | 08/24/2007 | MA | N/A.
Hematology Oncology Associates of Illinois, 6801 West 34th Street, Berwyn, IL 60402 | 218890 | 08/24/2007 | IL | Suite 107.
Massachusetts Mobile PET, PC—Haverhill, 140 Lincoln Avenue, Haverhill, MA 01830 | 327086 | 08/24/2007 | MA | N/A.
Corinth Medical Group, 4851 I35 East, Suite 101, Corinth, TX 76210 | 00K22X | 08/24/2007 | TX | N/A.
New England PET Imaging Manchester, One Elliot Way, Manchester, NH 03103 | 327081 | 08/24/2007 | NH | N/A.
The Surgery Clinic, 1026 Goodyear Avenue, Gadsden, AL 35999 | N/A | 08/24/2007 | AL | Suite B-101.
Boston Medical Center, 830 Harrsion Avenue, Boston, MA 02118 | 220031 | 08/24/2007 | MA | Suite 1600.
Mercy Health Center, 4190 24th Avenue, Fort Gratiot, MI 48059 | 1457354318 | 08/24/2007 | MI | N/A.
The Cancer Center of Santa Barbara, 300 W. Pueblo Street, Santa Barbara, CA 93105 | W13890 | 08/24/2007 | CA | N/A.
Milford Memorial Hospital Bayhealth Medical Center, 21 W. Clarke Avenue, Milford, DE 19963 | N/A | 08/24/2007 | DE | N/A.
North Coast Cancer Care, 417 Quarry Lakes Drive, Sandusky, OH 44870 | NO9915215 | 08/24/2007 | OH | N/A.
Palm Beach Gardens Open Imaging Center, 3335 Burns Road #101, Palm Beach Gardens, FL 33408 | U8767 | 08/24/2007 | FL | N/A.
Advanced Medical Imaging, LLC, 1780 NW. Myhre Road, Silverdale, WA 98383 | AB24179 | 08/24/2007 | WA | Suite 1220.
Swedish American Hospital, 1401 E State Street, Rockford, IL 61104 | 140228 | 08/24/2007 | IL | N/A.
Molecular Diagnostics of Eastern Omaha, 117 North 32nd Avenue Suite 100, Omaha, NE 68131 | 99894 | 08/24/2007 | NE | N/A.
Kingwood Medical Center, 22999 U.S. Hwy 59, Kingwood, TX 77339 | 1811942238 | 08/24/2007 | TX | N/A.
Health Village Imaging, 1301 Route 72 West, Manahawkin, NJ 08050 | 1194810978 | 08/24/2007 | NJ | Suite 100.
ARH Hazard, 100 Medical Center Drive, Hazard, KY 41701 | 520795508 | 08/24/2007 | KY | N/A.
Central Florida Imaging Center, Inc., 6801 U.S. 27 N, Suite E-3, Sebring, FL 33870 | 1427076769 | 08/24/2007 | FL | N/A.
West Texas Cancer Center, 301 N. Washington Avenue, Odessa, TX 79761 | 00543K | 08/24/2007 | TX | N/A.
Beloit Memorial Hospital, 1969 West Hart Road, Beloit, WY 53511 | 520100 | 08/24/2007 | WY | N/A.
Pinnacle Imaging Center, 2390 NW. 7th Street, Miami, FL 33125 | U5131 | 08/24/2007 | FL | Suite 103.
PET Imaging of El Paso, 1225 E. Cliff Drive, El Paso, TX 79902 | FTN035 | 08/24/2007 | TX | Building 3 Suite 200.
St. Petersburg General Hospital, 6500 38th Avenue North, St. Petersburg, FL 33710 | N/A | 08/24/2007 | FL | N/A.
St. Mary Medical Center, 1201 Langhorne-Newtown Road, Langhorne, PA 19047 | 390258 | 08/24/2007 | PA | N/A.
St. Joseph Medical Center, 1401 St. Joseph Parkway, Houston, TX 77002 | 1154361475 | 08/24/2007 | TX | N/A.
UPMC Northwest, 1671 Allegheny Boulevard, Reno, PA 16343 | 390091 | 08/24/2007 | PA | N/A.
Mercy Hospital Fairfield, 3000 Mack Road, Fairfield, OH 45014 | 1457354318 | 08/24/2007 | OH | N/A.
Radiology Associates of West Pasco, 5539 Marine Parkway, New Port Richey, FL 34652 | 1558328963 | 08/24/2007 | FL | N/A.
St. Dominic Hospital, 969 Lakeland Drive, Jackson, MS 39216 | 250048 | 08/24/2007 | MS | N/A.
RCOA-Adventist Health—Sequoia, 4949 W. Cypress Avenue, Visalia, CA 93271 | 1427198696 | 08/24/2007 | CA | N/A.
McKee Medical Center, 2000 Boise Ave, Loveland, CO 80538 | 60030 | 08/24/2007 | CO | N/A.
Bon Secours Richmond Community Hospital, 1500 North 28th Street, Richmond, VA 23223 | 490094 | 08/24/2007 | VA | N/A.
West Houston Medical Center, 12141 Richmond Avenue, Houston, TX 77082 | 450644 | 08/24/2007 | TX | N/A.
Shands Teaching Hospital and Clinics, Inc., 2000 SW. Archer Road, Gainesville, FL 32608 | 100113 | 08/24/2007 | FL | Radiology, Shands Medical Plaza.
Tanner Medical Center, 119 Ambulance Drive, Carrollton, GA 30117 | 110011 | 08/24/2007 | GA | N/A.
OU Medical Center, 700 NE. 13th Street, Oklahoma City, OK 73104 | 1780631390 | 08/24/2007 | OK | N/A.
The Medical Center of Aurora, 1400 S. Potomac Street, Aurora, CO 80012 | 60100 | 08/24/2007 | CO | #180.
AllenRidge Diagnostic Imaging Center, 520 Lecanto Highway, Lecanto, FL 34461 | 100023 | 08/24/2007 | FL | N/A.
The PET Center at BWMC, 305 Hospital Drive, Baltimore, MD 21061 | 1124016696 | 08/24/2007 | MD | Suite 302.
Signet Diagnostic Imaging Services, LLC, 8300 West Sunrise Boulevard, Plantation, FL 33322 | E8667 | 08/24/2007 | FL | N/A.
Adams Diagnostic Imaging, 20 Expedition Trail, Gettysburg, PA 17325 | 65290 | 08/24/2007 | PA | Suite 102.
Jennie Edmundson Hospital, 933 E. Pierce Street, Council Bluffs, IA 51503 | 160047 | 08/24/2007 | IA | N/A.
Holy Cross Hospital, 4725 N. Federal Highway, Fort Lauderdale, FL 33308 | 100073 | 08/24/2007 | FL | Bienes Diagnostic Imaging Center.
Medical University of Ohio, 3000 Arlington Avenue, Toledo, OH 43614 | 1457354318 | 08/24/2007 | OH | N/A.
Daviess Community Hospital, 1314 E. Walnut Street, Washington, IN 47501 | 150061 | 08/24/2007 | IN | Radiology Department.
Jeff Anderson Regional Medical Center, 2124 14th Street, Meridian, MS 39301 | 250104 | 08/24/2007 | MS | N/A.
Modesto Imaging Center, 157 E. Coolidge Avenue, Modesto, CA 95350 | ZZZ01977Z | 08/24/2007 | CA | N/A.
Sioux Center Commmunity Hospital and Health Center, 605 South Main Ave, Sioux Center, IA 51250 | 161346 | 08/24/2007 | IA | N/A.
Southern Ohio Medical Center, 1121 Kinneys Lane, Portsmouth, OH 45662 | 360008 | 08/24/2007 | OH | N/A.
Massachusetts General Hospital, 55 Fruit Street, Boston, MA 02114 | 220071 | 08/24/2007 | MA | N/A.
Clinton Memorial Hospital Regional Health System, 31 Farquhar Avenue, Wilmington, OH 45177 | 316005307 | 08/24/2007 | OH | N/A.
CJW Medical Center, 1401 Johnston Willis Drive, Richmond, VA 23235 | 34632 | 08/24/2007 | VA | N/A.
Texas Oncology Weatherford, 907 Foster Lane, Weatherford, TX 76086 | 00539K | 08/24/2007 | TX | N/A.
Sharper Imaging Diagnostic Radiology Center, 3430 Tamiami Trail, Port Charlotte, FL 33952 | 1730288515 | 08/24/2007 | FL | Suite B.
Morristown—Hamblin Healthcare System, 908 W. 4th N. Street, Morristown, TN 37814 | 1457354318 | 08/24/2007 | TN | N/A.
Puget Sound PET Imaging, 6808 220th Street SW., Mountlake Terrace, WA 98043 | 115162600 | 08/24/2007 | WA | Suite 150.
Detar Hospital Navarro, 506 E. San Antonio Street, Victoria, TX 77902 | 450147 | 08/24/2007 | TX | N/A.
PET Imaging of Chicago, 6801 West 34th Street, Suite 105, Berwyn, IL 60402 | 214832 | 08/24/2007 | IL | N/A.
Imaging Specialists Group, Ltd., 3101 Churchill Road, Flower Mound, TX 75022 | 1417991852 | 08/24/2007 | TX | Suite 100.
OKOmed Downtown Imaging, 2101 Crawford Street, Suite 115, Houston, TX 77002 | 1780622464 | 08/24/2007 | TX | N/A.
Clear Lake Regional Medical Center, 500 Medical Center Boulevard, Webster, TX 77598 | 1063466035 | 08/24/2007 | TX | N/A.
Norton Hospital, 315 East Broadway, Louisville, KY 40202 | 180088 | 08/24/2007 | KY | N/A.
Saratoga PET Associates, LLC, 3 Emma Lane, Clifton Park, NY 12065 | 1356357172 | 08/24/2007 | NY | N/A.
Genesis Health Care System, 2800 Maple Avenue, Zanesville, OH 43701 | 1457354318 | 08/24/2007 | OH | N/A.
Lake Cumberland Regional Hospital, 27 Imaging Drive, Somerset, KY 42503 | 1457354318 | 08/24/2007 | KY | N/A.
Saint Francis Cancer Institute, 14 Doctors' Park, Cape Girardeau, MO 63703 | 260183 | 08/24/2007 | MO | N/A.
American Health Network of IN, LLC—PET/CT, 6820 Parkdale Place, Indianapolis, IN 46254 | 1164491775 | 08/24/2007 | IN | Suite #105.
PET CT Nuclear Radiology, Inc., 1501 Edisicio Detantacourt, Suite 302, Fernadez Juncos Santorze, PR 909 | 57886 | 08/24/2007 | PR | Fernadez Juncos Santorze.
NSMS—Reedsburg, WI, 2000 North Dewey Street, Reedsburg, WI 53959 | 1295785079 | 08/24/2007 | WI | N/A.
Wayne Memorial Hospital, 2700 Wayne Memorial Hospital, Goldsboro, NC 27534 | 340010 | 08/24/2007 | NC | N/A.
InMed Diagnostic Services of IL, 10419 Fleming Road, Carterville, IL 62918 | 205040 | 08/24/2007 | IL | N/A.
Henrico Doctors' Hospital, 1602 Skipwith Road, Richmond, VA 23229 | 490118 | 08/24/2007 | VA | N/A.
Alliance Imaging—United General Hospital, 2000 Hospital Drive, Sedro Woolley, WA 98284 | 8862377 | 08/24/2007 | WA | N/A.
Spencer Municipal Hospital, 1200 First Avenue East, Spencer, IA 51301 | 1255328621 | 08/24/2007 | IA | N/A.
Radiology LTD LaCholla Center—Diagnostic Imaging, 5960 N. LaCholla Avenue, Tucson, AZ 85704 | 1841261989 | 08/24/2007 | AZ | N/A.
Saint Elizabeth Regional Medical Center, 555 South 70th Street, Lincoln, NE 68510 | 280020 | 08/24/2007 | NE | N/A.
Bucyrus Community Hospital, 629 N. Sandusky Avenue, Bucyrus, OH 44820 | 361316 | 08/24/2007 | OH | N/A.
Mercy Hospital of Willard, 110 E. Howard Street, Willard, OH 44890 | 361310 | 08/24/2007 | OH | N/A.
Lower Columbia Pathologists, 1606 East Kessler Boulevard, Longview, WA 98632 | 745800 | 08/24/2007 | WA | 4th Floor.
Newton Medical Center, 600 Medical Center Drive, Newton, KS 67114 | 170103A | 08/24/2007 | KS | N/A.
Advanced Imaging Partners, 508 Cleveland Street, Great Bend, KS 67530 | 1295791325 | 08/24/2007 | KS | N/A.
Integrated Medical Imaging, 1040 Greenwood Springs Boulevard, Greenwood, IN 46143 | 221970 | 08/24/2007 | IN | N/A.
Avera Sacred Heart Cancer Center, 501 Summit Street, Yankton, SD 57078 | 430012 | 08/24/2007 | SD | N/A.
ValleyCare Medical Center, 5555 W. Las Positas Boulevard, Pleasanton, CA 94588 | 50283 | 08/24/2007 | CA | N/A.
NSMS—Mena, AR, 311 North Morrow Street, Mena, AR 71953 | 1295785079 | 08/24/2007 | AR | N/A.
Memorial Hospital Easton, 219 S. Washington Street, Easton, MD 21601 | 210037 | 08/24/2007 | MD | N/A.
Seattle Cancer Care Alliance, 825 Eastlake Avenue E, Seattle, WA 98109 | 500138 | 08/24/2007 | WA | Medical Imaging.
Alliance Imaging—The Vancouver Clinic, 700 NE. 87th Avenue, Vancouver, WA 98664 | 8864364 | 08/24/2007 | WA | N/A.
Martin Center for Diagnostic and Imaging Services, 3901 S. Fremont Avenue, Springfield, MO 65804 | 260040 | 08/24/2007 | MO | N/A.
Aultman Hospital, 2600 Sixth Street SW., Canton, OH 44710 | 1457354318 | 08/24/2007 | OH | N/A.
Imaging Consultants, Inc. at Harrington Memorial, 600 Federal Street, Andover, MA 01810 | 327085 | 08/24/2007 | MA | N/A.
Rhode Island Pet Services at Kent County, 600 Federal Street, Andover, MA 01810 | 1538113113 | 08/24/2007 | MA | N/A.
Imaging Consultants Inc. at Hawthorn, 600 Federal Street, Andover, MA 01810 | 1851449078 | 08/24/2007 | MA | N/A.
Swedish Covenant Hospital, 5145 N California Avenue, Chicago, IL 60625 | 362179813 | 08/24/2007 | IL | N/A.
Banner Baywood Medical Center, 6644 E. Baywood Avenue, Mesa, AZ 85206 | 30088 | 08/24/2007 | AZ | N/A.
Lourdes Hospital, 1530 Lone Oak Road, Padukah, KY 42003 | 1346244126 | 08/24/2007 | KY | N/A.
St. Vincent Oncology Center, 8301 Harcourt Road, Indianapolis, IN 46260 | 150084 | 08/24/2007 | IN | N/A.
United Hospital System, Inc., 9555 76th Street, Pleasant Prairie, WI 53518 | 520021 | 08/24/2007 | WI | N/A.
East Tennessee Diagnostic Center, 1450 Dowell Springs Boulevard, Suite 210, Knoxville, TN 37909 | 1710932553 | 08/24/2007 | TN | N/A.
Nazareth Hospital, 8400 Roosevelt Boulevard, Philadelphia, PA 19152 | 390204A | 08/24/2007 | PA | N/A.
Good Samaritan Hospital, 2425 Samaritan Drive, San Jose, CA 95124 | 50380 | 08/24/2007 | CA | N/A.
MedSpecialists Imaging Center, 1064 Keene Road, Dunedin, FL 34698 | AB585 | 08/24/2007 | FL | N/A.
NSMS—Pekin, IL, 2355 Broadway Road, Pekin, IL 61544 | 1295785079 | 08/24/2007 | IL | N/A.
Bluegrass Regional Imaging, LLC, 701 Bob-O-Link Drive, Lexington, KY 40504 | 1871542670 | 08/24/2007 | KY | Suite 245.
Fairfax Pet Imaging Center, 8503 Arlington Boulevard, Fairfax, VA 22031 | 1831220714 | 08/24/2007 | VA | Suite 120LL.
Lodi Community Hospital, 225 Elyria Street, Lodi, OH 44254 | 361303 | 08/24/2007 | OH | N/A.
Legacy Meridian Park Hospital, 19260 SW. 65th Avenue, Suite 165, Tualatin, OR 97062 | 380089 | 08/24/2007 | OR | N/A.
Galion Community Hospital, 269 Portland Way South, Galion, OH 44833 | 361325 | 08/24/2007 | OH | N/A.
Oncology Hematology Associates of Central Illinois, 8940 N. Wood Sage Road, Peoria, IL 61615 | 616880 | 08/24/2007 | IL | N/A.
Mid Ohio Oncology/Hematology, Inc., 3100 Plaza Properties Boulevard, Columbus, OH 43219 | 1376509661 | 08/24/2007 | OH | N/A.
Kentucky Imaging Center, 3475 Richmond Road, Lexington, KY 40509 | 1992876981 | 08/24/2007 | KY | Suite 150.
Salem Community Hospital, 1995 East State Street, Salem, OH 44460 | 1639131535 | 08/24/2007 | OH | N/A.
Belmont Community Hospital, 51339 National Road, St. Clairsville, OH 43950 | 360153 | 08/24/2007 | OH | N/A.
Golder CT and MRI Center, 613 North Golder Avenue, Odessa, TX 79761 | N/A | 08/24/2007 | TX | N/A.
NSMS—Reedsburg, WI, 2000 North Dewey Street, Reedsburg, WI 53959 | 1295785097 | 08/24/2007 | WI | N/A.
MaineGeneral Medical Center, 361 Old Belgrade Road, Augusta, ME 04330 | 200039A | 08/24/2007 | ME | N/A.
The Oklahoma PET Center, PLLC, 5401 N. Portland Avenue, Suite 330, Oklahoma City, OK 73112 | 569959716M | 08/24/2007 | OK | N/A.
NSMS—Blytheville, AR, 1520 North Division Street, Blytheville, AR 72316 | 1295785079 | 08/24/2007 | AR | N/A.
NSMS—Benton, AR, 1 Medical Park Drive, Benton, AR 72015 | 1295785079 | 08/24/2007 | AR | N/A.
Mercy Health System, 1000 Mineral Point Avenue, Janesville, WI 53548 | 520066 | 08/24/2007 | WI | N/A.
WA Foote Memorial Hospital, 205 N. East Avenue, Jackson, MI 49201 | 230092 | 08/24/2007 | MI | N/A.
Northern Michigan Hospital, 416 Connable Avenue, Petoskey, MI 49770 | 230105 | 08/24/2007 | MI | N/A.
Anchor Health Centers, 800 Goodlette Road N., Naples, FL 34102 | 1174571608 | 08/24/2007 | FL | Suite 130.
New Ulm Medical Center, 1324 5th North Street, New Ulm, MN 56073 | 2880 | 08/24/2007 | MN | N/A.
Radiology Associates of Brooklyn LLP, 2021 Avenue X, Brooklyn, NY 11235-2905 | 1134244916 | 08/24/2007 | NY | N/A.
NYOH Mobile PET/CT Hudson, 69 Prospect Road, Hudson, NY 12534 | 1609863448 | 08/24/2007 | NY | N/A.
Integris Bass Baptist Health Center, 600 South Monroe, Enid, OK 73703 | 1144236571 | 08/24/2007 | OK | N/A.
Imaging Consultants Inc at Weymouth Woods, 59 Performance Drive, Weymouth, MA 2188 | 1487690335 | 08/24/2007 | MA | N/A.
St. Vincent Medical Center, 2131 W. Third Street, Los Angeles, CA 90057 | 50502 | 08/24/2007 | CA | N/A.
Caritas PET Imaging, LLC at Holyoke Medical Center, 575 Beech Street, Holyoke, MA 1040 | 327087 | 08/24/2007 | MA | N/A.
St. James Healthcare, 400 South Clark, Butte, MT 59701 | 270017 | 08/24/2007 | MT | N/A.
Inglewood Imaging Center, 211 N. Prairie Avenue, Inglewood, CA 90301 | TD097 | 08/24/2007 | CA | N/A.
Duncan Regional Hospital, 1700 Whisenant Drive, Duncan, OK 73534 | 370023 | 08/24/2007 | OK | P.O. Box 100.
OhioHealth Ambulatory PET/CT, 500 Thomas Lane, Columbus, OH 43214 | 360006 | 08/24/2007 | OH | N/A.
Baylor Diagnostic Imaging Center at Junius, 3900 Junius Street, Suite 100, Dallas, TX 75246 | 450021 | 08/24/2007 | TX | N/A.
PET/CT Imaging at White Marsh, 9900 Franklin Square Drive, Suite D, Nottingham, MD 21236 | FMNX01 | 08/28/2007 | MD | N/A.
Central Baptist Diagnostic Center, 100 Southland Drive, Lexington, KY 40503 | 9375001 | 06/14/2006 | KY | Suite B.
Baptist Health Medical Center—NLR PET/CT, 3500 Springhill Drive, North Little Rock, AR 72117 | 5F437 | 05/03/2006 | AR | Suite 100.
Commonwealth Hematology Oncology, 95 Bogle Office Park Drive, Somerset, KY 42503 | 1285687178 | 03/21/2007 | KY | N/A.
Commonwealth Hematology Oncology, 216 Southtown Drive, Danville, KY 40422 | 1285687178 | 03/21/2007 | KY | N/A.
Jefferson Center City Imaging, 850 Walnut Street, Philadelphia, PA 19107 | 66277 | 09/07/2007 | PA | N/A.
EPIC Imaging Center, 233 NE. 102 Avenue, Portland, OR 97220 | 0000WCGNQ | 09/11/2007 | OR | N/A.
UPMC and The Washington Hospital Cancer Center, 155 Wilson Avenue, Washington, PA 15301 | 105589VXB | 03/10/2006 | PA | N/A.
Lexington Diagnostic Center, 1725 Harrodsburg Road, Suite 100, Lexington, KY 40504 | 0406 | 03/08/2006 | KY | N/A.
UW PET Imaging Center, 8007 Excelsior Drive, Madison, WI 53717 | 1346266319 | 04/03/2007 | WI | N/A.
NorCal Imaging—Oakland, 3200 Telegraph Avenue, Oakland, CA 94609 | ZZZ05319Z | 08/22/2007 | CA | N/A.
NorCal Imaging—Walnut Creek, 114 La Casa Via, Suite #100, Walnut Creek, CA 94598 | ZZZ05319Z | 08/22/2007 | CA | N/A.
Aurora Sheboygan Memorial Imaging Center, 2629 North 7th Street, Sheboygan, WI 53083 | 520035 | 05/08/2008 | WI | N/A.
Aurora Memorial Hospital of Burlington, 252 McHenry Street, Burlington, WI 53105 | 520059 | 05/08/2008 | WI | N/A.
Aurora Medical Center—Manitowoc County, 5000 Memorial Drive, Two Rivers, WI 54241 | 520034 | 05/08/2008 | WI | N/A.
St. Mary's Medical Center, 2900 First Avenue, Huntington, WV 25702 | 510007 | 01/29/2009 | WV | N/A.
Lenox Hill Radiology & Medical Imaging, 61 East 77th Street, New York, NY 10021 | W16681 | 01/29/2009 | NY | N/A.
NSMS—Greenville, IL, 200 Health Care Drive, Greenville, IL 62246 | 208196 | 01/29/2009 | IL | N/A.
Medical Outsourcing Services LLC—Christie Clinic, 1801 West Windsor Road, Champaign, IL 61821 | 211224 | 01/29/2009 | IL | N/A.
Dakota Radiology, 2929 Fifth Street, First Floor, Rapid City, SD 57701 | 1306892708 | 01/29/2009 | SD | N/A.
Coffeyville Regional Medical Center, 1400 West Fourth Street, Coffeyville, KS 67337 | 1285600379 | 01/29/2009 | KS | N/A.
St. Mary Medical Center, 1201 Langhorne-Newtown Road, Langhorne, PA 19047 | 390258 | 01/29/2009 | PA | N/A.
Medical Imaging Center at Windsor Oaks, 1901 SE. 18th Avenue, Building 200A, Ocala, FL 34471 | 97993 | 01/29/2009 | FL | N/A.
Alliance Imaging, 2000 Hospital Drive, Sedro-Woolley, WA 98284 | 8862377 | 01/29/2009 | WA | N/A.
Watauga Medical Center, 336 Deerfield Road, Boone, NC 28607 | 340051 | 01/29/2009 | NC | N/A.
Medical Outsourcing Services LLC, 315 W. Old Key Dr., Peru, IN 46970 | 223260 | 01/29/2009 | IN | N/A.
Contemporary Imaging Associates, 19900 Haggerty Road, Suite 101, Livonia, MI 48152 | ON63450 | 01/29/2009 | MI | N/A.
Greenwich Hospital, 5 Perryridge Road, Greenwich, CT 06830 | 70018 | 01/29/2009 | CT | N/A.
SMDC Health Systems, 400 East Third Street, Duluth, MN 55805 | 8200 | 01/29/2009 | MN | N/A.
Harris Regional Hospital, 68 Hospital Road, Sylva, NC 28779 | 340016 | 01/29/2009 | NC | N/A.
Community Memorial Hospital, W180N8085 Town Hall Road, Menomonee Falls, WI 53051 | 1609822881 | 01/29/2009 | WI | N/A.
LRI Lincoln Radiology Imaging, 7121 Stephanie Lane, Lincoln, NE 68516 | 99920 | 01/29/2009 | NE | N/A.
Bristol Hospital, Brewster Road, Bristol, CT 06010 | 70029 | 01/29/2009 | CT | N/A.
Mount Auburn Hospital, 330 Mount Auburn Street, Cambridge, MA 02138 | 220002 | 01/29/2009 | MA | N/A.
American Fork Hospital, 170 N. 1100 E., American Fork, UT 84003 | 460023 | 01/29/2009 | UT | N/A.
Kentucky Imaging Center, 3475 Richmond Road, Suite 150, Lexington, KY 40509 | 1992876981 | 01/29/2009 | KY | N/A.
Bay Park Community Hospital, 2801 Bay Park Drive, Oregon, OH 43616 | 1457354318 | 01/29/2009 | OH | N/A.
Port Huron Hospital, 1221 Pine Grove Avenue, Port Huron, MI 48060 | 1457354318 | 01/29/2009 | MI | N/A.
Spring Branch Medical Center, 8850 Long Point Road, Houston, TX 77055 | 450630 | 01/29/2009 | TX | N/A.
Medical Outsourcing Services LLC, 2210 Green Valley Road, Suite 1, New Albany, IN 47150 | 248140 | 01/29/2009 | IN | N/A.
Medical Outsourcing Services LLC, 355 Ridge Avenue, Evanston, IL 60202 | 211222 | 01/29/2009 | IL | N/A.
Queens Hospital Center, 82-68 164th Street, Queens, NY 11432 | 330231 | 01/29/2009 | NY | N/A.
NYOH Mobile PET/CT Amsterdam, 1700 Riverfront Center, Amsterdam, NY 12010 | 1609863448 | 01/29/2009 | NY | N/A.
Providence Everett Medical Center, 1717 13th Street, Everett, WA 98201 | 500014 | 01/29/2009 | WA | N/A.
University of Miami/Sylvester Cancer Center, 1475 NW. 12th Avenue, Miami, FL 33136 | 100079 | 01/29/2009 | FL | N/A.
St. Mary's Hospital Medical Center, 1726 Shawano Avenue, Green Bay, WI 54303 | 520097 | 01/29/2009 | WI | N/A.
Brazosport Regional Health System, 100 Medical Drive, Lake Jackson, TX 77566 | 450072 | 01/29/2009 | TX | N/A.
Medical Outsourcing Services LLC, 1025 Maine Street, Quincy, IL 62301 | 211224 | 01/29/2009 | IL | N/A.
The Imaging Center, 499 Gloster Creek Village, Suite G1, Tupelo, MS 38801 | 1417907536 | 01/29/2009 | MS | N/A.
NSMS—Forrest City, AR, 1601 Newcastle Road, Forrest City, AR 72336 | 1295785079 | 01/29/2009 | AR | N/A.
Glendale Adventist Medical Center, 1509 Wilson Terrace, Glendale, CA 91206 | 1831188275 | 01/29/2009 | CA | N/A.
Mount Sinai Medical Center of Florida, Inc., 4300 Alton Road, Miami Beach, FL 33140 | 100034 | 01/29/2009 | FL | N/A.
Cooper University Radiology, 900 Centennial Boulevard, Voorhees, NJ 08043 | 17983 | 01/29/2009 | NJ | N/A.
George Washington University Hospital, 900 23rd Street, NW., Washington, DC 10021 | 90001 | 01/29/2009 | DC | N/A.
Galesburg Cottage Hospital, 695 N. Kellogg Street, Galesburg, IL | 1447221312 | 01/29/2009 | IL | N/A.
Central Florida Regional Hospital, 1401 W. Seminole Boulevard, Sanford, FL 32771 | 100161 | 01/29/2009 | FL | N/A.
Feather River Hospital, 5974 Pentz Road, Paradise, CA 95969 | 225 | 01/29/2009 | CA | N/A.
Caritas PET Imaging, LLC at Cooley Dickinson Hospital, 30 Locust Street, Northampton, MA 67337 | 1285846410 | 01/29/2009 | MA | N/A.
Shared PET Imaging, LLC for Garden City Hospital, 272 West Warren, Dearborn Heights, MI | 1457354318 | 01/29/2009 | MI | N/A.
Florida Hospital Heartland Division—Sebring, FL, 4200 Sun N Lake Boulevard, Sebring, FL 98284 | 100109 | 01/29/2009 | FL | N/A.
Good Samaritan Regional, Center, 700 E. Norwegian Street, Pottsville, PA 17901 | 1427050376 | 01/29/2009 | PA | N/A.
Austin Pet and Imaging Center, 11044 Research Blvd, D-100, Austin, TX 78759 | 1518928787 | 01/29/2009 | TX | N/A.
Ukiah Valley Medical Center, 275 Hospital Drive, Ukiah, CA 95482 | 50301 | 01/29/2009 | CA | N/A.
Longmont United Hospital, 418 E. College Drive, Cheyenne, WY 82007 | 60003 | 01/29/2009 | WY | N/A.
Grove City Medical Center, 631 N. Broad Street, Grove City, PA 16127 | 1023000296 | 01/29/2009 | PA | N/A.
Fulton Center Health Center, 34555 Chagrin Boulevard, Cleveland, OH 43567 | 361333 | 01/29/2009 | OH | N/A.
NSMS—Fairfield, IL, 303 NW. 11th Street, Fairfield, IL 62837 | 1295785097 | 01/30/2009 | IL | N/A.
St Helena Hospital, 10 Woodland Road, St Helena, CA 94574 | 50013 | 01/30/2009 | CA | N/A.
Bayshore Medical Center, 4000 Spencer Highway, Pasadena, TX 77504 | 1174576698 | 01/30/2009 | TX | N/A.
RedBud Community Hospital, 15630 18th Avenue, Clearlake, CA 95422 | 51317 | 01/30/2009 | CA | N/A.
Taylor Regional Hospital, 125 Greenbriar Drive, Campbellsville, KY 42718 | 180087 | 01/30/2009 | KY | N/A.
St. Mary's Medical Center, 901 St. Mary's Drive, Evansville, IN 47750 | 150100 | 01/30/2009 | IN | N/A.
RUSH University Medical, Center, 1750 W. Harrison Street, Jones 106, Chicago, IL 60612 | 1932213600 | 01/30/2009 | IL | N/A.
Parkview Molecular Imaging, 2428 Santa Monica Boulevard, Suite #302, Santa Monica, CA 90404 | G17328A | 01/30/2009 | CA | N/A.
InSight Diagnostic Center, 1121 8th Avenue, Fort Worth, TX 76104 | 1932166105 | 01/30/2009 | TX | N/A.
Monongahela Valley Hospital, 1163 Country Club Road, Monongahela, PA 15063 | 390147 | 01/30/2009 | PA | N/A.
Florida Cancer Specialists, Del Prado, 811 Del Prado Boulevard, Cape Coral, FL 33990 | 1760590962 | 01/30/2009 | FL | N/A.
MPHS, 100 S. San Mateo Drive, San Mateo, CA 94403 | 50007 | 01/30/2009 | CA | N/A.
Griffin Hospital, 130 Division Street, Derby, CT 6418 | 70031 | 01/30/2009 | CT | N/A.
West Jefferson Medical Center, 1101 Medical Center Boulevard, Marrero, LA 70072 | 190039 | 01/30/2009 | LA | N/A.
Mercy Hospital of Tiffin, 485 West Market Street, Tiffin, OH 44883 | 360089 | 01/30/2009 | OH | N/A.
Dr. Haroutioun S. Shahinian, 10767 Gateway W, El Paso, TX 79935 | 1639184005 | 01/30/2009 | TX | N/A.
Holston Valley Medical Center, 130 W. Ravine Road, Kingsport, TN 37660 | 1457354318 | 01/30/2009 | TN | N/A.
Pinnacle Health Imaging at West Hanover, 8012 Bretz Drive, Harrisburg, PA 17112 | 390067 | 01/30/2009 | PA | N/A.
Indian Path Medical Center, 2205 Pavilion Dr, Kingsport, TN 37660 | 1457354318 | 01/30/2009 | TN | N/A.
Regional Medical Imaging, 2486 Nerredia, Flint, MI 48532 | 1457354318 | 01/30/2009 | MI | N/A.
Modesto Radiology Imaging, 1524 Mchenry Avenue, Suite 100, Modesto, CA 95350 | ZZZ18519Z | 01/30/2009 | CA | N/A.
Texas Cancer Clinic, 9102 Floyd Curl Drive, San Antonio, TX 78240 | 1316944655 | 01/30/2009 | TX | N/A.
Mercy Anderson Hospital, 7500 State Road, Cincinnati, OH 45255 | 1457354318 | 01/30/2009 | OH | N/A.
Henry Ford Macomb, 15855 Nineteen Mile Rd, Clinton Township, MI 48038 | 1457354318 | 01/30/2009 | MI | N/A.
Kennedy Outpatient Medical Imaging, 900 Medical Center Drive, Sewell, NJ 08080 | 310086 | 01/30/2009 | NJ | N/A.
Memorial Hermann Northeast, 18955 Memorial North, Humble, TX 77338 | 450684 | 01/30/2009 | TX | N/A.
Comprehensive Cancer Center; Cancer Specialists OK, 3525 NW. 56th Street, C150, Oklahoma City, OK 73112 | 1013090075 | 01/30/2009 | OK | N/A.
RIS Lakeland, 1305 Lakeland Hills Boulevard, Lakeland, FL 33805 | 584 | 01/30/2009 | FL | N/A.
Bayshore Community Hospital, 727 North Beers Street, Holmdel, NJ 07733 | 310112 | 01/30/2009 | NJ | N/A.
Outpatient Radiology LLC, 419 S. Washingont Street, Suite 101, Casper, WY 82601 | 1396704474 | 01/30/2009 | WY | N/A.
University Hospital and Medical Center, 7201 North University Drive, Tamarac, FL 33321 | 1144274770 | 01/30/2009 | FL | N/A.
University Cancer Center, Huntsville, 640 Interstate 45 N, Huntsville, TX 77340 | 00Y285 | 01/30/2009 | TX | N/A.
San Jacinto Methodist Hospita, 4401 Garth Road, Baytown, TX 77521 | 450424 | 01/30/2009 | TX | N/A.
University Cancer Center, Brenham, 605 Medical Court 101, Brenham, TX 77833 | 00Y285 | 01/30/2009 | TX | N/A.
Methodist Hospital, I65 at 21st Street, Indianapolis, IN 46206 | 150056 | 01/30/2009 | IN | N/A.
Mount Kisco Medical Group, 34 S. Bedford Road, Mount Kisco, NY 10549 | MO0W067610 | 01/30/2009 | NY | N/A.
Danville Regional Medical Center, 142 South Main Street, Danville, VA 24541 | 490075 | 01/30/2009 | VA | N/A.
Hammond Clinic, 9800 Valparaiso Drive, Munster, IN 46321 | 1457354318 | 01/30/2009 | IN | N/A.
Alliance Imaging—Auburn Regional Medical Center, 202 North Division Street, Auburn, WA 98001 | 8865493 | 01/30/2009 | WA | N/A.
University of Connecticut Health Center, 263 Farmington Avenue, Farmington, CT 06030 | 300001399 | 01/30/2009 | CT | N/A.
Clinch Valley Medical Center, 2949 West Front Street, Richlands, VA 24641 | 1871534297 | 01/30/2009 | VA | N/A.
St. Mary Corwin Medial Center, 1008 Minnequa Avenue, Pueblo, CO 81004 | 840405257 | 01/30/2009 | CO | N/A.
Insight Imaging-Saint John's Regional Medical Center, 1700 N. Rose Avenue, Suite 110, Oxnard, CA 93030 | TP044 | 01/30/2009 | CA | N/A.
Trinity Hospitals, 407 3rd Street SE., Minot, ND 58701 | 412002771 | 01/30/2009 | ND | N/A.
Morris County Imaging, 310 Madison Avenue, Morristown, NJ 07960 | 111293 | 01/30/2009 | NJ | N/A.
Lake Norman Regional Medical Center, 171 Fairview Road, Mooresville, NC 28117 | 34012 | 01/30/2009 | NC | N/A.
Medical Imaging of Fredericksburg, 1201 Sam Perry Boulevard, Suite 102, Fredericksburg, VA 2240 | 7242956 | 01/30/2009 | VA | N/A.
Medical Outsourcing Services LLC, 450 Chew Street, Allentown, PA 18102 | 115171 | 01/30/2009 | PA | N/A.
Southeastern Regional Medical Center, 300 West 27th Street, Lumberton, NC 28358 | 340050 | 01/30/2009 | NC | N/A.
Meridian Health, Riverview Medical Center, 1 Riverview Plaza, Red Bank, NJ 07701 | 310034 | 01/30/2009 | NJ | N/A.
Shands Jacksonville, 555 W. 8th Street, Jacksonville, FL 32209 | 100001 | 01/30/2009 | FL | N/A.
Advantage Imaging, LLC, 3733 Park East Drive, Suite 100, Beachwood, OH 44139 | 1336359686 | 01/30/2009 | OH | N/A.
Marlette Regional Hospital, 2770 Main Street, P.O. Box 307, Marlette, MI 48453 | 231330 | 01/30/2009 | MI | N/A.
Lewisburg Cancer Center, 75 Medical Park Drive, Lewisburg, PA 17837 | 31076 | 01/30/2009 | PA | N/A.
New Jersey Diagnostics & Imaging, 455 Jack Martin Boulevard, Brick, NJ 08724 | 1710915483 | 01/30/2009 | NJ | N/A.
Medical Oncology Associates, P.S., 6001 N. Mayfair Street, Spokane, WA 99208 | GAB37015 | 01/30/2009 | WA | N/A.
DMS Imaging, 10121 Pine Avenue, Truckee, CA 96161 | ZZZ05188Z | 01/30/2009 | CA | N/A.
Northwest Medical Center, 2801 N. State Road 7, Margate, FL 33063 | 100189 | 01/30/2009 | FL | N/A.
St. Joseph Hospital, 1907 W. Sycamore Street, Kokomo, IN 46904 | 1780625442 | 01/30/2009 | IN | N/A.
Mayo Clinic Jacksonville, 4500 San Pablo Road, Jacksonville, FL 32224 | 97325 | 01/30/2009 | FL | N/A.
Jewish Hospital, 200 East Liberty Street, Louisville, KY 40222 | 1457354318 | 01/30/2009 | KY | N/A.
Riverview Hospital Association, 410 Dewey Street, Wisconsin, Rapids WI 54495 | 520033 | 01/30/2009 | WI | N/A.
Quantum PET-Mt. Nittany Medical Center, 1800 East Park Avenue, State College, PA 16803 | 40635 | 01/30/2009 | PA | N/A.
Capital Medical Center, 3900 Capital Mall Drive, Olympia, WA 98502 | 1841258639 | 01/30/2009 | WA | N/A.
Treasure Hills Imaging Center, 2121 Pease Street, Harlingen, TX 78550 | FTA0091 | 01/30/2009 | TX | N/A.
King's Daughter's Hospital & Health Services, One King's Daughters Drive, Madison, IN 47250 | 1457354318 | 01/30/2009 | IN | N/A.
St. Luke's Hospital, East Campus, 85 Grand Avenue, Fort Thomas, KY 41075 | 1457354318 | 01/30/2009 | KY | N/A.
Greenview Regional Hospital, 1801 Ashley Circle, Bowling Green, KY 42104 | 1457354318 | 01/30/2009 | KY | N/A.
TJ Samson Community Hospital, 1301 N. Race Street, Glasgow KY 42141 | 1457354318 | 01/30/2009 | KY | N/A.
Watson Clinic LLP, 1600 Lakeland Hills Boulevard, Lakeland FL 33805 | 162 | 01/30/2009 | FL | N/A.
Major Hospital, 2455 Inteliplex Drive, Shelbyville, IN 46176 | 1174555692 | 01/30/2009 | IN | N/A.
Carroll Precision Imaging Center, 680A Poole Road, Westminster, MD 21157 | 1598944761 | 01/30/2009 | MD | N/A.
Providence Hospital, 16001 West Nine Mile Road, P.O. Box 2043, Southfield, MI 48037 | 1144210253 | 01/30/2009 | MI | N/A.
Lexington Clinic, 1221 South Broadway, Lexington, KY 40504 | 169 | 01/30/2009 | KY | N/A.
St Francis Hospital, 6161 S. Yale Avenue, Tulsa, OK 74136 | 1457354318 | 01/30/2009 | OK | N/A.
Kingman Regional Imaging, Center, 1033 Sycamore Avenue, Kingman, AZ 86409 | 30055 | 01/30/2009 | AZ | N/A.
Morrow County Hospital, 651 West Marion Road, Mount Gilead, OH 43338 | 361313 | 01/30/2009 | OH | N/A.
Alliance Imaging—Gritman Medical Center, 700 South Main Street, Moscow, ID 83843 | 17902911 | 01/30/2009 | ID | N/A.
Putnam Hospital Center, 670 Stoneleigh Avenue, Carmel, NY 10512 | 330273 | 01/30/2009 | NY | N/A.
Associated Medical, Specialist, PA, 817 Farrar Drive, Conway, SC 29526 | 1063432391 | 01/30/2009 | SC | N/A.
South Valley Radiology, 16633 Ventura Boulevard, Suite 120, Encino, CA 91436 | W18950 | W18950 | CA | N/A.
Florida Cancer Institute, 7651 Medical Drive, Hudson, FL 34667 | K4006 | 01/30/2009 | FL | N/A.
Albemarle Hospital, 1144 N. Road Street, Elizabeth City, NC 27909 | 340109 | 01/30/2009 | NC | N/A.
Carilion New River Valley, 2900 Lamb Circle, Christiansburg, VA 24073 | 490042 | 01/30/2009 | VA | N/A.
Hope Diagnostic Imaging Center, 2202 S. 77th Sunshine Strip, Suite E, Harlingen, TX 78550 | FTNX12 | 01/30/2009 | TX | N/A.
Optima Diagnostic Imaging, 8900 Wilshire Boulevard, Beverly Hills, CA 90211 | 1659412757 | 01/30/2009 | CA | N/A.
John Randolph Medical Center, 411 W. Randolph Road, Hopewell, VA 23860 | 490020 | 01/30/2009 | VA | N/A.
Salem Hospital, 665 Winter Street SE., Salem, OR 97301 | 1265431829 | 01/30/2009 | OR | N/A.
Nacogdoches Medical Center, 4920 NE. Stallings Drive, Nacogdoches, TX 75961 | 450656 | 01/30/2009 | TX | N/A.
Fairfield Diagnostic Imaging, 1241 River Valley Boulevard, Lancaster, OH 43130 | 1063472884 | 01/30/2009 | OH | N/A.
PET Imaging of Thornton, 9461 Huron Street, Thornton, CO 80260 | 183123486 | 01/30/2009 | CO | N/A.
East Bay Medical Oncology, 4721 Dallas Ranch Road, Antioch, CA 94513 | 1932107331 | 01/30/2009 | CA | N/A.
MultiCare Health System/Tacoma General Hospital, 316 Martin Luther King Way, Tacoma, WA 98405 | 1366556227 | 01/30/2009 | WA | N/A.
University of Wisconsin—Hospital and Clinics, 600 Highland Avenue, Madison, WI 53792 | 520098 | 01/30/2009 | WI | N/A.
Open MRI and CT of South Miami, LLC, 101 NW. 1st Avenue, Delray Beach, FL 33444 | 1457405060 | 01/30/2009 | FL | N/A.
Dearborn County Hospital, 600 Wilson Creek Road, Lawrenceburg, IN 47025 | 150086 | 01/30/2009 | IN | N/A.
Alliance Imaging Inc—Desert Imaging, 118 Castellano Drive, El Paso, TX 79912 | 1639357213 | 01/30/2009 | TX | N/A.
NSMS—Hamburg, IA, 209 Limestone Pass, Cottage Grove, WI 53527 | 1295785079 | 01/30/2009 | WI | N/A.
NSMS—Memphis, MO, Sigler Avenue, RR#1 Box 53, Memphis, MO 63555 | 1295785079 | 01/30/2009 | MO | N/A.
Alliance Imaging—Hematology Oncology, 715 W. North Avenue, Melrose, Park IL 60160 | 216057 | 01/30/2009 | IL | N/A.
South Miami Hospital, 6200 SW. 73rd Street, Miami, FL 33143 | 1982688230 | 01/30/2009 | FL | N/A.
The PET/CT Center of North Florida, 2161 Kingsley Avenue, Orange Park, FL 32073 | 1952320467 | 01/30/2009 | FL | N/A.
Ascent Diagnostic Imaging of Tamarac, 7180 North University Drive, Tamarac, FL 33321 | AL571 | 01/30/2009 | FL | N/A.
Wilson Medical Center, 1705 Tarboro Street SW., Wilson, KY 41075 | 340126 | 02/02/2009 | NC | N/A.
Lexington Medical Center, 811 W. Main Street, Lexington, KY 42141 | 1457354318 | 02/02/2009 | SC | N/A.
Merced MRI, 3365 G Street, Suite 100, Merced, KY 42104 | ZZZ19963Z | 02/02/2009 | CA | N/A.
Memorial Diagnostic Center, 2901 Swann Avenue, Tampa, FL 33805 | 100206 | 02/02/2009 | FL | N/A.
The PET/CT Center of North Florida, 1375 Roberts Road, Jacksonville Beach, FL 46176 | 1932196243 | 02/02/2009 | FL | N/A.
The PET/CT Center of North Florida, 300 Health Park Boulevard #100, St. Augustine, FL 32086 | 1861427155 | 02/02/2009 | FL | N/A.
Oncology Hematology West, P.C., 17201 Wright Street, Suite 100, Omaha, NE 68130 | 1932178530 | 02/02/2009 | NE | N/A.
The PET/CT Center of North Florida, 795 SW. State Road 47, Lake City, FL 32025 | 1902893902 | 02/02/2009 | FL | N/A.
The PET/CT Center of North Florida, 710 Lomax Street, Jacksonville, FL 32204 | 1457529786 | 02/02/2009 | FL | N/A.
Provena Saint Joseph Medical Center, 2000 Glenwood Avenue, Joliet, IL 60435 | 140007 | 02/02/2009 | IL | N/A.
Montgomery County Advanced Medical Imaging, LLC, 2701 Blair Mill Road, Blairwood Building, Suite 3, Willow Grove, PA 19090 | 1134315369 | 02/02/2009 | PA | N/A.
Medical Outsourcing Services LLC, One Elizabeth Place, Dayton, OH 45408 | 2391 | 02/02/2009 | OH | N/A.
Insight Diagnostic Imaging, 750 N. Syringa Street, Suite 104, Post Falls, ID 83854 | 1710089636 | 02/02/2009 | ID | N/A.
Hudson Valley Radiology Associates of Westchester, 115 Main Street, Tuckahoe, NY 10707 | 1174574115 | 02/02/2009 | NY | N/A.
Advocate Illinois Masonic Medical Center, 3000 North Halsted, Suite 100, Chicago, IL 60657 | 363196629 | 02/02/2009 | IL | N/A.
The PET/CT Center of North Florida, 600 Zeagler Drive, Palatka, FL 32177 | 1518986926 | 02/02/2009 | FL | N/A.
Baptist Memorial Outpatient Diagnostic Center, 504 Azalea Drive, Oxford, MS 38655 | 1053375576 | 02/02/2009 | MS | N/A.
Alliance Imaging—Great Falls Clinic, 3000 15th Avenue South, Great Falls, MT 59405 | 1790978146 | 02/02/2009 | MT | N/A.
Central DuPage Hospital, 25 N. Winfield Road, Winfield, IL 60190 | 820800 | 02/02/2009 | IL | N/A.
Medical Outsourcing Services LLC, 4932 W 95th Street, Oak Lawn, IL 60453 | 211222 | 02/02/2009 | IL | N/A.
The Cancer Center at Lake Manassas, 7901 Lake Manassas Drive, Gainesville, VA 20155 | 1518024934 | 02/02/2009 | VA | N/A.
Zwanger-Pesiri Radiology, LLP, 80 Maple Avenue, Smithtown, NY 11787 | W1391 | 02/02/2009 | NY | N/A.
Ohio Valey General Hospital, 500 Pine Hollow Road, McKees Rocks, PA 15136 | 390157 | 02/02/2009 | OH | N/A.
Rockwood Clinic Radiation Oncology, 2410 E. Sinto Avenue, Spokane Valley, WA 99216 | 356600 | 02/02/2009 | WA | N/A.
Regional West Medical Center, 4021 Ave. B, Scottsbluff, NE 69361 | 1639101199 | 02/02/2009 | NE | N/A.
DuPage Medical Group at Rickert, 1100 W. 31st Street, Downers Grove, IL 60515 | 1801833983 | 02/02/2009 | IL | N/A.
Medical Outsourcing Services LLC, 2701 W. 68th Street, Chicago, IL 60629 | 211222 | 02/02/2009 | IL | N/A.
Presbyterian Kaseman Hospital, 8300 Constitution Avenue NE., Albuquerque, NM 87110 | 320021 | 02/02/2009 | NM | N/A.
North Kansas City Hospital, 2800 Clay Edwards Drive, Parkville, MO 64116 | 260096 | 02/02/2009 | MO | N/A.
West Hernando Diagnostic Imaging, 3315 Commercial Way, Spring Hill, FL 34606 | 1174668305 | 02/02/2009 | FL | N/A.
NSMS—Robinson, IL, 1000 N. Allen Street, Robinson, IL 62454 | 1295785079 | 02/02/2009 | IL | N/A.
Memorial Hospital, 715 South Taft Avenue, Fremont OH 43420 | 360156 | 02/02/2009 | OH | N/A.
Samaritan Imaging Center, 1245 Wilshire Boulevard, Suite 205, Los Angeles, CA 90017 | 1538258116 | 02/02/2009 | CA | N/A.
Aurora West Alllis Medical Center, 8901 West Lincoln Avenue, West Allis, WI 53227 | 520139 | 02/02/2009 | WI | N/A.
Hematology & Oncology Specialists, LLC, 39 Starbrush Circle, Covington, LA 70433 | 5F818 | 02/02/2009 | LA | N/A.
DDIS—PB, 3250 Westchester Avenue, Bronx, NY 10461 | w30661 | 02/02/2009 | NY | N/A.
Toledo Clinic, Inc., 4235 Secor Road, Toledo, OH 43623 | 1144217894 | 02/02/2009 | OH | N/A.
CDSA, 1421 Third Avenue, New York, NY 10028 | 1982700951 | 02/02/2009 | NY | N/A.
Cancer Care Centers of South Texas, 2130 NE. Loop 410, Suite 100, San Antonio, TX 78217 | 1225064603 | 02/02/2009 | TX | N/A.
Saddleback Memorial Medical Center, 24451 Healthcenter Drive, Laguna Hills, CA 92653 | 50603 | 02/02/2009 | CA | N/A.
Marshfield Clinic, 2116 Craig Road, Eau Claire, WI 54701 | 390452970 | 02/02/2009 | WI | N/A.
Liberty Pacific Advanced Imaging, 16130 Ventura Boulevard, Encino, CA 91436 | 1962457812 | 02/02/2009 | CA | N/A.
SimonMed Imaging, Inc., 20830 N Tatum Blvd, Suite 190, Phoenix, AZ 85050 | 1164460077 | 02/02/2009 | AZ | N/A.
Marshfield Clinic—Rice Lake Center, 1700 West Stout Street, Rice Lake, WI 54868 | 5090 | 02/02/2009 | WI | N/A.
Ingham Regional Medical Center, 401 W. Greenlawn Avenue, Lansing, MI 48910 | 230167 | 02/02/2009 | MI | N/A.
Space Coast Medical Associates LLP, 490 N. Washington Avenue, Titusville, FL 32796 | 1558329581 | 02/02/2009 | FL | N/A.
Ascent Diagnostic Imaging of Jacksonville, 5210 Belfort Road, Suite 130, Jacksonville, FL 32256 | AL744 | 02/02/2009 | FL | N/A.
Milford Regional Medical Center, 12 Prospect Street, Milford, MA 01757 | 1477527497 | 02/02/2009 | MA | N/A.
The Cancer Team Bellin Health, 1580 Commanche Avenue, Green Bay, WI 54313 | ESO114 | 02/02/2009 | WI | N/A.
Community Cance Center of North Florida, 7000 NW. 11th Place, Gainsville, FL 32605 | 1205858354 | 02/02/2009 | FL | N/A.
Epic Care Dublin, 6380 Clark Avenue, Dublin, CA 94568 | ZZZ39149Z | 02/02/2009 | CA | N/A.
Cornerstone McLaughlin & Marte, 3850 Tampa Road, Palm Harbor, FL 44718 | 1174668305 | 02/03/2009 | FL | N/A.
Methodist Dallas Medical Center, 1441 N. Beckley Avenue, Dallas, TX 75203 | 1457354318 | 02/03/2009 | TX | N/A.
Methodist Charlton Medical Center, 3500 W. Wheatland Road, Dallas, TX 75737 | 1457354318 | 02/03/2009 | TX | N/A.
Riverview Hospital, 395 Westfield Road, Nobelsville, IN 46060 | 1457354318 | 02/03/2009 | IN | N/A.
North Bay Imaging, 625 W. Baldwin Road, Panama City, FL 32405 | 1639208366 | 02/03/2009 | FL | N/A.
University Medical Center, 602 Indiana Avenue, Lubbock, TX 79413 | 1821087164 | 02/03/2009 | TX | N/A.
Toms River X-Ray/CT/MRI Center, 154 Highway 37 W, Toms River, NJ 08755 | 540379 | 02/03/2009 | NJ | N/A.
St. Mary's Hospital Imaging Department, 25500 Point Lookout Road, Leonardtown, MD 20650 | 210028 | 02/03/2009 | MD | N/A.
Banner Good Samaritan PET Center, 1111 E. McDowell Road, Phoenix AZ 85006 | H0016 | 02/03/2009 | AZ | N/A.
Saint Luke's Northland Hospital, 4320 Wornall Road, Suite 328, Kansas City, MO 64111 | 111111 | 02/03/2009 | MO | N/A.
Carmichael Imaging, 6620 Coyle Avenue, Suite 110, Carmichael, CA 95608 | 941694584 | 02/03/2009 | CA | N/A.
Phoebe Putney Memorial Hospital, 2709 Meredyth Drive, Albany, GA 31707 | 1710147210 | 02/03/2009 | GA | N/A.
Trinity Medical Center, 800 Montclair Road, Birmingham, AL 35213 | 10104 | 02/03/2009 | AL | N/A.
Diagnostic Clinic, 1551 West Bay Drive, Largo, FL 33770 | 36 | 02/03/2009 | FL | N/A.
Titus Regional Medical Center, 2001 North Jefferson Avenue, Mount Pleasant, TX 75455 | 1174526529 | 02/03/2009 | TX | N/A.
Snow Canyon Clinic, 272 East Center Street, Ivins, UT 84738 | 1235185645 | 02/03/2009 | UT | N/A.
Conway Medical Center, 300 Singleton Ridge Road, P.O. Box 829, Conway, SC 29526 | 1134172000 | 02/03/2009 | SC | N/A.
Nazha Cancer Center, 801 New Road, Northfield, NJ 08225 | 1063698959 | 02/03/2009 | NJ | N/A.
CHRISTUS Central Louisiana Imaging Center, 3704 North Boulevard, Alexandria, LA 71301 | 190019 | 02/03/2009 | LA | N/A.
Cobre Valley Community Hospital, 5880 S. Hospital Drive, Globe, AZ 85501 | 31314 | 02/03/2009 | AZ | N/A.
Wuesthoff X-Ray and Lab at Baytree, 7970 N. Wickham Road, Melbourne, FL 32940 | 1538298344 | 02/03/2009 | FL | N/A.
Avera Holy Family, 826 North 8th Street, Estherville, IA 51334 | 1508810177 | 02/03/2009 | IA | N/A.
Hannibal Regional Hospital, 6000 Hospital Drive, Hannibal, MO 63401 | 260025 | 02/03/2009 | MO | N/A.
Alliance Imaging Dreyer Clinic, 1221 North Highland Avenue, Aurora, IL 60506 | 1235282344 | 02/03/2009 | IL | N/A.
Cancer Care, 11100 Hefner Pointe Drive, Oklahoma City, OK 73120 | 1295785392 | 02/03/2009 | OK | N/A.
Fisher-Titus Medical Center, 272 Benedict Avenue, Norwalk, OH 44857 | 360065 | 02/03/2009 | OH | N/A.
Oaklawn Hospital, 200 North Madison Street, Marshall, MI 49068 | 230217 | 02/03/2009 | MI | N/A.
Dixie Regional Medical Center, 544 South 400 East, St. George, UT 84790 | 460021 | 02/03/2009 | UT | N/A.
New Jersey Institute of Radiology, 630 Broad Street, Carlstadt, NJ 07072 | 115568 | 02/03/2009 | NJ | N/A.
Medical Diagnostic Imaging, 4349 Treadaway Boulevard, Abilene, TX 79602 | 1730387911 | 02/03/2009 | TX | N/A.
Richmond, 2900 Richmond Avenue, Houston, TX 77098 | 1730132234 | 02/03/2009 | TX | N/A.
Lafayette General Medical Center-LGI, 1211 Coolidge Blvd, Suite 201, Lafayette, LA 70503 | 1275536799 | 02/03/2009 | LA | N/A.
Ohio Cancer Specialists, 1125 Aspira Court, Mansfield, OH 44906 | 1316917040 | 02/03/2009 | OH | N/A.
Vantage Diagnostic Imaging, 3400 W. Hefner Road, Oklahoma City, OK 73120 | 400522173 | 02/03/2009 | OK | N/A.
Health Diagnostics, 455 Hickey Boulevard #200, Daly City, CA 94015 | 1467611467 | 02/03/2009 | CA | N/A.
Physicians for Cure, 795 SW. State Road 47, Lake City, FL 32025 | 1770739104 | 02/03/2009 | FL | N/A.
Arkansas Cancer Center PET/CT, 9601 Lile Drive, Suite 106, Little Rock, AR 72205 | 1477535391 | 02/03/2009 | AR | N/A.
Southeast Georgia Health System, 2415 Parkwood Drive, Brusnwick, GA 31520 | 110025 | 02/03/2009 | GA | N/A.
Illinois Valley Community Hospital, 925 West Street, Peru, IL 61354 | 1457354318 | 02/03/2009 | IL | N/A.
Oncology Hematology Associates of Southwest IN, 3699 Epworth Road, Newburgh, IN 47630 | 1710150222 | 02/03/2009 | IN | N/A.
Sam Houston Cancer Center, 112 Medical Park Lane, Huntsville, TX 77340 | 00Z337 | 02/03/2009 | TX | N/A.
Silicon Valley Medical Imaging, 2191 Mowry Avenue, Suite 500-H, Fremont, CA 94538 | 1376730358 | 02/03/2009 | CA | N/A.
RADS (Radiology and Diagnostic Services), 7160 W. 20th Avenue, Suite M126, Hialeah, FL 33016 | 100187 | 02/03/2009 | FL | N/A.
Kaweah Delta Imaging Center, 4949 W. Cypress Avenue, Visalia, CA 93277 | 1588663769 | 02/03/2009 | CA | N/A.
University of South AL Mitchell Cancer Institute, 1660 Springhill Avenue, Mobile, AL 36604 | H398 | 02/03/2009 | AL | N/A.
Murray-Calloway County Hospital, 803 Poplar Street, Murray, KY 42071 | 1073504981 | 02/03/2009 | KY | N/A.
Arizona Center for Hematology and Oncology, 14674 W. Mountain View Boulevard, #113, Surprise, AZ 85374 | Z31627 | 02/03/2009 | AZ | N/A.
Wake Radiology Diagnostic Imaging, Inc., 300 Ashville Avenue, Suite 180, Cary, NC 27518 | 1538123450 | 02/03/2009 | NC | N/A.
The Vancouver Clinic, 700 NE. 87th Avenue, Vancouver, WA 98686 | 685900 | 02/03/2009 | WA | N/A.
Bronx-Lebanon Hospital Center, 1650 Grand Concourse, Bronx, NY 10457 | 1558461962 | 02/03/2009 | NY | N/A.
Evergreen Hematology & Oncology, P.S., 309 E. Farwell Road, Suite 100, Spokane, WA 99218 | 1255592218 | 02/03/2009 | WA | N/A.
NSMS—Parsons, KS, 1902 59 Highway South, Parsons, KS 67357 | 1295785079 | 02/03/2009 | KS | N/A.
Florida Cancer Specialists—Cornerstone, 3850 Tampa Road, Palm Harbor, FL 34684 | 1760590962 | 02/03/2009 | FL | N/A.
Town Center Imaging, 21 Hospital Drive, Suite 130, Palm Coast, FL 32164 | 1558530006 | 02/03/2009 | FL | N/A.
Memorial Hospital of Carbondale, 405 W. North Avenue, Carbondale, IL 62901 | 1093801797 | 02/03/2009 | IL | N/A.
Herrin Hospital, 201 South 14th Street, Herrin, IL 62948 | 1093801797 | 02/03/2009 | IL | N/A.
Laughlin Memorial Hospital, 1420 Tusculum Boulevard, Greeneville, TN 37745 | 1881669778 | 02/03/2009 | TN | N/A.
Quantum PET—Hanover Hospital, 300 Highland Avenue, Hanover, PA 17331 | 40635 | 02/03/2009 | PA | N/A.
Parrish Medical Center, 941 North Washington Avenue, Titusville, FL 32796 | 1053424648 | 02/03/2009 | FL | N/A.
California Diagnostic Imaging Center, Inc., 828 South Grand, Suite 107, Glendoro, CA 91740 | TP113 | 02/03/2009 | CA | N/A.
NorCal Imaging—Pleasanton, 5924 Stoneridge Drive, Pleasanton, CA 94588 | 1578687166 | 02/03/2009 | CA | N/A.
Sadler Clinic, 9305 Pinecroft Drive, The Woodlands, TX 77380 | 1114979127 | 02/03/2009 | TX | N/A.
Medical Center Hospital, 500 West 4th Street, Odessa, TX 79760 | 450132 | 02/03/2009 | TX | N/A.
Cascade Medical Imaging, 2500 NE. Neff Road, Bend, OR 97701 | 1194994145 | 02/03/2009 | OR | N/A.
Palos Community Hospital, 15300 West Avenue, Orland Park, IL 60462 | 1124276332 | 02/03/2009 | IL | N/A.
Lemmen Holton Cancer Pavilion, 145 Michigan Street, NE., Grand Rapids, MI 49503 | 230038 | 02/03/2009 | MI | N/A.
Houston Cancer Institute, 1220 Blalock, Suite 100, Houston, TX 77055 | 00N55X | 02/03/2009 | TX | N/A.
Hudson Valley Hematology-Oncology Associates, 19 Baker Avenue, Suite 100, Poughkeepsie, NY 12601 | 1275615809 | 02/03/2009 | NY | N/A.
North Shore Radiology at Glen Cove, PC, 10 Medical Plaza, Suite 106, Glen Cove, NY 11542 | 1003024662 | 02/03/2009 | NY | N/A.
Cape Radiology, 4011 Route 9 South, P.O. Box 244, Rio Grande, NJ 08242 | 1972592194 | 02/03/2009 | NJ | N/A.
Frederick Imaging Centers, LLC, 46 B Thomas Johnson Drive, Suite 100, Frederick, MD 21702 | 1063699940 | 02/03/2009 | MD | N/A.
EP Medical Imaging Technology, 10767 Gateway West, Suite 520, El Paso, TX 79935 | 1508987165 | 02/03/2009 | TX | N/A.
Atlantis Diagnostics, 1344 S. Apollo Boulevard, Melbourne, FL 32901 | 1053382457 | 02/03/2009 | FL | N/A.
Tri-City PETCT at Vista, 902 Sycamore Avenue, #120, Vista, CA 92081 | 1154580348 | 02/03/2009 | CA | N/A.
Florida Cancer Specialists/Sarasota Downtown, 1970 Golf Street, Sarasota, FL 34236 | 1760590962 | 02/03/2009 | FL | N/A.
Arizona Oncology Associates—Biltmore, 2222 East Highland Avenue, Suite 130, Phoenix, AZ 85016 | 1235193459 | 02/03/2009 | AZ | N/A.
Las Vegas Radiology, 7500 Smoke Ranch, Suite 100, Las Vegas, NV 89128 | 1972714970 | 02/03/2009 | NV | N/A.
Medical Outsourcing Services, 2900 W. 16th Street, Bedford, IN 47421 | 1700812294 | 02/03/2009 | IN | N/A.
Town Center Imaging, 21 Hospital Drive, Suite 130, Palm Coast, FL 32164 | 1558530006 | 02/03/2009 | FL | N/A.
Memorial Hospital of Carbondale, 405 W. North Avenue, Carbondale,IL 62901 | 1093801797 | 02/03/2009 | IL | N/A.
Herrin Hospital, 201 South 14th Street, Herrin, IL 62948 | 1093801797 | 02/03/2009 | IL | N/A.
Laughlin Memorial Hospital, 1420 Tusculum Boulevard, Greeneville, TN 37745 | 1881669778 | 02/03/2009 | TN | N/A.
Quantum PET—Hanover Hospital, 300 Highland Avenue, Hanover, PA 17331 | 40635 | 02/03/2009 | PA | N/A.
Parrish Medical Center, 941 North Washington Avenue, Titusville, FL 32796 | 1053424648 | 02/03/2009 | FL | N/A.
California Diagnostic Imaging Center, Inc., 828 South Grand, Suite 107, Glendoro, CA 91740 | TP113 | 02/03/2009 | CA | N/A.
NorCal Imaging—Pleasanton, 5924 Stoneridge Drive, Pleasanton, CA 94588 | 1578687166 | 02/03/2009 | CA | N/A.
Sadler Clinic, 9305 Pinecroft Drive, The Woodlands, TX 77380 | 1114979127 | 02/03/2009 | TX | N/A.
Medical Center Hospital, 500 West 4th Street, Odessa, TX 79760 | 450132 | 02/03/2009 | TX | N/A.
Cascade Medical Imaging, 2500 NE. Neff Road, Bend, OR 97701 | 1194994145 | 02/03/2009 | OR | N/A.
Palos Community Hospital, 15300 West Avenue, Orland Park, IL 60462 | 1124276332 | 02/03/2009 | IL | N/A.
Lemmen Holton Cancer Pavilion, 145 Michigan Street, NE., Grand Rapids, MI 49503 | 230038 | 02/03/2009 | MI | N/A.
Houston Cancer Institute, 1220 Blalock, Suite 100, Houston, TX 77055 | 00N55X | 02/03/2009 | TX | N/A.
Hudson Valley Hematology-Oncology Associates, 19 Baker Avenue, Suite 100, Poughkeepsie, NY 12601 | 1275615809 | 02/03/2009 | NY | N/A.
North Shore Radiology at Glen Cove, PC, 10 Medical Plaza, Suite 106, Glen Cove, NY 11542 | 1003024662 | 02/03/2009 | NY | N/A.
Cape Radiology, 4011 Route 9 South, P.O. Box 244, Rio Grande, NJ 08242 | 1972592194 | 02/03/2009 | NJ | N/A.
Frederick Imaging Centers, LLC, 46 B Thomas Johnson Drive, Suite 100, Frederick, MD 21702 | 1063699940 | 02/03/2009 | MD | N/A.
EP Medical Imaging Technology, 10767 Gateway West, Suite 520, El Paso, TX 79935 | 1508987165 | 02/03/2009 | TX | N/A.
Atlantis Diagnostics, 1344 S. Apollo Boulevard, Melbourne, FL 32901 | 1053382457 | 02/03/2009 | FL | N/A.
Tri-City PETCT at Vista, 902 Sycamore Avenue #120, Vista, CA 92081 | 1154580348 | 02/03/2009 | CA | N/A.
Florida Cancer Specialists/Sarasota Downtown, 1970 Golf Street, Sarasota, FL 34236 | 1760590962 | 02/03/2009 | FL | N/A.
Arizona Oncology Associates—Biltmore, 2222 East Highland Avene, Suite 130, Phoenix, AZ 85016 | 1235193459 | 02/03/2009 | AZ | N/A.
Las Vegas Radiology, 7500 Smoke Ranch, Suite 100, Las Vegas, NV 89128 | 1972714970 | 02/03/2009 | NV | N/A.
Medical Outsourcing Services, 2900 W. 16th Street, Bedford, IN 47421 | 1700812294 | 02/03/2009 | IN | N/A.

Addendum XIII—Medicare-Approved Ventricular Assist Device (Destination Therapy) Facilities [April through June 2009]

On October 1, 2003, we issued our decision memorandum on ventricular assist devices for the clinical indication of destination therapy. We determined that ventricular assist devices used as destination therapy are reasonable and necessary only if performed in facilities that have been determined to have the experience and infrastructure to ensure optimal patient outcomes. We established facility standards and an application process. All facilities were required to meet our standards in order to receive coverage for ventricular assist devices implanted as destination therapy.

VAD Destination Therapy Facilities

The following facilities have met the CMS facility standards for destination therapy VADs.

Facility | Provider No. | Date approved | State | Other information
Advocate Christ Medical Center, 4440 W. 95th Street, Oak Lawn, Illinois | 140208 | 12/17/2003 | IL | Joint Commission Certified on 05/26/2007.
California Pacific Medical Center, 2333 Buchanan Street, San Francisco, California | 050047 | 03/19/2004 | CA. |
Baptist Memorial Hospital, 6019 Walnut Grove Road, Memphis, Tennessee | 440048 | 04/07/2004 | TN. |
Duke University Medical Center, DUMC Box 3943, Durham, North Carolina | 340030 | 10/31/2003 | NC. |
Fairview-University Medical Center, 2450 Riverside Avenue, Minneapolis, Minnesota | 240080 | 10/28/2003 | MN. |
Allegheny General Hospital, 320 E. North Avenue, Pittsburgh, Pennsylvania | 390050 | 12/10/2003 | PA | Joint Commission Certified on 03/28/2008.
Barnes-Jewish Hospital, One Barnes-Jewish Hospital Plaza, Saint Louis, Missouri | 260032 | 10/27/2003 | MO | Joint Commission Certified on 08/22/2008.
Brigham and Women's Hospital, 15 Francis Street, Boston, Massachusetts | 220110 | 01/09/2004 | MA.. |
Bryan LGH Medical Center East, 1600 S. 48 Street, Lincoln, Nebraska | 280003 | 10/23/2003 | NE. |
Cedars-Sinai Medical Center, 8700 Beverly Boulevard, Los Angeles, California | 050625 | 12/29/2003 | CA. |
Clarian Health Partners, Inc., 1701 N. Senate Avenue, Indianapolis, Indiana | 150056 | 11/25/2003 | IN. |
Cleveland Clinic, 9500 Euclid Avenue, Cleveland, Ohio | 360180 | 12/03/2003 | OH. |
Hahnemann University Hospital, Broad and Vine Streets, Philadelphia, Pennsylvania | 390290 | 12/22/2003 | PA | Joint Commission Certified on 09/19/2008.
Hospital of the University of Pennsylvania, 3400 Spruce Street, Philadelphia, Pennsylvania | 390111 | 10/28/2003 | PA | Joint Commission Certified on 05/23/2008.
Henry Ford Hospital, 2799 W. Grand Boulvard, Detroit, Michigan | 230053 | 01/06/2004 | MI. |
Inova Fairfax Hospital, 3300 Gallows Road, Falls Church, Virginia | 490063 | 03/31/2004 | VA. |
Jewish Hospital, 200 Abraham Flexner Way, Louisville, Kentucky | 180040 | 11/10/2003 | KY. |
Jackson Memorial Hospital, 1611 NW. 12th Avenue, Miami, Florida | 100022 | 01/12/2004 | FL | University of Miami.
LDS Hospital, 8th Avenue and C Street, Salt Lake City, Utah | 460010 | 10/23/2003 | UT. |
Johns Hopkins Hospital, 600 N. Wolfe Street, Baltimore, Maryland | 210009/ 1790700904 | 10/28/2003 | MD | Joint Commission Certified on 07/09/2008.
Loyola University Medical Center, 2160 S. 1st Avenue, Maywood, Illinois | 140276 | 01/30/2004 | IL. |
Lutheran Hospital of Indiana, 7950 W. Jefferson Boulevard, Fort Wayne, Indiana | 150017 | 10/29/2003 | IN. |
Massachusetts General Hospital, 55 Fruit Street, Boston, Massachusetts | 220071 | 12/15/2003 | MA. |
Mayo Clinic, 4500 San Pablo Road, Jacksonville, Florida | 100151 | 11/06/2003 | FL. |
Medical City Dallas Hospital, 7777 Forest Lane, Dallas, Texas | 450647 | 12/03/2003 | TX. |
The Methodist Hospital, 6565 Fannin Street, Houston, Texas | 450358 | 11/03/2003 | TX. |
Montefiore Medical Center, 111 E. 210th Street, Bronx, New York | 330059 | 11/14/2003 | NY. |
Methodist Specialty and Transplant Hospital, 8026 Floyd Curl Drive, San Antonio, Texas | 450388 | 11/19/2003 | TX. |
Newark Beth Israel Medical Center, 201 Lyons Avenue, Newark, New Jersey | 310002 | 11/14/2003 | NJ. |
Mount Sinai Medical Center, 1190 5th Avenue, New York, New York | 330024 | 11/25/2003 | NY. |
New York-Presbyterian Hospital, 177 Fort Washington Avenue, New York, New York | 330101 | 10/28/2003 | NY | Columbia University Medical Center.
Ohio State University Medical Center, 410 W. 10th Avenue, Columbus, Ohio | 360085 | 11/12/2003 | OH. |
Oregon Health and Sciences University, 3181 SW. Sam Jackson Park Road, Portland, Oregon | 380009 | 11/21/2003 | OR. |
OSF St Francis Medical Center, 530 NE. Glen Oak Avenue, Peoria, Illinois | 140067 | 11/12/2003 | IL. |
Penn State Milton S Hershey Medical Center, 500 University Drive, Hershey, Pennsylvania | 390256 | 10/29/2003 | PA | Joint Commission Certified on 05/19/2008.
Rush-Presbyterian-St Luke Medical Center, 1653 W. Congress Parkway, Chicago, Illinois | 140119 | 11/14/2003 | IL. |
Sentara Norfolk General Hospital, 600 Gresham Drive, Norfolk, Virginia | 490007 | 11/10/2003 | VA. |
Sacred Heart Medical Center, 101 W. 8th Avenue, Spokane, Washington | 500054 | 01/12/2004 | WA. |
Seton Medical Center, 1201 W. 38th Street, Austin, Texas | 450056 | 01/13/2004 | TX. |
Shands at the University of Florida, 1600 SW. Archer Road, Gainesville, Florida | 100113 | 11/26/2003 | FL. |
Sharp Memorial Hospital, 7901 Frost Street, San Diego, California | 050100 | 12/01/2003 | CA | Joint Commission Certified on 07/18/2008.
Stanford University Hospital and Clinics, 300 Pasteur Drive, Stanford, California | 050441 | 12/22/2003 | CA | Stanford University Medical Center.
St. Francis Hospital, 6161 S. Yale Avenue, Tulsa, Oklahoma | 370091 | 01/09/2004 | OK. |
St. Luke's Medical Center, 2900 W. Oklahoma Avenue, Milwaukee, Wisconsin | 520138 | 11/03/2003 | WI. |
St. Luke's Episcopal Hospital, 6720 Bertner Avenue, Houston, Texas | 450193 | 10/28/2003 | TX. |
St. Vincent Hospital and Health Services, 2001 W. 86th Street, Indianapolis, Indiana | 150084 | 01/05/2004 | IN. |
St. Paul Medical Center, 5909 Harry Hines Boulevard, Dallas, Texas | 450044 | 12/10/2003 | TX. |
Strong Memorial Hospital, 601 Elmwood Avenue, Rochester, New York | 330285 | 10/29/2003 | NY | Joint Commission Certified on 06/18/2008.
Tampa General Hospital, 2 Columbia Drive, Tampa, Florida | 100128 | 11/26/2003 | FL. |
Temple University Hospital, 3401 N. Broad Street, Philadelphia, Pennsylvania | 390027 | 11/03/2003 | PA. |
Tufts-New England Medical Center, 750 Washington Street, Boston, Massachusetts | 220116 | 11/06/2003 | MA. |
UCLA Medical Center, 10833 Le Conte Avenue, Los Angeles, California | 050262 | 12/10/2003 | CA. |
University Medical Center, 1501 N. Campbell Avenue, Tucson, Arizonia | 030064 | 10/29/2003 | AZ. |
University of Alabama at Birmingham Health System, 500 22nd Street S., Birmingham, Alabama | 010033 | 10/29/2003 | AL. |
University of Colorado Hospital, 4200 E. Ninth Avenue, Denver, Colorado | 060024 | 11/06/2003 | CO | 9th & Colorado Campus, Joint Commission Certified on 07/23/2008.
The University of Chicago Hospitals and Health System, 5841 South Maryland Avenue, Chicago, Illinois | 140088 | 02/25/2004 | IL. |
University of Iowa Hospitals and Clinics, 200 Hawkins Drive, Iowa City, Iowa | 160058 | 11/12/2003 | IA. |
University of Maryland Medical Center, 22 S. Greene Street, Baltimore, Maryland | 210002 | 11/12/2003 | MD. |
University of Michigan Health System, 1500 E. Medical Center Drive, Ann Arbor, Michigan | 230046 | 10/27/2003 | MI | Joint Commission Certified on 03/28/2008.
University of North Carolina Hospitals, 101 Manning Drive, Chapel Hill, North Carolina | 340061 | 05/05/2004 | NC. |
University of Utah Hospital, 50 N. Medical Drive, Salt Lake City, Utah | 460009 | 12/22/2003 | UT. |
University of Virginia Health System, 1215 Lee Street, Charlottesville, Virginia | 490009 | 01/12/2004 | VA. |
University of Washington Medical Center, 1959 NE. Pacific Street, Seattle, Washington | 500008 | 01/15/2004 | WA. |
University of Wisconsin Hospitals and Clinics, 600 Highland Avenue, Madison, Wisconsin | 520098 | 12/03/2003 | WI. |
USC University Hospital, 1500 San Pablo, Los Angeles, California | 050696 | 01/09/2004 | CA. |
UPMC Presbyterian, 200 Lothrop Street, Pittsburgh, Pennsylvania | 390164 | 10/23/2003 | PA | Joint Commission Certified on 06/11/2008.
Virginia Commonwealth University Medical Center, 401 North 12th Street, Richmond, Virginia | 490032 | 04/08/2004 | VA | Medical College of Virginia Hospitals.
Vanderbilt University Medical Center, 1161 21st Avenue S., Nashville, Tennessee | 440039 | 10/28/2003 | TN. |
Ochsner Clinic Foundation, 1514 Jefferson Highway, New Orleans, Louisiana | 190036 | 06/29/2004 | LA. |
Baylor University Medical Center, 3500 Gaston Avenue, Dallas, TX | N/A | 10/04/2007 | TX | Joint Commission Certified on 10/04/2007.
The University of Michigan Hospitals and Health Centers, 1500 East Medical Center Drive, Ann Arbor, MI | 230046 | 03/28/2008 | MI | Joint Commission Certified on 03/28/2008.
Saint Mary's Hospital, 1216 Southwest Second Street, Rochester, MN | N/A | 02/27/2008 | MN | Joint Commission Certified on 02/27/2008.
Allegheny General Hospital, 320 East North Avenue, Pittsburgh, PA | N/A | 03/08/2008 | PA. |
Washington Hospital Center, 110 Irving Street, NW., Washington, DC | 09-0011 | 04/23/2008 | DC | Joint Commission Certified on 04/23/2008.
Integris Baptist Medical Center, 3300 Northwest Expressway, Oklahoma City, OK | 1831103654 | 08/13/2008 | OK | Joint Commission Certified on 08/13/08.
Mayo Clinic Hospital, 5777 East Mayo Boulevard, Phoenix, AZ | 030103 | 02/27/2009 | AZ | Joint Commission Certified on 02/27/09.
Northwestern Memorial Hospital, 251 E. Huron Street, Chicago, IL | 140281 | 03/17/2009 | IL | Joint Commission Certified on 03/17/09.
Lancaster General Hospital, 555 North Duke Street, Lancaster, PA | 390100 | 05/20/2009 | PA | Joint Commission certified on 05/20/09.
Hartford Hospital, 80 Seymour Street, Hartford, CT | 070025 | 05/29/2009 | CT | Joint Commission certified on 05/29/09.

Addendum XIV—Lung Volume Reduction Surgery (LVRS) [April through June 2009]

Three types of facilities are eligible for reimbursement for Lung Volume Reduction Surgery (LVRS): National Emphysema Treatment Trial (NETT) approved (Beginning 05/07/2007, these will no longer automatically qualify and can qualify only with the other programs), Credentialed by the Joint Commission (formerly, the Joint Commision on Accreditation of Healthcare Organizations (JCAHO)) under their Disease Specific Certification Program for LVRS, and Medicare approved for lung transplants. Only the first two types are in the list.

Facility name | Date approved | State | Type of certification
Baylor College of Medicine, Houston, Texas | N/A | TEXAS | NETT.
Brigham and Women's Hospital, Boston, MA | N/A | MASSACHUSETTS | NETT.
Cedars-Sinai Medical Center, Los Angeles, CA | N/A | CALIFORNIA | NETT.
Chapman Medical Center, Orange, CA | N/A | CALIFORNIA | NETT.
Cleveland Clinic Foundation, Cleveland, OH | N/A | OHIO | NETT.
Columbia University, New York, NY | N/A | NEW YORK | NETT.
Duke University Medical Center, Durham, NC | N/A | NORTH CAROLINA | NETT.
Johns Hopkins Hospital, Baltimore, MD | N/A | MARYLAND | NETT.
Kaiser Foundation Hospital-Riverside, Riverside, CA | 09/20/2006 | CALIFORNIA | Joint Commssion.
Long Island Jewish Medical Center, New Hyde Park, NY | N/A | NEW YORK | NETT.
Mayo Clinic, Rochester, MN | N/A | MINNESOTA | NETT.
Memorial Medical Center, Springfield, IL | 12/13/2006 | ILLINOIS | Joint Commssion.
National Jewish Medical Center, Denver, CO | N/A | COLORADO | NETT.
The Ohio State University Hospital, Columbus, OH | N/A | OHIO | Joint Commssion.
Ohio State University Medical Center, Columbus, OH | N/A | OHIO | NETT.
Saint Louis University, Saint Louis, MO | N/A | MISSOURI | NETT.
Temple University Hospital, Philadelphia, PA | 08/23/2008 | PENNSYLVANIA | Joint Commission.
UCLA Medical Center, Los Angeles, CA | N/A | CALIFORNIA | NETT.
University of California-San Diego, San Diego, CA | N/A | CALIFORNIA | NETT.
University of Maryland Medical Center, Baltimore, MD | N/A | MARYLAND | NETT.
University of Michigan Medical Center, Ann Arbor, MI | N/A | MICHIGAN | Joint Commission.
University of Pennsylvania, Philadelphia, PA | N/A | PENNSYLVANIA | NETT.
University of Pittsburgh, Pittsburgh, PA | N/A | PENNSYLVANIA | NETT.
University of Washington, Seattle, WA | N/A | WASHINGTON | NETT.
Washington University/Barnes Hospital, Saint Louis, MO | N/A | MISSOURI | Joint Commission.
Allegheny General Hospital, Pittsburgh, PA | 04/23/2008 | PENNSYLVANIA | Joint Commission.

Addendum XV—Medicare-Approved Bariatric Surgery Facilities

On February 21, 2006, we issued our decision memorandum on bariatric surgery procedures. We determined that bariatric surgical procedures are reasonable and necessary for Medicare beneficiaries who have a body-mass index (BMI) greater than or equal to 35, have at least one co-morbidity related to obesity, and have been previously unsuccessful with medical treatment for obesity.

This decision also stipulated that covered bariatric surgery procedures are reasonable and necessary only when performed at facilities that are: (1) Certified by the American College of Surgeons (ACS) as a Level 1 Bariatric Surgery Center (program standards and requirements in effect on February 15, 2006); or (2) certified by the American Society for Bariatric Surgery (ASBS) as a Bariatric Surgery Center of Excellence (BSCOE) (program standards and requirements in effect on February 15, 2006).

The following facilities have met our minimum facility standards for bariatric surgery and have been certified by American College of Surgeons (ACS) or American Society for Metabolic and Bariatric Surgery (ASMBS).

Facility name | Provider No. | Date approved | State | Other information
Evanston Northwestern Hospital, 2650 Ridge Avenue, Suite 1308, Evanston, IL 60201 | 140010 | 01/26/2006 | IL | ACS.
Chapman Medical Center, 2601 East Chapman Avenue, Orange, CA 92646 | 05-0745 | 02/21/2006 | CA | ASMBS.
St Vincent Carmel Hospital, 13430 Old Meridian Street, Suite 168, Carmel, IN 46032 | 15-0157 | 02/21/2006 | IN | ASMBS.
Abbott Northwestern Hospital, 800 E. 28th Street, Minneapolis, MN 55407 | N/A | 02/24/2006 | MN | ASMBS.
Alexian Brothers Medical Center, 800 Biesterfield Road, Elk Grove Village, IL 60007 | N/A | 02/24/2006 | IL | ASMBS.
American Bariatric Institute at Doctors' Hospital, 1130 Louisiana Avenue, Shreveport, LA 71101 | N/A | 02/24/2006 | LA | ASMBS.
Arnot Ogden Medical Center, 600 Fitch Street, Elmira, NY 14905 | 330090 | 02/24/2006 | NY | ASMBS.
AtlantiCare Regional Medical Center, 2500 English Creek Avenue, Egg Harbor Township, NJ 08234 | N/A | 02/24/2006 | NJ | Center for Surgical Weight Loss and Wellness Salartash Surgical Associates, ASMBS.
Atlanta Medical Center, 303 Parkway Drive NE., Atlanta, GA 30312 | N/A | 02/24/2006 | GA | ASMBS.
Aurora Sinai Medical Center, 945 N. 12th Street, Milwaukee, WI 53211 | N/A | 02/24/2006 | WI | ASMBS.
Baptist Memorial Hospital North Mississippi, 2301 South Lamar Boulevard, Oxford, MS 38655 | N/A | 02/24/2006 | MS | ASMBS.
Bellin Health, 215 N. Webster Avenue, Green Bay, WI 54301 | N/A | 02/24/2006 | WI | ASMBS.
Bon Secours Community Hospital, 160 E. Main Street, Port Jervis, NY 12771 | N/A | 02/24/2006 | NY | ASMBS.
California Pacific Medical Center, 2333 Buchanan Street, San Francisco, CA 94115 | N/A | 02/24/2006 | CA | ASMBS.
Cape Fear Valley Health System, 1638 Owen Drive, Fayetteville, NC 28304 | N/A | 02/24/2006 | NC | ASMBS.
Centennial Center for the Treatment of Obesity, 2300 Patterson Street, Nashville, TN 37203 | N/A | 02/24/2006 | TN | ASMBS.
Cleveland Clinic Hospital-Weston, 3100 Weston Road, Weston, FL 33331 | N/A | 02/24/2006 | FL | ASMBS.
Christus Schumpert Health System, 1 Saint Mary Place, Shreveport, LA 71101 | N/A | 02/24/2006 | LA | ASMBS.
Citizen's Bariatric Center, 2701 Hospital Avenue, Victoria, TX 77901 | N/A | 02/24/2006 | TX | ASMBS.
Columbia-St. Mary's Bariatric Center, 2025 E. Newport Avenue, Milwaukee, WI 53211 | N/A | 02/24/2006 | WI | ASMBS.
Community Hospital Monterey Peninsula, 23625 Holman Highway, Monterey, CA 93940 | N/A | 02/24/2006 | CA | ASMBS.
Crestwood Medical Center, One Hospital Drive, Huntsville, AL 35801 | N/A | 02/24/2006 | AL | ASMBS.
Cypress Fairbanks Medical Center Hospital, 10655 Steepletop Drive, Houston, TX 77065 | 450716 | 02/24/2006 | TX | ASMBS.
Danbury Hospital, 24 Hospital Avenue, Danbury, CT 06810 | N/A | 02/24/2006 | CT | ACS.
East Texas Medical Center, 1000 S. Beckman Avenue, Tyler, TX 75701 | N/A | 02/24/2006 | TX | ASMBS.
Eastern Maine Medical Center, 905 Union Street, EMH Mall, Suite 11, Bangor, ME 04401 | 200033 | 02/24/2006 | ME | ASMBS.
Elmbrook Memorial Hospital, 19333 W. North Avenue, Brookfield, WI 53045 | N/A | 02/24/2006 | WI | ASMBS.
Emory Dunwoody Medical Center, 4575 N. Shallowford Road, Atlanta, GA 30338 | N/A | 02/24/2006 | GA | ASMBS.
Florida Hospital Celebration Health, 400 Celebration Place, Kissimmee, FL 34747 | N/A | 02/24/2006 | FL | ASMBS.
Florida Medical Center, 4850 W. Oakland Boulevard, Lauderdale Lakes, FL 33313 | N/A | 02/24/2006 | FL | ASMBS.
Froedtert Memorial Lutheran Hospital, 9200 W. Wisconsin Avenue, Milwaukee, WI 53226 | N/A | 02/24/2006 | WI | Medical College of Wisconsin, ASMBS.
Frye Regional Medical Center, 420 N. Center Street, Hickory, NC 28601 | N/A | 02/24/2006 | NC | ASMBS.
Geisinger Medical Center, 100 North Academy Avenue, Danville, PA 17822 | 390006 | N/A | PA | ASMBS-02/24/2006, ACS-01/26/2007.
Good Samaritan Hospital, 375 Dixmyth Avenue, Cincinnati, OH 45220 | N/A | 02/24/2006 | OH | ASMBS.
Grandview Medical Center, 405 Grand Avenue, Dayton, OH 45405 | N/A | 02/24/2006 | OH | ASMBS.
Greater Baltimore Medical Center, 6701 N. Charles Street, Baltimore, MD 21204 | N/A | 02/24/2006 | MD | ASMBS.
Hamilton Medical Center, 1200 Memorial Drive, Dalton, GA 30720 | N/A | 02/24/2006 | GA | ASMBS.
Hennepin County Medical Center, 701 Park Avenue, Minneapolis, MN 55415 | N/A | 02/24/2006 | MN | ASMBS.
Holy Cross Hospital, 4725 N. Federal Highway, Fort Lauderdale, FL 33308 | N/A | 02/24/2006 | FL | ASMBS.
Hospital of Saint Raphael, 1450 Chapel Street, New Haven, CT 06511 | N/A | 02/24/2006 | CT | ASMBS.
Huntington Memorial Hospital, 100 W. California Boulevard, Pasadena, CA 91105 | N/A | 02/24/2006 | CA | ASMBS.
Jupiter Medical Center, 1210 S. Old Dixie Highway, Jupiter, FL 33458 | N/A | 02/24/2006 | FL | ASMBS.
King's Daughters Medical Center, 617 23rd Street, Ashland, KY 41101 | N/A | 02/24/2006 | KY | ASMBS.
Legacy Good Samaritan Hospital and Medical Center, 1015 NW. 22nd Avenue, Portland, OR 97210 | N/A | 02/24/2006 | OR | ASMBS.
Lexington Medical Center, 2720 Sunset Boulevard, West Columbia, SC 29169 | N/A | 02/24/2006 | SC | ASMBS.
Little Company of Mary, 2800 W. 95th Street, Evergreen Park, IL 60805 | N/A | 02/24/2006 | IL | ASMBS.
Lutheran Medical Center, 150 55th Street, Brooklyn, NY 11220 | 29D361 | 02/24/2006 | NY | ACS.
Medical University of South Carolina, 171 Ashley Avenue, Charleston, SC 29425 | N/A | 02/24/2006 | SC | ASMBS.
Memorial Hermann Hospital, 6411 Fannin Street, Houston, TX 77030 | N/A | 02/24/2006 | TX | ASMBS.
Memorial Hospital, 2525 DeSales Avenue, Chattanooga, TN 37404 | N/A | 02/24/2006 | TN | ASMBS.
Mercy Hospital Miami, 3663 South Miami Avenue, Miami, FL 33133 | N/A | 02/24/2006 | FL | ASMBS.
Mercy San Juan Medical Center, 6501 Coyle Avenue, Carmichael, CA 95608 | N/A | 02/24/2006 | CA | ASMBS.
Metabolic Surgery Center at Baptist Hospital, 2011 Church Street, Nashville, TN 37203 | N/A | 02/24/2006 | TN | ASMBS.
Methodist Dallas Medical Center, P.O. Box 655999, Dallas, TX 75265-5999 | N/A | 02/24/2006 | TX | Texas Bariatric Center, ASMBS.
Methodist Healthcare System, 8109 Fredricksburg Road, San Antonio, TX 78229 | N/A | 02/24/2006 | TX | ASMBS.
Methodist Hospital, 6500 Excelsior Boulevard, Saint Louis Park, MN 55426 | N/A | 02/24/2006 | MN | ASMBS.
Middlesex Hospital, 28 Crescent Street, Middletown, CT 06457 | N/A | 02/24/2006 | CT | ASMBS.
Methodist Hospital of Southern California, 300 West Huntington Drive, Arcadia, CA 91007 | N/A | 02/24/2006 | CA | ASMBS.
Mills-Peninsula Health Services, 1783 El Camino Real, Burlingame, CA 94010 | N/A | 02/24/2006 | CA | ASMBS.
New Hanover Regional Medical Center, 2131 S. 17th Street, Wilmington, NC 28401 | N/A | 02/24/2006 | NC | ASMBS.
New York Methodist Hospital, 506 Sixth Street, Brooklyn, NY 11215 | N/A | 02/24/2006 | NY | ASMBS.
North Hills Hospital, 4401 Booth Calloway Road, North Richland Hills, TX 76180 | N/A | 02/24/2006 | TX | ASMBS.
North Colorado Medical Center, 1801 16th Street, Greeley, CO 80631 | N/A | 02/24/2006 | CO | ASMBS.
North Vista Hospital, 1409 E. Lake Mead Boulevard, North Las Vegas, NV 89101 | N/A | 02/24/2006 | NV | ASMBS.
Northeast Georgia Health System, Inc., 743 Spring Street NE., Gainesville, GA 30501 | N/A | 02/24/2006 | GA | ASMBS.
NorthEast Medical Center, 920 Church Street N. #302E, Concord, NC 28025 | N/A | 02/24/2006 | NC | ASMBS.
Northwestern Memorial Hospital, 215 E. Huron Street, NE., Chicago, IL 60611 | N/A | 02/24/2006 | IL | Northwestern Medical Faculty Foundation, ASMBS.
Ocala Regional Medical Center, 1431 SW. 1st Street, Ocala, FL 34474 | N/A | 02/24/2006 | FL | ASMBS.
Palms of Pasadena Hospital, 1501 Pasedena Avenue, St. Petersburg, FL 33707 | N/A | 02/24/2006 | FL | ASMBS.
Orange Coast Memorial Medical Center, 9920 Talbert Avenue, Fountain Valley, CA 92708 | N/A | 02/24/2006 | CA | ASMBS.
Parkwest Medical Center, 9352 Park West Boulevard, Knoxville, TN 37923 | N/A | 02/24/2006 | TN | ASMBS.
Penrose-St. Francis Health Services, 825 E. Pikes Peak Avenue, Colorado Springs, CO 80917 | N/A | 02/24/2006 | CO | ASMBS.
Poudre Valley Hospital, 1024 S. Lemay Avenue, Fort Collins, CO 80524 | N/A | 02/24/2006 | CO | ASMBS.
Presbyterian-St. Luke's Medical Center, 1719 E. 19th Avenue, Denver, CO 80218 | N/A | 02/24/2006 | CO | ASMBS.
Princeton HealthCare System, 253 Witherspoon Street, Princeton, NJ 08540 | N/A | 02/24/2006 | NJ | ASMBS.
Roger Williams Medical Center, 825 Chalkstone Avenue, Providence, RI 02908 | N/A | 02/24/2006 | RI | Drs. Lentrichia & Pohl, Inc., ASMBS.
Rose Medical Center, 4545 E. 9th Avenue, #470, Denver, CO 80220 | N/A | 02/24/2006 | CO | ASMBS.
Saint Barnabas Medical Center, 94 Old Short Hills Road, Livingston, NJ 07039 | N/A | 02/24/2006 | NJ | ASMBS.
Saint Francis Hospital, 5959 Park Avenue, Memphis, TN 38119 | N/A | 02/24/2006 | TN | ASMBS.
St. Francis Hospital—Franciscan Health System, 34515 Ninth Avenue S., Federal Way, WA 98003 | N/A | 02/24/2006 | WA | N/A.
Saint Joseph East Center for Weight Loss, 160 N. Eagle Creek Drive, Lexington, KY 40509 | N/A | 02/24/2006 | KY | ASMBS.
Saint Mary's Regional Medical Center, 234 W. 6th Street, Reno, NV 89503 | N/A | 02/24/2006 | NV | ASMBS.
Saint Mary's Hospital, 5801 Bremo Road, Richmond, VA 23226 | N/A | 02/24/2006 | VA | ASMBS.
Scottsdale Healthcare Shea Campus, 900 E. Shea Boulevard, Scottsdale, AR 85260 | N/A | 02/24/2006 | AZ | ASMBS.
Scripps Memorial, 9888 Genesee Avenue, La Jolla, CA 90237 | N/A | 02/24/2006 | CA | ASMBS.
Scripps Mercy Hospital, 4077 Fifth Avenue, San Diego, CA 92103 | N/A | 02/24/2006 | CA | ASMBS.
Sentara Careplex Hospital, 3000 Coliseum Drive, Hampton, VA 23666 | N/A | 02/24/2006 | VA | ASMBS.
Sinai Hospital of Baltimore, 2401 W. Belvedere Avenue, Baltimore, MD 21215 | N/A | 02/24/2006 | MD | Sinai Surgical Associates, ASMBS.
Sisters of Charity Hospital, 2130 Main Street, Buffalo, NY 14214 | N/A | 02/24/2006 | NY | ASMBS.
Sioux Valley Hospital USD Medical Center, 1305 W. 18th Street, Sioux Falls, SD 57105 | N/A | 02/24/2006 | SD | ASMBS.
Sound Shore Medical Center of Westchester, 16 Guion Place, New Rochelle, NY 10801 | N/A | 02/24/2006 | NY | ASMBS.
South Nassau Communities Hospital, 1 Healthy Way, Oceanside, NY 11572 | N/A | 02/24/2006 | NY | ASMBS.
Southwest Healthcare System, 36485 Inland Valley Drive, Wildomar, CA 92595 | N/A | 02/24/2006 | CA | ASMBS.
Southwest Medical Center, 2810 Ambassador Caffery Parkway, Lafayette, LA 70506 | N/A | 02/24/2006 | LA | ASMBS.
Spectrum Health Blodgett Campus, 1840 Wealthy Street, SE., Grand Rapids, MI 49506 | N/A | 02/24/2006 | MI | MMPC Center for Health Excellence, ASMBS.
SSM DePaul Health Center, 12303 DePaul Avenue, Bridgeton, MO 63044 | N/A | 02/24/2006 | MO | ASMBS.
St. Joseph's Area Health Services, 600 Pleasant Avenue, Park Rapids, MN 56470 | N/A | 02/24/2006 | MN | ASMBS.
St. Vincent Charity Hospital, 2322 E. 22nd Street #220, Cleveland, OH 44115 | N/A | 02/24/2006 | OH | ASMBS.
Staten Island University Hospital, 475 Seaview Avenue, Staten Island, NY 10305 | N/A | 02/24/2006 | NY | ASMBS.
Theda Clark Medical Center, 200 Theda Clark Medical Plaza Suite 410, Neenah, WI 54956 | 000071445 | 02/24/2006 | WI | ACS.
The Ohio State University Hospital, 410 W. 10th Avenue, Columbus, OH 43210 | N/A | 02/24/2006 | OH | ASMBS.
The Regional Medical Center at Memphis, 877 Jefferson Avenue, Memphis, TN 38103 | N/A | 02/24/2006 | TN | ASMBS.
Tri-City Regional Medical Center, 21530 Pioneer Boulevard, Hawaiian Gardens, CA 90716 | N/A | 02/24/2006 | CA | ASMBS.
United Hospital, 333 North Smith Avenue, Saint Paul, MN 55102 | N/A | 02/24/2006 | MN | ASMBS.
United Regional Health Care System, 1600 19th Street, Wichita Falls, TX 76301 | N/A | 02/24/2006 | TX | ASMBS.
Unity Hospital, 550 Osborne Road, NE., Fridley, MN 55432 | N/A | 02/24/2006 | MN | ASMBS.
University of Chicago Hospitals, 5841 S. Maryland Avenue, Chicago, IL 60637 | N/A | 02/24/2006 | IL | University of Chicago Department of Surgery, ASMBS.
University of Minnesota Medical Center, Fairview, 2450 Riverside Avenue, Minneapolis, MN 55454 | 24-0080 | 02/24/2006 | MN | ASMBS.
UPMC St. Margaret, 815 Freeport Road, Pittsburgh, PA 15215 | N/A | 02/24/2006 | PA | ASMBS.
UPMC Horizon, 110 North Main Street, Greenville, PA 16125 | N/A | 02/24/2006 | PA | ASMBS.
Virginia Commonwealth University Medical Center, Richmond, VA 23284 | N/A | 02/24/2006 | VA | ASMBS.
Vanderbilt University Medical Center, 1211 22nd Avenue S., Nashville, TN 37232 | N/A | 02/24/2006 | TN | ASMBS.
Weight Loss Surgery Program at Baylor, 9101 N. Central Expressway, Suite 370, Dallas, TX 75231 | N/A | 02/24/2006 | TX | ASMBS.
Wellstar Health Systems, 677 Church Street, NE., Marietta, GA 30060 | N/A | 02/24/2006 | GA | ASMBS.
White Plains Hospital Center, 190 E. Post Road, White Plains, NY 10601 | N/A | 02/24/2006 | NY | ASMBS.
York Hospital, 1001 S. George Street, York, PA 17403 | N/A | 02/24/2006 | PA | ASMBS.
Norman Regional Hospital, 901 North Porter, Box 1308, Norman, OK 73070 | 370008 | 03/22/2006 | OK | ASMBS.
St. Luke's Medical Center, 1800 E. Van Buren, Suite 307B, Phoenix, AZ 85006 | 030037 | 03/22/2006 | AZ | Abdominal Surgeons, Ltd., ASMBS.
Silver Cross Hospital, 1200 Maple Road, Joliet, IL 60432 | 140213 | 03/22/2006 | IL | Midwest Comprehensive Bariatrics, ASMBS.
Tampa General Hospital, 2 Columbia Drive, F145, Tampa, FL 33601 | 100128 | 03/22/2006 | FL | University of South Florida, ASMBS.
Spartanburg Regional Healthcare System, 101 East Wood Street, Spartanburg, SC 29303 | 420007 | 03/27/2006 | SC | ASMBS.
OSF Saint Francis Medical Center, 530 NE. Glen Oak Avenue, Peoria, IL 61637 | 140067 | 04/05/2006 | IL | ASMBS.
Palmetto Health Baptist, 1850 Laurel Street, Suite 1A, Columbia, SC 29201 | 420086 | 04/05/2006 | SC | ASMBS.
Peconic Bay Medical Center, 1300 Roanoke Avenue, Riverhead, NY 11901 | 330107 | 04/06/2006 | NY | ASMBS.
Desert Springs Hospital, 2075 East Flamingo, Las Vegas, NV 89119 | 290022 | 04/07/2006 | NV | ASMBS.
Palmetto General Hospital, 2001 West 68th Street, Hialeah, FL 33016 | 100187 | 04/11/2006 | FL | ASMBS.
Hurley Medical Center, One Hurley Plaza, Flint, MI 48503-5993 | 230132 | 04/14/2006 | MI | ACS.
University of California, Davis, 2315 Stockton Boulevard, Sacramento, CA 95817 | N/A | 04/18/2006 | CA | ASMBS.
Russell County Medical, Carroll and Tate Streets, Lebanon, VA 24266 | N/A | 04/27/2006 | VA | ASMBS.
Western Pennsylvania Hospital, 4800 Friendship Avenue, Pittsburgh, PA 15224 | 028672 | N/A | PA | ASMBS.-05/01/2006, ACS-10/16/2006.
Banner Good Samaritan Bariatric Center, 1300 North 12th Street, Suite 610, Phoenix, AZ 85006 | N/A | 05/04/2006 | AZ | ASMBS.
Bothwell Regional Health Center, 601 East 14th Street, Sedalia, MO 65301 | N/A | 05/17/2006 | MO | ASMBS.
Durham Regional Hospital, 3643 N. Roxboro Road, Durham, NC 27704 | N/A | 05/17/2006 | NC | ASMBS.
Fairview Southdale Hospital, 6405 France Avenue Street, Suite W320, Edina, MN 55435 | N/A | 05/17/2006 | MN | ASMBS.
Cleveland Clinic, 9500 Euclid Avenue (A80), Cleveland, OH 44195 | 360180 | N/A | OH | 05/24/2006-ASMBS, 12/01/2006-ACS.
St. Agnes Healthcare, 900 Caton Avenue, Baltimore, MD 21229 | 210011 | 05/24/2006 | MD | ASMBS.
Sycamore Hospital, 2150 Leiter Road, Miamisburg, OH 45342 | 360239 | 05/24/2006 | OH | ASMBS.
Albany Medical Center, 47 New Scotland Avenue, Albany, NY 12208 | 330013 | 06/02/2006 | NY | ACS.
Georgetown Community Hospital, 1140 Lexington Road, Georgetown, KY 40324 | 180101 | 06/07/2006 | KY | ASMBS.
Fletcher Allen Health Care, 111 Colchester Avenue, Burlington, VT 05401 | N/A | 06/09/2006 | VT | Hospital: 470003, Group Provider: VN0997, ACS.
New York-Presbyterian Hospital/Columbia University Medical Center, 622 W. 168th Street, New York, NY 10032 | 330101 | 06/14/2006 | NY | ACS.
Providence Memorial Hospital, 2001 North Oregon Street, El Paso, TX 79902 | 450668 | 06/15/2006 | TX | ASMBS.
UT Southwestern University Hospitals-Zale Lipshy, 5909 Harry Hines Boulevard, Dallas, TX 75390 | 450766 | 06/19/2006 | TX | ASMBS.
Cedars-Sinai Medical Center, 8700 Beverly Boulevard, Los Angeles, CA 90048 | N/A | 06/20/2006 | CA | Thalians-2W, ACS.
Community Medical Center-Clovis, 2755 Herndon Avenue, Clovis, CA 93611 | 050492 | N/A | CA | ACS-06/26/2006, ASMBS-12/07/2006.
Oregon Health & Science University, 3181 SW. Sam Jackson Park Road L223A, Portland, OR 97239 | See other information | 06/27/2006 | OR | OHSU Medical Group-107708, OHSU Hospital-380009, ACS.
Hospital of the University of Pennsylvania, 3400 Spruce Street, 4 Silverstein, Philadelphia, PA 19104 | N/A | 07/06/2006 | PA | ASMBS.
Swedish Medical Center, 501 East Hampden Avenue, Englewood, CO 80113 | 060034 | 07/06/2006 | CO | ASMBS.
Blount Memorial Hospital, 907 East Lamar Alexander Parkway, Maryville, TN 37801 | 440011 | 07/11/2006 | TN | ASMBS.
University of Virginia Health System, P.O. Box 800809, Charlottesville, VA 22908-0809 | 490009 | 07/12/2006 | VA | ACS.
Sewickley Valley Hospital, 720 Blackburn Road, Sewickley, PA 15143 | 390037 | 07/13/2006 | PA | ASMBS.
The Christ Hospital, 2139 Auburn Avenue, Cincinnati, OH 45219 | 360163 | 07/17/2006 | OH | ASMBS.
Cabell Huntington Hospital, 1340 Hal Greer Boulevard, Huntington, WV 25701 | 510055 | 07/19/2006 | WV | ASMBS.
Mount Sinai Hospital, One Gustave L. Levy Place, 1190 5th Avenue, New York, NY 10029 | 330024 | 07/25/2006 | NY | ASMBS.
UMass Memorial Medical Center-Memorial Campus, 119 Belmont Street, Worcester, MA, 01605 | A22819 | 07/27/2006 | MA | ACS.
Henry Ford Hospital, 2799 West Grand Boulevard, Detroit, MI 48202 | N/A | 07/31/2006 | MI | ASMMBS.
Vista Surgical Hospital, 9094 Perkins Road, Suite B, Baton Rouge, LA 70810 | 230053 | 07/31/2006 | LA | ASMBS.
Town & Country Hospital, 6001 Webb Road, Tampa, FL 33615 | 100255 | 08/02/2006 | FL | ASMBS.
New York-Presbyterian Hospital/Weill Cornell Medical Center, 630 West 168th Street , New York, NY 10032 | 330101 | 08/04/2006 | NY | ACS.
Centinela Freeman Regional Medical Center, 4650 Lincoln Boulevard, Marin del Rey, CA 90292 | 050741 | 08/07/2006 | CA | ASMBS.
NYU Medical Center, 560 First Avenue, New York, NY 10016 | 330214 | 08/08/2006 | NY | ASMBS.
Regional West Medical Center, 4021 Avenue B, Scottsbluff, NE 69361 | 280061 | 08/08/2006 | NE | ASMBS.
Mercy Medical Center, 1000 North Village Avenue, Rockville Centre, NY 11570 | N/A | 08/10/2006 | NY | ASMBS.
Brigham and Women's Hospital, 75 Francis Street, Boston, MA 02115-6195 | M20830 | 08/14/2006 | MA | ACS.
St. Catherine of Sienna Medical Center, 48 Route 25A, Smithtown, NY 11787 | 316495 | 08/28/2006 | NY | ASMBS.
Highland Hospital, 1000 South Avenue, Rochester, NY 14620 | 330164 | 08/30/2006 | NY | ACS.
Inova Fair Oaks Hospital, 3600 Joseph Siewick Drive, Fairfax, VA 22033 | 490101 | 08/31/2006 | VA | ASMBS.
Our Lady of Lourdes Medical Center, 1600 Haddon Avenue, Camden, NJ 08104 | 613039 | 08/31/2006 | NJ | ASMBS.
FirstHealth Moore Regional Hospital, 155 Memorial Drive, Pinehurst, NC 27374 | 340115 | 09/01/2006 | NC | ASMBS.
Hamot Medical Center, 201 State Street, Erie, PA 16550 | 390063 | 09/01/2006 | PA | ASMBS.
St. Alexius Hospital—NewStart, 3933 South Broadway Street, St. Louis, MO 63118 | 260210 | 09/01/2006 | MO | ASMBS.
St. Catherine of Siena Medical Center, 50 Route 25A, Smithtown, NY 11787 | 316495 | 09/01/2006 | NY | ASMBS.
Barnes Jewish Hospital, One Barnes-Jewish Hospital Plaza, St. Louis, MO 63110 | 260032 | 09/06/2006 | MO | ASMBS.
Baptist Memorial Hospital Memphis, 6025 Walnut Grove Road, Memphis, TN 38120 | 440048 | 09/07/2006 | TN | ASMBS.
Norwalk Hospital, 24 Stevens Street, Norwalk, CT 06856 | 070034 | 09/07/2006 | CT | ASMBS.
North Shore University Hospital at Manhasset, 300 Community Drive, Manhasset, NY 11530 | 330106 | 09/08/2006 | NY | ASMBS.
St. Vincent's Medical Center, 2800 Main Street, Bridgeport, CT 06606 | 070028 | 09/08/2006 | CT | Level 3-Department of Surgery, ASMBS.
Faxton-St. Luke's Healthcare, 1656 Champlin Avenue, Utica, NY 13503 | 330044 | 09/14/2006 | NY | ASMBS.
St. Joseph's Hospital, 69 West Exchange, St. Paul, MN 55102 | N/A | 09/14/2006 | MN | ASMBS.
Johns Hopkins Bayview Medical Center, 4940 Eastern Avenue, Baltimore, MD 21224 | 210029 | 09/15/2006 | MD | ASMBS.
University Hospitals of Cleveland, 11100 Euclid Avenue, Cleveland, OH 44106 | N/A | 09/15/2006 | OH | ASMBS.
Yale-New Haven Hospital, 20 York Street, New Haven, CT 06510 | 070022 | 09/20/2006 | CT | ASMBS.
Avera McKennan Hospital, 800 East 21st Street, Box 5045, Sioux Falls, SD 57117-5045 | 430016 | 09/25/2006 | SD | ASMBS.
Memorial Hospital Jacksonville, 3625 University Boulevard South, Jacksonville, FL 32216 | 100179 | 09/26/2006 | FL | ASMBS.
Fountain Valley Regional Hospital, 17100 Euclid Street, Fountain Valley, CA 92708 | 050570 | 09/27/2006 | CA | ASMBS.
Sentara Norfolk General Hospital, 600 Gresham Drive, Norfolk, VA 23507 | 4900073 | 09/29/2006 | VA | ACS.
St. Mary's Medical Center, 450 Stanyan Street, San Francisco, CA 94117 | 050457 | 10/02/2006 | CA | ASMBS.
Trinity Medical Center, 800 Montclair Road, Birmingham, AL 35213 | 010104 | 10/03/2006 | AL | ASMBS.
MeritCare Health System, 720 4th Street North, Fargo, ND 58122 | 350011 | 10/11/2006 | ND | ASMBS.
St. Lukes's/Roosevelt, 1090 Amsterdam Avenue, New York, NY 10025 | 330046 | 10/11/2006 | NY | 10th Floor, ACS.
Benefis Healthcare, 1101 26th Street South, Great Falls, MT 59405 | 270012 | 10/13/2006 | MT | ASMBS.
Mason General Hospital, 901 Mountain View Drive, Shelton, WA 98584 | 501336 | 10/13/2006 | WA | ASMBS.
Norton Hospital, 200 East Chestnut, Louisville, KY 40202 | 180088 | 10/16/2006 | KY | ASMBS.
Port Huron Hospital, 1221 Pine Grove Avenue, Port Huron, MI 48060 | 230216 | 10/16/2006 | MI | ASMBS.
Harper University Hospital, 3990 John R. Street, Detroit, MI 48201 | 230104 | 10/17/2006 | MI | ASMBS.
St. Luke Hospital, 7380 Turfway Road, Florence, KY 41042 | 180045 | 10/18/2006 | KY | ASMBS.
Twelve Oaks Medical Center Hospital, 4200 Twelve Oaks Drive, Houston, TX 77027 | N/A | 10/18/2006 | TX | ASMBS.
Cleveland Clinic Florida, 3100 Weston Road, Weston, FL 33331-3602 | 100289 | 10/19/2006 | FL | ACS.
Grinnell Regional Medical Center, 210 Fourth Avenue, Grinnell, IA 50112 | N/A | 10/19/2006 | IA | Provider Numbers: Hospital: 160147, Surgical Group: 03108, ACS.
Conway Medical Services, 300 Singleton Ridge Road, Conway, SC 29528 | 420049 | 10/11/2006 | SC | ASMBS.
Alta Bates Medical Center, 350 Hawthorne Avenue, Oakland, CA 94609 | 050043 | 10/23/2006 | CA | ASMBS.
Massachusetts General Hospital, 55 Fruit Street, Boston, MA 02114-2696 | 220071 | 10/23/2006 | MA | ACS.
Mayo Clinic-Saint Mary's Hospital, 200 First Street SW., Rochester, MN 55905 | N/A | 10/23/2006 | MN | SMH: 24-0010, Part B General Medical: C01384, ACS.
Saint Francis Hospital, 6465 South Yale Avenue, #900, Tulsa, OK 74136 | 372308 | 10/23/2006 | OK | ACS.
Newton-Wellesley Hospital, 2014 Washington Street, Newton, MA 02462 | 220101 | 10/26/2006 | MA | ACS.
Mobile Infirmary Medical Center, 5 Mobile Infirmary Circle, Mobile, AL 36007 | 010113 | 10/27/2006 | AL | ASMBS.
Maine Medical Center, 22 Bramhall Street, Portland, ME 04102 | 200009 | 11/06/2006 | ME | ASMBS.
Magee Womens Hospital of UPMC, 3000 Halket Street, Pittsburgh, PA 15213 | 390114 | 11/13/2006 | PA | ASMBS.
Saint Francis Hospital and Medical Center, 114 Woodland Street, Hartford, CT 06105 | 070002 | 11/15/2006 | CT | ASMBS.
South Jersey Healthcare-Regional Medical Center, 1505 West Sherman Avenue, Vineland, NJ 08360 | 310032 | 11/20/2006 | NJ | ASMBS.
Overlook Hospital, 99 Beauvoir Avenue, Summit, NJ 07902 | 310051 | 11/21/2006 | NJ | Nursing Administration Office, ASMBS.
Cedars Medical Center, 1400 Northwest 12th Avenue, Miami, FL 33136 | 100009 | 11/23/2006 | FL | ASMBS.
Memorial Hermann Memorial City Hospital, 921 Gessner Road, Houston, TX 77024 | 450610 | 11/27/2006 | TX | ASMBS.
Tufts-New England Medical Center, 750 Washington Street, Boston, MA 02111 | 220116 | 11/27/2006 | MA | ASMBS.
Allegheny General Hospital, 320 East North Avenue, Pittsburgh, PA 15212 | 390050 | 11/30/2006 | PA | Fifth Floor, South Tower, ASMBS.
Northwest Medical Center, 2801 North State Road 7, Margate, FL 33063 | 100189 | 11/30/2006 | FL | ASMBS.
Potomac Hospital, 2300 Opitz Boulevard, Woodbridge, VA 22191 | 490113 | 11/30/2006 | VA | ASMBS.
Baptist Health Medical Center—Little Rock, 9601 I-630, Exit 7, Little Rock, AR 72205 | 040114 | 12/01/2006 | AR | ASMBS.
University of Washington Medical Center, 1959 NE. Pacific Street, P.O. Box 356151, Seattle, WA 98195-6151 | 1326002049 | 12/05/2006 | WA | ACS.
St. Luke's Regional Medical Center, 333 North 1st Street, Suite 120, Boise, ID 83702 | 130006 | 12/06/2006 | ID | ASMBS.
University of Alabama at Birmingham Hospital, 1530 3rd Avenue South, Kracke Building 404, Birmingham, AL 35294-0016 | 010033 | 12/07/2006 | AL | ACS.
Hackensack University Medical Center, 30 Prospect Avenue, Hackensack, NJ 07601 | 310001 | 12/08/2006 | NJ | ACS.
Hialeah Hospital, 651 East 25th Street, Hialeah, FL 33013 | 100053 | 12/13/2006 | FL | ASMBS.
Sts. Mary and Elizabeth Hospital, 1850 Bluegrass Avenue, Louisville, KY 40215 | 180040 | 12/15/2006 | KY | Bariatric Office, ASMBS.
Bon Secours Surgical Weight Loss-Maryview Medical Center, 3636 High Street, Portsmouth, VA 23707 | 490017 | 12/18/2006 | VA | ASMBS.
Pomerado Hospital, 15615 Pomerado Road, Poway, CA 92064 | 050636 | 12/18/2006 | CA | ASMBS.
Boston Medical Center, 88 E. Newton Street, D507-Department of Surgery, Boston, MA 02118 | 220031 | 12/19/2006 | MA | ACS.
Medcenter One, Inc., 300 North 7th Street, Bismarck, ND 58501 | 350015 | 12/19/2006 | ND | ASMBS.
Meriter Hospital, 202 South Park Street, Madison, WI 53715 | 520089 | 12/19/2006 | WI | ASMBS.
University of Wisconsin Hospital & Clinics, 600 Highland Avenue, Madison, WI 53792 | 520098 | 12/19/2006 | WI | ASMBS.
Women and Children's Hospital, 4200 Nelson Road, Lake Charles, LA 70605 | 190201 | 12/19/2006 | LA | ASMBS.
Mount Carmel West Hospital, 793 West State Street, Columbus, OH 43222 | 360035 | 12/20/2006 | OH | ASMBS.
Southcoast Hospitals Group-Tobey Hospital, 43 High Street, Wareham, MA 02571 | 220074 | 12/21/2006 | MA | ASMBS.
Carilion Roanoke Memorial Hospital, 1906 Belleview Avenue, Roanoke, VA 24014 | N/A | 12/26/2006 | VA | ASMBS.
Mercy General Health Partners, 1500 Sherman Boulevard, Muskegon, MI 49444 | 230004 | 12/26/2006 | MI | ASMBS.
Mountainside Hospital, 1 Bay Avenue, Montclair, NJ 07042 | 310054 | 12/26/2006 | NJ | ASMBS.
Park Plaza Hospital, 1313 Hermann Drive, Houston, TX 77004 | 450659 | 01/09/2007 | TX | ASMBS.
Renaissance Hospital Houston, 2807 Little York, Houston, TX 77093 | 450795 | 01/12/2007 | TX | ASMBS.
Penn State Milton S. Hershey Medical Center, 500 University Drive, Hershey, PA 17033 | 390256 | 01/18/2007 | PA | ASMBS.
Shawnee Mission Medical Center, 9100 West 74th Street, Shawnee Mission, KS 66204 | 170104 | 01/24/2007 | KS | ASMBS.
Morristown Memorial Hospital, 100 Madison Avenue, Morristown, NJ 07962 | 31-0015 | 01/25/2007 | NJ | ACS.
Alvarado Hospital, 6655 Alvarado Road, San Diego, CA 92120 | 050583 | 01/26/2007 | CA | Alvarado Surgical Weight-Loss Program, ASMBS.
St. Francis Hospital, 7th and Clayton Streets, Wilmington, DE 19805 | 080003 | 01/29/2007 | DE | ASMBS.
Sacred Heart Medical Center, 101 West 8th Avenue, Spokane, WA 99220 | 500054 | 02/05/2007 | WA | ASMBS.
Ochsner Clinic Foundation, 1514 Jefferson Highway, New Orleans, LA 70121 | 190036 | 02/06/2007 | LA | ASMBS.
Northwest Specialty Hospital, 1593 East Polston Avenue, Post Falls, ID 83854 | 130066 | 02/07/2007 | ID | ASMBS.
Sacred Heart Hospital, 421 Chew Street, Allentown, PA 18102 | 390197 | 02/07/2007 | PA | ASMBS.
Rio Grande Regional Hospital, 101 East Ridge Road, McAllen, TX 78503 | 450711 | 02/12/2007 | TX | ASMBS.
Gundersen Lutheran Medical Center, 1900 South Avenue, La Crosse, WI 54601 | 520087 | 02/13/2007 | WI | ASMBS.
Kettering Medical Center, 3535 Southern Boulevard, Kettering, OH 45429 | 360079 | 02/16/2007 | OH | ASMBS.
Beth Israel Deaconess Medical Center, 330 Brookline Avenue, Boston, MA 02215 | N/A | 02/17/2006 | MA | ACS.
Shady Grove Adventist Hospital, 9901 Medical Center Drive, Rockville, MD 20850 | 210057 | 02/19/2007 | MD | ASMBS.
Pitt County Memorial Hospital, 2100 Stantonsburg Road, Greenville, NC 27835 | 340040 | 02/20/2007 | NC | ASMBS.
St. Cloud Hospital, 1406 Sixth Avenue, North, St. Cloud, MN 56303 | 240036 | 02/23/2007 | MN | ASMBS.
Virginia Mason Medical Center, 1100 Ninth Avenue, Seattle, WA 98101 | 500005 | 03/01/2007 | WA | ASMBS.
Southeast Georgia Health System, 2415 Parkwood Drive, Brunswick, GA 31520 | 110025 | 03/06/2007 | GA | ASMBS.
Baystate Medical Center, 759 Chestnut Street, Springfield, MA 01199 | 220077 | 03/13/2007 | MA | ACS.
PinnacleHealth Community Campus, 4300 Londonderry Road, c/o P.O. Box 8700, Harrisburg, PA 17109 | 390067 | 03/29/2007 | PA | ASMBS.
The Valley Hospital, 223 North Van Dien Avenue, Ridgewood, NJ 07450 | 310012 | 03/30/2007 | NJ | ASMBS.
Charleston Area Medical Center, 800 Pennsylvania Avenue, Charleston, WV 25302 | 510022 | 04/16/2007 | WV | ASMBS.
Presbyterian Hospital of Dallas, 8200 Walnut Hill Lane, Dallas, TX 75231 | 450462 | 04/16/2007 | TX | ASMBS.
Dekalb Medical Center, 2701 North Decatur Road, Decatur, GA 30033 | 110076 | 04/26/2007 | GA | ASMBS.
St. Francis Health Center, 1700 SW. 7th Street, Topeka, KS 66606 | 170016 | 04/26/2007 | KS | ASMBS.
St. Mark's Hospital, 1200 East 3900 South, Salt Lake City, UT 84124 | 47007 | 04/26/2007 | UT | ASMBS.
Faulkner Hospital, 1153 Centre Street, Boston, MA 02130 | 220119 | 04/27/2007 | MA | ACS.
George Washington University Hospital, 900 23rd Street NW., Washington, DC 20037 | 090001 | 08/14/2006 | DC | ASMBS.
William Beaumont Hospital—Royal Oak, 3601 West Thirteen Mile Road, Royal Oak, MI 48073-6769 | 230130 | 04/20/2007 | MI | ACS.
University Medical Center at Princeton, 253 Witherspoon Street, Princeton, NJ 08542 | N/A | 02/24/2006 | NJ | ASMBS.
Del Sol Medical Center, 10201 Gateway West, Suite 130, El Paso, TX 79925 | 45-0646 | 05/03/2007 | TX | ACS
Winchester Hospital, 41 Highland Avenue, Winchester, MA 01890 | 220105 | 05/31/2007 | MA | ASMBS.
Lawrence Memorial Hospital—Hallmark Health System, 170 Governors Avenue, Medford, MA 02155 | 220070 | 05/31/2007 | MA | ASMBS.
The Methodist Hospital, 6565 Fannin, NB1-001, Houston, TX 77030 | 450358 | 03/22/2007 | TX | ACS
ValleyCare Health System, 1111 East Stanley Boulevard, Livermore, CA 94550 | 050283 | 06/07/2007 | CA | ASMBS.
The Presbyterian Hospital, 200 Hawthorne Lane, Charlotte, NC 28204 | 340053 | 06/06/2007 | NC | ASMBS.
Nix Hospital, 414 Navarro Street, San Antonio, TX 78205 | 450130 | 06/08/2007 | TX | ASMBS.
Huntsville Hospital, 101 Sivley Road, Huntsville, AL 35801 | 010039 | 05/11/2007 | AL | ASMBS.
The Jewish Hospital, 4777 Galbraith Road, Cincinnati, OH 45236 | 360016 | 06/07/2007 | OH | ASMBS.
UCI Medical Center, 101 The City Drive South, Orange, CA 92868 | 050348 | 05/25/2007 | CA | ACS.
Kaiser Permanente Medical Center Richmond, 901 Nevin Avenue, Richmond, CA 94801 | 050075 | 05/24/2007 | CA | ACS.
Green Hospital, 12395 El Camino Real, San Diego, CA 92130 | 050424 | 06/21/2007 | CA | ASMBS.
Sutter Roseville Medical Center, One Medical Plaza, Roseville, CA 95661 | 050309 | 06/22/2007 | CA | ASMBS.
Munroe Regional Medical Center, 1500 Southwest 1st Avenue, Ocala, FL 34471 | 100062 | 06/05/2007 | FL | ASMBS.
Enloe Medical Center, 251 Cohasset Road, Chico, CA 95926 | 050039 | 06/11/2007 | CA | ASMBS.
St. Francis Hospital & Health Centers, 1600 Albany Street, Beech Grove, IN 46107 | 150033 | 06/15/2007 | IN | ASMBS.
Southern Surgical Hospital, 1700 West Lindberg Drive, Slidell, LA 70458 | 190270 | 06/21/2007 | LA | ASMBS.
Creighton University Medical Center, 601 North 30th Street, Omaha, NE 68131 | 280030 | 06/20/2007 | NE | ASMBS.
Peninsula Regional Medical Center, 100 East Carroll Street, Salisbury, MD 21801 | 210019 | 06/20/2007 | MD | ASMBS.
Wadley Regional Medical Center, 1000 Pine Street, Texarkana, TX 75501 | 450200 | 06/08/2007 | TX | ASMBS.
Vista Medical Center Hospital, 4301 Vista Road, Pasadena, TX 77504 | 450831 | 06/22/2007 | TX | ASMBS.
St. David's Medical Center, 919 East 32nd Street, Austin, TX 78705 | 450531 | 06/22/2007 | TX | ASMBS.
Sanford USD Medical Center, 1305 West 18th Street, Sioux Falls, SD 57117 | 430027 | 01/17/2006 | SD | ASMBS.
Weight Loss Surgery Program at Baylor, 3600 Gaston Avenue, Suite 360 Wadley Tower, Dallas, TX 75246 | N/A | 06/20/2007 | TX | ASMBS.
Shelby Baptist Medical Center, 1000 First Street N., Alabaster, AL 35007 | 010016 | 05/18/2007 | AL | ACS.
Lehigh Valley Hospital and Health Network, Cedar Crest & I-78, P.O. Box 689, Allentown, PA 18105-1556 | 390133 | 05/29/2007 | PA | ACS.
West Hills Hospital, 7300 Medical Center Drive, West Hills, CA 91307 | 050481 | 06/27/2007 | CA | ASMBS.
Adirondack Medical Center, 2233 State Route 86, Saranack Lake, NY 12983 | 330079 | 06/26/2007 | NY | ASMBS.
Middletown Regional Hospital, 105 McKnight Drive, Middletown, OH 45044 | 360076 | 06/25/2007 | OH | ASMBS.
Kaleida Health, Buffalo General, 100 High Street, Buffalo, NY 14203 | 300005 | 06/25/2007 | NY | ASMBS.
Miami Valley Hospital, One Wyoming Street, Dayton, OH 45409 | N/A | 06/25/2007 | OH | ASMBS.
Minimally Invasive Surgery Hospital, 11217 Lakeview Avenue, Lenexa, KS 66219 | N/A | 06/25/2007 | KS | ASMBS.
Saint Agnes Medical Center, 1303 E. Herndon Avenue, Fresno, CA 93720 | 05-0093 | 07/24/2007 | CA | ASMBS.
Sartori Memorial Hospital, 515 College Street, Cedar Falls, IA 50613 | 160040 | 07/17/2007 | IA | ASMBS.
Maimonides Medical Center, 948 48th Street, 2nd floor, Brooklyn, NY 11219 | 33-0194 | 07/10/2007 | NY | ASMBS.
Westchester Medical Center, 95 Grasslands Road, Valhalla, NY 10595 | 330234 | 07/17/2007 | NY | ASMBS.
Deaconess Hospital, 311 Straight Street, Cincinnati, OH 45219 | 36-0038 | 07/17/2007 | OH | ASMBS.
Northern Ohio Bariatric Center at Parma Hospital, 6305 Powers Boulevard, Parma, OH 44129 | 360041 | 07/10/2007 | OH | ASMBS.
Einstein at Elkins Park, 60 E. Township Line Road, Elkins Park, PA 19027 | 390142 | 07/10/2007 | PA | ASMBS.
Lahey Clinic Medical Center, 41 Mall Road, Burlington, MA 01805 | 220171 | 06/22/2007 | MA | ACS.
St. Francis Hospital, 34515 Ninth Ave South, Federal Way, WA 98003 | 500141 | 07/26/2007 | WA | ACS.
California Foundation for Health, 1401 Garces Highway, Delano, CA 93215 | 050608 | 07/10/2007 | CA | d.b.a. Delano Regional Medical Center; ASMBS.
Northeast Alabama Regional Medical Center, 400 East 10th Street, Anniston, AL 36207 | 010078 | 07/30/2007 | AL | ASMBS.
Trinity Medical Center, 4343 N. Josey Lane, Carrollton, TX 75010 | 45-0730 | 07/30/2007 | TX | ASMBS.
Gratiot Medical Center, 300 E. Warwick Drive, Alma, MI 48801 | 23-0030 | 07/30/2007 | MI | ASMBS.
Cuyuna Regional Medical Center, 320 East Main Street, Crosby, MN 56441 | 241353 | 08/20/2007 | MN | ASMBS.
Valley Medical Center, 400 South 43rd Street, Renton, WA 98055 | 500088 | 07/30/2007 | WA | ASMBS.
Renaissance Hospital Dallas, 427 W. 20th Street, Suite 300, Houston, TX 77008 | 670002 | 08/08/2007 | TX | ASMBS.
UPMC Presbyterian Shadyside, 5230 Centre Avenue, Pittsburgh, PA 15232 | 39-0114 | 08/20/2007 | PA | ASMBS.
Clarian North Medical Center, 6625 Network Way, Suite 100, Indianapolis, IN 46202 | 15-0161 | 08/20/2007 | IN | ASMBS.
Genesis Medical Center, 1227 East Rusholme Street, Davenport, IA 52803 | 160033 | 08/08/2007 | IA | ASMBS.
University General Hospital, 7501 Fannin Street, Houston, TX 77054 | 670019 | 08/08/2007 | TX | ASMBS.
Ellis Hospital, 1101 Nott Street, Schenectaday, NY 12308 | 330153 | 06/19/2007 | NY | ASMBS.
University of Texas Medical Branch, 301 University Boulevard, Galveston, TX, 77555-1168 | 450018 | 08/16/2007 | TX | ACS.
UPMC Presbyterian Shadyside, 5230 Centre Avenue, Pittsburgh, PA 15232 | 39-0114 | 08/20/2007 | PA | ABMS.
Christiana Care Health Services, 4755 Ogletown—Stanton Road, Newark, DE 19718 | 080001 | 08/29/2007 | DE | ASMBS.
Stanford Hospital and Clinics, 300 Pasteur Drive, Stanford, CA 94305 | 050441 | 09/13/2007 | CA | ACS.
Summa Health Systems Hospital, 95 Arch Street, Suite 240, Akron, OH 44304 | 360020 | 09/21/2007 | OH | ASMBS.
Memorial Regional Hospital, 3500 Johnson Street, Hollywood, FL 33021 | 100038 | 09/11/2007 | FL | ASMBS.
Temple University Hospital, 3401 North Broad Street, Philadelphia, PA 19140 | 390027 | 09/21/2007 | PA | ASMBS.
Good Samaritan Hospital, 2425 Samaritan Drive, San Jose, CA 95124 | 50380 | 09/21/2007 | CA | ASMBS.
Johnson City Medical Center, 400 North State of Franklin Road, Johnson City, TN 37604 | HSP440063 | 09/27/2007 | TN | ASMBS.
Providence Saint Joseph Medical Center, 201 South Buena Vista Street, Suite 425 , Burbank, CA 91505 | 50235 | N/A | CA | ASMBS—09/17/2007; ACS—09/05/2007.
Baptist Bariatric Center of Excellence, 1000 West Moreno Street, Pensacola, FL 32501 | 10-0093 | 09/27/2007 | FL | ASMBS.
Hillcrest Hospital, 2104 Woodruff Road, Greenville, SC 29607 | 43-0037 | 10/10/2007 | SC | ASMBS.
Fairway Medical, 67252 Industry Lane, Covington, LA 70433 | 190267 | 10/10/2007 | LA | ASMBS.
John T. Mather Memorial Hospital, 75 North Country Road, Port Jefferson, NY 11777 | JTM 33-0185 | 10/10/2007 | NY | ASMBS.
Lenox Hill Hospital, 110 East 59th Street, Suite 8A, New York, NY 10022 | 10003F8 | 10/10/2007 | NY | ASMBS.
Easton Hospital, 250 South 21st Street, Easton, PA 18042 | 390162 | 10/10/2007 | PA | ASMBS.
Medical City Dallas Hospital, 7777 Forest Lane, Suite 240A, Dallas, TX 75230 | 000340 | 10/10/2007 | TX | ASMBS.
St Vincent's East, 50 Medical Park East Drive, Birmingham, AL 35235 | 010011 | 10/10/2007 | AL | ASMBS.
Northside Hospital, 1000 Johnson Ferry Road, Atlanta, GA 30342 | 11-0161 | 10/10/2007 | GA | ASMBS.
Missouri Bariatric Services, 1000 W. Nifong Boulevard, Building 2, Suite 210, Columbia, MO 65203 | 000011108 | 10/10/2007 | MO | ASMBS.
Presbyterian Hospital of Plano, 6200 West Parker Road, Plano, TX 75093 | 45-0771 | 10/10/2007 | TX | ASMBS.
Norton Suburban Hospital, 315 East Broadway, Louisville, KY 40202 | 180088 | 10/10/2007 | KY | ASMBS.
Sky Ridge Medical Center, 10101 RidgeGate Parkway, Lone Tree, CO 80124 | 060112 | 10/30/2007 | CO | ASMBS.
St. Mary Medical Center, 1050 Linden Avenue, Long Beach, CA 90813 | 050191 | 10/30/2007 | CA | ASMBS.
Scott and White Hospital, 2401 S. 31st Street, Temple, TX 76508 | 450054 | 10/24/2007 | TX | ACS.
The Methodist Hospitals, Inc., 303 East 89th Avenue, Merrillville, IN 46410 | 150132 | 10/30/2007 | IN | ASMBS.
Parkview Community Hospital, 3865 Jackson Street, Riverside, CA 92503 | 050102 | 10/30/2007 | CA | ASMBS.
Evergreen Hospital, 12040 NE. 128th Street, Kirkland, WA 98034 | 500124 | 10/30/2007 | WA | ASMBS.
University of Maryland, Medical Center, 22 South Greene Street, Baltimore, MD, 21201-1595 | 21002 | 11/05/2007 | MD | ACS.
Montefiore Medical Center, 111 East 210th Street, Bronx, NY 10467 | 330059 | 11/07/2007 | NY | Group #: 330059, Dr. Karen Gibbs #: 140341, Dr. Pratibha Vemulapalli #: 3097H1;, ACS.
Emory Crawford Long Hospital, 1364 Clifton Road, NE., Atlanta, GA 30322 | 110078 | 11/13/2007 | GA | ACS.
El Camino Hospital, 2500 Grant Road, Mountain View, CA 94039 | 050308 | 11/19/2007 | CA | ASMBS.
Northeast Baptist Hospital, 8811 Village Drive, San Antonio, TX 78217 | 450058 | 11/19/2007 | TX | ASMBS.
University of Iowa, Hospitals and Clinics, 4624 JCP Bariatric Surgery, Iowa City, IA 52242 | 160058 | 11/19/2007 | IA | ASMBS.
El Camino Hospital, 2500 Grant Road, Mountain View, CA, 94039 | 050308 | 11/19/2007 | CA | ASMBS.
Aspirus Wausau Hospital, 333 Pineridge Boulevard, Wausau, WI 54401 | 52-0030 | 11/28/2007 | WI | ASMBS.
Eastern Idaho Regional Medical Center, 2860 Channing Way, Suite 102, Idaho Falls, ID 83404 | 13-0018 | 12/10/2007 | ID | ASMBS.
Mount Sinai Medical Center, 4701 North Meridian Avenue, Miami Beach, FL 33140 | 10-0034 | 12/11/2007 | FL | ASMBS.
North Florida Regional Medical Center, 6400 Newberry Road Suite 106, Gainesville, FL 32605 | 21536 | 12/27/2007 | FL | ASMBS.
Baylor Regional Medical Center at Plano, 470 Alliance Boulevard, Plano, TX 75093 | 45-0890 | 01/04/2008 | TX | ASMBS.
Memorial Medical Center, 1800 Coffee Road, Suite 30, Modesto, CA 95350 | 050557 | 01/04/2008 | CA | ASMBS.
Pennsylvania Hospital, 800 Spruce Street, 2 Cathcart, Philadelphia, PA 19107 | 39-0226 | 01/08/2008 | PA | ASMBS.
Houston Northwest Medical Center, 710 FM 1960 Road West, Houston, TX 77090 | 450638 | 01/08/2008 | TX | ASMBS.
St. Bernadine Medical Center, 2101 North Waterman Avenue, San Bernadino, CA 92404 | 05-0129 | 01/04/2008 | CA | ASMBS.
UCLA Medical Center, 10833 Le Conte Avenue, CHS 72-236, Los Angeles, CA 90095 | 050262 | 01/08/2008 | CA | ASMBS.
Lourdes Medical Center Burlington County, 218-A Sunset Road, Willingboro, NJ 08046 | 310061 | 01/30/2008 | NJ | ASMBS.
Sacred Heart Medical Center, 1200 Hilyard Street, Suite S-570, Eugene, OR 97401 | 380033 | 01/23/2008 | OR | ASMBS.
Salt Lake Regional Medical Center, 1050 East South Temple, Salt Lake City, UT 84102 | 460003 | 02/11/2008 | UT | ASMBS.
Kaiser Permanente-South San Francisco, 1200 El Camino Real, South San Francisco, CA 94080 | 050070 | 01/30/2008 | CA | ASMBS.
Chilton Memorial Hospital , 97 West Parkway, Pompton Plains, NJ 07444 | 310017 | 02/12/2008 | NJ | ASMBS.
Mary Imogene Bassett Hospital, One Atwell Road, Cooperstown, NY 13326 | 330136 | 02/12/2008 | NY | ASMBS.
Sharp Memorial Hospital, 7901 Frost Street, 5 South/ACC, San Diego, CA 92123 | 0150100 | 02/11/2008 | CA | ASMBS.
Doctors Hospital at White Rock Lake, 9440 Poppy Drive, Dallas, TX 75218 | 450678 | 01/30/2008 | TX | ASMBS.
Rhode Island Hospital, 2 Dudley Street, Suite 470, Providence, RI 02905 | 410007 | 02/25/2008 | RI | ASMBS.
Munson Medical Center, 1105 Sixth Street, Traverse City, MI 49684 | 23-0097 | 02/19/2008 | MI | ASMBS.
DayOne Health at 900 N. Michigan Surgical Center, 409 West Huron, Suite 300, Chicago, IL 60613 | 538810 | 02/19/2008 | IL | ASMBS.
USC University Hospital, 1500 San Pablo, Los Angeles, CA 90033 | 05-0696 | 01/30/2008 | CA | ASMBS.
Lexington Medical Center, 2720 Sunset Boulevard, West Columbia, SC 29169-4810 | See other information | 01/14/2008 | SC | ACS; NPI: Hospital Services 1356366314; Professional Services 1144248097.
Saint Clare's Hospital, 400 West Blackwell Street, Dover, NJ 07801 | 310050 | 03/17/2008 | NJ | ASMBS.
Hartford Hospital, 85 Seymour Street, Suite 415, Hartford, CT 06106 | 07-0025 | 03/25/2008 | CT | ASMBS.
Singing River Hospital, 2809 Denny Avenue, Pascagoula, MS 39581 | 250040 | 03/17/2008 | MS | ASMBS.
St. John's Regional Health Center, 1235 East Cherokee Street, Springfield, MO 65804 | 260065 | 03/17/2008 | MO | ASMBS.
Willis Knighton Health System, 2551 Greenwood Road, Suite 340, Shreveport, LA 71103 | 190111 | 03/17/2008 | LA | ASMBS.
Cottage Health System, P.O. Box 689 Pueblo at Bath Street, Santa Barbara, CA 93102-0689 | 030596 | 02/25/2008 | CA | ASMBS.
Syosset Hospital, 221 Jericho Turnpike, Syosset, NY 11791 | 330106 | 02/19/2008 | NY | ASMBS.
The Hospital of Central Connecticut, 1000 Grand Street, New Britain, CT 06050 | 070035 | 03/11/2008 | CT | ASMBS.
Stringfellow Memorial Hospital, 105 Windsor Lane, Rainbow City, AL 35906 | 01-0038 | 03/11/2008 | AL | ASMBS.
Providence Alaska Medical Center, 3200 Providence Drive, Anchorage, AK 99519-6604 | 02-0001 | 03/17/2008 | AK | ASMBS.
The Reading Hospital and Medical Center, 2603 Keiser Boulevard, Wyomissing, PA 19610 | 390044 | 03/25/2008 | PA | ASMBS.
Good Samaritan Hospital, 255 Lafayette Avenue, Suffern, NY 10901 | 330158 | 03/25/2008 | NY | ASMBS.
San Joaquin Community Hospital, 2819 H Street, Bakersfield, CA 93301 | 04055 | 04/01/2008 | CA | ASMBS.
Lowell General Hospital, 295 Varnum Avenue, Lowell, MA 01854 | N/A | 02/22/2008 | MA | Medicare: 220063; Medicaid Inpatientt #: 100228; Medicaid Outpatient #: 1201069; ACS
Memorial Health University Medical Center, 4700 Waters Avenue, Savannah, GA 31404 | 11-0036 | 04/08/2008 | GA | ASMBS.
Christiana Care Health Services, 3506 Kennett Pike, Wilmington, DE 19807 | 080001 | 04/18/2008 | DE | ACS.
Abington Memorial Hospital, 1235 Old York Road, Suite G-28, Abington, PA 19001 | 390231 | 04/21/2008 | PA | ASMBS.
Gateway Medical Center, 1771 Madison Street, Clarksville, TN 37043 | 440035 | 04/21/2008 | TN | ASMBS.
Westchester Medical Center, 95 Grasslands Road, Valhalla, NY 10595 | W94181 | 04/07/2008 | NY | ACS.
High Point Regional Health System, 601 N. Elm Street, High Point, NC 27261 | 34-0004 | 05/02/2008 | NC | ACS.
Desert Regional Medical Center, 1150 North Indian Canyon Drive, Palm Springs, CA 92262 | 05-0243 | 05/12/2008 | CA | ASMBS.
Southwest General Hospital, 7400 Barlite Boulevard, San Antonio, TX 78224 | 450697-A | 05/22/2008 | TX | ASMBS.
Muhlenberg Regional Medical Center, Park Avenue and Randolph Road, Plainfield, NJ 07061 | 310063 | 06/02/2008 | NJ | ASMBS.
St. Mary's Medical Center, 407 East 3rd Street, Duluth, MN 55805 | 240002 | 06/09/2008 | MN | ASMBS.
St. Charles Medical Center—Bend, 2500 NE. Neff Road, Bend, OR 97701 | 380047 | 06/30/2008 | OR | ASMBS.
Bay Area Hospital, 1775 Thompson Road, Coos Bay, OR 97420 | 380090 | 06/30/2008 | OR | ASMBS.
Saint Elizabeth Regional Medical Center, 555 South 70th Street, Lincoln, NE 68510 | 280020 | 07/21/2008 | NE | ASMBS, 6th Floor Surgical Unit.
Holston Valley Medical Center, 130 Ravine Street, Kingsport, TN 37660 | 44-0017 | 07/29/2008 | TN | ASMBS.
Holy Cross Hospital, 1500 Forest Glen Road, Silver Spring, MD 20910 | 210004 | 07/29/2008 | MD | ACS.
North Carolina Baptist Hospital, Medical Center Boulevard, Winston Salem, NC 27157 | 340047 | 07/29/2008 | NC | ASMBS.
Flagler Hospital, 400 Health Park Boulevard, St. Augustine, FL 32086 | 100090 | 07/31/2008 | FL | ASMBS.
Torrance Memorial Medical Center, 3330 Lomita Boulevard, Torrance, CA 90505 | 05-0351 | 08/02/2008 | CA | ASMBS.
St. John Macomb-Oakland Hospital, 27483 Dequindre Road, Madison Heights, MI 48701 | 230195 | 08/07/2008 | MI | ASMBS, Suite 204.
Nebraska Methodist Hospital, 10060 Regency Circle, Omaha, NE 68114 | 280040 | 08/07/2008 | NE | ASMBS.
Marquette General Hospital, 580 West College Avenue, Marquette, MI 49855 | 23-0054 | 08/07/2008 | MI | ASMBS.
Sacred Heart Hospital, 5149 North 9th Avenue, Suite G-32, Pensacola, FL 32504 | 100025 | 08/19/2008 | FL | ASMBS.
Central Mississippi Medical Center, 1850 Chadwick Drive, Jackson, MS 39204 | 250072 | 08/26/2008 | MS | ASMBS.
Vista Hospital of Dallas, 2696 West Walnut Street, Garland, TX 75042 | 450315 | 08/26/2008 | TX | ASMBS.
St. Alexius Medical Center, 1555 Barrington Road, Hoffman Estates, IL 60169 | 14-0290 | 08/26/2008 | IL | ASMBS.
Alexian Brothers Medical Center, 800 Biesterfield Road, Elk Grove Village, Illinois 60007 | 14-0290 | 08/26/2008 | IL | ASMBS, 6th Floor.
Alegent Health Immanuel Medical Center, 6828 North 72nd Street, Suite 5500, Omaha, NE 68122 | 280081 | 08/29/2008 | NE | ASMBS.
MountainView Hospital, 3100 North Tenya Way, Las Vegas, NV 89128 | 290039 | 09/03/2008 | NV | ASMBS.
Southwest Washington Medical Center, 400 NE. Mother Joseph Place, Vancouver, WA 98664 | 500050 | 09/08/2008 | WA | ASMBS.
JFK Medical Center, 5301 South Congress Avenue, Atlantis, FL 33462 | 100080 | 09/18/2008 | FL | ASMBS.
McLaren Regional Medical Center, 401 South Ballenger Highway, Flint, MI 48532 | 230141 | 09/24/2008 | MI | ASMBS.
Cheyenne Regional Medical Center, 2301 House Avenue, Suite 500, Cheyenne, WY 82001 | 530014 | 09/24/2008 | WY | ASMBS.
St. Mary Mercy Hospital, 14555 Levan Road, Suite 311, Livonia, MI 48154 | 12200126 | 09/25/2008 | MI | ASMBS.
Altru Health System, 1000 South Columbia Road, Grand Forks, ND 58206 | 350019 | 09/25/2008 | ND | ASMBS.
Lutheran Hospital of Indiana Bariatric Center, 7836 West Jefferson, Suite 101, Ft. Wayne, IN 46804 | 150017 | 09/25/2008 | IN | ASMBS.
Seton Medical Center, 1201 West 38th Street, Austin, TX 78705 | 450056 | 09/25/2008 | TX | ASMBS.
St. Elizabeth and St. Joseph Surgical, 452 Broadway Street, Youngstown, OH 44504 | 36-0161 | 09/25/2008 | OH | ASMBS.
Henry Ford Macomb Hospital—Warren Campus, 13355 East 10 Mile Road, Warren, MI 48089 | 230204 | 10/07/2008 | MI | ASMBS.
Saint Alphonsus Regional Medical Center, 1055 North Curtis Road, Boise, ID 83706 | 130007 | 10/07/2008 | ID | ASMBS.
Riverside Methodist Hospital, 3535 Olentangy River Road, Columbus, OH 43214 | 36-0006 | 10/21/2008 | OH | ASMBS.
Lawrence Hospital Center, 55 Palmer Avenue, Bronxville, NY 10708 | 330061 | 11/05/2008 | NY | ACS.
Winthrop University Hospital, 120 Mineola Boulevard, Suite 320, Mineola, NY 11501 | 330167 | 11/10/2008 | NY | ASMBS.
St. John's Regional Medical Center, 1700 North Rose Avenue, #380, Oxnard, CA 93030 | 050082 | 12/02/2008 | CA | ASMBS.
Floyd Medical Center, P.O. Box 233, Rome, GA 30162 | 110054 | 01/07/2009 | GA | ASMBS.
Hazleton General Hospital, 700 East Broad Street, Hazleton, PA 18201 | 390185 | 04/20/2009 | PA | ASMBS.
Memorial Hermann Texas Medical Center, 6411 Fannin Street, Houston, TX 77030 | 45-0068 | 01/29/2009 | TX | ACS.
Mercy Medical Center, 1111 6th Avenue, Des Moines, IA 50314-9906 | 160083 | 01/28/2009 | IA | ASMBS.
Northwest Medical Center, 1980 W. Hospital Drive, Suite 200, Tucson, AZ 85741 | 03-0085 | 04/06/2009 | AZ | ASMBS.
Plaza Medical Center of Fort Worth, 900 8th Avenue, PAT-Bariatrics, Ft. Worth, TX 76104 | 450672 | 03/20/2009 | TX | ASMBS.
SUNY Upstate Medical University, 750 E. Adams Street, University Hospital, Syracuse, NY 13210 | NPI #: 1578554630 | 03/27/2009 | NY | ACS; General Acute Care Hospital Number: 330241.
Winchester Medical Center Bariatric Program, 1840 Amherst Street, Winchester, VA 22601 | 490005 | 03/20/2009 | VA | ASMBS.
Vanderbilt University Medical Center, 1215 21st Avenue South, Nashville, TN 37232 | 1952356065 | 05/05/2009 | TN | ACS.
Mother Frances Regional Medical Center, 910 East Houston Street, Suite 550, Tyler, TX 75702 | 450102 | 05/07/2009 | TX | ASMBS.
Sparrow Health System, 2900 Hannah Boulevard, Suite B-107, East Lansing, MI 48823 | 230230 | 05/15/2009 | MI | ASMBS.
First Street Hospital, 4801 Bissonnet Street, Bellaire, TX 77401 | 67009 | 05/18/2009 | TX | ASMBS.
Good Samaritan Hospital Medical Center, 1000 Montauk Highway, West Islip, NY 11795 | 330286 | 05/18/2009 | NY | ASMBS.
St. Joseph Hospital, 1100 West Stewart Drive, Orange, CA 92868 | 050069 | 05/18/2009 | CA | ASMBS.
Borgess Medical Center, 1521 Gull Road, Kalamazoo, MI 49048 | 23-0117 | 05/28/2009 | MI | ASMBS.
UT Southwestern Medical Center, 5909 Harry Hines Boulevard, Dallas, TX 75235 | 45-0044 | 05/28/2009 | TX | ACS.
Brookdale University Hospital/Medical Center, 1 Brookdale Plaza, New York, NY 11212 | 33-0233 | 06/05/2009 | NY | ASMBS.
Des Peres Hospital, 2345 Dougherty Ferry Road, St. Louis, MO 63122 | 75-269-5810 | 06/05/2009 | MO | ASMBS.
Surgical Weight Loss Program at Eastern Maine, Medical Center, 905 Union Street, Suite 11, Bangor, ME 4401 | 1790789147 | 06/10/2009 | ME | ACS.
Baylor Medical Center at Frisco, 5601 Warren Parkway, Frisco, TX 75034 | 450853 | 06/22/2009 | TX | ASMBS.
Trinity Hospital of Augusta, 1500 Johns Road, Suite 3, Augusta, GA 30904 | 110039 | 06/29/2009 | GA | ASMBS.
The Nebraska Medical Center, 988142 Nebraska Medical Center, Omaha, NE 68198-8142 | 28-0013 | 06/29/2009 | NE | ASMBS.

Addendum XVI—FDG-PET for Dementia and Neurodegenerative Diseases Clinical Trials

In a National Coverage Determination for fluorodeoxyglucose positron emission tomography (FDG-PET) for Dementia and Neurodegenerative Diseases (220.6.13) we indicated that an FDG-PET scan is considered reasonable and necessary in patients with mild cognitive impairment or early dementia only in the context of an approved clinical trial that contains patient safeguards and protections to ensure proper administration, use, and evaluation of the FDG-PET scan.

Facility name | Provider No. | Date approved | State | Name of trial | Principal investigator
UCLA Medical Center, 10833 Le Conte Avenue, Los Angeles, CA 90095 | HW13029 | 06/07/2006 | CA | Early and Long-Term Value of Imaging Brain Metabolism | Dr. Daniel Silverman.
Santa Monica-UCLA Medical Center, 1245 16th Street, Suite 105, Santa Monica, CA 90404 | W11817A | 01/12/2007 | CA | N/A | N/A.
University of Buffalo, 3435 Main Street, Buffalo, NY 14214 | 14414A | 03/12/2007 | NY | Metabolic Cerebral Imaging in Incipient Dementia (MCI-ID) | Dr. Daniel Silverman.
Center for Alzheimer's Care, Imaging and Research (University of Utah), 650 Komas Drive, Suite 106-A, Salt Lake City, UT 84108 | 460009 | 02/17/2009 | UT | Metabolic Cerebral Imaging in Incipient Dementia (MCI-ID) | Norman Foster, M.D.
Medical University of South Carolina, 169 Ashley Avenue, P.O. Box 250322, Charleston, SC 29425 | 1073605879 | 02/17/2009 | SC | N/A | Kenneth Spicer.

[FR Doc. E9-22160 Filed 9-24-09; 8:45 am]

BILLING CODE 4120-01-P